DEPARTMENT OF COMMERCE

National Oceanic and Atmospheric Administration

50 CFR Part 660

[Docket No. 060824226-6226-01; I.D. 082806B]

RIN 0648-AU57

Magnuson-Stevens Act Provisions; Fisheries off West Coast States; Pacific Coast Groundfish Fishery; Biennial Specifications and Management Measures; Amendment 16-4; Pacific Coast Salmon Fishery

AGENCY: National Marine Fisheries Service (NMFS), National Oceanic and Atmospheric Administration (NOAA), Commerce.

ACTION: Proposed rule; request for comments.

SUMMARY: NMFS proposes a rule to implement Amendment 16-4 to the Pacific Coast Groundfish Fishery Management Plan (FMP) and to set the 2007-2008 harvest specifications and management measures for groundfish taken in the U.S. exclusive economic zone (EEZ) off the coasts of Washington, Oregon, and California. Amendment 16-4 would modify the FMP to implement revised rebuilding plans for seven overfished species: bocaccio, canary rockfish, cowcod, darkblotched rockfish, Pacific ocean perch (POP), widow rockfish, and yelloweye rockfish. Groundfish harvest specifications and management measures for 2007-2008 are intended to: achieve but not exceed optimum yields (OYs); prevent overfishing; rebuild overfished species; reduce and minimize the bycatch and discard of overfished and depleted stocks; provide harvest opportunity for the recreational and commercial fishing sectors; and, within the commercial fisheries, achieve harvest guidelines and limited entry and open access allocations as closely as possible. Together, Amendment 16-4 and the 2007-2008 harvest specifications and management measures are intended to rebuild overfished stocks as soon as possible, taking into account the status and biology of the stocks, the needs of fishing communities, and the interaction of the overfished stocks within the marine environment. In addition to the management measures implemented for directed and incidental groundfish fisheries, this proposed rule would implement a new Yelloweye Rockfish Conservation Area off Washington State, which will be closed to commercial salmon troll fishing.

DATES: Comments must be received no later than 5 p.m., Pacific Standard Time, on October 31, 2006.

ADDRESSES: You may submit comments, identified by I.D. 082806B by any of the following methods:

• E-mail: Amendment 16-4.nwr@noaa.gov: Include I.D. 082806B in the subject line of the message.

• Federal eRulemaking Portal: http://www.regulations.gov. Follow the instructions for submitting comments.

• Fax: 206-526-6736, Attn: Yvonne deReynier

• Mail: D. Robert Lohn, Administrator, Northwest Region, NMFS, 7600 Sand Point Way NE, Seattle, WA 98115-0070, Attn: Yvonne deReynier.

Information relevant to this proposed rule, which includes a draft environmental impact statement (DEIS), a regulatory impact review (RIR), and an initial regulatory flexibility analysis (IRFA) are available for public review during business hours at the office of the Pacific Fishery Management Council (Council), at 7700 NE Ambassador Place, Portland, OR 97220, phone: 503-820-2280. Copies of additional reports referred to in this document may also be obtained from the Council.

FOR FURTHER INFORMATION CONTACT: Yvonne deReynier (Northwest Region, NMFS), phone: 206-526-6129; fax: 206-526-6736 and; e-mail: yvonne.dereynier@noaa.gov.

SUPPLEMENTARY INFORMATION:

Electronic Access

The proposed rule also is accessible via the Internet at the Office of the Federal Register's website at http://www.gpoaccess.gov/fr/index.html. Background information and documents, including the DEIS, are available at the Council's website at http://www.pcouncil.org.

Background

Groundfish harvest specifications are the amounts of West Coast groundfish species or species groups available to be caught in a particular year. Harvest specifications include acceptable biological catches (ABCs), optimum yields (OYs), and harvest guidelines (HGs), as well as set-asides of harvestable amounts of fish for particular fisheries or particular geographic areas. The ABC is a biologically based estimate of the amount of fish that may be harvested from the fishery each year without jeopardizing the resource. The ABC may be modified with precautionary adjustments to account for uncertainty. A stock's OY is its target harvest level, and is usually lowered from its ABC. The Council's policies on setting ABCs, OYs, and other harvest specifications are discussed later in the preamble to this proposed rule. Proposed harvest specifications for 2007-2008 are provided in proposed Tables 1a through 2c of this proposed rulemaking.

Management measures set in this biennial management process are intended to constrain the fisheries so that OYs of healthier groundfish stocks are achieved as much as is practicable within the constraints of requirements to rebuild co-occurring overfished groundfish species. In order to rebuild overfished species, allowable harvest levels of healthy species will only be achieved where such harvest will not deter rebuilding of overfished stocks. Routine management measures for the commercial fisheries include trip landing and frequency limits, time/area closures, size limits, and gear restrictions. Routine management measures for the recreational fisheries include bag limits, size limits, gear restrictions, fish dressing requirements, and time/area closures. These measures can be adjusted inseason to achieve but not exceed OYs. The groundfish fishery is managed with a variety of other regulatory requirements that are not considered routine, and which are found at 50 CFR 660, Subpart G. Regulations outside of this rulemaking include, but are not limited to long-term harvest allocations, recordkeeping and reporting requirements, requirements to carry vessel monitoring system (VMS) transceiver units and observers, license limitation programs, and essential fish habitat (EFH) protection measures.

The Pacific Coast Groundfish Fishery Management Plan (FMP) requires the Council to set harvest specifications and management measures for groundfish at least biennially. This proposed rule would set 2007-2008 harvest specifications and management measures for all of the 90+ FMP-managed groundfish species or species groups, except for Pacific whiting. Pacific whiting harvest specifications will be proposed as a range via this action, with the final specifications for 2007 and 2008 to be set following the March 2007 and March 2008 Council meetings, respectively.

Amendment 16-4, which this action proposes concurrently with the 2007-2008 groundfish specifications and management measures, would modify the FMP to implement revised rebuilding plans for the seven overfished groundfish species bocaccio, canary rockfish, cowcod, darkblotched rockfish, POP, widow rockfish, and yelloweye rockfish consistent with the Magnuson-Stevens Fishery Conservation and Management Act (Magnuson-Stevens Act) and Natural Resources Defense Council v. NMFS, 421 F.3d 872 (9th Cir. 2005) [hereinafter NRDC v. NMFS,] discussed below. NMFS published a Notice of Availability for Amendment 16-4 on July 28, 2006 (71 FR 42846.) This proposed rule would modify Federal regulations at 50 CFR 660.365 per Amendment 16-4 to specify revised target rebuilding dates and harvest rates for each overfished species.

This preamble describes the new approach taken by NMFS, the Council, and state and tribal partners in light of NRDC v. NMFS. As in past years, this preamble also discusses the Council′s ABC and OY policies, harvest levels for overfished and all other groundfish species or species groups, fishery-specific management measures, and other issues related to this 2007-2008 management package. Preambles to prior proposed rules on groundfish harvest specifications and management measures have also discussed bycatch accounting and reduction measures. On June 27, 2006, NMFS published a proposed rule to implement Amendment 18 to the FMP on bycatch mitigation (71 FR 36506.) The preamble to that proposed rule discussed NMFS and Council bycatch accounting and mitigation policies, programs, and regulations. Therefore, these issues will only be briefly discussed in this preamble as they pertain to 2007-2008 fisheries.

Ninth Circuit Court of Appeals Ruling

NRDC v. NMFS, 421 F.3d 872 (9th Cir. 2005,) involved a challenge to the 2002 groundfish harvest specifications and management measures, specifically the darkblotched rockfish rebuilding plan. In that case, the Ninth Circuit Court of Appeals held that, pursuant to the Magnuson-Stevens Act, overfished species rebuilding periods must be as “short as possible, taking into account the status and biology of any overfished stock of fish [and] the needs of fishing communities.” The Court also stated, “Congress intended to ensure that overfished species were rebuilt as quickly as possible, but wanted to leave some leeway to avoid disastrous short-term consequences for fishing communities. . . Section 1854(e)(4)(i)[of the Magnuson-Stevens Act,] then, allows the Agency to set limited quotas that would account for the short-term needs of fishing communities (for example, to allow for some fishing of plentiful species despite the inevitability of bycatch), even though this would mean that the rebuilding period would take longer than it would under a total fishing ban.” In light of this case, NMFS and the Council are revising all seven of the overfished species rebuilding plans by January 1, 2007, and as described in detail below, have taken a new approach to developing rebuilding alternatives per the court ruling.

Rebuild as Quickly as Possible, Taking Into Account the Status and Biology of the Stock

Stock assessments are intended in part to determine the status of each assessed stock relative to its estimated unfished biomass level, BUNFISHED. For example, when we say that a stock is at B40, we are saying that the stock's abundance is at a level that is 40 percent of the abundance level we have estimated for BUNFISHED. Under the FMP, stocks that decline to below 25 percent of estimated BUNFISHED are declared overfished and must then be managed under rebuilding plans. The Magnuson-Stevens Act requires that overfished stocks be rebuilt to BMSY, which is the biomass level at which a stock is estimated to be able to maintain its maximum sustainable yield (MSY) over time. The FMP sets a proxy BMSY level for all groundfish species at B40; therefore, an overfished groundfish stock is considered rebuilt once its biomass reaches B40.

A rebuilding analysis for an overfished species uses the information in its stock assessment to determine TMIN, the minimum time to rebuild to B40 in the absence of fishing. For each stock, its TMIN is dependent on a variety of physical and biological factors. The best available scientific information on each stock's life history characteristics (e.g., age of reproductive maturity, relative productivity at different ages and sizes, etc.) and the effects of environmental conditions on its abundance (e.g., relative productivity under interannual and interdecdal climate variability, availability of suitable feed and habitat for different life stages, etc.) is taken into account in its stock assessment and rebuilding analysis. For example, one of the factors considered in the 2005 widow rockfish stock assessment was that widow rockfish tend to be more easily caught in higher abundance during El Nino (anomalously warm and dry) years, possibly affecting how data from El Nino years is used within a multi-year time series of data. TMIN estimates derived from the rebuilding analyses for the seven overfished species are provided for each species in the section below, “OY Policies and Rebuilding Parameters for Overfished Species.”

Rebuilding analyses predict TMIN for each overfished species and, in doing so, answer the question of what is “as quickly as possible” for those species. Complete absence of targeted fishing mortality, however, does not necessarily result in the complete absence of human-induced mortality on any species of fish. Federal regulations at 50 CFR 600.310(f)(4)(iii) state, “All fishing mortality must be counted against OY, including that resulting from bycatch, scientific research, and any other fishing activities.” Thus, rebuilding by the TMIN date would require elimination of extractive scientific fishing, in addition to any target or incidental commercial, recreational, or ceremonial and subsistence fishing that results in overfished species mortality. Eliminating extractive scientific fishing would eliminate a significant portion of the new data that are used to update stock assessments and our understanding of the biological condition of the majority of groundfish stocks. Because West Coast groundfish species are so intermixed, extractive scientific fishing would have to be eliminated for all groundfish (overfished and healthy), and for some non-groundfish species as well. The Council determined that, in order to appropriately take into account the status and biology of overfished stocks, both now and in the future, scientific take of overfished and other groundfish stocks must continue. Scientific fishing needs in 2007 and 2008 for individual overfished species are estimated below in the species-specific footnotes in Tables 1a and 2a of 50 CFR subpart G.

Rebuild as Quickly as Possible, Taking Into Account the Needs of Fishing Communities

As discussed above, the Court in NRDC v. NMFS stated that overfished species should be rebuilt as quickly as possible, but noted that Congress “wanted to leave some leeway to avoid disastrous short-term consequences for fishing communities.” The Court also noted that the Magnuson-Stevens Act “ allows the Agency to set limited quotas that would account for the short-term needs of fishing communities (for example, to allow for some fishing of plentiful species despite the inevitability of bycatch), even though this would mean that the rebuilding period would take longer than it would under a total fishing ban.”

National Standard 8 of the Magnuson-Stevens Act, 16 U.S.C. 1851(a)(8), also requires consideration of fishing communities consistent with the conservation requirements of the Act: “Conservation and management measures shall, consistent with the conservation requirements of this Act (including the prevention of overfishing and rebuilding of overfished stocks), take into account the importance of fishery resources to fishing communities in order to (A) provide for the sustained participation of such communities, and (B) to the extent practicable, minimize adverse economic impacts on such communities.” (1851(a)(8).) Both National Standard 8 and NRDC v. NMFS speak to the difficult and often conflicting short-term and long-term socio-economic and biological considerations in fisheries management, which require sustaining both the long-term productive capacity of marine resources and the ability of fishing communities to harvest those resources.

To address the NRDC v. NMFS ruling, the DEIS took a significant new direction in analyzing the socio-economic effects of this action. To guide its consideration of the effects of the action on communities, the Council included this statement in the draft Amendment 16-4, “Fishing Communities need a sustainable fishery that is safe, well managed, and profitable, that provides jobs and incomes, that contributes to the local social fabric, culture, and image of the community, and helps market the community and its services and products.” In its recommendations for overfished species rebuilding plans and for 2007-2008 groundfish specifications and management measures, the Council was clear that it did not expect fishing community needs would be met by those plans and measures, due to conservation actions needed for the stocks. Rather, the Council took these needs into account as it analyzed different rebuilding plan and management measures alternatives. In essence, this means that harvest levels and management measures for 2007-2008 are expected to allow fishing businesses and communities to operate at a level that will provide for the continued existence of those fishing businesses and communities and will only allow opportunities for economic growth or profit if they are consistent with the rebuilding policies adopted under Amendment 16-4. In many instances this means that the harvests of healthy and growing stocks will be curtailed because of potential effects on rebuilding species.

Determining how to appropriately take into account the needs of fishing communities while preventing short-term disastrous consequences from fishery regulations was the most challenging aspect of this action, as there is little to no guidance provided by the Court, within current NOAA guidelines, or available academic literature. NMFS and its partner agencies have been conducting West Coast groundfish stock assessments for over 20 years. The agencies have been collecting fishery-dependent groundfish data since the early 20th century, and the earliest NMFS shelf/slope trawl survey occurred off the West Coast in 1977. With this history of biological scientific effort, it has been standard Council practice to set groundfish harvest levels using stock assessments that evaluate and take into account the status and biology of those stocks. To address the Court's orders concerning fishing communities, NMFS and its partner agencies had to assess fishing communities for their groundfish harvest needs, just as biological analysts assess the status and biology of the groundfish species.

The DEIS for this action is intended, in part, to assess: the needs of groundfish fishing communities, the dependence of different fishing communities on each overfished species, and the vulnerability of fishing communities to further near-term reductions in groundfish harvest. These analyses were complicated by the fact that different gears and fisheries affect various groundfish species to greater or lesser degrees. For example, slope rockfish such as POP and darkblotched are almost exclusively taken in the trawl fisheries, while yelloweye rockfish is primarily taken in recreational and commercial hook-and-line fisheries. Most fishing communities have a mix of commercial and recreational fishing participation, although community dependence on the different sectors varies. Similarly, some fishing communities are dependent on commercial trawl fisheries, while others have more non-trawl gear fishery participation. To address fishing community heterogeneity, the EIS for this action assesses community dependency on groundfish, on different sectors of the groundfish fishery, and on the fisheries with incidental catch of particular overfished species.

Past EISs for groundfish harvest specifications and management measures have primarily addressed the socio-economic environment of West Coast groundfish fisheries in terms of groundfish landings by weight and ex-vessel revenue over time. This DEIS took a significant new direction in analyzing socio-economic effects of this action. Chapter 7 and Appendix A of the DEIS describe the socio-economic environment, provide economic impact projections of the alternatives, and classify fishing communities in terms of their ability to withstand short-term negative consequences that could result from declines in annual groundfish revenue. Although the “needs” of fishing communities cannot be quantified because of the lack of data and models, available fisheries and economic demographic information communities can be used to develop indicators of community engagement in fisheries, dependence on groundfish, and community resiliency. These indicators can then be combined to classify those communities or associated counties that are most vulnerable. A community or county is considered “vulnerable” and “most vulnerable” to changes in management measures if in comparison to other communities or counties, it is more engaged in fishing, more dependent on groundfish, and least resilient to negative socio-economic impacts.

Appendix A, section A.4., describes the analysis in more detail. It describes fishing community engagement in fishing generally and dependence on the groundfish fishery particularly, using indicator factors such as employment in fishing as a percentage of total employment in the community; income from fishing as a percentage of total income in the community; number of fishing vessels in the community; number of fishing permits in the community; number of processors/buyers in the community; and fish landings to the community. These factors are then analyzed to determine community resilience to changes in groundfish revenue, their ability to weather short-term disastrous consequences from landings reductions associated with rebuilding overfished species. It is typically assumed that the greater socio-economic and cultural diversity and infrastructure an area has, the more resilient an area will be if a management regulation negatively affects the area. Community resiliency indices included: employment in various industries; unemployment levels; income levels; resident mobility; resident education, skills and training levels; population density (as a proxy for community infrastructure); community isolation; and fisheries specific infrastructure. (Much of the information was drawn from the NOAA Northwest Fisheries Science Center's Community Profiling Project found at: http://www.nwfsc.noaa.gov/research/divisions/sd/communityprofiles/index.cfm).

Taking these two major factors into consideration, community dependency/engagement and community resiliency to change, Appendix A then identified which communities would be most vulnerable to changes associated with potential short-term disastrous consequences from shortened rebuilding periods. Vulnerable areas were defined in the DEIS as those communities that have relatively low resilience to economic shifts, and are either highly engaged in or highly dependent on groundfish fishing. With regard to engagement in commercial fishing in general, the DEIS identifies 29 cities and 16 counties as vulnerable areas. With regard to dependency on the commercial groundfish fishery in particular, the draft EIS identifies 32 cities and 17 counties as vulnerable areas. The EIS also identified 10 Washington and Oregon communities as vulnerable areas with regard to recreational fishing dependency. California recreational fisheries data is aggregated in a way that makes identifying vulnerability to recreational fisheries change difficult to identify for particular communities. However, analysts were able to identify vulnerability at the county level for California recreational fisheries, showing that San Luis Obispo through Santa Cruz counties and San Diego through Los Angeles counties are most engaged in recreational fishing and dependent on the groundfish recreational fishery.

When the Council took “into account the needs of fishing communities,” it had before it economic analysis that showed by community and fishing sector, trends in commercial harvests and ex-vessel revenues and in recreational harvests, trips, and expenditures by sector and community (or proxy county or port group). These variables were translated into estimates of regional, state, and community levels of personal income and employment. The economic impacts of the various rebuilding alternatives were projected based on the bycatch models (used by biologists to illustrate the relationships between overfished and healthy groundfish stocks,) which were expanded to include the relationship of overfished species to the various communities. The Council then reviewed the various alternatives in light of the overall and community economic impacts, the above discussed analysis of “vulnerable” communities, and the alternative rebuilding schedules embedded in the alternatives.

NMFS made its first declaration of overfished species in 1999 (bocaccio, lingcod, POP,) and the declines in allowable groundfish harvest levels and associated revenues are a result of NMFS and Council rebuilding policies. On January 19, 2000, under Section 312 of the Magnuson-Stevens Act, the Secretary of Commerce (Secretary) declared a commercial resource disaster due to a fisheries resource failure in the West Coast groundfish fishery, paving the way for congressional provision of disaster relief to affected commercial fishers and their communities. This declaration was made on a review of past and projected trends in non-whiting commercial groundfish harvests and revenues, and the potential underlying causes of these trends. (In this and many other long-term analyses, whiting is excluded as it is highly variable species that, unlike traditional groundfish fisheries, was predominantly a foreign fishery that transitioned to a joint venture fishery, and finally a Americanized fishery completely harvested and processed by U.S. entities in 1991.) As shown in Figure 2-13 of the Draft EIS “Trends in ex-vessel revenues from the West Coast groundfish fishery and projected revenues under the final Council-preferred alternative,” during the late 1980's and until the late 1990's, non-whiting groundfish fisheries generated annual ex-vessel revenues that largely ranged from $90 million to $110 million annually when adjusted for inflation. In 1998, there was a sharp decline to $64 million, a level that was largely maintained for the next two years. In 2001 and 2002, revenues sharply fell to $51 million and $42 million, respectively. Since 2002, ex-vessel revenues have ranged between $41 million to $45 million. Implementation of the Council's preferred alternative is expected to generate revenues in 2007 and 2008 at levels slightly less than the 2005 level of $43 million. (See also Table 7-2c “Total domestic shoreside landings and at-sea deliveries-ex-vessel revenue... “of the DEIS)

In considering the effects of the action on fishing communities, the Council was concerned about the effects of inseason fishery management on fishing communities. At the start of each biennial management cycle, NMFS and the Council set fishery management measures that are expected to achieve as much of the healthy species′ OYs as possible without exceeding allowable harvest levels for co-occurring overfished species. These management measures are set using the best scientific information available at that time, but new scientific information inevitably becomes available during each fishing year. Catch data vary in quality and abundance both before and during the season, and some of the most constraining rebuilding species are also caught in fisheries not managed under the groundfish FMP. Managing a coastwide fishery to ensure that OYs of overfished species are not exceeded is particularly difficult because many of these OYs are low. If new information received during the season reveals that landings are occurring at a faster pace than were initially anticipated, management action would be needed to keep the harvest of healthy stocks and the incidental catch of overfished species at or below their specified OYs. If these inseason adjustments to management measures are dramatic, such as an early closure of a fishery, then the effects of management actions on these communities can be severe.

To prevent major inseason fluctuations in available harvest, Amendment 16-4 and the 2007-2008 harvest levels account for uncertainty in order to minimize the potential need for dramatic inseason measures. In other words, currently available scientific information is used to design management measures that are projected to result in overfished species harvest levels that are somewhat lower than their OYs. This practice provides a buffer to account for both scientific uncertainty and unexpected occurrences and, in general, has helped prevent OYs from being exceeded in past management years. Even with these safeguards, scientific information that becomes available during the 2007-2008 period may reveal that previously set management measures need to be revised inseason. If that is the case, management measures will be appropriately adjusted inseason to keep harvest from exceeding OYs.

Rebuild as Quickly as Possible, Taking into Account the Interactions of Overfished Stocks Within the Marine Environment

In December 2005, NMFS published a final EIS on the designation of groundfish EFH and minimization of adverse fishing effects on EFH. (See: http://www.nwr.noaa.gov/Groundfish-Halibut/Groundfish-Fishery-Management/NEPA-Documents/EFH/-Final-EIS.cfm). The final EFH EIS primarily focuses on the interactions of groundfish species with their physical environment. The DEIS for Amendment 16-4 and the 2007-2008 groundfish specifications and management measures expand upon the EFH EIS's analysis to analyze the interactions of groundfish species with each other and with other marine species within the California Current ecosystem. In general, the DEIS concludes that the life histories of most groundfish species, longer-lived and slower-growing with relatively low rates of predation, make the abundance of particular groundfish species less likely to affect overall productivity within the California Current ecosystem. Pacific whiting is an exception, its high abundance and productivity, as well as its broad distribution, give it influence on ecosystem productivity both as a predator and as prey.

The abundance of site-loyal overfished rockfish species, cowcod and yelloweye rockfish, is likely to affect marine community composition in particular geographic areas, but not the ecosystem as a whole. The abundance of plankton likely affects the health of overfished planktivorous rockfish (POP, darkblotched, canary, and widow,) but plankton abundance is primarily determined by physical environmental influences that control larval survival and distribution into beneficial habitat. The best available scientific information indicates that no one rockfish species, even those species with abundant population levels, has a population large or productive enough to influence overall biological productivity within the California Current ecosystem. As a consequence, the rate of rebuilding for a particular overfished species is also not expected to influence productivity within the California Current ecosystem. Therefore, the Council focused its efforts at crafting appropriate rebuilding plans within the Court's guidance on the factors discussed earlier in this document the status and biology of the stocks, and the needs of fishing communities.

Council Decision-Making Process

In September and November 2005, the Council adopted most of the new groundfish stock assessments needed to support fishery management in 2007-2008. Yelloweye rockfish was the only species with a stock assessment delayed for adoption until March 2006. Based on the adopted stock assessments, the Council also adopted initial management recommendations for the 2007-2008 fisheries at its November 2005 meeting. These recommendations included: preliminary ABCs and ranges of OYs for all groundfish species, ranges of alternative allocations of canary and yelloweye rockfish to the commercial and recreational fisheries, and a variety of potential management measures for the 2007-2008 fisheries. Taking into account the status and biology of overfished stocks, the Council adopted preliminary ABCs and ranges of overfished species OYs based on: the time to rebuild if fishing were eliminated beginning in 2007 (TF=0,) varying probabilities of rebuilding by TMIN plus one mean generation time for each species, projecting fishing mortality rates associated with 2005 OYs forward through time, and applying the current FMP harvest rates to the newly assessed biomass levels. Overfished species OY ranges adopted at the Council′s November 2005 meeting for analysis were: bocaccio, 0-425 mt; canary rockfish, 0-67 mt; cowcod, 0-11 mt; darkblotched rockfish, 0-456 mt; POP, 0-741 mt; widow rockfish, 0-1,352 mt; yelloweye rockfish, 0-24 mt.

The Council developed each initial range of overfished species OYs using only biological parameters to ask how quickly the stock might rebuild at differing levels of potential future harvest. The initial ranges were not intended to take into account the needs of fishing communities, nor did they account for the interactions of overfished stocks with each other. However, these ranges provided a starting point for more detailed analysis.

Over winter 2005-2006, the Council's advisory bodies met to discuss and analyze the Council's preliminary harvest level ranges. At its March 2006 meeting, the Council adopted a yelloweye rockfish stock assessment, finalizing the set of stock assessments for the 2007-2008 fisheries. At its April 2006 meeting, the Council adopted, for further analysis, preferred ABCs for all groundfish species, and preferred OYs for the non-overfished species. As discussed below in the section on “ABC-Setting Policies,” ABC-setting for all species is guided by harvest policies in the FMP. From the low end of the ranges of overfished species OYs that it had adopted in November 2005, the Council also adopted suites of “Preferred Low” and “Preferred High” overfished species OYs at its April 2006 meeting. The Preferred Low OY suite set out potential OYs as: bocaccio, 40 mt; canary rockfish 32 mt; cowcod, 4 mt; darkblotched rockfish, 130 mt; POP, 44 mt; widow rockfish, 120 mt; yelloweye rockfish, 12.6 mt. The Preferred High OY suite set out potential OYs as: bocaccio, 218 mt; canary rockfish, 44 mt; cowcod, 8 mt; darkblotched rockfish, 229 mt; POP, 100 mt; widow rockfish, 368 mt; yelloweye rockfish, harvest level ramp-down strategy (i.e. not an OY based on a constant harvest rate.) In addition to these preliminary OY suites, the Council also adopted draft amendatory language for Amendment 16-4, which modifies the FMP to include the Council's approach for developing rebuilding plans in light of NRDC v. NMFS.

For the April 2006 meeting, NMFS and the Council adopted a new, integrated approach in their analyses to develop and evaluate overfished species OY alternatives. The Council has traditionally been provided with analyses on preferred OYs for each overfished species in isolation from other species. For this action, the analyses not only considered each overfished species OY in isolation, but also considered how different overfished species OYs might affect or constrain other overfished species. By adopting a suite of OYs for overfished species in April 2006, the Council intended to take a realistic look at minimal harvest levels that would rebuild as quickly as possible taking into account the status and biology of the stocks and at least allowing for some extractive scientific take of overfished stocks. Although the Council had not yet fully considered the potential socio-economic effects of the different alternatives on fishing communities, it determined in April that OYs set at zero would not take into account fishing community needs.

At the April Council meeting, in its April 2006 report to the Council, the Council's Groundfish Management Team (GMT) provided the Council with issues to consider when developing the suites of OYs for overfished species in order to take into account the status and biology of the stock, the needs of fishing communities, and the interactions of those species within the marine ecosystem (See April 2006 Agenda Item F.1.c., Supplemental GMT Report.) The GMT suggested that, in taking into account the status and biology of the stock, the Council consider: the different depletion rates of each overfished species relative to their estimated unfished biomasses; the sensitivity of each overfished species' rebuilding trajectory to management decisions that raised or lowered that species' OY; and, the need for extractive scientific research to continue to occur on overfished and co-occurring groundfish species.

The GMT also suggested that, in taking into account the needs of fishing communities, the Council consider: the vulnerability of different fishing communities to reductions in available harvest of different overfished species; the resilience of different fishing communities to changes in community groundfish fishing revenues; the effects that recent past harvest levels have had on fishing communities; and, the uncertainty in pre-season predictions of bycatch rates and the associated need for management flexibility to address that uncertainty without either allowing OYs to be exceeded or causing disastrous immediate consequences for groundfish fishing communities. Finally, the GMT suggested that the Council consider interactions of overfished species within the marine ecosystem by integrating their considerations of the status and biology of overfished stocks with their considerations of the needs of fishing communities by prioritizing greater protection for the overfished species with rebuilding trajectories most sensitive to changes in OY and to the most vulnerable fishing communities by allowing relatively more incidental take of the less sensitive overfished species. These GMT recommendations, and the advice that the Council received from its other advisory bodies and the public, informed how the Council developed its overfished species OY alternatives at its April 2006 meeting.

In taking the status and biology of the stocks into account via its April preferred alternatives, the Council looked at the sensitivity of each overfished species′ rebuilding trajectory to future changes in OY. Rebuilding times were compared with each other in terms of how far each alternative would extend a species′ rebuilding period beyond TF=0, the time at which rebuilding would be estimated to occur were fishing mortality eliminated for that species beginning in 2007. The effects of the alternatives on rebuilding periods were compared to those under a TF=0 scenario, rather than to those under a TMIN scenario. TMIN is defined as the shortest time to rebuild if all fishing were eliminated from the start of a species' rebuilding period. For West Coast groundfish species with existing rebuilding plans, TMIN is used as a reference point to illustrate what might have been possible had all fishing been eliminated from the start of the rebuilding period. Amendment 16-4 does not set new rebuilding period start dates for overfished species; instead, it revises the rebuilding trajectories and target dates that were set in place by Amendments 16-2 and 16-3, per the requirements of NRDC v. NMFS. Because the rebuilding period start dates remain in place, comparing rebuilding periods to those that would have occurred under TMIN scenarios would have required making an untrue assumption that no fishing mortality had occurred for overfished species since the start of the rebuilding periods. For this reason, comparing rebuilding periods to those that would have occurred under the TF=0 provides a more useful estimate of what is rebuilding “as soon as possible.”

Some of the overfished stocks are more productive than others, meaning that they are more likely to rebuild to BMSY at faster rates. Rebuilding times for the less productive species are more sensitive to changes in OY levels. For example, a 130-mt darkblotched rockfish OY is expected to increase the darkblotched rebuilding period by 4 months beyond TF=0, while a 229-mt OY is expected to increase that period by 7 months beyond TF=0. Conversely, a 4-mt cowcod OY is expected to increase the cowcod rebuilding period by 4 years beyond TF=0, while an 8 mt OY is expected to increase that period by 8 years beyond TF=0. Species with rebuilding times that are most sensitive to changes in OYs are yelloweye rockfish, and cowcod. These low productivity stocks would take longer to rebuild than the higher productivity stocks, even if fishing mortality were eliminated. The more productive and less sensitive stocks are darkblotched, POP, and widow rockfish. The productivity and sensitivity of bocaccio and canary rockfish is intermediate to these two groups.

To properly take overfished species productivity into account, the Council also had to make initial recommendations on management measures to best match management programs to the species in need of more or less conservative management. In recent years, groundfish management measures have been designed to reduce effort on overfished stocks with low productivity and redirect effort on healthy stocks, with somewhat higher incidental take of those overfished species with higher productivity. Trawl fishing effort is prohibited on the continental shelf, constrained in nearshore waters, and focused on continental slope waters, where the most productive overfished species tend to occur. The less productive species tend to occur on the shelf, with cowcod and yelloweye being caught primarily by hook-and-line gear, and canary and bocaccio being caught in a broad range of fisheries. Thus, at its April 2006 meeting, the Council recommended that suites of management measures be developed for the Preferred High and Low OY alternatives that would maintain the philosophy of constraining fishing opportunities where trawlers might incidentally catch the most sensitive species.

At its June 2006 meeting, the Council considered three management alternatives that packaged overfished species OYs with management measures intended to constrain fishing to those OYs. To ensure adequate analysis of a no-fishing baseline, the Council also considered F=0 scenarios, which represent each species' shortest time to rebuild in the absence of fishing mortality, starting in 2007. Alternative 1, associated with the Preferred Low OY suite, was more restrictive than status quo and provided the shortest rebuilding times with modest fishing mortality. Under Alternative 1, rebuilding was extended less than five years from the times associated with F=0 for bocaccio, cowcod, darkbloched rockfish, POP, and widow rockfish. Canary and yelloweye rockfish rebuilding periods would have been extended by an estimated 7 and 35 years, respectively, under Alternative 1. Alternative 2 was intermediate to Alternatives 1 and 3, and resulted in overfished species mortality similar to current management measures. Alternative 3, the Preferred High OY, allowed for greater harvest and resulted in longer rebuilding periods than the other alternatives by extending the rebuilding time for bocaccio, darkblotched rockfish, POP and widow rockfish rebuilding periods by five years or less from TF=0, and extending the cowcod, canary and yelloweye rockfish rebuilding periods by an estimated 8, 10 and 36 years, respectively, from TF=0.

At the June Council meeting, in its June 2006 report to the Council, the GMT again provided the Council with issues to consider when making its final decision on preferred overfished species OYs in order to take into account the status and biology of the stock, the needs of fishing communities, and the interactions of those species within the marine ecosystem (See June 2006 Agenda Item F.2.c., Supplemental GMT Report.) To take into account the status and biology of overfished stocks, the GMT reiterated its April advice that the Council consider the potential rebuilding trajectories of each overfished species and the effects of varying harvest rates on those trajectories, and the need for extractive scientific research to continue into the future. The GMT provided the Council with a comparison of each overfished species' rebuilding trajectory under the different harvest scenarios and under the TF=0 scenario. Based on that comparison, the GMT reminded the Council that cowcod and yelloweye are the species with rebuilding trajectories most sensitive to changes in OYs, and that bocaccio and canary are moderately sensitive to changes in OY. The GMT identified widow rockfish, darkblotched rockfish and POP as having rebuilding trajectories least sensitive to changes in OY, and most subject to what the GMT called the “rebuilding paradox.” The rebuilding paradox occurs as a stock's size gets closer to its rebuilt level, BMSY. Although the fisheries must continue to avoid a rebuilding stock throughout its rebuilding period, rebuilding stocks that are close to BMSY are so abundant that they become increasingly difficult to avoid.

In its June report, the GMT also provided the Council with issues to consider in taking into account the needs of fishing communities. In particular, the GMT discussed the effects of the different action alternatives and the TF=0 alternative in terms of: short term economic impacts when compared to status quo, short term economic impacts compared to historic economic impacts, short term economic impacts compared to the 2000 disaster declaration by the Secretary, and short term economic impacts of each action alternatives when compared to one another. The GMT noted that, under the status quo (2005-2006) fishery, groundfish revenues are lower than revenues generated in 2000, the year of the disaster declaration. In 2000, 2001, and 2002 groundfish ex-vessel revenues were approximately $62 million, $52 million, and $43 million respectively. Recreational angler trips numbered an estimated 1,218,000 in 2000, 927,000 in 2001, and 843,000 in 2002. The GMT reported that each of the action alternatives under Council consideration would result in ex-vessel revenue, recreational angler trips, and income that would be lower than in 2000, when the disaster declaration was made. Finally, the GMT expressed its concern with the lack of management flexibility under the lowest OYs in the action alternatives, anticipating that implementing the lowest OYs would eliminate management flexibility, potentially resulting in more radical inseason management shifts and potentially disastrous consequences for fishing communities.

When making its recommendations for a preferred suite of rebuilding OYs, the Council considered the differences in the biology of the different overfished rockfish stocks and varying rebuilding schedules. The depletion rates of each overfished species and the sensitivity of each species to changes in the management regime were considered. The OY alternatives considered by the Council included allowances for research catch, in order to ensure that future information could be gathered to assess the status and biology of these and other fish stocks.

In addition, the Council considered the needs of the fishing communities within the framework suggested by its GMT, which looked at the short term economic consequences of the different alternatives and whether those alternatives were likely to be immediately disastrous for fishing communities. The Council also considered the uncertainty inherent in inseason groundfish fisheries management. See inseason discussion, above, under “Rebuild as Quickly as Possible, Taking Into Account the Needs of Fishing Communities.” For example, the Preferred Low OY alternative would have required a variety of fisheries to be either severely constrained or closed by January 1, 2007. In addition, this alternative had little flexibility to respond to management uncertainty and would likely result in inseason fishery closures in response to fishery information received inseason.

In summary, in making its final recommendations for rebuilding OYs in 2007-2008, the Council took into account the status and biology of the stocks by looking for the shortest possible rebuilding periods within a package of management measures that provided the greatest protection for the most sensitive and lowest productivity species. The Council took the needs of fishing communities into account by providing fishing opportunities where such opportunities would have a minimal effect on rebuilding periods for stocks with higher productivity, and by recommending restrictive management measures focused on stocks with the lowest productivity levels. The Council adopted the following optimum yields (OYs) for overfished species in 2007-2008: bocaccio rockfish 218 mt; canary rockfish 44 mt; cowcod 4 mt; darkblotched rockfish 290 mt for 2007 and 330 mt for 2008; Pacific ocean perch 150 mt; widow rockfish 368 mt; and a harvest rate ramp-down strategy for yelloweye rockfish with a 23 mt OY in 2007 and a 20 mt OY in 2008. These recommended OYs allow for extractive scientific research in 2007 and 2008. In order to account for uncertainty in inseason management, the Council's recommended management measures are projected to result in total catch levels that are lower than the overfished species OYs. As discussed below, the recommended overfished species OYs are estimated to extend rebuilding periods beyond TF=0 by: for bocaccio, 5 years; for canary rockfish, 10 years; for cowcod, 4 years; for darkblotched rockfish, 1 year; for POP, 2 years; for widow rockfish, 2 years; and for yelloweye rockfish, 38 years. These Council-adopted OYs and the associated harvest rates and rebuilding trajectories would be implemented via this action, which implements both the 2007-2008 groundfish harvest specifications and management measures and Amendment 16-4. Amendment 16-4 revises the FMP with new overfished species rebuilding parameters at Section 4.5.

ABC-setting Policies

The Council develops annual estimates of the ABC (acceptable biological catch) for major groundfish stocks. The ABC is a biologically based estimate of the amount of fish that may be harvested from the fishery each year without jeopardizing the resource. The ABC may be modified with precautionary adjustments to account for uncertainty. A stock's OY is its target harvest level, and is usually lowered from its ABC; OY setting policies are explained in a later section of this preamble. When setting the 2007 and 2008 ABCs, the Council maintained a policy of using a default harvest rate as a proxy for the fishing mortality rate that is expected to achieve the maximum sustainable yield (FMSY). The ABCs for groundfish species or species groups are derived by multiplying the harvest rate proxy by the current estimated biomass. In 2007 and 2008, the following default harvest rate proxies, based on the Council's Scientific and Statistical Committee (SSC) recommendations, were used: F40% for flatfish and Pacific whiting, F50% for rockfish (including thornyheads), and F45% for other groundfish such as sablefish and lingcod.

A harvest rate of F40% can be explained as that which reduces spawning potential per female to 40 percent of what it would have been under natural conditions (if there were no mortality due to fishing), and is therefore a more aggressive harvest rate than F45% or F50%. The FMP allows default harvest rate proxies to be modified as scientific knowledge improves for a particular species. A fishing mortality or harvest rate can vary, depending on the productivity of a particular species. For fast growing species (those with individuals that mature quickly and produce many young that survive to an age where they are caught in the fishery,) a higher fishing mortality rate may be used, such as F40%. Fishing mortality rate policies must account for several complicating factors, including the capacity of mature individuals to produce young over time and the optimal stock size necessary for the highest level of productivity within that stock.

For some groundfish species, there is little or no detailed biological data available on which to base ABCs, and therefore only rudimentary stock assessments have been prepared. For other species, no stock assessments have been prepared and the ABC levels were established on the basis of historical landings. Since 2000, the Council has applied a more precautionary ABC policy in which the ABCs are first calculated using the rudimentary stock assessments or historic catch levels, and then those ABCs are reduced by 25 percent as a precautionary measure.

2007 and 2008 ABCs For All Groundfish Species

In 2004, NMFS implemented regulations setting a biennial management cycle for groundfish harvest specifications and management measures. Biennial specification were first established for the 2005 and 2006 management cycle. During the first year in a biennial cycle, new stock assessments are prepared and the results of the new assessments are reviewed and adopted for use in a future management cycle. In some cases, the Council may identify the need to refine a stock assessment, and the assessment may not be adopted until later in the first year or early in the second year of the biennial cycle.

A stock assessment is an evaluation of the biological condition of a stock or stock complex and the impacts of fishing on that stock or stock complex. Stock assessments prepared for Pacific Coast groundfish species include current estimates of the abundance, changes in abundance over time, depletion levels relative to an unfished state, fishing mortality estimates, mortality estimates from other causes, and different harvest forecasts including the harvestable amount and the likely effect on the stock abundance. In addition, Pacific Coast groundfish stock assessments identify areas of uncertainty and modeling difficulties.

To estimate stock abundance and population trends, each stock assessment relies on various types and sources of information, both fishery-dependent and fishery-independent. For example, basic fishery dependent data for stock assessments includes the amount of fish caught and the ratio of fish caught to the time spent fishing (catch per unit of effort (CPUE)). In addition to fishery dependent data, fishery independent data for stock assessments are collected during scientific research surveys. Individual sizes of fish and their biological characteristics (e.g., age, maturity, sex) can be collected from both fishery dependent and independent sources. When data are lacking for a particular species, it can result in uncertainty and modeling difficulties for the stock assessment scientists.

West Coast groundfish stock assessments are developed and evaluated through a thorough review process. Stock assessments for each species are developed in draft by a NMFS or state agency fishery biologist, or team of biologists. Each stock assessment is then reviewed by a Stock Assessment Review (STAR) Panel. STAR panel membership for each species includes NMFS stock assessment scientists other than the scientist(s) who assessed the species in question, scientists from state agencies and/or academic institutions, members of the Council's SSC, and independent peer reviewers chosen from the Center for Independent Experts (See: http://www.rsmas.miami.edu/groups/cie/.) Representatives from the Council's GMT and Groundfish Advisory Panel (GAP) also participate in the STAR process. STAR panels review each stock assessment and provide comments back to the stock assessment team, usually suggesting changes or refinements to modeling, methods, or datasets used. The stock assessment team then completes the next draft of the assessment and submits it to the SSC for review. Once it has completed its review of the stock assessments, the SSC reports to the Council on the suitability of each assessment for use in managing the assessed stock.

In preparation for setting new ABC values for 2007 and 2008, stock assessment scientists prepared 23 stock assessments on 22 groundfish stocks. Full stock assessments, those that not only update available biological and fishery information, but also consider the appropriateness of the assessment model and that revise the model as necessary, were prepared for the following species: canary rockfish, cowcod, widow rockfish, yelloweye rockfish, lingcod, English sole, petrale sole, starry flounder, darkblotched rockfish, blackgill rockfish, shortspine thornyhead, longspine thornyhead, sablefish, Dover sole, cabezon, California scorponfish, gopher rockfish and kelp greenling. Stock assessment updates, those that run new data through an existing model without changing the model, were prepared for: bocaccio, POP, and yellowtail rockfish. Vermilion rockfish was assessed for the first time in 2005. However, there were significant concerns about the reliability of the vermilion rockfish assessment and the Council did not accept the assessment for use in management. Instead, vermilion rockfish remains within the minor rockfish complex, managed with harvest levels based on historic harvests, with precautionary reductions for species with little or no scientific information.

At its September and November 2005 meetings, the Council adopted most of the 2005 groundfish stock assessments that were used to derive the 2007-2008 harvest specifications and management measures. Council adoption of stock assessments follows the rigorous Stock Assessment Review panel (STAR) process, which culminates in SSC review of the stock assessments and STAR panel reviews of those assessments. Each new stock assessment included a base model as well as alternative states of nature that assume higher or lower stock productivity than the base model. The SSC makes recommendations to the Council on the appropriateness of using the different stock assessments for management, after which the Council considers adoption of the stock assessments, use of the stock assessment for the rebuilding assessments, and recommends ABCs derived from the base model runs of those stock assessments.

Species that had ABCs in 2005 and 2006 continue to have ABCs in 2007 and 2008. However, because of a lack of data, many groundfish species are grouped into species complexes and managed as a group with an ABC for the complex. In 2005, several stocks received more quantitative stock assessments and are being removed from species complexes. New species-specific ABC values for the 2007 and 2008 management cycle would be implemented by this action for: Starry Flounder and English sole, which are being removed from the “other flatfish” complex; California scorpionfish in the Conception area, which is being removed from the “other fish” complex; and gopher rockfish south of 40°10′ N. lat., which is being removed from the “other rockfish” complex and added to the “remaining minor rockfish” complex. Although a stock assessment was prepared for kelp greenling in waters off California and Oregon, the Council only adopted the Oregon portion of the assessment because the stock assessment review process had concluded that data available for and modeling of the California kelp greenling sub-stock were inadequate to provide management advice for this species. A species specific ABC is not being established for 2007 and 2008, and kelp greenling will remain within the other fish complex.

For species that did not have new stock assessments prepared for the 2007 and 2008 cycle, the Council considered a single ABC derived from the base model of the most recent stock assessment or continued to use the results of rudimentary stock assessments or historical landings data. Species or species complexes without new stock assessments include: Pacific cod, arrowtooth flounder, shortbelly rockfish, chilipepper rockfish, splitnose rockfish, black rockfish, minor rockfish, bank rockfish, blackgill rockfish, other flatfish, other rockfish, and other fish. Species that are not overfished and which had new stock assessments or stock assessment updates prepared and adopted for use in setting harvest specifications by the Council include: sablefish, Cabezon (California), California Scorpionfish, Dover sole, English sole, petrale sole, starry flounder, yellowtail rockfish, shortspine thornyhead, longspine thornyhead, kelp greenling (Oregon), and blackgill rockfish. Specific information on the ABC values for the species without new stock assessments, and for those species that are not overfished and which have new stock assessments or assessment updates, are provided in the footnotes to Table 1a. and Table 2a.

As mentioned above, petrale sole had a new stock assessment in 2005. When it adopted ABCs for all groundfish species, the Council recommended a 2007 petrale sole ABC of 2,917 mt, based on a table of all species' ABCs provided by the Council's GMT. Following the Council's June 2006 meeting, NMFS discovered that the 2,917 mt 2007 petrale sole ABC the Council had adopted had been incorrectly calculated from the stock assessment. The Council should have specified an ABC of 3,025 mt for 2007, which is the sum of the northern ABC of 1,397 mt and the southern ABC of 1,628 mt. Instead, the 2007 ABC of 2,917 mt chosen by the Council in June 2006 was incorrectly calculated by summing the stock's northern OY of 1,289 mt and the southern ABC of 1,628 mt. The 2008 petrale sole ABC of 2,919 mt had been correctly calculated prior to Council adoption. This action proposes a 2007 petrale sole ABC of 3,025 in Table 1a. The Council plans to review this issue at its September 11-15, 2006 meeting in Foster City, California, to ensure that this correction is made in the Council forum. In the preamble to the final rule for this action, NMFS will review the Council's September 2006 recommendation on the petrale sole and finalize the appropriate ABC based on the stock assessment, the Council's deliberations, and any comments received from the public.

A new stock assessment was prepared for lingcod in 2005. The 2005 lingcod stock assessment estimates that the coastwide lingcod stock in 2005 is at 64 percent of its unfished biomass level, with the northern component of the stock (north of Cape Mendocino, CA) at 87 percent of its unfished biomass level and the southern component of the stock at 27 percent of its unfished biomass level. Lingcod is managed as a single coastwide stock; therefore, the stock is considered to be rebuilt because the coastwide biomass is above the MSY level, 40 percent of the stock's unfished biomass. The SSC endorsed the 2005 lingcod stock assessment as the best available science, and the Council adopted the assessment for use in establishing the 2007 and 2008 management measures. Based on the recommendations of the SSC and the Council, NMFS announced on February 17, 2006 that the lingcod stock off the U.S. West Coast was rebuilt (71 FR 8489).

All seven overfished species had new stock assessments or stock assessment updates: bocaccio, canary rockfish, cowcod, darkblotched rockfish, POP, widow rockfish, and yelloweye rockfish. The stock assessments for overfished species are detailed below.

A bocaccio stock assessment update and a rebuilding analysis were prepared in 2005 for the stock south of Cape Mendocino, CA (40° 10′ N. lat.); the last full assessment was conducted in 2003. The 2005 stock assessment update used the 2003 length-based stock synthesis model with input data extending back to 1951. The update followed the methodology and assumptions of the 2003 bocaccio assessment as closely as possible with the main difference from the previous assessment being the addition and revision of recent data. Although the update included the three-model approach from the 2003 assessment (see the 2005-2006 proposed rule preamble, (69 FR 56550, September 21, 2004)), the STATc model was considered as the base model and was the focus of this 2005 update, with limited consideration given to the STARb1 and STARb2 models. The SSC endorsed the updated bocaccio stock assessment as being the best available science that could be used as the basis for the Council's recommendations.

As a result of the assessment update, the bocaccio stock in the Monterey and Conception areas was estimated to be at 10.7 percent of its unfished biomass in 2005 and was projected to continue on an increasing trend if the 2006 exploitation rate of 0.0498 were to remain in place. The ABC of 602 mt for 2007 and 618 mt for 2008 ABC were based on the STATc base model with an F50% FMSY proxy.

A new coastwide canary rockfish stock assessment and updated rebuilding analysis were completed in 2005. NMFS used a stock synthesis model for the assessment, which is an integrated length-age structured model. Data through 2004 were used to revise and update the assessment model Primary changes to the model included: addition of the 2004 trawl survey and catch data through 2004, recalculation of all historical fishery catch and size/age composition data, extension of the model time series back to 1916, calibration of ageing method, conversion from a age-based selectivity to size-based selectivity, and a modeling change to the Stock Synthesis 2 model coded (AD Model Builder) for faster execution and integration of powerful variance estimation procedures.

The results of the new assessment estimated that the canary rockfish stock was at 9.4 percent (see rebuilding analysis) of its unfished biomass coastwide in 2005. The 2005 stock assessment estimated that the canary rockfish spawning stock biomass was at its lowest level in 2000, but has been increasing since that time and is projected to continue increasing. Canary rockfish recruitment has shown a steady decline over the last 50 years. Recent recruitments have generally been low, with 1998 producing the largest estimated year-class of recruitment in the last decade.

Several alternative model configurations were investigated during the stock assessment process to best understand the patterns and information in the canary rockfish data. These model configurations included variations in specification of age versus length-based selectivity, incorporating changes in ageing criteria and re-estimating growth parameters to reflect these changes, allowing female selectivity to differ from male selectivity, and other factors. It was found that allowing female length-selectivity to differ from male length-selectivity provided a somewhat better statistical fit to the fishery age and length composition data and this configuration was selected as the base model. During its review of the stock assessment, the SSC raised several technical questions, including: the high value for survey catchability (q), the low spawner-recruit relationship being assumed (sigma r), and if juvenile rockfish survey data should be included. The SSC concluded that the parametric variance around a single base model underestimated the overall uncertainty in the canary rockfish assessment. After considerable deliberation, the SSC recommended no major changes to the base model, and the SSC concluded that the Base and alternate models were equally likely and they supported a statistically based blend of the two models as the basis for the rebuilding analysis. The SSC recommended further investigations into the identified technical issues.

The SSC agreed with the principal conclusions of the canary stock assessment and endorsed the assessment as the best scientific data available for management decisions. The canary ABCs of 172 mt for 2007 and 179 mt for 2008 are derived from the base model with an F50% FMSY proxy.

A new stock assessment and a new rebuilding analysis for cowcod in the Conception area were prepared in 2005. The Conception area (U.S. waters south of 36°N. lat.) is where cowcod are most abundant, where adult habitat is most common and where historical catches were highest. Although larvae may spread across larger distances, it is assumed that the adults do not move beyond the stock boundary.

The cowcod stock assessment is based on catch data from commercial and recreational fisheries, an index of relative abundance (CPUE) from Commercial Passenger Fishing Vessel logbook data, and a single visual transect survey estimate made from a submersible vessel in the Western Cowcod Conservation Area in 2002. The assessment is affected by the lack consistent data of sufficient quality. Catches since 2001 have been very low (< 0.5 mt) due to management constraints on fisheries targeting co-occurring species. A time series of relative abundance after 2000 is not currently available. Development of a quantitative measure of relative abundance is necessary to monitor changes in the cowcod population.

Both the steepness of the stock recruit relationship and the natural mortality rate are influential to the assessment; the cowcod stock assessment used assumed values. The cowcod stock assessment consists of 3 models that differ in the assumed steepness (h) of the Stock-Recruit relationship. The model that assumed the stock recruit relationship as h=0.5 was considered the base model because it has the highest probability of being true, although the actual value of h is not known. The SSC endorsed the assessment as the best scientific data available for management decisions.

Cowcod was estimated to be between 14 and 21 percent of its unfished biomass in 2005 and is believed to be increasing. The ABC in the area south of 36° N. lat., the Conception area, is 17 mt for 2007 and 2008. The ABC is based on the 2005 stock assessment base model and a F50% FMSY proxy. The ABC for the Monterey area (19 mt) continues to be based on average landings from 1993-1997.

Darkblotched rockfish was assessed coastwide in 2005 and its rebuilding analysis was updated with the new assessment information. The new assessment incorporated a number of significant changes, including: the use of a stock synthesis model, extending the modeling period back in time to 1928 as compared to 1963 in the previous model, estimating stock growth parameters within the model, eliminating all age composition data except for shelf trawl survey data from 2004, and using a delta-GLM (generalized linear model) for estimates of abundance from slope survey data. The results of this stock assessment were primarily influenced by data from four fishery independent surveys: the Alaska Fishery Science Center's triennial shelf, POP, and slope trawl surveys, and the Northwest Fishery Science Center's slope trawl surveys.

The major sources of uncertainty in this stock assessment were: the assumed natural mortality rate, the age to length relationship, indistinct survey indices and length compositions resulting from a few large survey catches with larger than average fish, steepness of the spawner-recruit curve, and the lack of species specific historical landings prior to 1978. Uncertainty in the model results focused on the examination of alternative natural mortality values. The primary source of this conflict was the Alaska Fisheries Science Center slope survey, where the abundance index fit best when natural mortality equaled 0.05, but the lengths fit best when it equaled 0.10. Length data from the fishery, shelf and Northwest Fisheries Science Center slope survey indices and length compositions all fit best for natural mortality values of the 0.07-0.08 range. The STAR panel determined that the confidence intervals produced within the models underestimated uncertainty. They determined uncertainty could be bracketed by assuming a natural mortality value of 0.07 in the base model. Because darkblotched rockfish is a long-lived species that is difficult to age due to frequent natural check marks in the otoliths, the range on natural mortality was broadened to qualitatively reflect this additional uncertainty. The SSC endorsed the stock assessment base model as the best scientific data available for management decisions.

The last full assessment was conducted in 2000 and estimated the stock to be at 22 percent of its unfished biomass in 2000. The result of the new assessment estimates that darkblotched rockfish was at 16 percent of its unfished biomass in 2005, and was notably lower in 2000 (8 percent) than had been estimated in the previous assessment. However, the assessment indicates that the spawning output has more than doubled since 1999 resulting in rapid rebuilding of the stock due to the strong numbers of fish spawned in 1999 and 2000 maturing and entering the fishery. This strong recruitment combined with low exploitation rates in recent years has resulted in more rapid rebuilding than expected in the 2000 assessment. The ABC is projected to be 456 mt in 2007 and 487 mt in 2008. The ABCs are projected from the 2005 base stock assessment model with an FMSY proxy of F50%.

POP stock assessment and rebuilding analysis updates were prepared in 2005 for the U.S. portion of the Vancouver area and Columbia area (U.S. waters north of 43° N. lat.) This assessment is an update and uses the same model as in the 2003 assessment, a forward projection age-structured model. As a stock assessment update, the model code was unchanged, but the following new data which extended the model time series were incorporated into the model: catch through 2004, fishery length and weight compositions from 2003 and 2004, the 2004 slope survey biomass estimate, the slope survey age composition data for 2001, 2003 and 2004, the 2004 triennial shelf survey biomass estimate, and the triennial shelf survey age composition data from 1995 and 2004.

A number of sources of uncertainty are explicitly addressed in the assessment. For example, allowance is made for uncertainty in natural mortality, the parameters of the stock-recruitment relationship, and the survey catchability coefficients. However, sensitivity analyses based upon alternative model structures and data set choices suggested that the overall uncertainty may be greater than that predicted by a single model specification, as was the case in the 2003 assessment. There are also other sources of uncertainty that are not included in the current model. The SSC endorsed the assessment update as the best scientific data available for management decisions.

The updated assessment estimated the stock to be at 23.4 percent of its unfished biomass in 2005. Recent decades have provided rather poor recruitment when compared with the 1950s and 1960s, although the 1999 and 2000 year classes (2002 and 2003 recruitment years) appear to be larger those seen since the early 1970s. From 1965 to 1998 recruitment was relatively stable and showed recruits/spawning output as an increasing trend over time. The situation is now somewhat more complicated because there was not an obvious increasing trend in recruits/spawning output for either the 2003 or 2005 assessments, nor are the recruitments completely stable.Despite this, the low exploitation rate shown in the assessment (1 percent) since 2000, has allowed the stock to rebuild slowly. Since that time, the POP stock has increased from 20.9 percent of the unfished biomass to 23.4 percent. The POP ABC of 900 mt for 2007 and 911 mt for 2008 were projected from the 2005 stock assessment base model with an FMSY proxy of F50%.

A new coastwide stock assessment and rebuilding analysis were completed for widow rockfish in 2005. Like the 2003 assessment, an age-based population model was used with updated landings data, additional age composition data, and revised abundance indices. These changes included: the addition of bottom trawl survey indices from 1977 to 2004, a depletion rate computed in the same way as in the 2003 rebuilding analysis, an estimated power coefficient for the midwater juvenile survey rather than a fixed value, a value for recruitment steepness based on past knowledge of the stock was included in the likelihood functions, and effective sample sizes for age composition data were used. Of the four alternative models that were used to measure uncertainty in the stock assessment, one was selected as the base model. The results of the 2005 base model stock assessment estimated that the widow rockfish stock was at 31.1 percent of its unfished biomass in 2004. In retrospect, the new assessment shows that the stock biomass may not have declined below the overfished species threshold of 25 percent of its unfished biomass as was estimated in previous assessments.

Similar to other rockfish species, the biomass of widow rockfish has decreased steadily since the early 1980s and recruitment during early 1990s is estimated to have been considerably smaller than before the mid 1970s. The reason for the lower recruitment during the period could be due to lower spawning stock biomass, but it could also be due to environmental conditions. There is evidence that recruitment of many rockfish species since 1999 has been higher than 1990s average recruitment. This evidence is also supported by the most recent juvenile survey and age composition data.

The lack of a reliable abundance index for widow rockfish is a major source of uncertainty in the assessment results. The primary source of information on trends in abundance of widow rockfish is fishery dependent information from the Oregon bottom trawl logbook data. No Oregon bottom trawl logbook data after 1999 can be used in the assessment because the catch rates were very low due to trip limits and other management regulations. Triennial survey indices were used in the assessment as an additional abundance index. At this time, there is no fishery independent survey conducted specifically for mid-water species such as widow rockfish. Because widow rockfish is a mid-water species, the use of bottom trawl survey data may not be representative of the population and is a source of uncertainty in the assessment model. Additional areas of uncertainty include: the estimated value used for natural mortality, the estimates of stock-recruitment relationships, the appropriate use of the Santa Cruz juvenile survey data where survey indices are highly variable, and the relationship of the Canadian stock to the U.S. stock. Rebuilding analyses rely on estimates of past stock-recruitment relationships to predict future stock-recruitment relationships that are then used to project stock growth rates and rebuilding trajectories. Therefore, uncertainty in the estimates of stock-recruitment relationships may lead to greater uncertainties in a rebuilding analysis and its ability to predict future stock recruitment rates.

The SSC endorsed the assessment update as the best scientific data available for management decisions. The ABCs of 5,334 mt for 2007 and 5,144 mt for 2008 are derived from the base model with the F50% FMSY proxy.

In September 2005, the Council adopted a new assessment of yelloweye rockfish for use in 2007-2008 management decision-making. However, in November, the Council decided to explore a re-assessment of yelloweye rockfish before the March 2006 Council meeting. Various technical issues compelled the Council to consider re-doing the yelloweye assessment, including an investigation of new data sources particularly the International Pacific Halibut Commission's (IPHC's) fishery independent survey. The STAR Panel reviewing the original assessment was not afforded the time to consider new data sources or new approaches. The Council judged this shortcoming too important to defer until the next assessment cycle.

The March 2006 assessment used a stock synthesis model and re-evaluated all of the available coastwide catch and effort information and reformulated all of the indices of abundance. Yelloweye rockfish populations were treated in two different ways in the assessment model, as a single coastwide stock and as separate and distinct sub-populations of each of the three states. Model changes include: the addition of abundance data from the IPHC's fishery independent survey, a detailed examination of recreational catch per unit of effort, historical data back to 1923, change in selectivity curve for growth parameters, and a reduction in natural mortality rate.

The yelloweye rockfish stock assessment was relatively data poor. Both the current and 2002 yelloweye rockfish stock assessment have been tuned to a recreational catch per unit of effort index and lack fishery independent trend information. Because yelloweye rockfish are found in rocky habitat and are not as vulnerable to trawl gear as other rockfish, the bottom trawl survey data is of limited use in assessing the population. Standardized fishery independent sampling is designed so that changes in sampled indices of the population reflect changes in the population being measured, rather than changes in management and sampling methodology. Fishery catch per unit of effort data can be vulnerable to changes in behavior of the fishery (area of operation, gear, target species, etc.) rather than changes in the population. For yelloweye rockfish, the model's ability to assess the resource is limited by the lack of size and age composition data and the lack of fishery independent survey data. The SSC believes that for future assessments to be fruitful, new trend indices, particularly for waters off California and Oregon, are needed.

Yelloweye rockfish is vulnerable to localized depletion because of its sedentary nature. Although considerable progress was made in developing a plausible model for each of the states, adequate data were not available to support such an approach. The SSC encouraged further development of area-specific models, and ultimately SSC endorsed the coastwide assessment and recommended its use for management decisions. The results of the coastwide assessment estimated that yelloweye rockfish is at 17.7 percent of its unfished biomass coastwide in 2006 and that the stock is lagging behind the original rebuilding schedule. The coastwide ABCs of 23 mt for 2007 and 20 for 2008 were derived from the revised base model stock assessment with an FMSY proxy of F50%.

The 2007 and 2008 ABCs are based on the best scientific information available to the Council at its November 2005 and April 2006 meetings. Stock assessment documents and related reports were made available to the public prior to the Council's April 2006 meeting and can be obtained from the Council office. Additional information on the groundfish stocks can be found in the EIS prepared for this action and in documents that were available at the April and June 2006 Council meetings (see ADDRESSES).

OY-setting Policies

The Council recommends annual harvest levels, which are OYs, for the species or species groups that it manages. The Magnuson-Stevens Act requires the FMP to prevent overfishing while achieving, on a continuing basis, the OY from each fishery. Overfishing is defined in the National Standards Guidelines (50 CFR part 600, subpart D) as exceeding the fishing mortality rate (F) needed to produce MSY on a continuing basis.

A biennial management cycle, adopted under Amendment 17 to the FMP, is being used to establish the 2007 and 2008 harvest specifications and management measures. At the beginning of the biennial management cycle, two one-year ABCs and OYs will be adopted for each species or species complex the Council proposes to manage. The annual OYs will be applied in the same manner as has been done in previous years. If an OY is not achieved or is exceeded in the first year, the underage or overage will not be transferred to the following year, as such a transfer could result in severe fishing and management problems in the second year. Overages or underages are accounted for in subsequent stock assessments, which are populated with historical total catch and other relevant data.

The 2007 and 2008 OYs for species other than those managed with overfished species rebuilding plans are set at levels that are expected to prevent overfishing, equal to or less than their ABCs. For overfished species, the OYs are set at levels that allow the overfished species to rebuild as quickly as possible, taking into account the status and biology of the stock, the needs of fishing communities, and the interaction of the stock within the marine ecosystem. The specific OYs being adopted for overfished species are described below in “OY Policies and Rebuilding Parameters for Overfished Species.”

The Council used the FMP's “40-10” policy to set OYs for species not managed with overfished species rebuilding plans, a policy designed to prevent those species from becoming overfished. If the stock biomass is larger than the biomass needed to produce MSY (BMSY), the OY may be set equal to or less than ABC. The Council uses 40 percent as a default proxy for BMSY, also referred to as B40%. A stock with a current biomass between 25 percent of the unfished level and BMSY (the precautionary threshold) is said to be in the “precautionary zone.” The Council's 40-10 policy reduces the fishing mortality rate when a stock is at or below its precautionary threshold. The further the stock is below the precautionary threshold, the greater the reduction in OY relative to the ABC, so that the slope of this line assumes that, at B10%, the OY would be set at zero. This is, in effect, a default rebuilding policy for precautionary zone stocks that will foster quicker return to the BMSY level than would fishing at the ABC level. Stocks below B25% have OYs set with species-specific rebuilding plans, designed to meet the rebuilding requirements of the Magnuson-Stevens Act. For further information on the 40-10 policy see the FMP at Section 5.3.

After considering appropriate analysis, the Council may recommend setting the OY higher than what the default OY harvest policy specifies and as long as the OY: does not exceed the ABC (which is set at FMSY), complies with the requirements of the Magnuson-Stevens Act, and is consistent with the National Standard Guidelines. On a case-by-case basis, additional precaution may be added as is warranted by uncertainty in the data or by higher risks of being overfished. If a stock falls below 25 percent of its unfished biomass (B25%) and is declared overfished, the Magnuson-Stevens Act requires the Council to develop a rebuilding plan within one year from the declaration date.

In addition, the Council has the discretion to make additional OY adjustments for stocks with only rudimentary stock assessments. For such stocks, the Council's policy is to set the OY at 75 percent of the ABC. For stocks that have not been quantitatively assessed and where the ABC is based on historical data, the OY policy is to set the OY at 50 percent of the ABC. For further information, see the preamble discussion of the Annual Specification and Management Measures published on January 11, 2001 (66 FR 2338).

2007 and 2008 OYs For Healthy and Precautionary Zone Species

The species that had OYs in 2005 and 2006 continue to have OYs in 2007 and 2008. As stated above, the FMP provides the Council's guidance on setting harvest specifications for groundfish at a variety of stock status levels. In November 2005, the Council reviewed the list of groundfish stocks that needed species or species group harvest levels set for 2007-2008 to determine which of those species or species complexes either had no new information on its status as of the 2005 stock assessments, or fell clearly into one of the FMP management categories with already-articulated harvest strategy guidance. For each species or species groups falling into one or both of those categories, the Council did not consider a broad set of harvest level alternatives, but only considered a single combination of ABC/OY harvest levels for 2007-2008. These species included: Pacific cod, shortbelly rockfish, splitnose rockfish south, yellowtail rockfish north, black rockfish, cabezon South of 42 deg. N. lat., English sole, arrowtooth flounder, other flatfish, other fish. In April 2006, the Council recommended adoption of the single ABC/OYs combination values for these species. Specific information on the OYs recommended for adoption by the Council, and the information of how the OYs were derived can be found in the footnotes to Table 1a. and Table 2a.

Species for which the Council considered alternative OYs include: lingcod, sablefish, chilipepper, shortspine thornyhead, longspine thornyhead, minor rockfish north and south, California scorpionfish, Dover sole, petrale sole, and starry flounder. Lingcod is currently estimated to be above 40 percent of unfished biomass on a coastwide basis; however, the southern portion of the stock (south of the CA/OR border at 42° N. lat.) is estimated to be just below 25 percent of its unfished biomass. The OYs were divided north and south of the CA/OR border to facilitate better state-based management in nearshore waters. The coastwide lingcod OY under Alternative 1 of 6,280 mt (5,428 mt for the northern portion of the stock and 852 mt for the southern portion of the stock) was calculated by setting the OY equal to the coastwide ABC, as lingcod is a healthy stock. The coastwide lingcod OY under Alternative 2, 6,088 mt (5,428 mt for the northern portion of the stock and 660 mt for the southern portion of the stock) is the sum of separate northern and southern lingcod substock OYs with the southern OY having a 40-10 adjustment, because the southern substock is estimated to be at 27 percent of its unfished biomass. In addition to the first two alternatives, CDFG brought forward a recommendation to maintain the 2006 OY of 612 mt for the southern potion of the stock. The final OY adopted of 6,040 mt was based on the CDFG recommendation of 612 mt for the southern portion of the stock and 5,428 mt for the northern portion of the stock. The final OY is intermediate to the first two alternatives and is expected to allow the southern portion of the stock to continue increasing in biomass.

A coastwide sablefish stock assessment was prepared in 2005. The coastwide sablefish biomass was estimated to be at 35.2 percent of its unfished biomass in 2005. Projections indicate that the biomass is increasing and will be near 42 percent by 2008. Alternative 1, 4,574 mt was calculated by applying the 40-10 adjustment to the ABC derived from the low stock/production model in the 2005 sablefish assessment and OY Alternative 2, 5,934 mt, was calculated by applying the 40-10 adjustment using the assessment's base case model. Each coastwide OY alternative was also divided north and south of 36° N. lat. using the status quo proportions from 2006. Alternative methods for apportioning the OY were not considered because the STAR Panel recommended calculating coastwide biomass without including Conception area survey data. The Council recommended adopting the Alternative 2 OY, 5,934 mt, for 2007 and 2008, which is substantially less than the 2006 OY of 7,634 mt.

There is no new stock assessment from which to base new harvest specifications for chilipepper rockfish. Chilipepper rockfish is a healthy stock, with its biomass estimated to be above B40%. Two OY alternatives were considered because chilipepper rockfish co-occur with bocaccio, an overfished species. Alternative 1 OY is the status quo OY of 2,000 mt, which is a reduction from the ABC determined in the 1998 assessment. The OY adjustment is to constrain mortality on co-occurring bocaccio. The Alternative 2 OY, 2,700 is set equal to the ABC projections in the 1998 assessment. The Council considered the OY alternatives and recommended maintaining a chilipepper rockfish OY of 2,000 mt, which provides the precautionary adjustment for bocaccio.

Shortspine thornyhead was assessed coastwide in 2005 and the stock was estimated to be at 63 percent of its unfished biomass in 2007. The shortspine thornyhead OY alternatives considered by the Council provide for area-specific OYs north and south of Pt. Conception. The OY under Alternative 1 includes an OY for the area south of Pt. Conception (421 mt)on the base case stock assessment scenario from the 2005 stock assessment, which indicated that 34 percent of the coastwide biomass is in this area, and with a 50 percent reduction to account for the paucity of survey data south of Pt. Conception. The Council recommended making a 50-percent reduction because the SSC had concluded that the assessment was only marginally sufficient to estimate resource status given the short duration and density of survey data south of Pt. Conception.

The shortspine thornyhead OY under Alternative 1 for the area north of Pt. Conception (1,240 mt) was from the base case stock assessment indicating 66 percent of the coastwide biomass is in this area, reduced by a 25 percent precautionary deduction from the ABC. The Council recommended making the 25-percent reduction because the SSC had concluded that the assessment was marginally sufficient to estimate resource status. The Alternative 2 OY for the areas north and south of 34° 27′ N. lat. were based on the same biomass estimates from the 2005 stock assessment base case model, but with no precautionary reduction. Under Alternative 2, the OY alternative for the area south of Pt. Conception (841 mt) was based on an estimate that 34 percent coastwide biomass is in this area, and the OY alternative for the northern portion (1,634 mt) is based on an estimate of the remaining 66 percent of the coastwide biomass.

Specifying an OY for the area south of Pt. Conception is expected to distribute harvest opportunities proportional to the relative abundance of the resource. The precautionary OYs specified in Alternative 1 were not considered to be constraining relative to recent catches. In light of the data-poor nature of thisassessment, the Council recommended the adoption of the more precautionary Alternative 1.

Longspine thornyhead was assessed coastwide in 2005 and the stock was estimated to be at 69 percent of its unfished biomass in 2007. The two longspine thornyhead OY alternatives provide for area-specific OYs north and south of Pt. Conception. Area-specific OYs are intended to distribute harvest opportunities in proportion to the relative abundance of the resource. Alternative 1, 2,696 mt, was based on the assumption of a constant density of the stock throughout the Conception area with the proportion of the stock area north and south of Pt. Conception having a 25 percent precautionary reduction. The second alternative, 3,930 mt, was based on a constant density throughout the Conception area and no precautionary adjustment. Because longspine thornyhead is considered to be a healthy stock, the OY can be set equal to the ABC as was done under Alternative 2. The precautionary OYs specified in Alternative 1 are not constraining relative to recent catches. In light of the data-poor nature of this assessment, the Council recommended Alternative 1.

In 2005 the Council approved new assessments for two species managed within the minor rockfish south complex. The Council recommended that California scorpionfish be removed from this complex and be managed with a separate OY, while gopher rockfish remain within the complex and the OY be adjusted to reflect new information from this stock assessment. Gopher rockfish are part of the Minor Nearshore Rockfish South portion of this complex. Gopher rockfish co-occur with both shallow and deeper nearshore species and cannot be cleanly targeted. As a result, raising the gopher rockfish portion of the minor nearshore rockfish south OY to the level derived from the stock assessment could result in additional harvest of other data-poor stocks within the complex, rather than just harvests of gopher rockfish.

The minor rockfish south complex is comprised of three depth-associated rockfish assemblages: minor nearshore, minor shelf, and minor slope. Four OY alternatives considered by the Council for minor rockfish south included: Alternative 1, 1,753 mt, in which the OY includes the current contribution for gopher rockfish (48.5 mt); Alternative 2, 1,855 mt, which was determined by removing the current contribution for gopher rockfish (48.5 mt) from the OY and then increasing the OY by 50 percent of the new gopher ABC/OY of 302 mt (based on the 2007-2008 average ABC/OY; 2007 = 340 mt, 2008 = 264 mt); Alternative 3, 1,898 mt, which was determined by removing the current contribution for gopher rockfish (48.5 mt) from the OY and then increasing the OY by 75 percent of the new gopher ABC/OY of 302 mt (based on the 2007-2008 average ABC/OY; 2007 = 340 mt, 2008 = 264 mt); and Alternative 4, 2,006 mt, which was determined by removing the current contribution for gopher rockfish (48.5 mt) from the OY and then increasing the OY by the new gopher ABC/OY of 302 mt (based on the 2007-2008 average ABC/OY; 2007 = 340 mt, 2008 = 264 mt). The Council recommended 1,904 mt, the preferred OY alternative, which was intermediate to Alternatives 3 and 4 and included the new gopher rockfish contribution. The Council recommended dividing that 1,904 mt OY into the three major depth assemblages for the minor rockfish south OY: 564 mt attributed to minor nearshore species, 714 mt attributed to the minor shelf, and 626 mt to the minor slope species. The minor nearshore rockfish contribution was the ABC contribution based on 2001-2002 landings, reduced by 50 percent as a precautionary measures; the contributions from the other depth assemblages remain unchanged.

California scorpionfish south of 34° 27′ N. lat. was assessed in 2005 and was estimated to be above 40 percent of its unfished biomass in 2005. The California scorpionfish assessment used a recreational catch data stream based upon Commercial Passenger Fishing Vessel (CPFV) logbook data expanded to total recreational catch using a proportion of CPFV to total recreational catch (based upon Marine Recreational Fisheries Statistics Survey catch history). The Council′s SSC approved this assessment, with the caveat that the ABC/OY from this assessment could only be related to recreational catch calculated in the same manner as this catch stream. Consequently, an alternative ABC/OY was generated by modifying the original ABC/OY from the assessment so that it could be compared and tracked using California Recreational Fisheries Survey (CRFS) catch estimates.

Because the stock is above B40% coastwide, the OY could be set equal to the ABC. Both the original stock assessment and the modified stock assessment were used to develop the ABC/OY alternatives for California scorpionfish. Alternative 1, 137 mt, was an average of the 2007 and 2008 ABC/OYs as modified for comparison against CRFS estimates. Alternative 2, 219 mt, was an average of the 2007 and 2008 ABC/OYS based on CPFV logbook data taken directly from the new assessment. The Council selected an OY of 175 mt, which is an intermediate value between Alternatives 1 and 2.

Dover sole north of 34° 27′ N. lat. was assessed in 2005. The Dover sole biomass was estimated to be at 59.8 percent of its unfished biomass in 2005 and is projected to be increasing. The OY alternatives specified for analysis for Dover sole stock are 16,500 mt under Alternative 1 and 28,482 mt under Alternative 2. The first OY alternative is equal to the equilibrium MSY from the 2005 stock assessment; the second alternative is set equal to the ABC because the stock is above B40% coastwide. The Council recommended OY Alternative 1, 16,500 mt, which was derived from the equilibrium MSY at F40% in the base model. The OY of 16,500 mt, which is less than the ABC, is the MSY harvest level and is considerably larger than the coastwide catches in any recent years.

A petrale sole stock assessment was prepared in 2004. In 2005, the petrale sole stock coastwide was estimated to be at 32 percent of its unfished biomass (34 percent in the northern assessment area and 29 percent of its unfished biomass in the southern assessment area). The petrale sole biomass is believed to be increasing. Three OY alternatives for petrale sole (coastwide) were analyzed for Council decision: 1,921 mt under Alternative 1, 2,499 mt under Alternative 2, and 2,883 mt under Alternative 3. The coastwide OY of 1,921 mt under Alternative 1 was based on the low spawning stock biomass model from the new stock assessment. The Coastwide OY of 2,499 mt under Alternative 2 was derived from the base model with a 40-10 adjustment for the northern and southern substock with an additional 25 percent reduction in the OYs for the southern stock due to assessment uncertainty. The coastwide OY under Alternative 3 of 2,883 mt, was derived from the base case stock assessment model with the 40-10 adjustment for both the northern and southern substock.

Each of the coastwide OYs were also subdivided by INPFC regions (Columbia and US-Vancouver areas and Eureka, Monterey, and Conception areas) and by latitude (north and south of 40°10′ N. lat.) for consideration of regional management. The Council recommended the adoption of the Alternative 2 coastwide OY of 2,499 mt. Although the Council considered regional management designed to achieve the OY specification, stratifying the OY north and south of 40° 10′ N. lat. was expected to result in a decrease in bottom trawl ex-vessel revenues of over $3 million, but could be higher or lower depending on the alternative chosen. The Council did not endorse regional management of petrale sole.

Starry flounder was assessed for the first time in 2005. The SSC reviewed the new stock assessment and recommended the stock assessment for management decision-making. For the first time, starry flounder is proposed to be removed from the “other flatfish” category and managed as a separate species with its own ABC and OY values. The Council requested the following two OY alternatives be analyzed for starry flounder: 890 mt and 1,186 mt. OY Alternative 1 (890 mt) is based on a 25 percent reduction of the combined 2007 and 2008 area OYs from the base model in the stock assessment. The Council recommended a precautionary adjustment of 25 percent because it is a relatively data poor stock. OY Alternative 2 (1,186 mt) was based on the combined area OYs from the base model in the stock assessment. The Council considered the alternative OYs and recommended an OY of 890 mt, which includes the precautionary adjustment of 25 percent for data poor stocks.

At its April meeting, the Council adopted a tentative black rockfish sharing framework for 2007-2008 that would carry forward the 2005-2006 black rockfish catch sharing recommendation of 58 percent to Oregon and 42 percent to California within the southern OY. The Council further recommended specifying those values as harvest guidelines in the Federal regulations for the respective states. These percentages result in an Oregon harvest guideline of 419 mt (recreational and commercial harvest guidelines of 286.6-350.2 mt and 90.5-110.7 mt respectively) and a California harvest guideline of 303 mt. Much of the harvest of black rockfish occurs in state waters and the states actively manage these fisheries. The States of California and Oregon have factored in precautionary approaches in managing to these black rockfish targets.

For the waters off Oregon, the recreational fishery catch estimate and commercial harvest guideline for black rockfish are being presented as a range because the Oregon State rulemaking process does not coincide with the Council's management measures development process. The Oregon Fish and Wildlife Commission will make recommendations on in-state allocation issues in December 2006, too late for the proposed rule comment period for this action. The Oregon Fish and Wildlife Commission is scheduled to meet on December 8, 2006, at the Oregon Department of Fish and Wildlife (ODFW) office in Salem. The schedule of meetings, the process for providing written or oral testimony, as well as the agenda and meeting materials for the upcoming meeting, are available online at the following ODFW website address: www.dfw.state.or.us/agency/commission. Information on the Oregon recommendation can be obtained from the following web site in early December: www.dfw.state.or.us/agency/commission/minutes/.

OY Policies and Rebuilding Parameters for Overfished Species

Earlier, this notice discussed the Council's decision making process and how that process focused the Council's decision on a suite of inter-related OYs for overfished species. As discussed above, the overfished species OYs constrain fishing for all co-occurring groundfish species and for some non-groundfish species as well, making the suite of overfished species OYs the cornerstone of the entire groundfish harvest specifications and management measures package. As also discussed above, adopting a suite of interrelated overfished species OYs allowed the Council to recommend a management package that best took into account the status and biology of those stocks and the needs of fishing communities by emphasizing protection for the species most sensitive to changes in OY harvest levels and for communities most vulnerable to shifts in groundfish fishing income.

The results of the most recent round of stock assessments for overfished species were, in general, more optimistic than the prior round of assessments. The exception to this is yelloweye rockfish, which was substantially more pessimistic. Yelloweye rockfish have a life history that illustrates the classic challenge of rebuilding overfished West Coast rockfish stocks they are slow to mature, have low productivity, and can live in excess of 100 years. Given their low productivity, small changes in yelloweye rockfish harvest levels can result in large changes to the associated constant harvest rates. The Council recognized the need to restrict the fisheries based on the new yelloweye rockfish assessment, but also took into account the potentially widespread negative effects of an immediate reduction in OY and recommended an OY ramp-down strategy over a 5-year period. The ramp-down strategy provides time to collect much-needed additional data that could better inform new management measures for greater yelloweye rockfish protection, and reduces the immediate adverse impacts to fishing communities while altering the rebuilding period by less than one year.

The DEIS analyzes the effects of a 12-12.6 mt yelloweye rockfish OY in 2007, estimating that multiple fishing sectors and communities would be negatively affected by that OY level, and affected to large degree. The DEIS estimates that recreational fishing effort for groundfish and Pacific halibut off Washington would decrease by 30 percent under the 12-mt yelloweye rockfish alternative. Off Oregon, it is estimated that recreational fishing effort for groundfish and Pacific halibut would decrease by 32 percent, and recreational fishing effort for groundfish off California would decrease by over 33 percent. Commercial fixed gear vessels that homeport along the northern Washington coast and Puget Sound would likely experience a complete closure of traditional fishing grounds for sablefish. Some of these vessels could choose to move further south along the coast and homeport in different locations in order to access other fishing grounds; however, this would have repercussions to those communities where fixed gear vessels currently homeport, and many of these communities are described as being resource-dependent. Analysis of commercial management measures designed to achieve a suite of OYs for all overfished species and which included the 12 mt yelloweye rockfish OY showed that ex-vessel revenue would be reduced by nearly 40 percent. However, this is likely an overestimate of the reduction in commercial fisheries if only yelloweye rockfish were to be reduced to 12 mt and other overfished species were to remain at status quo levels. By contrast, the EIS estimates that the OY ramp-down strategy would have effects in 2007 on the recreational fisheries ranging from near status quo to 22 percent reduction in angler effort, and on the commercial fisheries ranging from near status quo to 13 percent reduction in revenues.

The yelloweye rockfish OY ramp-down strategy is a departure from the past practice of setting constant harvest rates that are intended to carry through time to the rebuilt dates. The ramped down yelloweye rockfish OYs for 2007-2010 begin with 23 mt in 2007 and continue to 20 mt in 2008, ultimately reaching 13.5 mt in 2011. Beginning in 2011, the yelloweye rockfish rebuilding plan would revert to a constant harvest rate of F = 0.0101 through to the rebuilt date of 2083.5. By contrast, an initial 2007 OY based on this harvest rate would result in an OY of 12.6 mt and a rebuilt date of 2083. As points of reference, the 2006 yelloweye rockfish OY is 27 mt, with expected total catch currently estimated at 21.1 mt.

The Council recommended separate harvest guidelines for yelloweye rockfish for the recreational fisheries that are divided at the Oregon/California border (42° N. lat.). The yelloweye rockfish harvest guideline for the area north of 42° N. lat. is 6.8 mt in 2007 and 2008, and the harvest guideline for the area south of 42° N. lat. is 2.1 mt in 2007 and 2008 with a residual amount of 1.5 mt that will be set aside and, if needed, will have a priority on being made available to the recreational fishery.

Canary rockfish and bocaccio are more productive than yelloweye rockfish and cowcod, but less productive than POP, darkblotched rockfish, and widow rockfish. The Council recommended adopting OYs for canary and bocaccio that are relatively close to preseason catch predictions with room to accommodate inseason deviations from pre-season catch predictions. Doing so would have a relatively small impact on the rebuilding times for these species, but would accommodate management flexibility, reduce the need for inseason adjustments to management, and result in greater stability to the management regime. The Council considered management measures for both species that would result in preseason catch projections that are slightly less than the recommended OY.

Canary's wide geographic distribution and catchability in all fisheries makes it one of the most constraining stocks when setting 2007-2008 management. The commercial trawl preseason bycatch rate projections have been off by a factor of 75-100 percent as compared to inseason estimates in recent years. This has required severe management adjustments inseason to keep canary mortality within the OY. West Coast Groundfish Observer Program (WCGOP) data for fixed gear is fairly sparse, and there is very little observer data for open access and recreational fisheries. Therefore, the Council recommended a 44 mt OY (the Preferred High OY) and management measures that would result in preseason catch projections that are slightly less than the Preferred High OY. The Council recommended separate harvest guidelines for canary rockfish for the recreational fisheries that are divided at the Oregon/California border (42° N. lat.). The canary rockfish recreational harvest guideline for the area north of 42° N. lat. is 8.2 mt in 2007 and 2008, and the recreational harvest guideline for the area south of 42° N. lat. is 9.0 mt in 2007 and 2008.

The Council's recommended OY for bocaccio was 218 mt, however the projected catch is much lower. The bocaccio stock assessment demonstrates that recruitment is highly variable and anecdotal evidence suggests there may be a strong incoming year-class. Past experience indicates that young bocaccio are difficult to avoid for most fisheries and, should this strong year class become evident, incidental encounter rates would be expected to increase. Additionally, the commercial trawl preseason bycatch rate projections for bocaccio have been off by a significant amount (100-200 percent) as compared to inseason estimates in recent years, and fixed gear WCGOP data, especially for the area south of 40°10′N. lat., is fairly sparse. As with canary rockfish, revising catch projections with new information inseason has required severe management adjustments inseason to keep bocaccio mortality within the OY. Therefore, the Council recommended management measures that would result in preseason catch projections that are significantly less (e.g., about 15-20 mt) than the OY to cover this uncertainty.

Cowcod is an unproductive stock, similar to yelloweye rockfish; however, its most recent assessment shows this stock is less depleted than previously thought. Because of the more optimistic stock assessment result, the Council did not recommend a dramatic decrease in the OY, but rather status quo management with an OY of 4 mt. Continued use of closed areas as a management tool is expected to appropriately keep cowcod catch below its OY.

POP, darkblotched rockfish, and widow rockfish are less depleted and more productive than the other three overfished species. The commercial trawl preseason bycatch rate projections for POP have been off by as much as 100 percent as compared to inseason estimates in recent years. Having the POP preseason bycatch rate projections adjusted by new data received inseason has resulted in less dramatic corrective inseason adjustments to constrain POP harvest, mainly because POP harvest has been consistently below its OY due to measures that constrain incidental catch of co-occurring darkblotched rockfish. Like darkblotched, POP is rarely caught by fixed gear and recreational fisheries. However, the time estimated for POP to reach its rebuilt level is relatively short, so there will be increased incidental encounter rates for POP in 2007 and 2008. The OYs analyzed for POP in 2007 and 2008 (44 mt and 100 mt) were significantly reduced from the 2006 OY level of 447 mt. These reduced OYs were not the result of the recent stock assessment or rebuilding plan, but were proposed from recent catch levels in the commercial slope fisheries, which are more significantly constrained by darkblotched rebuilding levels. After weighing the effects of a higher OY on POP's rebuilding time against the effects on fishing communities of more management flexibility, the Council recommended a POP OY of 150 mt. The Council anticipated that this OY, which was higher than the Preferred High OY, would be adequate to cover the rebuilding paradox of a potentially significant increased incidental encounter rate. (See earlier discussion on the Council's decision-making process for an explanation of the rebuilding paradox.)

For widow rockfish, the commercial trawl preseason bycatch rate projections have been off by as much as 100 percent as compared to inseason estimates in recent years. Widow rockfish is primarily incidentally taken in the whiting fishery, which has is constrained by a widow rockfish bycatch limit. Thus, constraining widow rockfish incidental catch inseason to account for revisions to preseason bycatch rate projections has primarily resulted in whiting fishery participants having to shift their fishing areas to better avoid widow rockfish. Precision in widow rockfish catch estimation methodology has greatly improved over the past year, however, especially for the trawl fishery. Widow rockfish occur infrequently in fixed gear and recreational fisheries. The time estimated for widow rockfish to reach its rebuilt level is relatively short, so there would likely be increased incidental encounter rates for widow rockfish in 2007 and 2008. The Council recommended management measures that would result in preseason catch projections that are slightly less than the Preferred High OY of 368 mt.

In the recent past, the commercial trawl preseason bycatch rate projections for darkblotched rockfish have been off by as much as 250 percent as compared to inseason estimates. As with bocaccio and canary rockfish, revising bycatch rate projections with new information inseason has required severe management adjustments inseason to keep darkblotched rockfish mortality within the OY. Slope fishing opportunities have been largely closed in the past several winters in order to constrain darkblotched rockfish incidental catch, following the receipt of new inseason data that revised preseason bycatch rate projections. Darkblotched rockfish is rarely caught by fixed gear and recreational fisheries.

While precision in catch estimation methodology has increased over the past year, inseason data indicates that actual catches are still about 50 percent higher than what was projected preseason for 2006. Additionally, the time estimated for darkblotched rockfish to reach its rebuilt level is relatively short, and strong year classes from 1999 and 2000 are now entering the fishery. Between 2000 and 2005, both the biomass and the spawning output of darkblotched rockfish roughly doubled. The biomass is expected to increase by an additional 40 percent from current levels by 2010, with spawning output doubling again in that period, at which point the stock is expected to be rebuilt. This rapid darkblotched rockfish stock increase means that there would likely be increased encounter rates for darkblotched rockfish in 2007 and 2008 (i.e., the rebuilding paradox that occurs as the stock approaches target biomass levels, where catch rates increase even though fishing effort remains the same or decreases.)

The Council considered including a relatively high amount of OY to cover the rebuilding paradox catch projection modeling uncertainty. As a potential consequence of variable and increasing encounter rates, darkblotched rockfish bycatch may cause early closure of commercial slope fisheries targeting co-occurring healthy stocks. The Council repeatedly heard testimony from industry on the importance of winter petrale and DTS (Dover sole, thornyhead, sablefish) fisheries in maintaining a permanent work force, and avoiding loss of markets to other supply sources which, once lost, can be difficult to regain. Concern over the potential loss of these fisheries, and recognition that an increase in the 2007 and 2008 OYs would make little difference in when darkblotched would be rebuilt, led the Council to recommend OYs for darkblotched rockfish of 290 mt in 2007 and 330 mt in 2008.

For each approved overfished species rebuilding plan, Amendment 16-4 will specify the following parameters in the FMP: estimates of unfished biomass (B0) and target biomass (BMSY), the year the stock would be rebuilt in the absence of fishing (TMIN), the year the stock would be rebuilt if all fishing mortality were to cease beginning in 2007 (TF=0,) the year the stock would be rebuilt if the maximum time period permissible under National Standard Guidelines were applied (TMAX), the target year in which the stock would be rebuilt under the adopted rebuilding plan (Ttarget also referred to as the median time to rebuild), the spawning potential ratio (SPR = spawning per recruit at the current population level relative to that at the stock's unfished condition) and/or the harvest control rule (F). Other relevant rebuilding information will also be included in the FMP. The estimated rebuilding parameters will serve as management benchmarks in the FMP and the FMP will not be amended if the values change after new stock assessments are completed, as is likely to happen. Regulations at 50 CFR 660.365 that would implement Amendment 16-4 update rebuilding plan parameters, the target rebuilding date and the harvest control rule, from the most recent round of stock assessments and in accordance with Council recommendations for Amendment 16-4. Future updates that may be needed to these two parameters would be implemented via the Federal notice-and-comment rulemaking process.

The OY alternatives analyzed in this EIS were based on harvest rates estimated from the rebuilding simulation program and were calculated using an instantaneous rate of fishing mortality (F or the harvest control rule), which may be converted to a Spawning Potential Ratio or SPR. This value is being provided so the specific fishing mortality rates can be more easily compared to one another and to standardize the basis of rebuilding calculations. Given fishery selectivity patterns and basic life history parameters, there is a direct inverse relationship between the harvest control rule and SPR. When there is no fishing, each new female recruit is expected to achieve 100 percent of its spawning potential. As fishing intensity increases, expected lifetime reproduction declines due to this added source of mortality. Conversion of the harvest control rule into the equivalent SPR has the benefit of standardizing for differences in growth, maturity, fecundity, natural mortality, and fishery selectivity patterns and, as a consequence, the SSC recommended that the SPR value be used routinely.

Rebuilding parameters being defined in regulation include the harvest control rule and the target time to rebuild. If, after a new stock assessment, the Council and NMFS conclude that the parameters defined in regulation should be revised, the revision will be proposed through the Federal rulemaking process, and the updated values codified in the Federal regulation. Any changes to the values in regulation will be fully supported by a corresponding analysis and updated through the Federal rulemaking process, which would include opportunity for public notice and comment.

An approved rebuilding plan will be implemented through setting OYs and establishing management measures necessary to maintain the fishing mortality within the OYs to achieve objectives related to rebuilding requirements. The adopted OYs and management measures being implemented through Federal regulation are summarized below. Management measures adopted for 2007 and 2008 are expected to keep the incidental catch of overfished species within the adopted OYs. Management measures designed to rebuild overfished species, or to prevent species from becoming overfished, may restrict the harvest of relatively healthy stocks that are harvested with overfished species. As a result of the constraining management measures imposed to rebuild overfished species, a number of the OYs for healthy stocks may not be achieved in 2007 or 2008.

POP

Date declared overfished: March 3, 1999

Areas affected: Vancouver and Columbia

Status of stock: Following the 2005 assessment, the stock was believed to be at 23.4 percent of unfished biomass level in 2005

SB0: 37,838 units of spawning output

SBMSY: 15,135 units of spawning output

TMIN: 2015

TF=0: 2015

TMAX: 2043

Target (median) year to rebuild: 2017

SPR harvest rate: 86.4 percent

Harvest control rule: F=0.011

ABC: 900 mt in 2007, 911 mt in 2008

OY: 150 mt in 2007 and 2008

Biology of the stock: POP occur in the western north Pacific south to Honshu Japan, southern Bering Sea, and the eastern north Pacific south to Baja California. POP are found on the upper continental slope (slope), 109-150 fm (200-275 m) during the summer and somewhat deeper 164-246 fm (300-450 m) during the winter. Adults sometimes aggregate up to 16 fm (29 m) above hard-bottom features and may then disperse and rise into the water column at night.

POP are livebearers. Most larvae are released February through May. The maximum age of POP has been determined to be 70 to 90 years. The mean generation time is 28 years. POP recruitment into the population occurs when the stock is at 3 years of age. Age of maturity and size varies with locality. POP reach 90 percent of their maximum size by age 20 years. Average size at age of mature females is greater than males.

From 1965 to 1998, recruitment was relatively stable and showed recruits/spawning output as an increasing trend over time. The situation is now slightly more complicated because there was not an obvious increasing trend in recruits/spawning output for either the 2003 or 2005 assessments, nor are the recruitments completely stable.

Management measures for 2007 and 2008: POP tend to occur in similar depths as darkblotched rockfish, although they have a more northern geographic distribution. Adult POP are often caught with other upper slope groundfish such as Dover sole, thornyheads, sablefish, and darkblotched, rougheye, and sharpchin rockfish. North of 40°10′ N. lat., POP are caught in similar fisheries as darkblotched rockfish. POP are rarely caught in the recreational fisheries. Management measures for 2007 and 2008 that are intended to limit the bycatch of POP and keep fishing mortality within the OY include (1) RCAs to restrict fishing in areas where overfished species are found and (2) cumulative trip limits.

Because POP co-occur with darkblotched rockfish, measures to reduce the incidental catch of darkblotched rockfish benefit POP. These measures include seaward trawl RCA boundaries that are established to keep fishing effort in deeper water where POP are less abundant, and cumulative limits for POP and minor slope rockfish that are intended to discourage targeting while allowing low levels of incidental catch to be landed. As needed, trip limits for other co-occurring species may be adjusted to reduce POP bycatch.

Darkblotched Rockfish

Date declared overfished: January 11, 2001 (66 FR 2338)

Areas affected: Coastwide

Status of the stock: Following the 2005 stock assessment the coastwide stock was believed to be at 16 percent of its unfished biomass level.

SB0: 25,361 mt

SBMSY: 10,144 mt

TMIN: 2009

TF=0: 2010

TMAX: 2033

ABC: 456 mt in 2007, 487 mt in 2008

OY: 290 mt in 2007, 330 mt in 2008

Target (median) year to rebuild: 2011

SPR harvest rate: 64.1 percent for 2007 and 60.7 percent for 2008

Harvest control rule: F=0.029 for 2007 and F=0.030 for 2008

Biology of the stock: Darkblotched rockfish occur from Tanaga Island (Aleutian Islands) and Bering Sea to near Catalina Island, California. They are most abundant from Oregon to British Columbia. Darkblotched rockfish occur on the outer shelf and slope, mainly north of Point Reyes (38° N. lat). Most adult darkblotched rockfish are associated with hard substrates on the lower shelf and upper slope at depths between 77 and 200 fm (140 and 365 m).

Like many Sebastes species, darkblotched rockfish show sexually dimorphic growth, in that females grow faster than and reach larger sizes than males. Darkblotched rockfish migrate to deeper waters with increasing size and age. Diurnal migration, raising off-bottom at night, is also is a likely behavior of darkblotched rockfish.

In general, darkblotched rockfish mate from August to December, eggs are fertilized from October through March, and larvae are released from November through April. Fecundity increases with fish size. Size-at-age estimates vary widely. Fish landed in California generally had smaller size-at-age than fish landed in the two northern states (Oregon-Washington). Size-at-age in the 2003-2004 survey data did not, however, change significantly with latitude.

Management measures in 2007 and 2008: Because of their deeper distribution, darkblotched rockfish are caught almost exclusively by commercial vessels. Most landings have been made by bottom trawl vessels targeting flatfish on the shelf, and rockfish and the DTS species on the slope. Even once the darkblotched rockfish population is rebuilt to BMSY, its population size will still be small relative to the larger complex of slope rockfish species it commonly co-occurs with. Having an overfished species rebuilding plan has required, and the detailed stock assessments have allowed, darkblotched ABCs and OYs to be established separately from the rest of the minor slope rockfish complex since 2001. In continued recognition of its status as a minor, but increasingly healthy, stock within a larger stock complex, darkblotched rockfish continues to be managed within the minor slope rockfish trip limit. Management measures intended to limit bycatch of darkblotched rockfish and keep fishing mortality within the OY specified for 2004 include (1) RCAs and (2) cumulative trip limits.

The boundaries of the RCAs vary by season and fishing sector and may be modified in response to new information about geographical and seasonal distribution of bycatch. The seaward boundary of the trawl RCA was set at a depth that was likely to keep fishing effort in deeper waters and away from areas were the bycatch of darkblotched rockfish was highest. During the winter months, modifications to the line allow for the harvest of flatfish while minimizing the impacts on darkblotched rockfish.

Cumulative limits for slope rockfish north of 40°10′ N. lat. are intended to accommodate incidental take of darkblotched rockfish. These slope rockfish limits are intended to allow vessels to retain slope rockfish taken as bycatch in the DTS (Dover sole, thornyhead, sablefish) fishery. Cumulative limits for splitnose rockfish, a co-occurring species between 40°10′ N. lat. and 38° N. lat., are constrained by darkblotched rockfish. As needed, trip limits for other co-occurring species may be adjusted to reduce darkblotched rockfish bycatch.

Incidental catch of darkblotched rockfish will continue to be allowed during the primary season for whiting, but will be constrained by bycatch limits that require closure of the commercial fisheries when reached. For 2007 and 2008, the darkblotched rockfish bycatch limit is 25 mt for the commercial whiting fisheries. A final 2007 and 2008 whiting ABC and OY will be adopted at the Council's March meetings in those years, and the bycatch limits may be reconsidered at that time and adjusted inseason.

Canary Rockfish

Date declared overfished: January 4, 2000 (65 FR 221)

Affected area: Coastwide

Status of the stock: 9.4 percent of its unfished biomass level in 2005.

B0: 34,798 mt

BMSY: 15,584 mt

TMIN: 2048

TF=0: 2053

TMAX: 2071

Target (median) year to rebuild: 2063

SPR harvest rate: 88.7 percent

Harvest control rule: F=0.018

ABC: 172 mt in 2007, 179 mt in 2008

OY: 44 mt in 2007 and 2008

Biology of the stock: Canary rockfish are a continental shelf (shelf) species ranging from the western Gulf of Alaska to northern Baja California and are most abundant from British Columbia to central California. Juveniles settle in nearshore waters after a several month pelagic stage. Adults range from depths of 25-475 fm (46-868 m). Most adults are caught off the middle and lower shelf at depths between 44 fm and 109 fm (80 and 200 m). Larger fish tend to be found in deeper waters. Canary rockfish are usually associated with areas of high relief such as pinnacles, but also occur over flat rock or mud and boulder bottoms. They are usually found near the bottom. A tagging study showed that they can migrate up to 700 km (435 miles).

The maximum age of canary rockfish is 84 years. Mature females may have higher natural mortality rate than males. Females tend to be larger than males of the same age. Female canary rockfish reach 90 percent of their expected maximum size at 15 years. Canary rockfish are live bearers. Parturition occurs from September through March peaking December-January. Little is known about ecological relationships between canary rockfish and other organisms.

Management measures in 2007 and 2008: Unavoidable incidental catches of canary rockfish occur in trawl, fixed gear, open access, and recreational fisheries targeting groundfish, as well as commercial and recreational fisheries targeting species other than groundfish. Canary is one of the most constraining stocks in 2007-2008 management. Adult canary rockfish are often caught with bocaccio, sharpchin, yelloweye, and yellowtail rockfishes, and lingcod. Researchers have also observed canary rockfish associated with silvergray, and widow rockfish. Management measures intended to limit bycatch of canary rockfish include RCAs and cumulative trip limits to constrain the fishery coastwide. Canary′s wide geographic distribution and catchability in all fisheries makes it difficult to manage with species-specific RCAs, like yelloweye rockfish and cowcod.

Bottom trawling is prohibited in the trawl RCA, which covers depths where canary rockfish have been most frequently caught. Cumulative limits are structured to discourage targeting of shelf species while allowing very low levels of incidental take to be landed. Because vessels fishing with trawl gear shoreward of the trawl RCA are more likely to encounter canary rockfish than those fishing seaward of the RCA, differential trip limits have been used for large footrope, small footrope and selective flatfish trawl gear. To reduce incidental take of canary rockfish in the area north of 40°10′ N. lat. vessels fishing shoreward of the RCAs are required to use selective flatfish trawl gear. By allowing higher limits for large and small footrope gear in areas seaward of the RCAs and prohibiting its use in nearshore areas, there is an incentive for vessels to fish in deeper waters, beyond the range of canary rockfish.

Incidental catch of canary rockfish will continue to be allowed during the primary season for whiting, but will be constrained by bycatch limits that require closure of the commercial fisheries when reached. For 2007 and 2008 the canary rockfish bycatch limit is 4.7 mt. A final 2007 and 2008 Whiting ABC and OY will be adopted at the Council's March meeting and the bycatch limits may be reconsidered at that time and adjusted inseason.

The non-trawl limited entry fisheries will be constrained by RCAs coastwide that are intended to reduce the catch of canary rockfish. Ridgeback prawn trawl vessels fishing in waters off the state of California will continue to be required to have and use finfish excluder devices that are intended to reduce the catch of overfished species including canary rockfish.

Recreational fisheries are managed through bag limits, size limits and seasons. As necessary, seasons can be shortened and bag limits reduced to stay within the OYs. The retention of canary rockfish is prohibited in the recreational fisheries.

Bocaccio

Date declared overfished: March 3, 1999

Areas affected: Monterey and Conception

Status of stock: 10.7 percent of its unfished biomass in 2005

B0: 13,402 Billion eggs in 2005

BMSY: 5,361 Billion eggs in 2005

TMIN: 2018

TF=0: 2021

TMAX: 2032

Target (median) year to rebuild: 2026

SPR Harvest rate: 77.7 percent

Harvest control rule: F=0.034

ABC: 602 mt in 2007, 618 mt in 2008

OY: 218 mt in 2007 and 2008

Biology of the stock: Bocaccio is a rockfish species that ranges from Kodiak Island, Alaska south to central Baja California. Bocaccio are historically most abundant in waters off central and southern California. Juveniles settle in nearshore waters after a several month pelagic stage. Adults range from depths of 6.5-261 fm (12-478 m). Most adults are caught off the middle and lower shelf at depths between 27 fm and 137 fm (50 and 250 m). Larger fish tend to be deeper. Bocaccio are found in a wide variety of habitats, often on or near bottom features but sometimes over muddy bottoms. While usually found near the bottom they also occur as much as 16.4 fm (30 m) off bottom. Tagging studies have shown that young fish move up to 148 km (92 miles).

Maximum age of bocaccio was determined to be at least 40 and perhaps more than 50 years. Bocaccio are live bearers. Parturition occurs from October through July peaking January-February off California. Little is known about ecological relationships between bocaccio and other organisms.

Management measures for 2007 and 2008: Bocaccio have historically been taken by commercial trawl and fixed gear vessels and in the recreational fisheries. Adult bocaccio are often caught with chilipepper rockfish and have been observed schooling with speckled, vermilion, widow, and yellowtail rockfish. South of 40°10′ N. lat. the bottom trawl, limited entry fixed gear, and open access fishing opportunities in the depths where bocaccio are most commonly encountered have been reduced though the use of RCAs. To accommodate incidental catch of shelf species, very small limits are allowed to be retained with large footrope and midwater trawl gear, but bocaccio is prohibited with small footrope trawl gear.

Chilipepper rockfish limits for limited entry large footrope and mid-water trawl gear are being established for the area south of 40°10′ N. lat. and may be reduced inseason if incidental catch of bocaccio is greater than pre-season projections. The Chilipepper rockfish limits are conservative and not expected to result in the bocaccio OY being exceeded.

Ridgeback prawn trawl vessels fishing in waters off the State of California will continue to be required to have and use fin fish excluder devices that are intended to reduce the catch of overfished species including bocaccio.

Bocaccio are vulnerable to commercial non-trawl gears and to recreational fishing gear. To accommodate incidental catch of bocaccio in commercial fixed gear fisheries, very small limits are allowed to be retained. California recreational fisheries will constrain incidental bocaccio catch with recreational fishery bag limits.

Cowcod

Date declared overfished: January 4, 2000

Areas affected: Point Conception to the U.S.- Mexico boundary.

Status of stock: between 14 and 21 percent of unfished biomass in 2005

B0: 3,045 mt

BMSY: 1,218 mt

TMIN: 2035

TF=0: 2039

TMAX: 2074

Target (median) year to rebuild: 2039

SPR harvest rate: 90 percent

Harvest control rule: F=0.004

ABC: 17 mt south of 36° N. lat. and 19 mt between of 36 N. lat. and 40° 30′ N. lat. in both 2007 and 2008.

OY: 4 mt in 2007 and 2008

Biology of the stock: Cowcod are found at 11-200 fm (75 366 m) depths. Cowcod range from central Oregon to central Baja California and Guadalupe Island. However, they are rare off Oregon and Northern California. It has long been argued that smaller cowcod are found at the shallow end of the depth range. Recent submersible work, however, indicates that cowcod size distribution may be more associated with sea floor structure than depth.

As with other species of Sebastes, fertilization is internal and females give birth to first-feeding stage planktonic larvae during the winter. Peak abundance of cowcod larvae is January through April, with some larvae present from November through August. In Monterey Bay, juveniles recruit to fine sand and clay sediments at depths of 22-56 fm (40 100 m) during the months of March September. Adults are found at depths of 50-280 fm (90 500 m) usually on high relief rocky bottom.

Management measures in 2007 and 2008: All directed cowcod fishing opportunities have been eliminated since 2001. Retention of cowcod will continue to be prohibited for all commercial and recreational fisheries. To prevent incidental cowcod harvest, two Cowcod Conservation Areas (CCAs) (the Eastern CCA and the Western CCA) in the Southern California Bight were delineated to encompass key cowcod habitat areas and known areas of high catches. The CCAs were codified into regulation on November 4, 2003 (68 FR 62374). Fishing for groundfish is prohibited within the CCAs, except that minor nearshore rockfish, California scorpionfish, cabezon, lingcod, and greenling may be taken from waters where the bottom depth is less than 20 fm (36.9 m). Recent catches have been <1 mt, and indicate that management has been effective at reducing landings unless there has been significant unreported fishing mortality.

The boundaries of the Western CCA for limited entry fixed gear and open access non-trawl fisheries are proposed to be modified by this action. The current western CCA would be segmented into several smaller areas and fishing in waters greater than 175 fm (323 m) in depth would be allowed. Adult cowcod are believed to be less abundant in depths greater than 175 fm (323 m).

Widow Rockfish

Date declared overfished: January 11, 2001

Areas affected: Coastwide

Status of stock: 31.1 percent of its unfished biomass in 2004

B0: 49,678 million eggs

BMSY: 19,871 million eggs

TMIN: 2013

TF=0: 2013

TMAX: 2033

Target (median) year to rebuild: 2015

SPR harvest rate: 95 percent

Harvest control rule: F=0.008

ABC: 5,334 mt in 2007, 5,144 mt in 2008

OY: 368 in 2007 and 2008

Biology of the stock: Occur from near Kodiak Island, Alaska to Bahia de Todos Santos, Baja California. They are most abundant off northern Oregon and southern Washington and are one of the most abundant West Coast rockfish. Young of the year recruit to shallow nearshore waters after spending up to 5 months as pelagic larvae and juveniles in offshore waters. Adults range from bottom depths of 13 fm to 300 fm (24 m to 549 m). Most adults occur near the shelf break at bottom depths between 77 fm to 115 fm (140 m to 210 m). Adults are semi-pelagic and their behavior is dynamic.

Large concentrations of widow rockfish form at night and disperse at dawn, an atypical pattern for rockfish. Widow rockfish tend to be more easily caught in higher abundance during El Nino (anomalously warm and dry) years. Maximum age of widow rockfish is 59 years. Size and age of maturity varies with locality. Females attain a larger size compared to males and fish from the northern part of the range tend to be larger at age compared to those in the south. Widow rockfish are live bearers and most larvae are released January through March. Little is known about ecological relationships between widow rockfish and other organisms.

Management measures in 2007 and 2008: Historically, widow rockfish were caught with yellowtail rockfish in waters off Washington, while California and Oregon fishers often made large pure catches of widow rockfish from mid-water schools. Current commercial limits for widow rockfish are intended to accommodate incidental catch and do not provide an incentive for directed fishing. Therefore, the midwater trawl fisheries for yellowtail rockfish, a co-occurring species with widow rockfish, are also being constrained.

Because bottom trawl opportunities for more constraining shelf rockfish species continue to be extremely limited, RCA management measures to restrict fishing on the shelf is expected to be beneficial to the recovery of widow rockfish. Non-trawl fisheries have little incidental catch of widow rockfish.

Incidental catch of widow rockfish will continue to be allowed during the primary season for whiting, but will be constrained by bycatch limits that require closure of the commercial fisheries when reached. For 2007 and 2008 the widow rockfish bycatch limit is 200 mt. Final 2007 and 2008 Whiting ABC and OY will be adopted at the Council's March meeting and the bycatch limits may be reconsidered at that time and adjusted inseason.

Yelloweye Rockfish

Date declared overfished: January 11, 2002

Areas affected: Coastwide

Status of stock: 17.7 percent of its unfished biomass in 2006

B0: 3,322 mt

BMSY: 1,328 mt

TMIN: 2046

TF=0: 2048

TMAX: 2096

Target (median) year to rebuild: 2084

SPR rate: 55.4 percent in 2007 and 60.8 percent in 2008

Harvest control rule: 0.015 in 2007 and 0.013 in 2008

Biology of the stock: Yelloweye rockfish range from Umnak Island, Aleutian Islands to Ensenada, northern Baja California. They are most abundant from southeastern Alaska to central California. Yelloweye rockfish can be characterized as relatively low in abundance, extremely long-lived (aged up to 120 years), late maturing, and slow growing. Juveniles have been found at depths greater than 8 fm (15 m) in areas of high bottom relief. Adults range to depths of 300 fm (549 m). Most adults are caught off the middle and lower shelf at depths between 50 fm and 98 fm (91 m and 180 m). Adult yelloweye rockfish tend to be solitary and are usually associated with areas of high relief with refuges such as caves and crevices, but also occur on mud adjacent to rock structures. They are usually found on or near the bottom.

The affinity for hard bottom suggests that yelloweye rockfish may form stable local populations that, when recognized, could be treated as independent stocks. Evaluation of stock boundaries is reliant upon life history traits associated with a population or sub-population. Data for delineation of stock boundaries for yelloweye rockfish off the West Coast are limited. Maximum age of yelloweye rockfish is 115 years. Parturition occurs from March through September and peak May-June. Yelloweye are carnivorous feeding primarily on other rockfishes, herring, sand lance, crab and shrimp.Little is known about the ecological relationships between yelloweye rockfish and other organisms. Researchers have observed adult yelloweye rockfish associated with bocaccio, cowcod, greenspotted, and tiger rockfish.

Management measures in 2007 and 2008: Yelloweye rockfish inhabit areas typically inaccessible to trawl gear. In the coastal trawl fishery, incidental catch occurs during the harvest of other target fisheries operating at the fringes of yelloweye rockfish habitat. Yelloweye rockfish is particularly vulnerable to hook-and-line gear. Since the 1970′s, yelloweye rockfish has been subjected to a periodic target fishery for both commercial hook-and-line and sport fisheries. Current yelloweye rockfish harvest is incidental and occurs in tribal and non-tribal hook and line fisheries, and in recreational fisheries.

North of 40°10′ N. lat., Yelloweye Rockfish Conservation areas (YRCAs) will continue to be used to reduce yelloweye rockfish catch in the commercial fixed gear, open access, and recreational fisheries. Off Washington, recreational fishing for groundfish and halibut will continue to be prohibited inside the YRCAs and limited entry fixed gear and open access fishing in the “C” shaped YRCA off Washington will continue to be designated as an area to avoid. New YRCAs off the coast of Washington are being defined in Federal regulation at § 660.390. The new North Coast Commercial YRCA would restrict commercial limited entry and open access, the new Salmon Troll YRCA would restrict salmon troll fishing, and a new recreational YRCA off the southern coast of Washington would prohibit all recreational fishing for groundfish and halibut. A new recreational YRCA is also being defined for Stonewall banks off Oregon.

Overfishing

The Magnuson-Stevens Act defines “overfishing” as “a rate or level of fishing mortality that jeopardizes the capacity of a fishery to produce the maximum sustainable yield on a continuing basis.” Under the FMP, ABCs for all species are set at the FMSY level, the level that, for a particular year, is intended to produce maximum sustainable yield for that species on a continuing basis. None of the 2007-2008 ABCs is set higher than FMSY or its proxy, none of the OYs is set higher than the corresponding ABCs, and the management measures in this proposed rule are designed to keep harvest levels within specified OYs.

When evaluating whether overfishing has occurred for any species under the FMP, NMFS compares that species' estimated total catch (landed catch + discard) in a particular year to its ABC for that year. Overfishing is difficult to detect inseason for many groundfish, particularly for minor rockfish species, because most species are not individually identified on landing. Species compositions, based on proportions encountered in samples of landings and extrapolated observer data, are applied during the year. However, final results are not available until after the end of the year.

In the preamble to the proposed rule for the 2005-2006 groundfish specifications and management measures, NMFS discussed overfishing that had occurred in 2003. NMFS has completed its analysis of 2004 groundfish total catch, but will not be able to complete its analysis of 2005 groundfish total catch until after observer program data become available in autumn 2006. Therefore, this proposed rule discusses both overfishing estimated to have occurred in 2004 and preliminary indicators of whether overfishing occurred on any species in 2005. When new data are available, NMFS updates estimates of whether overfishing has occurred as part of the agency's report to Congress on the “Status of U.S. Fisheries” (See http://www.nmfs.noaa.gov/sfa/statusoffisheries/SOSmain.htm#congress05.)

NMFS estimates that overfishing occurred on darkblotched rockfish during the 2004 fishing season, since the total catch of darkblotched rockfish exceeded its ABC of 240 mt by 1.6 mt. In 2004, the darkblotched rockfish OY was also 240 mt. For canary rockfish, NMFS estimates that while the 2004 total catch of canary rockfish of 58 mt was below its ABC of 243 mt, that level of catch exceeded the OY of 47.3 mt. While the canary rockfish OY was exceeded, overfishing did not occur because total catch was below the canary rockfish ABC. For all remaining groundfish species or species groups, NMFS estimates that total catch was below both ABCs and OYs. Both canary and darkblotched rockfish are overfished. NMFS has taken action to prevent the fisheries from exceeding the ABCs and OYs for these species in 2006 and does not expect that harvest exceedances in 2004 will jeopardize the rebuilding progress for either species.

Darkblotched rockfish are taken almost exclusively in the limited entry trawl continental slope fishery. The 2004 exceedance of the darkblotched rockfish ABC/OY is so slight that it is difficult to assess what particular action might have allowed overfishing to occur. As discussed earlier, darkblotched rockfish are rebuilding at a rapid rate and are expected to be fully rebuilt by 2011. As the darkblotched rockfish population nears the BMSY level, it becomes increasingly more difficult to craft management measures that constrain the fisheries to appropriately avoid darkblotched rockfish. Data from the 2006 trawl fisheries are showing higher darkblotched rockfish encounter rates than NMFS had estimated from prior years' observer data. At the Council's recommendation, NMFS took action on July 1, 2006 to constrain the fisheries to stay within the 2006 darkblotched rockfish OY (71 FR 37839, July 3, 2006.) Proposed management measures for 2007-2008 are intended to keep the fisheries within the darkblotched OYs for those years, but NMFS anticipates again evaluating the fisheries inseason to determine whether even more constraining measures are needed to minimize darkblotched rockfish bycatch through the end of its rebuilding period.

Canary rockfish are taken in all fisheries coastwide, making management to prevent incidental canary catch one of the more challenging requirements of groundfish management. As mentioned above, the estimated 2004 canary rockfish total catch is 10.7 mt above its 2004 OY. Of the catch from the post-season catch estimate that was apparently not anticipated pre-season 7.3 mt of the 10.7 mt exceedance was taken in research and exempted fishing permit (EFP) fisheries. Portions of the remaining 3.4 mt exceedance, in amounts of less than 1 mt, were taken in most of the coastwide fishing sectors. The Oregon recreational fishery was the exception to these exceedances, since it is estimated to have finished 2004 with a 3.9-mt catch, 2 mt below that anticipated for that fishery at the start of 2004 (See EIS for 2004 groundfish harvest specifications and management measures.)

In its EIS on the 2005-2006 groundfish specifications and management measures, the Council more closely examined anticipated research catch in those years and adjusted overfished species research set asides appropriately. The 2004 arrowtooth trawl EFP took 2.5 mt of the unanticipated EFP canary rockfish catch; that EFP was not renewed for 2005 or 2006. While these measures were appropriately precautionary, they could not fully address the question of how to facilitate the collection of best available scientific data while minimizing overfished species mortality in research activities.

NMFS must support and conduct scientific activity on canary and other rockfish, and it would be unrealistic to expect this research to be entirely non-extractive. Important data on rockfish habitat and behavior are being collected via non-extractive methods, such as underwater remotely-operated-vehicles. However, methods like these are expensive and site-specific, gathering a great deal of data specific to small sites. The collection of fisheries independent data for coastwide stock assessments, particularly for broadly distributed schooling species like canary rockfish, requires extractive scientific fishing to occur over as much of the range of managed species as possible. If NMFS were to operate its continental shelf/slope survey with the intent of avoiding overfished rockfish, the data from that survey would lose its scientific value. The Council's preferred alternative for 2007-2008 anticipates 3 mt of canary rockfish being taken in scientific research activities each year. Consistent with Council policy and Federal regulations at 50 CFR 600.310 (f)(4)(iii), that 3 mt of anticipated research catch is deducted from the canary rockfish OY. Research catch levels are monitored inseason. Should research take of canary rockfish in either year be predicted, based on information received inseason, to exceed 3 mt, commercial and recreational fisheries will be constrained to ensure that the overall canary rockfish take remains below the OY.

Preliminary data from the 2005 fisheries show that the catch of petrale sole exceeded its 2005 ABC. This is the only species for which it is now evident that overfishing occurred in 2005. NMFS will not have complete observer data on the 2005 fisheries until autumn 2006, at which time NMFS will be better able to analyze total groundfish catch to determine whether overfishing occurred on any other species. Petrale sole is almost exclusively taken in the groundfish trawl fishery. The Council addressed higher than expected 2005 petrale sole catch levels at its September and November 2005 meetings. Data available at the September Council meeting indicated that the fisheries were approaching the petrale sole ABC/OY of 2,762 mt, which led the Council to recommend and NMFS to implement a closure of the winter petrale sole fisheries (See 70 FR 50866, October 5, 2005). Data available at the November Council meeting indicated that the petrale sole ABC/OY had been exceeded and that further action was needed to minimize potential incidental petrale sole mortality through the end of the year. Thus, the Council recommended and NMFS implemented management measures to further constrain the November-December continental slope fisheries to constrain petrale sole bycatch (70 FR 72385, December 5, 2005.)

2007-2008 Fishery Management Measures

As discussed earlier in this document, groundfish fishery management measures for 2007-2008 are intended to facilitate the rebuilding of overfished species as quickly as possible, taking into account the status and biology of the stocks and the needs of fishing communities. Within the constraints of protecting overfished species, the Council's management measure recommendations are intended to allow fishery participants as much access to healthy stocks as possible. In 2007 and beyond, fishing communities will have to forego much of the available harvestable surplus of healthy groundfish stocks that co-occur with overfished species so that overfished species may be rebuilt as quickly as possible. Management measures intended to address the rebuilding needs of specific overfished species are discussed earlier in this document, in the species-specific sections of “OY Policies and Rebuilding Parameters for Overfished Species.”

The types of management measures in this proposed rule do not vary significantly from those used in recent years to reduce the incidental catch of overfished species while allowing some harvest of co-occurring healthy stocks. Management measures are intended allow overfished species to rebuild by reducing their catch in times and areas where they most frequently occur, to minimize bycatch with gear and fishing area restrictions, and to distribute groundfish harvest throughout the year to maintain groundfish fishing opportunities and markets. The fisheries management regime tends to be most constrained by protective measures for canary rockfish coastwide, yelloweye rockfish north of 40° 10′ N. lat., and bocaccio south of 40° 10′ N. lat. Trawl fisheries are additionally constrained by measures to prevent bycatch of POP, darkblotched, and widow rockfish.

Groundfish management measures that will continue to be used in 2007-2008 include: trip and bag limits, size limits, differential trip limits by gear type, season openings and closures, large-scale area closures such as the RCAs, gear restrictions, and bycatch limits. In addition to the fishery-specific management measures addressed below, the Council recommended that NMFS work with the states to include in this proposed rule any revisions to RCA boundary lines needed to ensure that: the lines better approximate the depth contours they are intended to represent; open fishing areas to allow petrale sole targeting are as consistent as possible between petrale-modified depth contour lines; and the lines that may intersect with EFH conservation area polygons are as compatible as possible with the boundaries of those areas. In addition, the Council recommended extending the 180-fm (329-m) line south of 42° N. lat., and recommended extending the 250-fm (458-m) line, including petrale areas, south of 38° N. lat., making both of these lines available coastwide. New RCA lines proposed via this action include: 10-fm (18-m) off Washington; 20-fm (37-m) off Washington and Oregon; 25-fm (46-m) off Washington and Oregon, which will replace the 27-fm (49-m) line; 180-fm (329-m) south of 42° N. lat., modified to allow fishing in petrale sole areas; 250-fm (458-m) lines around San Clemente Island, Santa Catalina Island, Lasuen Knoll, and San Diego Rise; 250-fm (458-m) line, including petrale areas, south of 38° N. lat., making both of these lines available coastwide. To implement this Council recommendation, this proposed rule would make changes to the RCA boundary line regulations at 50 CFR 660.390 through. 660.394.

The management measures proposed in this rule are only part of the overall management strategy for West Coast groundfish. On May 11, 2006, NMFS published a final rule to implement management measures to protect groundfish EFH under Amendment 19 to the FMP, including 51 new EFH conservation areas (71 FR 27408.) On June 27, 2006, NMFS published a proposed rule to implement bycatch mitigation measures in the groundfish fisheries under Amendment 18 to the FMP including, among other measures, the requirement that management take into account the co-occurrence ratios of overfished stocks with more abundant target stocks (71 FR 36506.) On September 7, 2006, NMFS approved Amendment 18; this proposed rule to implement Amendment 16-4 and the 2007-2008 groundfish specifications and management measures complies with the FMP as revised through Amendments 18 and 19. NMFS will continue to require vessels to carry and operate VMS units to monitor fishing locations, and to carry observers when requested by NMFS. NMFS and the states will again be conducting stock assessments over the next two years, which will inform the 2009-2010 specifications and management measures process and provide a gauge for rebuilding progress.

Federal regulations for the West Coast groundfish fishery are found in 50 CFR, subpart G, §§ 660.301 through 660.399. Definitions for terms used in groundfish regulations are at § 660.302. Prohibitions are at § 660.306. Amendment 16-4 would implement revised overfished species rebuilding parameters at § 660.365. Routine and automatic fishery management measures, as identified at § 660.370 and implemented in §§ 660.370 through 660.385 and in Tables 3-5 of subpart G, will continue to be available for revision through the inseason management process. Management measures specific to the black rockfish fisheries are found at § 660.371. Management measures for the nontrawl sablefish fisheries are found at § 660.372, although daily/weekly sablefish limits are found in Tables 4 and 5 (North) and Tables 4 and 5 (South) of subpart G. Management measures for the primary Pacific whiting season are found at § 660.373, although trip limits for vessels operating outside of the primary season are found in Tables 3 (North) and (South) of subpart G. Coordinates for all of the closed areas affecting the groundfish fisheries, including the EFH conservation areas, are found in §§ 660.390 through 660.399.

Limited Entry Trawl Fishery Management Measures

Although the types of management measures proposed for the limited entry trawl fishery in 2007-2008 are similar to those implemented for 2005-2006, the closed areas and landings limits are more restrictive than in the past biennium. More restrictive management measures are intended to respond to the need for more rapid rebuilding of overfished species, and harvest reductions resulting from new petrale sole and sablefish stock assessments. NMFS′s bycatch model for the limited entry trawl fishery does not differ significantly from that used in setting the 2005-2006 fishery management measures, except that new and more recent observer data has been incorporated into that model.

As in past years, trawl fisheries continue to be managed with differing RCAs and trip limits north and south of 40°10′ N. lat. North of 40°10′ N. lat., the shoreward boundary of the Trawl RCA is primarily based on the need to reduce canary rockfish bycatch, although its location is also expected to reduce incidental take of other, northern overfished shelf species such as widow and yelloweye rockfish. Most adult canary rockfish are caught off the middle and lower continental shelf at depths between 44-109 fm (80-200 m,) which means that vessels operating shoreward of the RCA are more likely to encounter canary rockfish than those operating seaward of the RCA. This proposed rule would implement a 75-fm (137-m) shoreward boundary line for the Trawl RCA throughout the year, except in the summer months of July-August. To reduce incidental take of canary rockfish shoreward of the RCA, vessels operating shoreward of the RCA in the area north of 40°10′ N. lat. are required to use selective flatfish trawl gear. The Council considered moving the shoreward boundary of the RCA even closer to the shore than 75-fm (137-m), but determined that moving trawl operations farther inshore could disturb sensitive Dungeness crab habitat and could result in increased salmon bycatch in the trawl fishery.

The seaward boundary proposed for the trawl RCA north of 40°10′ N. lat. is primarily designed to reduce bycatch of northern slope overfished species, POP and darkblotched rockfish, both of which are nearing their rebuilt status. Harvestable concentrations of darkblotched rockfish is sometimes found as far south as 38° N. lat., which necessitates a more conservative seaward Trawl RCA boundary line for the area between 40°10′ - 38° N. lat. than for south of 38° N. lat. North of 40°10′ N. lat., the seaward boundary of the Trawl RCA is at a line that approximates 250-fm (458-m) in January-April and November-December (modified for petrale sole fishing in winter months) and at a line that approximates 200 fm (366 m) in May-October.

South of 40°10′ N. lat., the trawl RCA boundaries are most affected by the need to reduce incidental catch of bocaccio and canary rockfish, both of which are shelf species. The focus on shelf protection in the south means that the southern trawl RCA is narrower than that in the north, which covers both shelf and slope habitat. South of 40°10′ N. lat., the trawl RCA is primarily proposed to be between 100 fm (183 m) and 150 fm (274m,) with an extension of the seaward trawl RCA boundary to a petrale-modified 200-fm (368.6-m) line in winter months (January-February and November-December) between 38° and 40°10′ N. lat. South of 34°27′ N. lat., the trawl RCA around islands is proposed to be between the shoreline and 150 fm (274 m).

In addition to closures between RCA boundary lines, trawl fishery participants are also subject to several groundfish closed areas other than those intended for EFH conservation areas. The following closed areas apply to trawl vessels in addition to RCAs and EFH conservation areas (§ 660.390): a Cordell Banks Closed Area; closed areas around the Farallon Islands off San Francisco and San Mateo Counties, CA; and the Eastern and Western Cowcod Conservation Areas (CCAs) in the Southern California Bight. None of the boundaries of these closed areas are proposed to be changed for trawl fishery participants in 2007 and beyond.

As discussed earlier in this document, NMFS initial estimates indicate that petrale sole was subject to overfishing in 2005. In 2006, the Council recommended more conserviative measures and more responsive inseason management mechanisms to constrain petrale sole catch below its 2006 OY. Petrale sole limits proposed via this action for 2007-2008 are more conservative than those initially implemented for 2005-2006. This more conservative approach reflects both the lower ABC and OY resulting from the new petrale sole stock assessment and the Council′s desire to constrain the fishery at the beginning of the year to prevent petrale sole overfishing and to allow a fall fishery to occur.

As discussed earlier in this document, the new 2005 sablefish stock assessment resulted in lower sablefish ABCs and OYs for 2007 and 2008. This lower harvestable surplus of sablefish has resulted in lower sablefish trip limits for most fisheries.

As mentioned above, the Council recommended continuing to require the use of selective flatfish trawl gear in waters shoreward of the trawl RCA north of 40°10′ N. lat. California Department of Fish and Game (CDFG) had wished to explore the effectiveness of selective flatfish trawl gear at rockfish exclusion south of 40°10′ N. lat., but did not get appropriate EFP participation to determine its usefulness in the southern flatfish trawl fisheries. When ODFW had conducted experiments on selective flatfish trawl gear use via EFP, that agency had multiple EFP participants targeting a standard mix of nearshore flatfish and using trawl nets that were newly configured in shape, yet similar in mesh size and mesh material to nets used historically in that fishery. (See the proposed rule to implement the 2005-2006 groundfish specifications and management measures for more information on implementing the selective flatfish trawl gear north of 40°10′ N. lat., (69 FR 77012, December 23, 2004.

When CDFG called for participants in an EFP to study selective flatfish trawl gear use south of 40°10′ N. lat., the only consistent respondent was a vessel owner who has historically fished with Scottish (demersal) seine gear. Similar to bottom trawl gear, demersal seine gear is a type of towed demersal net gear that uses lighter-weight mesh and a different fishing technique from that used by the majority of participants in the coastwide trawl fleet. This particular EFP participant has for many years used his limited entry trawl permit to fish with demersal seine gear for Pacific sanddabs and other flatfish off north-central California. His gear complied with the Federal definition for limited entry trawl gear at the time of the limited entry permit program implementation, and continues to comply with the current definition. Thus, although his gear is different from that used by other trawlers, his vessel is appropriately licensed to fish in the limited entry fishery and his gear is appropriately designed to fit within the constraints of the gear requirements for that fishery. The end result of this vessel's participation in the EFP was that CDFG had results from a 3-year EFP showing that demersal seine gear has lower bycatch rates for non-target species than conventional trawl gear.

Since the results from CDFG's EFP spoke to the effectiveness of demersal seine gear used off north-central California, and not to the effectiveness of selective flatfish trawl gear used south of 40°10′ N. lat., the Council did not recommend requiring only selective flatfish gear be used shoreward of the RCA south of 40°10′ N. lat. However, the Council did make regulatory recommendations to recognize the effectiveness of demersal seine gear at maintaining low bycatch rates for non-target (overfished and otherwise) species. This proposed rule would exempt vessels using demersal seine gear between 38° and 36° N. lat. from trawl RCA closures shoreward of 100 fm (183 m). In other words, if the southern trawl RCA's shoreward boundary were extended shoreward of 100 fm (183 m), limited entry permitted vessels using demersal seine gear would continue to be able to fish out to the boundary line approximating the 100-fm (183-m) depth contour. This proposed rule also proposes a southern trawl RCA shoreward boundary of 100 fm (183 m) throughout 2007-2008. Therefore, the demersal seine gear exemption would only be used if that shoreward boundary line were moved farther inshore through inseason action in 2007 or 2008.

On March 1, 2006, NMFS implemented a final rule that, among other regulations, set trip limits for spiny dogfish and Pacific cod (71 FR 8489, February 17, 2006.) Prior to this rulemaking, neither of these species had been managed with species-specific trip limits as routine management measures. Trip limits are needed for these species both to prevent overharvest of spiny dogfish and Pacific cod, and to constrain targeting on these species to prevent overharvest of co-occurring overfished species. For 2007-2008, this proposed rule would begin the management cycle with trip limits for spiny dogfish and Pacific cod that reflect the availability of these species to the different gear sectors at different times of the year.

Per the Council's recommendations, NMFS implemented overfished species bycatch limits for the non-tribal whiting fishery in 2005-2006. For 2007-2008, the Council recommended again setting bycatch limits for canary, darkblotched and widow rockfish taken incidentally in the non-tribal whiting fishery. This proposed rule would implement the following annual bycatch limits for 2007-2008: canary rockfish, 4.7 mt; darkblotched rockfish, 25 mt; widow rockfish, 200 mt. The Council expects to review these limits in March 2007 and March 2008, when it sets final whiting harvest levels for each of those years, and may make recommendations to revise those limits then. As in 2005-2006, NMFS anticipates setting the 2007 and 2008 Pacific whiting OYs such that the whiting harvest levels continue to be constrained by the availability of overfished species.

In 2005, NMFS implemented an Ocean Salmon Conservation Zone (OSCZ) during the primary whiting season, to apply to all sectors of the commercial whiting fishery (70 FR 51682, August 31, 2005.) In that year, incidental rates catch of Chinook salmon were relatively high, and the OSCZ moved whiting fishing offshore of a boundary line approximating the 100-fm (183-m) depth contour. Incidental catch rates of Chinook salmon tend to be higher in the nearshore area. Because the 2005 incidental catch of Chinook salmon had exceeded an 11,000-fish threshold, NMFS reinitiated Endangered Species Act (ESA) section 7 consultation on the groundfish fishery in winter 2005-2006. The supplemental biological opinion concluded that, although the 2005 catch of Chinook had been high, continued operation of the groundfish fisheries under the FMP would not jeopardize the recovery of salmon stocks listed as threatened or endangered under the ESA. The supplemental biological opinion also recommended that, as a longer-term management measure, the OSCZ be implemented via Federal regulation as a management measure available for inseason implementation, as needed to constrain salmon bycatch in the whiting fishery. For the 2006 whiting fishery, NMFS included the potential inseason use of an OSCZ in the EFP for participants in the shore-based whiting sector, but did not have a regulatory mechanism for applying the OSCZ to vessels participating in the catcher/processor or mothership sectors. Incidental catch of Chinook salmon has been low in the 2006 whiting fishery, 2,754 fish are estimated to have been taken as of August 7, 2006. As part of the 2007-2008 groundfish management measures, the Council considered implementing the OSCZ as a potential inseason management tool for the whiting fishery. The OSCZ is evaluated in the DEIS, and the GMT recommended that this measure be adopted as part of the Council's management measures recommendations to NMFS. However, among the many details the Council finalized with the Amendment 16-4 and 2007-2008 groundfish management package, NMFS and the Council neglected to ensure that the OSCZ was part of the Council's final management recommendations. NMFS and Council staff discovered this oversight following the June 2006 Council meeting. Because the OSCZ has been evaluated in the DEIS and, until the last moment of the Council's final decision had been part of the Council's developing management package, NMFS is including the OSCZ as part of this proposed action. The Council plans to review this issue at its September 11-15, 2006 meeting in Foster City, California, to ensure that this management tool is specifically addressed in the Council forum. In the preamble to the final rule for this action, NMFS will review the Council's September 2006 recommendation on the OSCZ and finalize the appropriate action based on the biological opinion, the Council's deliberations, and any comments received from the public.

The Council's GMT reviewed current groundfish trawl regulations as part of its effort to draft recommendations to the Council on the 2007-2008 fishery. In its review, the GMT found that trawl chafing gear regulations that had formerly been in place for midwater trawl gear had been inadvertently removed from Federal gear regulations. Based on the GMT's review, the Council recommended that NMFS revise gear regulations to ensure that chafing gear requirements are reinstated for midwater trawl gear and maintained for small footrope trawl gear. Groundfish trawl nets are regulated to minimum mesh sizes to ensure that juvenile fish may escape through the trawl mesh. Depending on how chafing gear is configured on a trawl net, it can have the effect of reducing the mesh size and result in increased small fish bycatch.

Management measures for the limited entry trawl fishery, including gear requirements, are found at § 660.381, with management measures specific to the primary Pacific whiting season found at § 660.373. Trawl trip limits are found in Table 3 (North) and Table 3 (South) of Subpart G of Part 660.

Limited Entry Fixed Gear and Open Access Non-trawl Fishery Management Measures

Management measures for the limited entry fixed gear and open access non-trawl fisheries tend to be similar because the majority of participants in both fisheries use hook-and-line gear. Like the trawl fishery, the non-trawl fisheries will be most constrained coastwide by measures to reduce incidental catch of canary rockfish. North of 40°10′ N. lat., non-trawl fisheries will be even more constrained by measures to reduce incidental catch of yelloweye rockfish. Yelloweye is particularly vulnerable to hook-and-line gear. South of 40°10′ N. lat., management measures to reduce incidental catch of bocaccio augment those constraining canary rockfish catch. Similar to the trawl fishery, non-trawl management measures account for the lower available sablefish, as reflected in the lower 2007-2008 primary season tier limits. Petrale sole is rarely taken in non-trawl fisheries, thus the more conservative petrale sole harvest regime that this proposed rule applies to the trawl fisheries does not affect the non-trawl fisheries. NMFS′s bycatch model for the non-trawl fisheries does not differ significantly from that used in setting the 2005-2006 fishery management measures, except that new and more recent observer data has been incorporated into that model.

The non-trawl RCA boundaries proposed for 2007-2008 are the same as those implemented for the non-trawl fisheries in 2005-2006, except for the shoreward boundary between 40°10′ and 34°27′ N. lat. Between 46°16′ N. lat. and the U.S. border with Canada, the non-trawl RCA is proposed to be between the shoreline and a boundary line approximating the 100-fm (183-m) depth contour. Between 40°10′ N. lat. and 46°16′ N. lat., the non-trawl RCA is proposed to be between boundary lines approximating the 30-fm (55-m) and 100-fm (183-m) depth contours. Between 34°27′ N. lat. and 40°10′ N. lat., the non-trawl RCA is proposed to be between boundary lines approximating the 30-fm (55-m) and 150-fm (274-m) depth contours. Between 34°27′ N. lat. and the U.S. border with Mexico, including waters around islands, the non-trawl RCA is proposed to be between boundary lines approximating the 60-fm (110-m) and 150-fm (274-m) depth contours.

Like trawl fishery participants, non-trawl vessels are also subject to several groundfish closed areas other than those within the RCA boundary lines and those intended for EFH conservation. The following closed areas apply to non-trawl vessels and have not been proposed for modification in 2007 and beyond (§ 660.390): a Cordell Banks Closed Area; closed areas around the Farallon Islands off San Francisco and San Mateo Counties, CA; the Eastern CCA.

For 2007 and beyond, this proposed rule would add two new commercial YRCAs north of 40°10′ N. lat. to Federal regulations at § 660.390. Both of the new commercial YRCAs are off the northern Washington coast. The new North Coast Commercial YRCA would apply to the commercial limited entry and open access nontrawl groundfish fisheries. The new Salmon Troll YRCA would apply just to salmon troll fishery participants. These areas are intended to reduce incidental take of yelloweye rockfish in areas where yelloweye are known to congregate and where they may be vulnerable to hook-and-line gear. The Salmon Troll YRCA is found in groundfish regulation at § 660.383 and § 660.390, and in the Pacific Coast salmon regulations at § 660.405.

For 2007 and beyond, this proposed rule would allow fishing in some areas within the Western CCA by limited entry fixed gear and open access nontrawl vessels carrying and using VMS units under Federal groundfish regulations at § 660.312 with a position reporting rate set at 15 minute intervals. This revision would create 5 discrete new closed areas within the current Western CCA, referred to as the 175-fm (320-m) CCAs, leaving much of the current Western CCA open to fishing in waters greater than 175 fm (320 m) in depth. The Council′s intent with this recommendation was to allow southern California fishers' access to more abundant slope rockfish species found within waters currently closed to fishing. Cowcod retention has been prohibited since 2001, but prior to that prohibition, cowcod had historically been taken in depths from 11-200 fm (75-366 m).

The nontrawl fisheries have little to no incidental catch of POP, darkblotched, or widow rockfish. The effects of these fisheries on bocaccio, canary, cowcod, and yelloweye rockfish are constrained as much as possible by the non-trawl RCA, described above, and by the YRCAs and CCAs. Trip limits proposed for the nontrawl fisheries in 2007-2008 are similar to those that applied to these fisheries in 2005-2006. The open access sablefish limit is more conservative than the limited entry limit, recognizing that the open access fleet can expand to an unknown number of participants. Tier limits for the limited entry sablefish-endorsed fleet are lower than in 2005-2006, reflecting the lower sablefish harvest specifications: Tier 1, 48,500 lb (21,999 kg); Tier 2, 22,000 lb (9,979 kg); Tier 3, 12,500 lb (5,670 kg). Similar to the limited entry trawl fishery, landings of spiny dogfish and Pacific cod taken in the non-trawl fisheries will be subject to trip limits throughout the 2007-2008 management cycle. This proposed rule would also lower the lingcod size limit for non-trawl commercial fisheries north of 42° N. lat. (Oregon/California border) from 24 inches (61 cm) to 22 inches (56 cm). In addition, trip limits for minor nearshore and black rockfish south of 40°10′ N. lat. were increased above 2005-2006 levels. These species were harvested well below their harvest targets in 2005-2006 and these fisheries are constrained in their effects on overfished species by prohibitions against fishing within the non-trawl RCA. Therefore, the Council recommended maintaining the boundaries of the non-trawl RCA, while increasing trip limits for healthier stocks taken in the non-trawl fisheries. The Council also recommended opening fishing for lingcod in the month of November, in recognition of lingcod's new status as a healthy and rebuilt stock.

Management measures for the limited entry fixed gear fishery, including gear requirements, are found at § 660.382, with management measures specific to the primary sablefish season found at § 660.372. Limited entry fixed gear trip limits are found in Table 4 (North) and Table 4 (South) of Subpart G of part 660. Management measures for the open access fishery, including gear requirements, are found at § 660.383. Open access trip limits are found in Table 5 (North) and Table 5 (South) of subpart G of Part 660.

Open Access Non-Groundfish Trawl Gear Fisheries Management Measures

Open access non-groundfish trawl gear (used to harvest ridgeback prawns, California halibut, sea cucumbers, and pink shrimp) is managed with “per trip” limits, cumulative trip limits, and area closures. Trip limits are similar to those in 2005-2006. The species-specific open access limits apply but vessels may not exceed overall groundfish limits. As in past years, the pink shrimp fishery is subject to species-specific limits that are different from other open access limits for lingcod and sablefish. Also as in past years, thornyheads may not be taken or retained in the open access fisheries north of 34°27′ N. lat.

Trawling with open access non-groundfish gear for pink shrimp will be permitted within the trawl RCA; however, the states require pink shrimp trawlers to use finfish excluder devices to reduce their groundfish bycatch, particularly to prevent bycatch mortality for canary and other rockfishes. Trawling for ridgeback prawns, California halibut, and sea cucumber is subject to the same RCA area closures as the limited entry trawl fishery, except that ridgeback prawn trawling will be permitted out to a boundary line approximating the 100-fm (183- m) depth contour if and when the inshore boundary line of the trawl RCA is moved shallower than 100 fm (183 m). The Council revised this RCA restriction based on the GMT′s review of overfished species bycatch rates in the ridgeback prawn trawl fishery, which found overfished species bycatch to be low shoreward of 100 fm (183 m.) RCA restrictions off California are particularly intended to reduce bycatch and bycatch mortality for southern and coastwide overfished species such as bocaccio, cowcod, canary rockfish, and lingcod. The CCA boundaries are not proposed to be changed for open access non-groundfish trawl vessels. Management measures for the open access fisheries, including gear requirements, are found at § 660.383. Trip limits are found in Table 5 (North) and Table 5 (South) of subpart G of part 660.

Recreational Fisheries Management Measures

Recreational fisheries management measures are designed to constrain catch of overfished and nearshore species while also allowing favorable fishing seasons. Overfished species that tend to be vulnerable to recreational fisheries are bocaccio, cowcod, canary, and yelloweye rockfish. Because sport fisheries are more concentrated in nearshore waters, the 2007-2008 recreational fishery management measures are also intended to constrain catch of nearshore species such as black rockfish and cabezon. These protections are particularly important for fisheries off California, where the bulk of West Coast recreational fishing occurs. Washington, Oregon, and California each proposed, and the Council recommended, different combinations of seasons, bag limits, area closures, and size limits to best fit the requirements to rebuild overfished species found in their regions, and the needs and constraints of their particular recreational fisheries.

Off Washington, recreational fishing for groundfish and halibut will continue to be prohibited inside the North Coast Recreational YRCA, a C-shaped closed area off the northern Washington coast. The Council also adopted an additional WDFW-recommended YRCA for recreational fisheries off the southern coast of Washington, the South Coast Recreational YRCA, which would also be closed to all recreational fishing for groundfish and halibut. Coordinates for both of these YRCAs are defined at 50 CFR 660.390. The RCA for recreational fishing off Washington will be the same as in 2006; recreational fishing for groundfish will be prohibited offshore of the 30-fm (55-m) depth contour. The groundfish bag limit off Washington will remain the same as in 2005-2006: 15 aggregate bottomfish bag limit; 10 rockfish sub-limit with no retention of canary or yelloweye rockfish; 2 lingcod sub-limit, with the lingcod minimum size reduced from 24 inches (61.4 cm) to 22 inches (56 cm). The lingcod seasons in 2007 and 2008 will be similar to those in 2005-2006, beginning in mid-March and ending in mid-October, although the season north of 48°10′ N. lat. will not begin until mid-April. As in the commercial non-trawl fisheries, the lingcod size limit for the Washington recreational fishery is reduced from 24 inches (61 cm) to 22 inches (56 cm). Retention of yelloweye and canary rockfish is prohibited in the Washington recreational fishery.

Off Oregon, recreational fishing for groundfish will be depth-restricted April through September, when the fishery will be closed offshore of a boundary line approximating the 40-fm (73-m) depth contour. Recreational fisheries participation is heaviest during these months and this closure is intended to move the groundfish fisheries inshore of the continental shelf to reduce incidental catch of canary and yelloweye rockfish. The Council also adopted a new YRCA off Oregon at ODFW's recommendation, the Stonewall Bank YRCA. This is the same Stonewall Bank YRCA currently in place for the recreational Pacific halibut fishery off Oregon (71 FR 10850, March 3, 2006.) In addition, EFH Conservation Areas, listed at § 660.306, also apply to recreational fisheries using bottom contact gear off Oregon. The Oregon recreational fishery marine fish bag limit will be reduced from 10 to 8 fish in aggregate. As in waters off Washington, retention of yelloweye and canary rockfish continues to be prohibited. The lingcod bag limit will remain at 2 fish per day, and the size limit will decrease as off Washington from 24 inches (61 cm) to 22 inches (56 cm).

For 2007-2008, recreational fisheries off California will continue to be managed as four separate regions: the Oregon/California border to 40°10′ N. lat.; 40°10′ N. lat. to 37°11′ N. lat.; 37°11′ N. lat. to 34°27′ N. lat., and; 34°27′ N. lat. to the U.S./Mexico border. California updated its recreational fisheries catch model with data from the California Recreational Fisheries Survey (CRFS) to make recommendations to the Council for the 2007-2008 fisheries. Season and area closures differ between California regions to better prevent incidental catch of overfished species according to where those species occur and where fishing effort is strongest. The California-wide combined bag limit for the Rockfish-Cabezon-Greenling (RCG) complex would continue to be 10 fish per day. Bag limits are only available when seasons are open. RCG sub-bag limits will also remain the same, except that the sub-bag limit for kelp greenling increases from 1 fish to 2 fish. Fishing for lingcod will be closed in the winter months to prevent catch of lingcod during its spawning and nesting season. Unlike Oregon and Washington, the lingcod size limit will remain at 24 inches (61 cm) for sport fisheries off California.

Between the Oregon/California border (42° N. lat.) and 40°10′ N. lat., the recreational fishery will be open May-December (May-November for lingcod) in waters shallower than a boundary approximating the 30-fm (55-m) depth contour. Between 40°10′ N. lat. and 37°11′ N. lat., the recreational fishery will be open June-November, in waters shallower than a boundary approximating the 30-fm (55-m) depth contour. These northern California waters seasons and area closures are intended to reduce catch of canary rockfish, as well as to limit the catch of black rockfish and other nearshore rockfish species.

Between 37°11′ N. lat. and 34°27′ N. lat., the fishery will be open May-December (April-November for lingcod) in waters shallower than a boundary line approximating the 40-fm (73-m) depth contour. In this area, fishing for California scorpionfish will be open from January-February in waters shallower than a boundary line approximating the 40-fm (73-m) depth contour, and from March-December in waters shallower than a boundary line approximating the 60-fm (110-m) depth contour. South of 34°27′ N. lat. to the U.S. border with Mexico, the fishery will be open from March through December in waters shallower than a boundary line approximating the 60-fm (110-m) depth contour. These time and area closures are intended to reduce catch of bocaccio and of canary rockfish in the southern edge of its range. Cowcod catch in the area south of 34°27′ N. lat. continues to be constrained by the CCAs, which are closed throughout the year to recreational fishing for groundfish. This proposed rule does not propose to modify the fishing restrictions within the CCAs for the recreational fisheries. In addition, EFH Conservation Areas, listed at § 660.306, apply to recreational fisheries using bottom contact gear off California.

Management measures for recreational fisheries off all three West Coast states are found at § 660.384.

Washington Coastal Tribal Fisheries Management Measures

In 1994, the United States formally recognized that the four Washington coastal treaty Indian tribes (Makah, Quileute, Hoh, and Quinault) have treaty rights to fish for groundfish in the Pacific Ocean, and concluded that, in general terms, the quantification of those rights is 50 percent of the harvestable surplus of groundfish that pass through the tribes' usual and accustomed fishing areas (described at 50 CFR 660.324).

For those species with tribal allocations, the tribal allocation is subtracted from the species OY before limited entry and open access allocations are derived. The tribal fisheries for sablefish, black rockfish, and whiting are separate fisheries and are not governed by the limited entry or open access regulations or allocations. The tribes regulate these fisheries so as to not exceed their allocations.

The tribal harvest guideline for black rockfish is the same in 2007 and 2008 as it was in 2005 and 2006. Also similar to past years, the tribal sablefish allocation is 10 percent of the total catch OY north of 36° N. lat., less 1.9 percent for estimated discard mortality. For both 2007 and 2008, the tribal sablefish allocation is 572.3 mt, less 1.9 percent for discard mortality, or 561.4 mt.

From 1999 through 2006, the tribal whiting allocation has been based on a methodology originally proposed by the Makah Tribe in 1998. The methodology is an abundance-based sliding scale that determines the tribal allocation based on the overall U.S. OY, up to a maximum 17.5 percent tribal harvest ceiling at OY levels below 145,000 mt. The tribes have proposed using the same methodology in 2007 and 2008. NMFS has determined that this methodology is consistent with the Magnuson-Stevens Act, and uses the best available science to determine the appropriate allocation of whiting to the tribes. Therefore, the allocation will be calculated based on that methodology once the final whiting OY is determined. No other tribes have proposed to harvest whiting in 2007 or 2008.

The tribes do not have formal allocation for Pacific cod; however, the Council recommended adopting a tribal proposal for tribal Pacific cod harvest guidelines in 2007 and 2008. The tribes and the Council made this recommendation as part of the Council′s efforts to more closely manage Pacific cod and spiny dogfish in all of the commercial fisheries. In both 2007 and 2008, the tribes will be subject to an annual 400 mt Pacific cod harvest guideline. Spiny dogfish taken in tribal fisheries will be managed via trip limits, described below.

For some species, on which the tribes have a modest harvest, no specific allocation has been determined. Rather than try to reserve specific allocations for the tribes, NMFS is establishing trip limits recommended by the tribes and the Council to accommodate tribal fisheries. For lingcod, all tribal fisheries are restricted to 600-lb (272-kg) per day and 1,800-lb (816-kg) per week, except for in the treaty salmon troll fishery, which would be limited to 1,000-lb (454-kg) per day and 4,000-lb (1,814 kg) per week. Tribal fisheries will be managed to a 50 mt lingcod harvest guideline in 2007 and 2008, although tribal fisheries may take as much as 100 mt if they determine that they are able to fish in times and areas where additional lingcod harvest does not result in increased take of canary rockfish above the level the tribes have projected will be taken in 2007 and 2008.

For rockfish species, the 2007-2008 tribal hook-and-line and non-whiting trawl fisheries will operate under trip and cumulative limits, and will be required by tribal regulations to fully retain all overfished and marketable rockfish species. Tribal fisheries will operate under a 300-lb (136-kg) per trip limit each for canary rockfish, and the minor rockfish species groups (nearshore, shelf, and slope), and under a 100-lb (45-kg) per trip limit for yelloweye rockfish. Longspine and shortspine thornyheads will be restricted to the non-tribal limited entry trip limits for these species. Tribal fishing regulations, as recommended by the tribes and the Council and adopted by NMFS, are in Federal regulations at 50 CFR 660.385.

Federal and State Jurisdiction

The management measures herein, as well as Federal regulations at 50 CFR part 660, subpart G, govern groundfish fishing vessels of the United States in the U.S. EEZ from 3-200 nautical miles offshore of the coasts of Washington, Oregon, and California. The States of Washington, Oregon, and California retain jurisdiction in state waters from 0-3 nautical miles offshore. This is true even though boundaries of some fishing areas cross between Federal and state waters. Under their own legal authorities, the states generally conform their state regulations to the Federal management measures, so measures that apply to Federal and state waters are the same. This is not true in every case, however, and fishers are advised to consult both state and Federal regulations if they intend to fish in both state and Federal waters.

Groundfish stocks are distributed throughout Federal and State waters. Therefore, the Federal harvest limits (OYs) include fish taken in both Federal and State waters, as do vessel trip limits for individual groundfish species. Other Federal management measures related to federally-regulated groundfish fishing also apply to landings and other shoreside activities in Washington, Oregon and California.

Housekeeping Measures

NMFS is proposing to revise definitions in § 660.302 to either clarify those definitions or cross-reference to other Federal regulations, to update names of various NMFS offices, to arrange the definitions in a more logical order, and to improve the clarity and/or grammar of the definition language. Definitions for the following terms are proposed to be clarified, added, or updated via this rulemaking: Allocation; At-sea processing; BMSY; Catch, take, harvest; Commercial harvest guideline or commercial quota; Fishing; Fishing gear; Fishing vessel; Groundfish; Groundfish Conservation Area or GCA; Limited entry fishery; Limited entry permit; North-South management area; Observer Program Office; Office of Law Enforcement; Maximum Sustainable Yield or MSY; Operator; Processing or to process; Regional Administrator; Round weight; Scientific research activity; Secretary; Sell or sale; Shoreside processing; Trip, and; Vessel of the United States or U.S. vessel.

NMFS is also proposing to correct and update the prohibitions in § 660.306 as a housekeeping measure within this action. Changes to the prohibitions section other than those discussed earlier in the preamble to this proposed rule are intended to improve the grammar and comprehensibility of the regulatory language. Housekeeping changes to the prohibitions do not change the intent or effect of those prohibitions. In addition, any references to “shoreside” when referring to whiting sectors or to processing would be changed to “shore-based” for consistency throughout the regulations. Any references to the years 2005 or 2006 are removed. In the tribal management measures section, § 660.385, species names are added to the beginning of each paragraph for ease of use, if not already there. In sections § 660.381 through § 660.384, references to EFHCAs are added where appropriate.

Classification

At this time, NMFS has not determined whether Amendment 16-4 and the 2007-2008 groundfish harvest specifications and management measures, which this proposed rule would implement, is consistent with the national standards of the Magnuson-Stevens Act and other applicable laws. NMFS, in making that determination, will take into account the data, views, and comments received during the comment period.

A DEIS was prepared for Amendment 16-4 and the 2007-2008 groundfish harvest specifications and management measures. The DEIS includes an RIR and an IRFA. The Environmental Protection Agency published a notice of availability for the draft EIS on July 28, 2006 (71 FR 42846.) A copy of the DEIS is available online at http://www.pcouncil.org/.

The Council considered two sets of alternatives for 2007-2008 groundfish management, the first set of alternatives addressed the selection of ABCs and OYs and the second set of alternatives provided a range of management measures based on the initial range of OYs considered. The Council narrowed the range of ABC/OY alternatives by eliminating the no harvest alternative and by eliminating the harvest alternatives at the higher end of the range. Then the Council set “preferred high OY” and “preferred low OY” suites from the low end of the initial range of ABCs/OYs, so that management measures could be considered from the lower overall harvest perspective.

The range of management measure alternatives intended to keep total catch at the low end of the initial ABC/OY alternatives are considered here, since these were the alternatives the Council evaluated for their effects on small entities. Management measure alternatives included: the no action alternative, which would have implemented the 2005-2006 regime for 2007-2008; Alternative 1, which was intended to keep catch most aligned with the preferred low OY values; Alternative 2, which was intended to keep catch intermediary to the range of preferred low-high OY values; Alternative 3, which was intended to keep catch most aligned with this preferred high OY values; and the Council's preferred alternative, which set management measures intended to achieve rebuilding species' OYs between Alternatives 2 and 3 for bocaccio, at Alternative 3 for cowcod, and above Alternative 3 for canary, darkblotched, POP, widow and yelloweye rockfish. All of the alternatives included management measures intended to constrain target fisheries for healthy stocks so as to minimize the effects of the fisheries on rebuilding stocks, with Alternatives 1-3 and the preferred alternative applying more stringent management measures than those in effect for the fishery in 2005-2006.

Each of the alternatives analyzed by the Council was expected to have different overall effects on the economy. Among other factors, the DEIS for this action reviewed alternatives for expected increases or decreases in revenue and income from 2006 levels. Alternative 1 was expected to decrease annual income, as compared to the no action alternative, from combined recreational angler expenditures and commercial fisheries landings by $75.2 million, and decrease the number of coastwide fisheries-related jobs by 3,226 jobs. Alternative 2 was expected to decrease annual income, as compared to the no action alternative, from combined recreational angler expenditures and commercial fisheries landings by $34.1 million, and decrease the number of coastwide fisheries-related jobs by 1,446 jobs. Alternative 3 was expected to increase annual income, as compared to the no action alternative, from combined recreational angler expenditures and commercial fisheries landings by $1.8 million, and increase the number of coastwide fisheries-related jobs by 41 jobs. The Council's preferred alternative was expected to have a range of annual income effects, depending on the level of Pacific whiting OYs chosen in 2007 and 2008, from decreasing annual income by $37.2 million at the low whiting OY to increasing annual income by $0.6 million, as compared to the no action alternative, from combined recreational angler expenditures and commercial fisheries landings. The Council's preferred alternative was expected to have a range of annual employment effects, depending on the level of Pacific whiting OYs chosen in 2007 and 2008, from decreasing employment by 1,699 jobs at the low whiting OY to decreasing employment by 7 jobs at the high whiting OY. The Council's preferred alternative is primaily designed to meet the overfished species rebuilding requirement of the Magnuson-Stevens Act to rebuild overfished species as quickly as possible, taking into account the status and biology of the stocks and the needs of fishing communities.

The Council's final preferred alternative was developed through a new and integrated approach of analyzing alternative suites of rebuilding harvest levels and rebuilding trajectories for all of the overfished species. This approach allowed the Council to develop a management package that focused the greatest protection on the most sensitive overfished species and the most vulnerable fishing communities, in order to meet the Magnuson-Stevens Act requirement to rebuild as quickly as possible, taking into account the status and biology of the overfished stocks and the needs of fishing communities. For non-overfished species, the effects of this action will be that they will be harvested in 2007-2008 at or below MSY harvest levels. Harvests of most non-overfished species will not achieve their MSY levels, primarily because their harvest will be constrained to achieve faster rebuilding of co-occurring overfished species.

The economic effect of this action is that many fishery sectors are expected to achieve social and economic benefits that are similar to status quo levels. However, some sectors are more or less severely affected by management measures to rebuild overfished species. Although the yelloweye rebuilding period is longer than the status quo TTARGET, the OYs for 2007 and 2008 are lower than in past years. These lower yelloweye OYs will negatively affect northern hook-and-line fisheries, particularly the recreational fisheries. Southern recreational fisheries, however, will benefit from bocaccio's more rapid rebuilding progress to date. The increase in the Dover sole OY and the expected stable whiting OY will stabilize the effects of this action on the trawl fisheries. The decrease in the sablefish OY will negatively affect all of the commercial fisheries. On a coastwide basis, the commercial ex-vessel revenues for the major directed groundfish sectors are estimated to be approximately $67.5 million, and the number of recreational bottomfish trips is estimated to be 571,742. These figures are 98 percent of 2005 exvessel revenues, and 105 percent of 2005 recreational angler trips.

This proposed rule has been determined to be not significant for purposes of Executive Order 12866.

NMFS and the Council prepared an IRFA, as required by section 603 of the Regulatory Flexibility Act. The IRFA describes the economic impact this proposed rule, if adopted, would have on small entities. A description of the action, why it is being considered, and the legal basis for this action are contained in the preamble to this proposed rule. A copy of this analysis is available from the Council (see ADDRESSES). A summary of the analysis follows.

NMFS estimates that implementation of this action will affect about 2,600 small entities. These entities are associated with those vessels that either target groundfish or harvest groundfish as bycatch. Consequently, these are the vessels, other than catcher-processors, that participate in the limited entry portion of the fishery, the open access fishery, the charterboat fleet, and the tribal fleets. Catcher-processors also operate in the Alaska pollock fishery, and all are entities associated with larger companies such as Trident and American Seafoods. Therefore, NMFS does not consider catcher-processors to be small entities.

As of July 2006, there were 403 limited entry permits for the West Coast groundfish fishery, including: 179 endorsed for trawl (174 trawl only, 4 trawl and longline, and 1 trawl and trap-pot); 198 endorsed for longline (193 longline only, 4 longline and trap-pot, and 4 trawl and longline); 32 endorsed for trap-pot (27 trap-pot only, 4 longline and trap-pot, and 1 trawl and trap-pot). Of the longline and trap-pot permits, 164 are sablefish endorsed. Of these endorsements 126 are “stacked” on 50 vessels, in accordance with Federal regulations at 50 CFR 660.335. Eight of the trawl limited entry permits are used or owned by catcher-processor companies associated with the whiting fishery. The remaining 395 entities are considered small businesses based on a review of sector revenues and average revenues per entity. The open access or nearshore fleet, depending on the year and level of participation, is estimated to be about 1,300 to 1,600 vessels. All of the open access fishery participants are considered small entities. The tribal fleet is comprised of 53 vessels, and the Charterboat fleet includes 525 vessels that are also assumed to be small entities. All of these small entities would be affected by this action.

The final Council-preferred alternative represents the Council's efforts to address directions provided by the court that emphasized the need to rebuild stocks in as short a time as possible, taking into account: (1) the status and biology of the stocks, (2) the needs of fishing communities, and (3) interactions of depleted stocks within the marine ecosystem. When the Council was taking into account the “needs of fishing communities” it was also simultaneously taking into account the “needs of small businesses,” since fishing communities rely on small businesses as a source of economic income and activity. In particular, as discussed in the IRFA, the inclusion of the yelloweye rockfish “ramp down” strategy and creation of additional YRCAs is a means of trying to mitigate impacts of this proposed rule on small entities. (It should also be noted that the development of the final Council-preferred alternative reflects a process that includes the provision of the numerous public comments by fishermen and other small business representatives. It also reflects recommendations made by the Council's Groundfish Advisory Panel--a committee composed of 20 commercial, recreational, and conservation representatives, almost all of which are associated with small business interests.)

Rather than abruptly shifting West Coast fisheries from a 2006 OY of 27 mt to a 12-12.6 mt OY, the yelloweye OY ramp-down strategy commits the Council to adopting gradually declining OY levels. The 2007-2008 OYs are 23 mt, 20 mt, and the 2009-2010 OYs are anticipated to be 17 mt, and 14 mt, respectively under the ramp-down strategy. Under a 12 or 12.16 mt Optimum Yield, there would be a projected 40 percent decline in ex-vessel revenues and about a 30 percent decline in recreational fisheries angler trips and expenditures. However many argue that the recreational fisheries impact is larger, since fishing seasons would be shortened, which would have the additional impact of fewer tourists being drawn to communities during times when fishing closures are in place. The communities most vulnerable to reductions in yelloweye catch are remote northern coast towns with small year-round populations and a strong revenue dependence on seasonal tourism influxes. This means that economic impacts would be larger than indicated by just examining changes in angler trips. Because yelloweye rockfish are harvested in almost all West Coast groundfish and non-groundfish fisheries, the economic impact of a zero harvest OY is projected to result in a loss of at least $100 million in ex-vessel revenues and approximately 1.2 million recreational angler trips. The yelloweye ramp-down OY results in economic impacts to recreational fisheries that range from near status quo, to reductions in angler effort of approximately 22 percent in 2007 compared to 2005 levels. Similarly, commercial ex-vessel revenues would range from near status quo to reductions of 13 percent. Beyond 2007, the effects are less clear; however, it is expected that the economic implications will be less severe than with an OY of 12 mt or 12.6 mt. It is estimated that these impacts will be in place until 2084, or 36 years longer than TMIN.

Through adopting the ramp-down approach that includes expanded YRCAs off Oregon and Washington, the Council was able to consider the trade-off between rebuilding periods (need to rebuild as fast as possible) and effects on communities (taking into account the needs of fishing communities) and small businesses, supported by additional management measures to assure the OY is not exceeded (which in turn would affect the majority of communities and small businesses because of the yelloweye OY's broadly distributed effects.) In comparison to the 12 mt OY Alternative, the ramp-down approach extends the rebuilding period by 6 years from 2078 to 2084, allows the current fishing sectors to continue, and prevents major closures of fisheries and the associated harm to communities and their small businesses.

There are no additional projected reporting, record-keeping, and other compliance requirements of the proposed rule not already envisioned within the scope of current requirements. References to collections-of-information made in this action are intended to properly cite those collections in Federal regulations, and not to alter their effect in any way.

No Federal rules have been identified that duplicate, overlap, or conflict with this action.

NMFS issued Biological Opinions under the ESA on August 10, 1990, November 26, 1991, August 28, 1992, September 27, 1993, May 14, 1996, and December 15, 1999, pertaining to the effects of the Pacific Coast groundfish FMP fisheries on Chinook salmon (Puget Sound, Snake River spring/summer, Snake River fall, upper Columbia River spring, lower Columbia River, upper Willamette River, Sacramento River winter, Central Valley spring, California coastal), coho salmon (Central California coastal, southern Oregon/northern California coastal), chum salmon (Hood Canal summer, Columbia River), sockeye salmon (Snake River, Ozette Lake), and steelhead (upper, middle and lower Columbia River, Snake River Basin, upper Willamette River, central California coast, California Central Valley, south/central California, northern California, southern California). These biological opinions have concluded that implementation of the FMP for the Pacific Coast groundfish fishery was not expected to jeopardize the continued existence of any endangered or threatened species under the jurisdiction of NMFS, or result in the destruction or adverse modification of critical habitat.

NMFS reinitiated a formal ESA section 7 consultation in 2005 for both the Pacific whiting midwater trawl fishery and the groundfish bottom trawl fishery. The December 19, 1999 Biological Opinion had defined an 11,000 Chinook incidental take threshold for the Pacific whiting fishery. During the 2005 Pacific whiting season, the 11,000 fish Chinook incidental take threshold was exceeded, triggering reinitiation. Also in 2005, new WCGOP data became available, allowing NMFS to complete an analysis of salmon take in the bottom trawl fishery.

NMFS prepared a Supplemental Biological Opinion dated March 11, 2006, which addressed salmon take in both the Pacific whiting midwater trawl and groundfish bottom trawl fisheries. In its 2006 Supplemental Biological Opinion, NMFS concluded that catch rates of salmon in the 2005 whiting fishery were consistent with expectations considered during prior consultations. Chinook bycatch has averaged about 7,300 over the last 15 years and has only occasionally exceeded the reinitiation trigger of 11,000. Since 1999, annual Chinook bycatch has averaged about 8,450. The Chinook Evolutionarily Significant Units (ESUs) most likely affected by the whiting fishery have generally improved in status since the 1999 ESA section 7 consultation. Although these species remain at risk, as indicated by their ESA listing, NMFS concluded that the higher observed bycatch in 2005 does not require a reconsideration of its prior “no jeopardy” conclusion with respect to the fishery. For the groundfish bottom trawl fishery, NMFS concluded that incidental take in the groundfish fisheries is within the overall limits articulated in the Incidental Take Statement of the 1999 Biological Opinion. The groundfish bottom trawl limit from that opinion was 9,000 fish annually. NMFS will continue to monitor and collect data to analyze take levels. NMFS also reaffirmed its prior determination that implementation of the Groundfish FMP is not likely to jeopardize the continued existence of any of the affected ESUs.

Pursuant to Executive Order 13175, this proposed rule was developed after meaningful consultation and collaboration with tribal officials from the area covered by the FMP. Under the Magnuson-Stevens Act at 16 U.S.C. 1852(b)(5), one of the voting members of the Pacific Council must be a representative of an Indian tribe with federally recognized fishing rights from the area of the Council's jurisdiction. In addition, regulations implementing the FMP establish a procedure by which the tribes with treaty fishing rights in the area covered by the FMP request new allocations or regulations specific to the tribes, in writing, before the first of the two meetings at which the Council considers groundfish management measures. The regulations at 50 CFR 660.324(d) further state “the Secretary will develop tribal allocations and regulations under this paragraph in consultation with the affected tribe(s) and, insofar as possible, with tribal consensus.” The tribal management measures in this proposed rule have been developed following these procedures. The tribal representative on the Council made a motion to adopt the tribal management measures, which was passed by the Council. Those management measures, which were developed and proposed by the tribes, are included in this proposed rule.

List of Subjects in 50 CFR Part 660

Fisheries, Fishing, Indian fisheries.

Dated: September 13, 2006.
Samuel D. Rauch III,
Deputy Assistant Administrator for Regulatory Programs, National Marine Fisheries Service.

For the reasons set out in the preamble, 50 CFR part 660 is proposed to be amended as follows:

PART 660—FISHERIES OFF WEST COAST STATES

1. The authority citation for part 660 continues to read as follows:

Authority: 16 U.S.C. 1801 et seq.

2. In § 660.302, the definitions for “At-sea processing,” “Office for Law Enforcement,” and “Shoreside processing” are removed, the definitions for “Allocation,” “Catch, take, harvest,” “Commercial harvest guideline or commercial quota,” “Fishing,” “Fishing gear,” paragraph (11)(ii) for “Midwater (pelagic or off-bottom) trawl,” “Fishing vessel,” “Groundfish,” paragraph (8) for “Flatfish” and paragraph 9 for “other fish,”“Groundfish Conservation Area or GCA,” “Limited entry fishery,” “Limited entry permit,” “North-South management area,” “Observer Program Office,” “Operator,” “Processing or to process,” “Regional Administrator,” “Round weight,” “Scientific research activity,” “Secretary,” “Sell or sale,” “Trip,” and “Vessel of the United States or U.S. vessel” are revised, and the definitions for “BMSY,” “Maximum Sustainable Yield or MSY,” and “Office of Law Enforcement,” are added in alphabetical order to read as follows:

§ 660.302 Definitions.

* * * * *

Allocation. (See § 600.10).

* * * * *

Bmsy means the biomass level that produces maximum sustainable yield (MSY), as stated in the PCGFMP at Section 4.2.

* * * * *

Catch, take, harvest. (See § 600.10).

* * * * *

Commercial harvest guideline or commercial quota means the harvest guideline or quota after subtracting any allocation for the Pacific Coast treaty Indian tribes, projected research catch, recreational fisheries set-asides or harvest guidelines, deductions for fishing mortality in non-groundfish fisheries, as necessary, and set-asides for compensation fishing under § 660.350. Limited entry and open access allocations are derived from the commercial harvest guideline or quota.

* * * * *

Fishing. (See § 600.10).

* * * * *

Fishing gear * * *

(11) * * *

(ii) Midwater (pelagic or off-bottom) trawl. A trawl in which the otter boards and footrope of the net remain above the seabed. It includes pair trawls if fished in midwater. A midwater trawl has no rollers or bobbins on any part of the net or its component wires, ropes, and chains. For additional midwater trawl gear requirements and restrictions, see § 660.381(b).

* * * * *

Fishing vessel. (See § 600.10).

* * * * *

* * * * *

Groundfish * * *

(8) Flatfish: arrowtooth flounder (arrowtooth turbot), Atheresthes stomias; butter sole, Isopsetta isolepis; curlfin sole, Pleuronichthys decurrens; Dover sole, Microstomus pacificus; English sole, Parophrys vetulus; flathead sole, Hippoglossoides elassodon; Pacific sanddab, Citharichthys sordidus; petrale sole, Eopsetta jordani; rex sole, Glyptocephalus zachirus; rock sole, Lepidopsetta bilineata; sand sole, Psettichthys melanostictus; starry flounder, Platichthys stellatus. Where regulations of this subpart refer to landings limits for “other flatfish,” those limits apply to all flatfish cumulatively taken except for those flatfish species specifically listed in Tables 1 2 of this subpart. (i.e., “other flatfish” includes butter sole, curlfin sole, flathead sole, Pacific sanddab, rex sole, rock sole, and sand sole.)

(9) “Other fish”: Where regulations of this subpart refer to landings limits for “other fish,” those limits apply to all groundfish listed here in paragraphs (1)-(8) except for the following: those groundfish species specifically listed in Tables 1 2 of this subpart with an ABC for that area (generally north and/or south of 40°10′ N. lat.); and Pacific cod and spiny dogfish coastwide. (i.e., “other fish” may include all sharks (except spiny dogfish), skates, ratfish, morids, grenadiers, and kelp greenling listed in this section, as well as cabezon in the north.)

* * * * *

Groundfish Conservation Area or GCA means a geographic area defined by coordinates expressed in degrees latitude and longitude, wherein fishing by a particular gear type or types may be prohibited. GCAs are created and enforced for the purpose of contributing to the rebuilding of overfished West Coast groundfish species. Regulations at § 660.390 define coordinates for these polygonal GCAs: Yelloweye Rockfish Conservation Areas, Cowcod Conservation Areas, waters encircling the Farallon Islands, and waters encircling the Cordell Banks. GCAs also include Rockfish Conservation Areas or RCAs, which are areas closed to fishing by particular gear types, bounded by lines approximating particular depth contours. RCA boundaries may and do change seasonally according to the different conservation needs of the different overfished species. Regulations at §§ 660.390 through 660.394 define RCA boundary lines with latitude/longitude coordinates; regulations at Tables 3-5 of Part 660 set RCA seasonal boundaries. Fishing prohibitions associated with GCAs are in addition to those associated with Essential Fish Habitat Conservation Areas, regulations which are provided at § 660.306 and §§ 660.396 through 660.399.

* * * * *

Limited entry fishery means the fishery composed of vessels registered for use with limited entry permits.

* * * * *

Limited entry permit means the Federal permit required to participate in the limited entry fishery, and includes any gear, size, or species endorsements affixed to the permit.

* * * * *

Maximum Sustainable Yield or MSY. (See § 600.310).

* * * * *

North-South management area means the management areas defined in paragraph (1) of this definition, or defined and bounded by one or more or the commonly used geographic coordinates set out in paragraph (2) of this definition for the purposes of implementing different management measures in separate geographic areas of the U.S. West Coast. * * *

* * * * *

Observer Program or Observer Program Office means the West Coast Groundfish Observer Program (WCGOP) Office of the Northwest Fishery Science Center, National Marine Fisheries Service, Seattle, Washington.

Office of Law Enforcement (OLE) refers to the National Marine Fisheries Service, Office of Law Enforcement, Northwest Division.

* * * * *

Operator. (See § 600.10).

* * * * *

Processing or to process means the preparation or packaging of groundfish to render it suitable for human consumption, retail sale, industrial uses or long-term storage, including, but not limited to, cooking, canning, smoking, salting, drying, filleting, freezing, or rendering into meal or oil, but does not mean heading and gutting unless additional preparation is done.

(1) At-sea processing means processing that takes place on a vessel or other platform that floats and is capable of being moved from one location to another, whether shore-based or on the water.

(2) Shore-based processing or processing in the shore-based sector means processing that takes place at a facility that is permanently fixed to land.

* * * * *

Regional Administrator means the Administrator, Northwest Region, NMFS.

* * * * *

Round weight. (See § 600.10). Round weight does not include ice, water, or slime.

Scientific research activity. (See § 600.10).

Secretary. (See § 600.10).

Sell or sale. (See § 600.10).

* * * * *

Trip. (See § 600.10).

* * * * *

Vessel of the United States or U.S. vessel. (See § 600.10).

* * * * *

3. In § 660.303, paragraphs (d)(5)(i)(A)(1) and (d)(5)(i)(G)(1) are added and paragraphs (d)(5)(i)(A)(2) and (d)(5)(i)(G)(2) are added and reserved to read as follows:

§ 660.303 Reporting and recordkeeping.

* * * * *

(d) * * *

(5) * * *

(i) * * *

(A) * * *

(1) Limited entry fixed gear- Cowcod Conservation Areas [For this declaration, NMFS OLE must be contacted during business hours Monday through Friday between 0800 and 1600 Pacific Standard Time],

(2) [Reserved]

* * * * *

(G) * * *

(1) Non-trawl gear used to take groundfish- Cowcod Conservation Areas [For this declaration, NMFS OLE must be contacted during business hours Monday through Friday between 0800 and 1600 Pacific Standard Time],

(2) [Reserved]

* * * * *

4. In § 660.306, paragraphs (a)(2), (a)(9), (c)(1) introductory text, (c)(2), (f)(1)(i), (f)(2), (f)(3), (g)(1), (h)(1), and (h)(2) are revised to read as follows:

§ 660.306 Prohibitions.

* * * * *

(a) * * *

(2) Retain any prohibited species (defined in § 660.302 and restricted in § 660.370(e)) caught by means of fishing gear authorized under this subpart, unless authorized by part 600 or part 300 of this chapter. Prohibited species must be returned to the sea as soon as practicable with a minimum of injury when caught and brought on board.

* * * * *

(9) When requested or required by an authorized officer, refuse to present fishing gear for inspection, refuse to present fish subject to such persons control for inspections; or interfere with a fishing gear or marine animal or plant life inspection.

* * * * *

(c) * * *

(1) Fish with groundfish trawl gear, or carry groundfish trawl gear on board a vessel that also has groundfish on board, unless the vessel is registered for use with a valid limited entry permit with a trawl gear endorsement, with the following exception.

(2) Carry on board a vessel, or deploy, limited entry gear when the limited entry fishery for that gear is closed, except that a vessel may carry on board limited entry groundfish trawl gear as provided in paragraph (c)(1) of this section.

* * * * *

(f) * * *

(1) * * *

(i) The fish are received from a member of a Pacific Coast treaty Indian tribe fishing under §§ 660.324 or 660.385;

* * * * *

(2) During times or in areas where at-sea processing is prohibited, take and retain or receive whiting, except as cargo or fish waste, on a vessel in the fishery management area that already has processed whiting on board. An exception to this prohibition is provided if the fish are received within the tribal U&A from a member of a Pacific Coast treaty Indian tribe fishing under §§ 660.324. or 660.385.

(3) Participate in the mothership or shore-based sector as a catcher vessel that does not process fish, if that vessel operates in the same calendar year as a catcher/processor in the whiting fishery, according to § 660.373(h)(2).

* * * * *

(g) * * *

(1) If a limited entry permit is registered for use with a vessel, fail to carry that permit onboard the vessel registered for use with the permit. A photocopy of the permit may not substitute for the original permit itself.

* * * * *

(h) * * *

(1) Fish in a conservation area with: any trawl gear, including non-trawl gear used to take pink shrimp, ridgeback prawns, and south of Pt. Arena, CA, California halibut and sea cucumber; with trawl gear from a tribal vessel; or with any gear from a vessel registered to a groundfish limited entry permit. An exception to this prohibition is provided if the vessel owner or operator has a valid declaration confirmation code or receipt for fishing in a conservation area, as specified at § 660.303(d)(5).

(2) Operate any vessel registered to a limited entry permit with a trawl endorsement and trawl gear on board in any Trawl Rockfish Conservation Area, Cowcod Conservation Area, or Essential Fish Habitat Conservation Area. Exceptions to this prohibition are provided if: the vessel is in continuous transit, with all groundfish trawl gear stowed in accordance with § 660.381(d)(4), or if the vessel operation is otherwise authorized in the groundfish management measures published at § 660.381(d)(4).

* * * * *

5. In § 660.314, paragraphs (f)(2)(i)(A)(1)(i) through (iii) and (f)(2)(i)(A)(3) and (4) are revised to read as follows:

* * * * *

§ 660.314 Groundfish observer program.

(f) * * *

(2) * * *

(i) * * *

(A) * * *

(1) * * *

(i) Any ownership, mortgage holder, or other secured interest in a vessel, shore-based or floating stationary processor facility involved in the catching, taking, harvesting or processing of fish,

(ii) Any business involved with selling supplies or services to any vessel, shore-based or floating stationary processing facility; or

(iii) Any business involved with purchasing raw or processed products from any vessel, shore-based or floating stationary processing facilities.

* * * * *

(3) May not serve as observers on any vessel or at any shore-based or floating stationary processing facility owned or operated by a person who previously employed the observers.

(4) May not solicit or accept employment as a crew member or an employee of a vessel, shore-based processor, or stationary floating processor while employed by an observer provider.

* * * * *

6. In § 660.320, paragraphs (a)(2) and (f) are revised to read as follows:

§ 660.320 Allocations.

* * * * *

(a) * * *

(2) Open access allocation. The allocation for the open access fishery is derived by applying the open access allocation percentage to the annual harvest guideline or quota after subtracting any recreational fishery estimates or tribal allocations. For management areas where quotas or harvest guidelines for a stock are not fully utilized, no separate allocation will be established for the open access fishery until it is projected that the allowable catch for a species will be reached.

(f) Recreational fisheries. Recreational fishing for groundfish is outside the scope of, and not affected by, the regulations governing limited entry and open access fisheries. Certain amounts of groundfish may be specifically allocated to the recreational fishery, and will be estimated prior to dividing the commercial allocation between the commercial limited entry and open access fisheries.

7. In § 660.322, paragraph (e) is revised to read as follows:

§ 660.322 Sablefish allocations.

* * * * *

(e) Ratios between tiers for sablefish-endorsed limited entry permits. The Regional Administrator will biennially or annually calculate the size of the cumulative trip limit for each of the three tiers associated with the sablefish endorsement such that the ratio of limits between the tiers is approximately 1:1.75:3.85 for Tier 3:Tier 2:Tier 1, respectively. The size of the cumulative trip limits will vary depending on the amount of sablefish available for the primary fishery and on estimated discard mortality rates within the fishery. The size of the cumulative trip limits for the three tiers in the primary fishery will be announced in § 660.372.

8. In § 660.323, paragraphs (a)(2), (b) introductory text, (b)(3), (b)(4), (d), and (e) are revised to read as follows:

§ 660.323 Pacific whiting allocations, allocation attainment, and inseason allocation reapportionment.

* * * * *

(a) * * *

(2) The non-tribal commercial harvest guideline for whiting is allocated among three sectors, as follows: 34 percent for the catcher/processor sector; 24 percent for the mothership sector; and 42 percent for the shore-based sector. No more than 5 percent of the shore-based allocation may be taken and retained south of 42° N. lat. before the start of the primary whiting season north of 42° N. lat. Specific sector allocations for a given calendar year are found in tables 1a and 2a of this subpart.

* * * * *

(b) Reaching an allocation. If the whiting harvest guideline, commercial harvest guideline, or a sector's allocation is reached, or is projected to be reached, the following action(s) for the applicable sector(s) may be taken as provided under paragraph (e) of this section and will remain in effect until additional amounts are made available the next calendar year or under paragraph (c) of this section.

* * * * *

(3) Shore-based sector coastwide. Whiting may not be taken and retained, possessed, or landed by a catcher vessel participating in the shore-based sector except as authorized under a trip limit specified under § 660.370(c).

(4) Shore-based south of 42° N. lat. If 5 percent of the shore-based allocation for whiting is taken and retained south of 42° N. lat. before the primary season for the shore-based sector begins north of 42° N. lat., then a trip limit specified under § 660.370(c) may be implemented south of 42° N. lat. until the northern primary season begins, at which time the southern primary season would resume.

* * * * *

(d) Estimates. Estimates of the amount of whiting harvested will be based on actual amounts harvested, projections of amounts that will be harvested, or a combination of the two. Estimates of the amount of Pacific whiting that will be used by shore-based processors by the end of the calendar year will be based on the best information available to the Regional Administrator from state catch and landings data, the testimony received at Council meetings, and/or other relevant information.

(e) Announcements. The Regional Administrator will announce in the Federal Register when a harvest guideline, commercial harvest guideline, or an allocation of whiting is reached, or is projected to be reached, specifying the appropriate action being taken under paragraph (b) of this section. The Regional Administrator will announce in the Federal Register any reapportionment of surplus whiting to others sectors on September 15, or as soon as practicable thereafter. In order to prevent exceeding the limits or to avoid underutilizing the resource, prohibitions against further taking and retaining, receiving, or at-sea processing of whiting, or reapportionment of surplus whiting may be made effective immediately by actual notice to fishers and processors, by e-mail, internet (www.nwr.noaa.gov/Groundfish-Halibut/Groundfish-Fishery-Management/Whiting-Management/index.cfm), phone, fax, letter, press release, and/or USCG Notice to Mariners (monitor channel 16 VHF), followed by publication in the Federal Register, in which instance public comment will be sought for a reasonable period of time thereafter.

* * * * *

9. In § 660.324, paragraphs (c) (1) through (4), (g), (h), and (j) are revised to read as follows:

§ 660.324 Pacific Coast treaty Indian fisheries.

* * * * *

(c) * * *

(1) Makah-That portion of the FMA north of 48°02.25′ N. lat. (Norwegian Memorial) and east of 125°44′ W. long.

(2) Quileute-That portion of the FMA between 48°07.60′ N. lat. (Sand Point) and 47°31.70′ N. lat. (Queets River) and east of 125°44′ W. long.

(3) Hoh-That portion of the FMA between 47°54.30′ N. lat. (Quillayute River) and 47°21′ N. lat. (Quinault River) and east of 125°44′ W. long.

(4) Quinault-That portion of the FMA between 47°40.10′ N. lat. (Destruction Island) and 46°53.30′ N. lat. (Point Chehalis) and east of 125°44′ W. long.

* * * * *

(g) Fishing under this section and § 660.385 by a member of a Pacific Coast treaty Indian tribe within their usual and accustomed fishing area is not subject to the provisions of other sections of this subpart.

(h) Any member of a Pacific Coast treaty Indian tribe must comply with this section and § 660.385, and with any applicable tribal law and regulation, when participating in a tribal groundfish fishery described in paragraph (d) of this section.

* * * * *

(j) Black rockfish. Harvest guidelines for commercial harvests of black rockfish by members of the Pacific Coast Indian tribes using hook and line gear will be established biennially for two subsequent one-year periods for the areas between the U.S.-Canadian border and Cape Alava (48°09.50′ N. lat.) and between Destruction Island (47°40′ N. lat.) and Leadbetter Point (46°38.17′ N. lat.), in accordance with the procedures for implementing harvest specifications and management measures. Pacific Coast treaty Indians fishing for black rockfish in these areas under these harvest guidelines are subject to the provisions in this section §§ 660.321 and 660.385, and not to the restrictions in other sections of this part.

* * * * *

10. Section § 660.365 is revised to read as follows:

§ 660.365 Overfished species rebuilding plans.

For each overfished groundfish stock with an approved rebuilding plan, this section contains the standards to be used to establish annual or biennial OYs, specifically the target date for rebuilding the stock to its MSY level and the harvest control rule to be used to rebuild the stock. The harvest control rule is expressed as a “Spawning Potential Ratio” or “SPR” harvest rate.

(a) Bocaccio. The target year for rebuilding the southern bocaccio stock to BMSY is 2026. The harvest control rule to be used to rebuild the southern bocaccio stock is an annual SPR harvest rate of 77.7 percent.

(b) Canary rockfish. The target year for rebuilding the canary rockfish stock to BMSY is 2063. The harvest control rule to be used to rebuild the canary rockfish stock is an annual SPR harvest rate of 88.7 percent.

(c) Cowcod. The target year for rebuilding the cowcod stock south of Point Conception to BMSY is 2039. The harvest control rule to be used to rebuild the cowcod stock is an annual SPR harvest rate of 90.0 percent.

(d) Darkblotched rockfish. The target year for rebuilding the darkblotched rockfish stock to BMSY is 2011. The harvest control rule to be used to rebuild the darkblotched rockfish stock is an annual SPR harvest rate of 64.1 percent in 2007 and 60.7 percent beginning in 2008.

(e) Pacific ocean perch (POP). The target year for rebuilding the POP stock to BMSY is 2017. The harvest control rule to be used to rebuild the POP stock is an annual SPR harvest rate of 86.4 percent.

(f) Widow rockfish. The target year for rebuilding the widow rockfish stock to BMSY is 2015. The harvest control rule to be used to rebuild the widow rockfish stock is an annual SPR harvest rate of 95.0 percent.

(g) Yelloweye rockfish. The target year for rebuilding the yelloweye rockfish stock to BMSY is 2084. The harvest control rule to be used to rebuild the yelloweye rockfish stock is an annual SPR harvest rate is 55.4 in 2007 and 60.8 in 2008. Yelloweye rockfish is subject to a ramp-down strategy where the harvest level will be reduced from current levels until 2011. Beginning in 2011, yelloweye rockfish will be subject to a constant harvest rate strategy with a constant SPR harvest rate of 71.9 percent.

11. In § 660.370, paragraphs (c)(1)(iii), and (h)(5)(iv)(C) are added, and paragraphs (d), (h)(5)(i) introductory text, (h)(5)(iv)(A) and (B), (h)(6) introductory text, (h)(8)(iv)(A) and (B), (h)(8)(v) and (vi) are revised to read as follows:

§ 660.370 Specifications and management measures.

* * * * *

(c) * * *

(1) * * *

(iii) Type of limited entry trawl gear on board. Limits on the type of limited entry trawl gear on board a vessel may be imposed on a biennial or more frequent basis. Requirements and restrictions on limited entry trawl gear type are found at § 660.381.

* * * * *

(d) Automatic actions. Automatic management actions may be initiated by the NMFS Regional Administrator without prior public notice, opportunity to comment, or a Council meeting. These actions are nondiscretionary, and the impacts must have been taken into account prior to the action. Unless otherwise stated, a single notice will be published in the Federal Register making the action effective if good cause exists under the APA to waive notice and comment. Automatic actions are used in the Pacific whiting fishery to close the fishery or reinstate trip limits when a whiting harvest guideline, commercial harvest guideline, or a sector's allocation is reached, or is projected to be reached; or to reapportion unused allocation to other sectors of the fishery. An automatic action is also used in the Pacific whiting fishery to implement the Ocean Salmon Conservation Zone, described at 660.373(c)(3), when NMFS projects the Pacific whiting fishery may take in excess of 11,000 Chinook within a calendar year.

* * * * *

(h) * * *

(5) * * *

(i) Size limits and length measurement. Unless otherwise specified, size limits in the commercial and recreational groundfish fisheries apply to the “total length,” which is the longest measurement of the fish without mutilation of the fish or the use of force to extend the length of the fish. No fish with a size limit may be retained if it is in such condition that its length has been extended or cannot be determined by these methods. For conversions not listed here, contact the state where the fish will be landed. Washington state regulations require all fish with a size limit landed into Washington to be landed with the head on.

* * * * *

(iv) * * *

(A) North of 42° N. lat., for lingcod with the head removed, the minimum size limit is 18 inches (46 cm), which corresponds to 22 inches (56 cm) total length for whole fish.

(B) South of 42° N. lat., for lingcod with the head removed, the minimum size limit is 19.5 inches (49.5 cm), which corresponds to 24 inches (61 cm) total length for whole fish.

(C) The weight conversion factor for headed and gutted lingcod is 1.5. The conversion factor for lingcod that has only been gutted with the head on is 1.1.

(6) Sorting. Under § 660.306(a)(7), it is unlawful for any person to “fail to sort, prior to the first weighing after offloading, those groundfish species or species groups for which there is a trip limit, size limit, quota, harvest guideline, or OY, if the vessel fished or landed in an area during a time when such trip limit, size limit, OY, or quota applied.” The States of Washington, Oregon, and California may also require that vessels record their landings as sorted on their state fish tickets. This provision applies to both the limited entry and open access fisheries. The following species must be sorted:

* * * * *

(8) * * *

(iv) * * *

(A) If a vessel takes and retains minor slope rockfish north of 40°10′ N. lat., that vessel is also permitted to take and retain, possess or land splitnose rockfish up to its cumulative limit south of 40°10′ N. lat., even if splitnose rockfish were a part of the landings from minor slope rockfish taken and retained north of 40°10′ N. lat.

* * * * *

(B) If a vessel takes and retains minor slope rockfish south of 40°10′ N. lat., that vessel is also permitted to take and retain, possess or land POP up to its cumulative limit north of 40°10′ N. lat., even if POP were a part of the landings from minor slope rockfish taken and retained south of 40°10′ N. lat.

* * * * *

(v) “DTS complex.” There are often differential trawl trip limits for the “DTS complex” north and south of latitudinal management lines. Vessels operating in the limited entry trawl fishery are subject to the crossover provisions in this paragraph when making landings that include any one of the four species in the “DTS complex.”

(vi) Flatfish complex. There are often differential trip limits for the flatfish complex (butter, curlfin, English, flathead, petrale, rex, rock, and sand soles, Pacific sanddab, and starry flounder) north and south of latitudinal management lines. Vessels operating in the limited entry trawl fishery are subject to the crossover provisions in this paragraph when making landings that include any one of the species in the flatfish complex.

12. In § 660.372, paragraphs (b)(1) and (b)(3)(i) is revised to read as follows:

§ 660.372 Fixed gear sablefish fishery management.

* * * * *

(b) * * *

(1) Season dates. North of 36° N. lat., the primary sablefish season for the limited entry, fixed gear, sablefish-endorsed vessels begins at 12 noon l.t. on April 1 and ends at 12 noon l.t. on October 31, unless otherwise announced by the Regional Administrator through the routine management measures process described at § 660.370(c).

* * * * *

(3) * * *

(i) A vessel participating in the primary season will be constrained by the sablefish cumulative limit associated with each of the permits registered for use with that vessel. During the primary season, each vessel authorized to participate in that season under paragraph (a) of this section may take, retain, possess, and land sablefish, up to the cumulative limits for each of the permits registered for use with that vessel. If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under paragraph (c) of this section. The following annual limits are in effect: Tier 1 at 48,500 lb (21,999 kg), Tier 2 at 22,000 lb (9,979 kg), and Tier 3 at 12,500 lb (5,670 kg).

* * * * *

13. In § 660.373, paragraphs (a), (b)(1)(iii) introductory text, (b)(2), (b)(3) introductory text, (b)(4), (c)(1), (c)(2), and (d)(1) are revised and paragraph (c)(3) is added to read as follows:

§ 660.373 Pacific whiting (whiting) fishery management.

(a) Sectors. The catcher/processor sector is composed of catcher/processors, which are vessels that harvest and process whiting during a calendar year. The mothership sector is composed of motherships and catcher vessels that harvest whiting for delivery to motherships. Motherships are vessels that process, but do not harvest, whiting during a calendar year. The shore-based sector is composed of vessels that harvest whiting for delivery to shore-based processors.

(b) * * *

(1) * * *

(iii) Primary whiting seasons. After the start of a primary season for a sector of the whiting fishery, the season remains open for that sector until the quota is taken and the fishery season for that sector is closed by NMFS. The primary seasons for the whiting fishery are as follows:

(2) South of 40°30′ N. lat. The primary season starts on April 15 south of 40°30′ N. lat.

(3) Trip limits in the whiting fishery. The “per trip” limit for whiting before and after the regular (primary) season for the shore-based sector is announced in Table 3 of this subpart, and is a routine management measure under § 660.370(c). This trip limit includes any whiting caught shoreward of 100-fm (183-m) in the Eureka, CA area. The “per trip” limit for other groundfish species before, during, and after the regular (primary) season are announced in Table 3 (North) and Table 3 (South) of this subpart and apply as follows:

(4) Bycatch limits in the whiting fishery. The bycatch limits for the whiting fishery may be used inseason to close a sector or sectors of the whiting fishery to achieve the rebuilding of an overfished or depleted stock, under routine management measure authority at § 660.370 (c)(1)(ii). These limits are routine management measures under § 660.370 (c) and, as such, may be adjusted inseason or may have new species added to the list of those with bycatch limits. The whiting fishery bycatch limits for the sectors identified § 660.323(a) are 4.7 mt of canary rockfish, 200 mt of widow rockfish, and 25 mt of darkblotched rockfish.

* * * * *

(c) * * *

(1) Klamath River Salmon Conservation Zone. The ocean area surrounding the Klamath River mouth bounded on the north by 41°38.80′ N. lat. (approximately 6 nm north of the Klamath River mouth), on the west by 124°23′ W. long. (approximately 12 nm from shore), and on the south by 41°26.80′ N. lat. (approximately 6 nm south of the Klamath River mouth).

(2) Columbia River Salmon Conservation Zone. The ocean area surrounding the Columbia River mouth bounded by a line extending for 6 nm due west from North Head along 46°18′ N. lat. to 124°13.30′ W. long., then southerly along a line of 167 True to 46°11.10′ N. lat. and 124°11′ W. long. (Columbia River Buoy), then northeast along Red Buoy Line to the tip of the south jetty.

(3) Ocean Salmon Conservation Zone. All waters shoreward of a boundary line approximating the 100-fm (183-m) depth contour. Latitude and longitude coordinates defining the boundary line approximating the 100 fm (183 m) depth contour are provided at § 660.393(a).

(d) * * *

(1) Whiting trip limits. No more than 10,000 lb (4,536 kg) of whiting may be taken and retained, possessed, or landed by a vessel that, at any time during a fishing trip, fished in the fishery management area shoreward of the 100-fm (183-m) contour (as shown on NOAA Charts 18580, 18600, and 18620) in the Eureka management area (defined at § 660.302).

* * * * *

14. In § 660.381, paragraphs (a), (b)(3), (d)(3), and (d)(4)(i) and (ii) are revised ; and paragraph (d)(5) is added to read as follows:

§ 660.381 Limited entry trawl fishery management measures.

(a) General. Limited entry trawl vessels include those vessels registered to a limited entry permit with a trawl endorsement. Most species taken in limited entry trawl fisheries will be managed with cumulative trip limits (see trip limits in Tables 3 (North) and 3 (South) of this subpart), size limits (see § 660.370 (h)(5)), seasons (see Pacific whiting at § 660.373), gear restrictions (see paragraph (b) of this section) and closed areas (see paragraph (d) of this section and §§ 660.390 through 660.399). The trawl fishery has gear requirements and trip limits that differ by the type of trawl gear on board and the area fished. Cowcod retention is prohibited in all fisheries and groundfish vessels operating south of Point Conception must adhere to CCA restrictions (see paragraph (d)(1) of this section and § 660.390). The trip limits in Table 3 (North) and Table 3 (South) of this subpart apply to vessels participating in the limited entry groundfish trawl fishery and may not be exceeded. Federal commercial groundfish regulations are not intended to supersede any more restrictive state commercial groundfish regulations relating to federally-managed groundfish.

* * * * *

(b) * * *

(3) Chafing gear. Chafing gear may encircle no more than 50 percent of the net′s circumference. No section of chafing gear may be longer than 50 meshes of the net to which it is attached. Chafing gear may be used only on the last 50 meshes, measured from the terminal (closed) end of the codend. Except at the corners, the terminal end of each section of chafing gear on all trawl gear must not be connected to the net. (The terminal end is the end farthest from the mouth of the net.) Chafing gear must be attached outside any riblines and restraining straps. There is no limit on the number of sections of chafing gear on a net.

* * * * *

(d) * * *

(3) Cordell Banks. Commercial fishing for groundfish is prohibited in waters of depths less than 100-fm (183-m) around Cordell Banks as defined by specific latitude and longitude coordinates at § 660.390.

(4) * * *

(i) Coastwide, it is unlawful to take and retain, possess, or land any species of fish taken with trawl gear within the trawl RCA, except as permitted for vessels participating in the primary whiting season and for vessels fishing with demersal seine gear between 38° N. lat. and 36° N. lat. shoreward of a boundary line approximating the 100-fm (183-m) depth contour as defined at § 660.393. Throughout the year, boundaries for the trawl RCA are provided in Table 3 (North) and Table 3 (South) of this subpart, and may be modified by NMFS inseason pursuant to § 660.370(c). Trawl RCA boundaries are defined by specific latitude and longitude coordinates which are provided at §§ 660.390 through 660.394.

(ii) Trawl vessels may transit through the trawl RCA, with or without groundfish on board, provided all groundfish trawl gear is stowed either: below deck; or if the gear cannot readily be moved, in a secured and covered manner, detached from all towing lines, so that it is rendered unusable for fishing; or remaining on deck uncovered if the trawl doors are hung from their stanchions and the net is disconnected from the doors. These restrictions do not apply to vessels fishing with mid-water trawl gear for Pacific whiting or taking and retaining yellowtail rockfish or widow rockfish in association with Pacific whiting caught with mid-water trawl gear.

* * * * *

(5) Essential Fish Habitat Conservation Areas. The Essential Fish Habitat Conservation Areas (EFHCAs) are closed areas, defined by specific latitude and longitude coordinates at §§ 660.396 through 660.399, where specified types of fishing are prohibited. Prohibitions applying to specific EFHCAs are found at § 660.306.

15. In § 660.382, paragraphs (a) and (c) are revised to read as follows:

§ 660.382 Limited entry fixed gear fishery management measures.

(a) General. Most species taken in limited entry fixed gear (longline and pot/trap) fisheries will be managed with cumulative trip limits (see trip limits in Tables 4 (North) and 4 (South) of this subpart), size limits (see § 660.370(h)(5)), seasons (see trip limits in Tables 4 (North) and 4 (South) of this subpart and primary sablefish season details in § 660.372(b)), gear restrictions (see paragraph (b) of this section), and closed areas (see paragraph (c) of this section and §§ 660.390 through 660.399). Cowcod retention is prohibited in all fisheries and groundfish vessels operating south of Point Conception must adhere to CCA restrictions (see paragraph (c)(4) of this section and § 660.390). Yelloweye rockfish and canary rockfish retention is prohibited in the limited entry fixed gear fisheries. Regulations governing and tier limits for the limited entry, fixed gear primary sablefish season north of 36° N. lat. are found in § 660.372. Vessels not participating in the primary sablefish season are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies, see § 660.371. The trip limits in Table 4 (North) and Table 4 (South) of this subpart apply to vessels participating in the limited entry groundfish fixed gear fishery and may not be exceeded. Federal commercial groundfish regulations are not intended to supersede any more restrictive state commercial groundfish regulations relating to federally-managed groundfish.

* * * * *

(c) Groundfish Conservation Areas. A Groundfish Conservation Area (GCA), a type of closed area, is a geographic area defined by coordinates expressed in degrees latitude and longitude. The following GCAs apply to vessels participating in the limited entry fixed gear fishery.

(1) North Coast Recreational Yelloweye Rockfish Conservation Area. The latitude and longitude coordinates of the North Coast Recreational Yelloweye Rockfish Conservation Area (YRCA) boundaries are specified at § 660.390. The North Coast Recreational YRCA is designated as an area to be avoided (a voluntary closure) by commercial fixed gear fishers.

(2) North Coast Commercial Yelloweye Rockfish Conservation Area. The latitude and longitude coordinates of the North Coast Commercial Yelloweye Rockfish Conservation Area (YRCA) boundaries are specified at § 660.390. Fishing with limited entry fixed gear is prohibited within the North Coast Commercial YRCA. It is unlawful to take and retain, possess, or land groundfish taken with limited entry fixed gear within the North Coast Commercial YRCA.

(3) South Coast Recreational Yelloweye Rockfish Conservation Area. The latitude and longitude coordinates of the South Coast Recreational Yelloweye Rockfish Conservation Area (YRCA) boundaries are specified at § 660.390. The South Coast Recreational YRCA is designated as an area to be avoided (a voluntary closure) by commercial fixed gear fishers.

(4) Cowcod Conservation Areas. The latitude and longitude coordinates of the Cowcod Conservation Areas (CCAs) boundaries are specified at § 660.390. It is unlawful to take and retain, possess, or land groundfish within the CCAs, except for species authorized in this paragraph caught according to gear requirements in this paragraph, when those waters are open to fishing. Commercial fishing vessels may transit through the Western CCA with their gear stowed and groundfish on board only in a corridor through the Western CCA bounded on the north by the latitude line at 33°00.50′ N. lat., and bounded on the south by the latitude line at 32°59.50′ N. lat. Fishing with limited entry fixed gear is prohibited within the CCAs, except as follows:

(i) Fishing for “other flatfish” is permitted within the CCAs using no more than 12 hooks, “Number 2” or smaller, which measure no more than 11 mm (0.44 inches) point to shank, and up to two 1-lb (0.45-kg) weights per line.

(ii) Fishing for rockfish and lingcod is permitted shoreward of the 20 fm (37 m) depth contour.

(iii) If a vessel has VMS, as required at § 660.312, with position reports set at 15 minute intervals, fishing is permitted within the boundaries of the Western CCA described at § 660.390(f) but outside the boundaries of the 175-fm (320-m) CCAs described at § 660.390(j). Vessels with commercial fishing gear onboard are prohibited from transiting the 175-fm (320-m) CCAs.

(5) Non-trawl Rockfish Conservation Areas. Fishing for groundfish with non-trawl gear (limited entry or open access longline and pot or trap, open access hook-and-line, gillnet, set net, trammel net and spear) is prohibited within the non-trawl rockfish conservation area (RCA). An exception to this prohibition is that commercial fishing for “other flatfish” is permitted within the non-trawl RCA off California (between 42° N. lat. south to the U.S./Mexico border) using no more than 12 hooks, “Number 2” or smaller, which measure no more than 11 mm (0.44 inches) point to shank, and up to two 1-lb (0.45-kg) weights per line. It is unlawful to take and retain, possess, or land groundfish taken with non-trawl gear within the non-trawl RCA, unless otherwise authorized in this section. Limited entry fixed gear vessels may transit through the non-trawl RCA, with or without groundfish on board. These restrictions do not apply to vessels fishing for species other than groundfish with non-trawl gear, although non-trawl vessels on a fishing trip for species other than groundfish that occurs within the non-trawl RCA may not retain any groundfish taken on that trip. If a vessel fishes in the non-trawl RCA, it may not participate in any fishing on that trip that is prohibited by the restrictions that apply within the non-trawl RCA. [For example, if a vessel participates in the salmon troll fishery within the RCA, the vessel cannot on the same trip participate in the sablefish fishery outside of the RCA.] Boundaries for the non-trawl RCA throughout the year are provided in the header to Table 4 (North) and Table 4 (South) of this subpart and may be modified by NMFS inseason pursuant to § 660.370(c). Non-trawl RCA boundaries are defined by specific latitude and longitude coordinates and are provided at §§ 660.390 through 660.394.

(6) Farallon Islands. Under California law, commercial fishing for all groundfish is prohibited between the shoreline and the 10 fm (18 m) depth contour around the Farallon Islands. An exception to this prohibition is that commercial fishing for “other flatfish” is permitted around the Farallon Islands using no more than 12 hooks, “Number 2” or smaller, which measure no more than 11 mm (0.44 inches) point to shank, and up to two 1-lb (0.45-kg) weights per line. (See Table 4 (South) of this subpart.) For a definition of the Farallon Islands, see § 660.390.

(7) Cordell Banks. Commercial fishing for groundfish is prohibited in waters of depths less than 100 fm (183 m) around Cordell Banks, as defined by specific latitude and longitude coordinates at § 660.390. An exception to this prohibition is that commercial fishing for “other flatfish” is permitted around Cordell Banks using no more than 12 hooks, “Number 2” or smaller, which measure no more than 11 mm (0.44 inches) point to shank, and up to two 1-lb (0.45-kg) weights per line.

(8) Essential Fish Habitat Conservation Areas. The Essential Fish Habitat Conservation Areas (EFHCAs) are closed areas, defined by specific latitude and longitude coordinates at §§ 660.396 through 660.399, where specified types of fishing are prohibited. Prohibitions applying to specific EFHCAs are found at § 660.306.

16. In § 660.383, paragraphs (a), (b) introductory text, (b)(2)(i)(A), (b)(2)(iii) introductory text, (c), (d)(1)(i), (d)(2)(i), and (d)(3)(i) are revised to read as follows:

§ 660.383 Open access fishery management measures.

(a) General. Groundfish species taken in open access fisheries will be managed with cumulative trip limits (see trip limits in Tables 5 (North) and 5 (South) of this subpart), size limits (see § 660.370(h)(5)), seasons (see seasons in Tables 5 (North) and 5 (South) of this subpart), gear restrictions (see paragraph (b) of this section), and closed areas (see paragraph (c) of this section and §§ 660.390 through 660.399). Unless otherwise specified, a vessel operating in the open access fishery is subject to, and must not exceed any trip limit, frequency limit, and/or size limit for the open access fishery. Cowcod retention is prohibited in all fisheries and groundfish vessels operating south of Point Conception must adhere to CCA restrictions (see paragraph (c)(4) of this section and § 660.390). Retention of yelloweye rockfish and canary rockfish is prohibited in all open access fisheries. For information on the open access daily/weekly trip limit fishery for sablefish, see § 660.372(c) and the trip limits in Tables 5 (North) and 5 (South) of this subpart. Open access vessels are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies, see § 660.371. The trip limits in Table 5 (North) and Table 5 (South) of this subpart apply to vessels participating in the open access fisheries and may not be exceeded. Federal commercial groundfish regulations are not intended to supersede any more restrictive state commercial groundfish regulations relating to federally managed groundfish.

(b) Gear restrictions. Open access gear is gear used to take and retain groundfish from a vessel that is not registered for use with a limited entry permit for the Pacific Coast groundfish fishery with an endorsement for the gear used to harvest the groundfish. This includes longline, trap, pot, hook-and-line (fixed or mobile), setnet (anchored gillnet or trammel net, which are permissible south of 38° N. lat. only), spear and non-groundfish trawl gear (trawls used to target non-groundfish species: pink shrimp or ridgeback prawns, and, south of Pt. Arena, CA (38°57.50′ N. lat.), California halibut or sea cucumbers). Restrictions for gears used in the open access fisheries are as follows:

* * * * *

(2) * * *

(i) * * *

(A) Marked at the surface, at each terminal end, with a pole, flag, light, radar reflector, and a buoy except as provided in paragraph (b)(2)(ii) of this section.

* * * * *

(iii) A buoy used to mark fixed gear under paragraph (b)(2)(i)(A) or (b)(2)(ii) of this section must be marked with a number clearly identifying the owner or operator of the vessel. The number may be either:

* * * * *

(c) Open Access Groundfish Conservation Areas. A Groundfish Conservation Area (GCA), a type of closed area, is a geographic area defined by coordinates expressed in degrees latitude and longitude. The following GCAs apply to participants in the open access fishery.

(1) North Coast Recreational Yelloweye Rockfish Conservation Area. The latitude and longitude coordinates of the North Coast Recreational Yelloweye Rockfish Conservation Area (YRCA) boundaries are specified at § 660.390. The North Coast Recreational YRCA is designated as an area to be avoided (a voluntary closure) by commercial fixed gear fishers.

(2) North Coast Commercial Yelloweye Rockfish Conservation Area. The latitude and longitude coordinates of the North Coast Commercial Yelloweye Rockfish Conservation Area (YRCA) boundaries are specified at § 660.390. Fishing with open access gear is prohibited within the North Coast Commercial YRCA. It is unlawful to take and retain, possess, or land groundfish within the North Coast Commercial YRCA.

(3) South Coast Recreational Yelloweye Rockfish Conservation Area. The latitude and longitude coordinates of the South Coast Recreational Yelloweye Rockfish Conservation Area (YRCA) boundaries are specified at § 660.390. The South Coast Recreational YRCA is designated as an area to be avoided (a voluntary closure) by commercial fixed gear fishers.

(4) Salmon Troll Yelloweye Rockfish Conservation Area. The latitude and longitude coordinates of the Salmon Troll Yelloweye Rockfish Conservation Area (YRCA) boundaries are specified in the groundfish regulations at § 660.390 and in the salmon regulations at § 660.405. Fishing with salmon troll gear is prohibited within the Salmon Troll YRCA. It is unlawful for commercial salmon troll vessels to take and retain, possess, or land fish within the Salmon Troll YRCA.

(5) Cowcod Conservation Areas. The latitude and longitude coordinates of the Cowcod Conservation Areas (CCAs) boundaries are specified at § 660.390. It is unlawful to take and retain, possess, or land groundfish within the CCAs, except for species authorized in this paragraph caught according to gear requirements in this paragraph, when those waters are open to fishing. Commercial fishing vessels may transit through the Western CCA with their gear stowed and groundfish on board only in a corridor through the Western CCA bounded on the north by the latitude line at 33°00.50′ N. lat., and bounded on the south by the latitude line at 32°59.50′ N. lat. Fishing with open access gear is prohibited in the CCAs, except as follows:

(i) Fishing for “other flatfish” is permitted within the CCAs using no more than 12 hooks, “Number 2” or smaller, which measure no more than 11 mm (0.44 inches) point to shank, and up to two 1 lb (0.45 kg) weights per line.

(ii) Fishing with open access non-trawl gear for rockfish and lingcod is permitted shoreward of the 20 fm (37 m) depth contour.

(iii) If an open access non-trawl vessel has VMS, as required at § 660.312, with position reports set at 15 minute intervals, fishing is permitted with open access non-trawl gear within the boundaries of the Western CCA described at § 660.390(f) but outside the boundaries of the 175-fm (320-m) CCAs described at § 660.390(j). Vessels with commercial fishing gear onboard are prohibited from transiting the 175-fm (320-m) CCAs.

(6) Non-trawl Rockfish Conservation Area for the open access fisheries. Fishing for groundfish with non-trawl gear (limited entry or open access longline and pot or trap, open access hook-and-line, gillnet, set net, trammel net and spear) is prohibited within the non-trawl rockfish conservation area (RCA). An exception to this prohibition is that commercial fishing for “other flatfish” is permitted within the non-trawl RCA off California (between 42° N. lat. south to the U.S./Mexico border) using no more than 12 hooks, “Number 2” or smaller, which measure no more than 11 mm (0.44 inches) point to shank, and up to two 1 lb (0.45 kg) weights per line. It is unlawful to take and retain, possess, or land groundfish taken with non-trawl gear within the non-trawl RCA, unless otherwise authorized in this section. Open access non-trawl gear vessels may transit through the non-trawl RCA, with or without groundfish on board. These restrictions do not apply to vessels fishing for species other than groundfish or Pacific halibut with non-trawl gear, although non-trawl vessels on a fishing trip for species other than groundfish and Pacific halibut that occurs within the non-trawl RCA may not retain any groundfish taken on that trip (The Pacific halibut regulations at 50 CFR 300.63(e) describe the RCA that applies to the commercial halibut fishery). If a vessel fishes in the non-trawl RCA, it may not participate in any fishing on that trip that is prohibited by the restrictions that apply within the non-trawl RCA. Retention of groundfish caught by salmon troll gear is prohibited in the non-trawl RCA, except that salmon trollers may retain yellowtail rockfish caught both inside and outside the non-trawl RCA subject to the limits in Tables 5 (North) and 5 (South) of this subpart. Boundaries for the non-trawl RCA throughout the year are provided in the open access trip limit tables, Table 5 (North) and Table 5(South) of this subpart and may be modified by NMFS inseason pursuant to § 660.370(c). Non-trawl RCA boundaries are defined by specific latitude and longitude coordinates which are specified at §§ 660.390 through 660.394.

(7) Non-groundfish Trawl Rockfish Conservation Area for the open access non-groundfish trawl fisheries.

(i) Fishing with any non-groundfish trawl gear in the open access fisheries is prohibited within the non-groundfish trawl RCA coastwide, except as authorized in this paragraph. Nothing in these Federal regulations supercedes any state regulations that may prohibit trawling shoreward of the 3 nm state waters boundary line. Trawlers operating in the open access fisheries with legal groundfish trawl gear are considered to be operating in the non-groundfish trawl fishery and are, therefore, prohibited from fishing in the non-groundfish trawl RCA. Coastwide, it is unlawful to take and retain, possess, or land any species of fish taken with non-groundfish trawl gear within the non-groundfish trawl RCA, except as permitted in this paragraph for vessels participating in the pink shrimp and ridgeback prawn trawl fisheries. Boundaries for the non-groundfish trawl RCA throughout the year in the open access fishery are provided in Table 5 (North) and Table 5 (South) of this subpart and may be modified by NMFS inseason pursuant to § 660.370(c). Non-groundfish trawl RCA boundaries are defined by specific latitude and longitude coordinates which are specified below at §§ 660.390 through 660.394. The non-groundfish trawl RCA is closed coastwide to open access non-groundfish trawl fishing, except as follows:

(A) Pink shrimp trawling is permitted in the non-groundfish trawl RCA, and

(B) When the shoreward line of the non-groundfish trawl RCA is shallower than 100 fm (183 m), the ridgeback prawn trawl fishery south of 34°27.00′ N. lat. may operate out to the 100 fm (183 m) boundary line specified at § 660.393 (i.e., the shoreward boundary of the non-groundfish trawl RCA is at the 100 fm (183 m) boundary line all year for the ridgeback prawn trawl fishery in this area).

(ii) If a vessel fishes in the non-groundfish trawl RCA, it may not participate in any fishing on that trip that is prohibited by the restrictions that apply within the non-groundfish trawl RCA. [For example, if a vessel participates in the pink shrimp fishery within the RCA, the vessel cannot on the same trip participate in the DTS fishery seaward of the RCA.]

(8) Farallon Islands. Under California law, commercial fishing for all groundfish is prohibited between the shoreline and the 10 fm (18 m) depth contour around the Farallon Islands. An exception to this prohibition is that commercial fishing for “other flatfish” is permitted around the Farallon Islands using no more than 12 hooks, “Number 2” or smaller, which measure no more than 11 mm (0.44 inches) point to shank, and up to two 1 lb (0.45 kg) weights per line. (See Table 5 (South) of this subpart.) For a definition of the Farallon Islands, see § 660.390.

(9) Cordell Banks. Commercial fishing for groundfish is prohibited in waters of depths less than 100-fm (183-m) around Cordell Banks, as defined by specific latitude and longitude coordinates at § 660.390. An exception to this prohibition is that commercial fishing for “other flatfish” is permitted around Cordell Banks using no more than 12 hooks, “Number 2” or smaller, which measure no more than 11 mm (0.44 inches) point to shank, and up to two 1 lb (0.45 kg) weights per line.

(10) Essential Fish Habitat Conservation Areas. The Essential Fish Habitat Conservation Areas (EFHCAs) are closed areas, defined by specific latitude and longitude coordinates at §§ 660.396 through 660.399, where specified types of fishing are prohibited. Prohibitions applying to specific EFHCAs are found at § 660.306.

(d) * * *

(1) * * *

(i) It is not registered to a valid Federal limited entry groundfish permit issued under § 660.333 for trawl gear; and

* * * * *

(2) * * *

(i) It is not registered to a valid Federal limited entry groundfish permit issued under § 660.333 for trawl gear;

* * * * *

(3) * * *

(i) It is not registered to a valid Federal limited entry groundfish permit issued under § 660.333 for trawl gear;

* * * * *

17. In § 660.384, paragraphs (c)(1)(i), (c)(1)(iii), (c)(2)(i), (c)(2)(iii), (c)(3) introductory text, (c)(3)(i)(A)(1) through (4), (c)(3)(i)(B), (c)(3)(ii)(A)(1) through (4), (c)(3)(ii)(B), (c)(3)(iii)(A)(1) through (4), (c)(3)(iv), (c)(3)(v) introductory text, and (c)(3)(v)(A)(1) through (3) are revised; and paragraph (c)(3)(i)(E) is added to read as follows:

§ 660.384 Recreational fishery management measures.

* * * * *

(c) * * *

(1) * * *

(i) Recreational Groundfish Conservation Areas off Washington.

(A) North Coast Recreational Yelloweye Rockfish Conservation Area. Recreational fishing for groundfish and halibut is prohibited within the North Coast Recreational Yelloweye Rockfish Conservation Area (YRCA). It is unlawful for recreational fishing vessels to take and retain, possess, or land groundfish within the North Coast Recreational YRCA. The North Coast Recreational YRCA is defined by latitude and longitude coordinates specified at § 660.390.

(B) South Coast Recreational Yelloweye Rockfish Conservation Area. Recreational fishing for groundfish and halibut is prohibited within the South Coast Recreational YRCA. It is unlawful for recreational fishing vessels to take and retain, possess, or land groundfish within the South Coast Recreational YRCA. The South Coast Recreational YRCA is defined by latitude and longitude coordinates specified at § 660.390.

(C) Recreational Rockfish Conservation Area. Fishing for groundfish with recreational gear is prohibited within the recreational RCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.]

(1) Between the U.S. border with Canada and the Queets River, recreational fishing for groundfish is prohibited seaward of a boundary line approximating the 20-fm (37-m) depth contour from May 1 through September 30, except on days when the Pacific halibut fishery is open in this area. Days open to Pacific halibut recreational fishing off Washington are announced on the NMFS hotline at (206)526 6667 or (800)662 9825. Coordinates for the boundary line approximating the 20-fm (37-m) depth contour are listed in § 660.391.

* * * * *

(2) Between the Queets River and Leadbetter Point, recreational fishing for groundfish is prohibited seaward of a boundary line approximating the 30-fm (55-m) depth contour in from March 17, 2007, through July 31, 2007, except that recreational fishing for sablefish and Pacific cod is permitted within the recreational RCA from May 1 through June 15. In 2008, recreational fishing for groundfish is prohibited seaward of a boundary line approximating the 30-fm (55-m) depth contour in from March 15, 2008, through July 31, 2008, except that recreational fishing for sablefish and Pacific cod is permitted within the recreational RCA from May 1 through June 15. Coordinates for the boundary line approximating the 30-fm (55-m) depth contour are listed in § 660.391.

* * * * *

(iii) Lingcod. In areas of the EEZ seaward of Washington that are open to recreational groundfish fishing and when the recreational season for lingcod is open, there is a bag limit of 2 lingcod per day, which may be no smaller than 22 in (56 cm) total length. The recreational fishing season for lingcod is open as follows:

(A) Between the U.S./Canada border to 48°10′ N. lat. (Cape Alava) (Washington Marine Area 4), recreational fishing for lingcod is open, for 2007, from April 15 through October 13, and for 2008, from April 15 through October 15.

(B) Between 48°10′ N. lat. (Cape Alava) and 46°16′ N. lat. (Washington/Oregon border) (Washington Marine Areas 1-3), recreational fishing for lingcod is open for 2007, from March 17 through October 13, and for 2008, from March 15 through October 18.

(2) * * *

(i) Recreational Groundfish Conservation Areas off Oregon.

(A) Stonewall Bank Yelloweye Rockfish Conservation Area. Recreational fishing for groundfish and halibut is prohibited within the Stonewall Bank YRCA. It is unlawful for recreational fishing vessels to take and retain, possess, or land groundfish within the Stonewall Bank YRCA. The Stonewall Bank YRCA is defined by latitude and longitude coordinates specified at § 660.390.

(B) Recreational Rockfish Conservation Area. Fishing for groundfish with recreational gear is prohibited within the recreational RCA, a type of closed area or GCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.] Off Oregon, from April 1 through September 30, recreational fishing for groundfish is prohibited seaward of a recreational RCA boundary line approximating the 40 fm (73 m) depth contour. Coordinates for the boundary line approximating the 40 fm (73 m) depth contour are listed at § 660.391.

(C) Essential Fish Habitat Conservation Areas. The Essential Fish Habitat Conservation Areas (EFHCAs) are closed areas, defined by specific latitude and longitude coordinates at §§ 660.396 through 660.399, where specified types of fishing are prohibited. Prohibitions applying to specific EFHCAs are found at § 660.306.

* * * * *

(iii) Bag limits, size limits. The bag limits for each person engaged in recreational fishing in the EEZ seaward of Oregon are two lingcod per day, which may be no smaller than 22 in (56 cm) total length; and 8 marine fish per day, which excludes Pacific halibut, salmonids, tuna, perch species, sturgeon, sanddabs, flatfish, lingcod, striped bass, hybrid bass, offshore pelagic species and baitfish (herring, smelt, anchovies and sardines), but which includes rockfish, greenling, cabezon and other groundfish species. The bag limit for all flatfish is 25 fish per day, which excludes Pacific halibut, but which includes all soles, flounders and Pacific sanddabs. In the Pacific halibut fisheries, retention of groundfish is governed in part by annual management measures for Pacific halibut fisheries, which are published in the Federal Register. Between the Oregon border with Washington and Cape Falcon, when Pacific halibut are onboard the vessel, groundfish may not be taken and retained, possessed or landed, except sablefish and Pacific cod. Between Cape Falcon and Humbug Mountain, during days open to the Oregon Central Coast “all-depth” sport halibut fishery, when Pacific halibut are onboard the vessel, no groundfish may be taken and retained, possessed or landed, except sablefish. “All-depth” season days are established in the annual management measures for Pacific halibut fisheries, which are published in the Federal Register and are announced on the NMFS halibut hotline, 1 800 662 9825. The minimum size limit for cabezon retained in the recreational fishery is 16 in (41 cm), and for greenling is 10 in (26 cm). Taking and retaining canary rockfish and yelloweye rockfish is prohibited at all times and in all areas.

(3) California. Seaward of California, California law provides that, in times and areas when the recreational fishery is open, there is a 20 fish bag limit for all species of finfish, within which no more than 10 fish of any one species may be taken or possessed by any one person. [Note: There are some exceptions to this rule. The following groundfish species are not subject to a bag limit: petrale sole, Pacific sanddab and starry flounder.] For groundfish species not specifically mentioned in this paragraph, fishers are subject to the overall 20-fish bag limit for all species of finfish and the depth restrictions at paragraph (3)(i). California state law may provide regulations similar to Federal regulations for the following state-managed species: ocean whitefish, California sheephead, and all greenlings of the genus Hexagrammos. Kelp greenling is the only federally-managed greenling. Retention of cowcod, yelloweye rockfish, and canary rockfish is prohibited in the recreational fishery seaward of California all year in all areas. For each person engaged in recreational fishing in the EEZ seaward of California, the following closed areas, seasons, bag limits, and size limits apply:

(i) * * *

(A) * * *

(1) Between 42° N. lat. (California/Oregon border) and 40°10.00′ N. lat. (North Region), recreational fishing for all groundfish (except “other flatfish” as specified in paragraph (c)(3)(iv) of this section) is prohibited seaward of a boundary line approximating the 30 fm (55 m) depth contour along the mainland coast and along islands and offshore seamounts from May 1 through December 31; and is closed entirely from January 1 through April 30 (i.e., prohibited seaward of the shoreline). Coordinates for the boundary line approximating the 30 fm (55 m) depth contour are specified in § 660.391.

(2) Between 40°10′ N. lat. and 37°11′ N. lat. (North Central Region), recreational fishing for all groundfish (except “other flatfish” as specified in paragraph (c)(3)(iv) of this section) is prohibited seaward of the 30 fm (55 m) depth contour along the mainland coast and along islands and offshore seamounts from June 1 through November 30; and is closed entirely from January 1 through May 31 and from December 1 - 31 (i.e., prohibited seaward of the shoreline). Closures around the Farallon Islands (see paragraph (c)(3)(i)(C) of this section) and Cordell Banks (see paragraph (c)(3)(i)(D) of this section) also apply in this area.

(3) Between 37°11′ N. lat. and 34°27′ N. lat. (South Central Regions - Monterey and Morro Bay), recreational fishing for all groundfish (except “other flatfish” as specified in paragraph (c)(3)(iv) of this section) is prohibited seaward of a boundary line approximating the 40 fm (73 m) depth contour along the mainland coast and along islands and offshore seamounts from May 1 through November 30; and is closed entirely from January 1 through April 30 and from December 1 - 31 (i.e., prohibited seaward of the shoreline). Coordinates for the boundary line approximating the 40 fm (73 m) depth contour are specified in § 660.391.

(4) South of 34°27′ N. latitude (South Region), recreational fishing for all groundfish (except California scorpionfish as specified below in this paragraph and in paragraph (v) and “other flatfish” as specified in paragraph (c)(3)(iv) of this section) is prohibited seaward of a boundary line approximating the 60 fm (110 m) depth contour from March 1 through December 31 along the mainland coast and along islands and offshore seamounts, except in the CCAs where fishing is prohibited seaward of the 20 fm (37 m) depth contour when the fishing season is open (see paragraph (c)(3)(i)(B) of this section). Recreational fishing for all groundfish (except California scorpionfish and “other flatfish”) is closed entirely from January 1 through February 28 (i.e., prohibited seaward of the shoreline). Recreational fishing for California scorpionfish south of 34°27′ N. lat. is prohibited seaward of a boundary line approximating the 40 fm (73 m) depth contour from January 1 through February 28, and seaward of the 60 fm (110 m) depth contour from March 1 through December 31, except in the CCAs where fishing is prohibited seaward of the 20 fm (37 m) depth contour when the fishing season is open. Coordinates for the boundary line approximating the 40 fm (73 m) and 60 fm (110 m) depth contours are specified in §§ 660.391 and 660.392.

(B) Cowcod Conservation Areas. The latitude and longitude coordinates of the Cowcod Conservation Areas (CCAs) boundaries are specified at § 660.390. In general, recreational fishing for all groundfish is prohibited within the CCAs, except that fishing for “other flatfish” is permitted within the CCAs as specified in paragraph (c)(3)(iv) of this section. However, recreational fishing for the following species is permitted shoreward of the 20 fm (37 m) depth contour when the season for those species is open south of 34°27′ N. lat.: minor nearshore rockfish, cabezon, kelp greenling, lingcod, California scorpionfish, and “other flatfish” (subject to gear requirements at paragraph (c)(3)(iv) of this section during January-February). [NOTE: California state regulations also permit recreational fishing for California sheephead, ocean whitefish, and all greenlings of the genus Hexagrammos shoreward of the 20 fm (37 m) depth contour in the CCAs when the season for the RCG complex is open south of 34°27′ N. lat.] It is unlawful to take and retain, possess, or land groundfish within the CCAs, except for species authorized in this section.

* * * * *

(E) Essential Fish Habitat Conservation Areas. The Essential Fish Habitat Conservation Areas (EFHCAs) are closed areas, defined by specific latitude and longitude coordinates at §§ 660.396 through 660.399, where specified types of fishing are prohibited. Prohibitions applying to specific EFHCAs are found at § 660.306.

(ii) * * *

(A) * * *

(1) North of 40°10′ N. lat. (North Region), recreational fishing for the RCG Complex is open from May 1 through December 31.

(2) Between 40°10′ N. lat. and 37°11′ N. lat. (North Central Region), recreational fishing for the RCG Complex is open from June 1 through November 30 (i.e., it′s closed from January 1 through May 31 and from December 1 - 31).

(3) Between 37°11′ N. lat. and 34°27′ N. lat. (South Central Regions - Monterey and Morro Bay), recreational fishing for the RCG Complex is open from May 1 through November 30 (i.e., it′s closed from January 1 through April 30 and from December 1 - 31).

(4) South of 34°27′ N. lat. (South Region), recreational fishing for the RCG Complex is open from March 1 through December 31 (i.e., it′s closed from January 1 through February 29).

(B) Bag limits, hook limits. In times and areas when the recreational season for the RCG Complex is open, there is a limit of 2 hooks and 1 line when fishing for rockfish. The bag limit is 10 RCG Complex fish per day coastwide. Retention of canary rockfish, yelloweye rockfish and cowcod is prohibited. North of 40°10′ N. lat., within the 10 RCG Complex fish per day limit, no more than 2 may be bocaccio, no more than 2 may be greenling (kelp and/or other greenlings) and no more than 1 may be cabezon. South of 40°10′ N. lat., within the 10 RCG Complex fish per day limit, no more than 1 may be bocaccio, no more than 2 may be greenling (kelp and/or other greenlings) and no more than 1 may be cabezon. Multi-day limits are authorized by a valid permit issued by California and must not exceed the daily limit multiplied by the number of days in the fishing trip.

* * * * *

(iii) * * *

(A) * * *

(1) North of 40°10′ N. lat. (North Region), recreational fishing for lingcod is open from May 1 through November 30 (i.e., it′s closed from January 1 through April 30 and from December 1 - 31).

(2) Between 40°10′ N. lat. and 37°11′ N. lat. (North Central Region), recreational fishing for lingcod is open from June 1 through November 30 (i.e., it′s closed from January 1 through May 31 and from December 1 - 31).

(3) Between 37°11′ N. lat. and 34°27′ N. lat. (South Central Regions - Monterey and Morro Bay), recreational fishing for lingcod is open from May 1 through November 30 (i.e., it′s closed from January 1 through April 30 and from December 1 - 31).

(4) South of 34°27′ N. lat. (South Region), recreational fishing for lingcod is open from April 1 through November 30 (i.e., it′s closed from January 1 through March 31 and from December 1 - 31).

* * * * *

(iv) “Other flatfish”. Coastwide off California, recreational fishing for “other flatfish” is permitted both shoreward of and within the closed areas described in paragraph (c)(3)(i) of this section. “Other flatfish” are defined at § 660.302 and include butter sole, curlfin sole, flathead sole, Pacific sanddab, rex sole, rock sole, and sand sole. Recreational fishing for “other flatfish” is permitted within the closed areas, subject to a limit of up to 12 hooks, “Number 2” or smaller, which measure no more than 11 mm (0.44 inches) point to shank, and up to 2 lb (0.91 kg) of weight per line. “Other flatfish,” except Pacific sanddab, are subject to the overall 20 fish bag limit for all species of finfish, of which there may be no more than 10 fish of any one species. There is no season restriction or size limit for “other flatfish;” however, it is prohibited to filet “other flatfish” at sea.

(v) California scorpionfish. California scorpionfish predominately occur south of 40°10′ N. lat.

(A) * * *

(1) Between 40°10′ N. lat. and 37°11′ N. lat. (North Central Region), recreational fishing for California scorpionfish is open from June 1 through November 30 (i.e., it′s closed from January 1 through May 31 and from December 1 through December 31).

(2) Between 37°11′ N. lat. and 34°27′ N. lat. (South Central Regions - Monterey and Morro Bay), recreational fishing for California scorpionfish is open from May 1 through November 30 (i.e., it′s closed from January 1 through April 30 and from December 1 through December 31).

(3) South of 34°27′ N. lat. (South Region), recreational fishing for California scorpionfish is open from January 1 through December 31.

* * * * *

18. In § 660.385, paragraphs (a), (b) introductory text, (b)(1) and (2), (b)(5), (d), (f), and (g) are revised; and paragraph (b)(7) is removed to read as follows:

§ 660.385 Washington coastal tribal fisheries management measures.

* * * * *

(a) Sablefish. The tribal allocation is 561.4 mt per year. This allocation is, for each year, 10 percent of the Monterey through Vancouver area OY, less 1.9 percent estimated discard mortality.

(b) Rockfish. The tribes will require full retention of all overfished rockfish species and all other marketable rockfish species during treaty fisheries.

(1) For the commercial harvest of black rockfish off Washington State, a harvest guideline of: 20,000 lb (9,072 kg) north of Cape Alava, WA (48°09.50′ N. lat.) and 10,000 lb (4,536 kg) between Destruction Island, WA (47°40′ N. lat.) and Leadbetter Point, WA (46°38.17′ N. lat.). There are no tribal harvest restrictions for the area between Cape Alava and Destruction Island.

(2) Thornyheads. The tribes will manage their fisheries to the limited entry trip limits in place at the beginning on the year for both shortspine and longspine thornyheads as follows:

(i) Trawl gear. (A) Shortspine thornyhead cumulative trip limits are as follows:

(1) small and large footrope trawl gear- 7,500-lb (3,402-kg) per 2 months.

(2) selective flatfish trawl gear- 3,000-lb (1,361-kg) per 2 months.

(3) multiple bottom trawl gear- 3,000-lb (1,361-kg) per 2 months.

(B) Longspine thornyhead cumulative trip limits are as follows:

(1) small and large footrope trawl gear- 22,000-lb (9,979-kg) per 2 months.

(2) selective flatfish trawl gear- 3,000-lb (1,361-kg) per 2 months.

(3) multiple bottom trawl gear- 3,000-lb (1,361-kg) per 2 months.

(ii) Fixed gear. (A) Shortspine thornyhead cumulative trip limits are 2,000-lb (907-kg) per 2 months.

(B) Longspine thornyhead cumulative trip limits are 10,000-lb (4,536-kg) per 2 months.

* * * * *

(5) The Makah Tribe will manage the midwater trawl fisheries as follows: yellowtail rockfish taken in the directed tribal mid-water trawl fisheries are subject to a cumulative limit of 180,000 lb (81,647 kg) per 2 month period for the entire fleet. Landings of widow rockfish must not exceed 10 percent of the weight of yellowtail rockfish landed in any two-month period. These limits may be adjusted by the tribe inseason to minimize the incidental catch of canary rockfish and widow rockfish, provided the average 2-month cumulative yellowtail rockfish limit does not exceed 180,000 lb (81,647 kg) for the fleet.

* * * * *

(d) Flatfish and other fish. Treaty fishing vessels using bottom trawl gear are subject to the limits applicable to the non-tribal limited entry trawl fishery for Dover sole, English sole, rex sole, arrowtooth flounder, and other flatfish in place at the beginning of the season. For Dover sole and arrowtooth flounder, the limited entry trip limits in place at the beginning of the season will be combined across periods and the fleet to create a cumulative harvest target. The limits available to individual vessels will then be adjusted inseason to stay within the overall harvest target as well as estimated impacts to overfished species. For petrale sole, treaty fishing vessels are restricted to a 50,000 lb (22,680 kg) per 2 month limit for the entire year. Trawl vessels are restricted to using small footrope trawl gear.

* * * * *

(f) Pacific cod. There is a tribal harvest guideline of 400 mt of Pacific cod. The tribes will manage their fisheries to stay within this harvest guideline.

(g) Spiny dogfish. The tribes will manage their spiny dogfish fishery within the limited entry trip limits for the non-tribal fisheries.

19. Section 660.390 is revised to read as follows:

§ 660.390 Groundfish conservation areas.

In § 660.302, a groundfish conservation area is defined in part as “a geographic area defined by coordinates expressed in degrees latitude and longitude, wherein fishing by a particular gear type or types may be prohibited.” While some groundfish conservation areas may be designed with the intent that their shape be determined by ocean bottom depth contours, their shapes are defined in regulation by latitude/longitude coordinates and are enforced by those coordinates. Latitude/longitude coordinates designating the large-scale boundaries for rockfish conservation areas are found in §§ 660.391 through 660.394. Fishing activity that is prohibited or permitted within a particular groundfish conservation area is detailed at §§ 660.381 through 660.384.

(a) North Coast Recreational Yelloweye Rockfish Conservation Area. The North Coast Recreational Yelloweye Rockfish Conservation Area (YRCA) is a C-shaped area off the northern Washington coast intended to protect yelloweye rockfish. The North Coast Recreational YRCA is defined by straight lines connecting the following specific latitude and longitude coordinates in the order listed:

(1) 48°18.00′ N. lat.; 125°18.00′ W. long.;

(2) 48°18.00′ N. lat.; 124°59.00′ W. long.;

(3) 48°11.00′ N. lat.; 124°59.00′ W. long.;

(4) 48°11.00′ N. lat.; 125°11.00′ W. long.;

(5) 48°04.00′ N. lat.; 125°11.00′ W. long.;

(6) 48°04.00′ N. lat.; 124°59.00′ W. long.;

(7) 48°00.00′ N. lat.; 124°59.00′ W. long.;

(8) 48°00.00′ N. lat.; 125°18.00′ W. long.;

and connecting back to 48°18.00′ N. lat.; 125°18.00′ W. long.

(b) North Coast Commercial Yelloweye Rockfish Conservation Area. The North Coast Commercial Yelloweye Rockfish Conservation Area (YRCA) is an area off the northern Washington coast, overlapping the northern part of North Coast Recreational YRCA, intended to protect yelloweye rockfish. The North Coast Commercial YRCA is defined by straight lines connecting the following specific latitude and longitude coordinates in the order listed:

(1) 48°11.77′ N. lat., 125°13.03′ W. long.;

(2) 48°16.43′ N. lat., 125°07.55′ W. long.;

(3) 48°14.72′ N. lat., 125°01.84′ W. long.;

(4) 48°13.36′ N. lat., 125°03.20′ W. long.;

(5) 48°12.74′ N. lat., 125°05.83′ W. long.;

(6) 48°11.55′ N. lat., 125°04.99′ W. long.;

(7) 48°09.96′ N. lat., 125°06.63′ W. long.;

(8) 48°09.68′ N. lat., 125°08.75′ W. long.;

and connecting back to 48°11.77′ N. lat., 125°13.03′ W. long.

(c) Salmon Troll Yelloweye Rockfish Conservation Area. The Salmon Troll Yelloweye Rockfish Conservation Area (YRCA) is an area off the northern Washington coast, overlapping the southern part of North Coast Recreational YRCA, intended to protect yelloweye rockfish. The Salmon Troll YRCA is defined by straight lines connecting the following specific latitude and longitude coordinates in the order listed:

(1) 48°00.00′ N. lat., 125°14.00′ W. long.;

(2) 48°02.00′ N. lat., 125°14.00′ W. long.;

(3) 48°00.00′ N. lat., 125°16.50′ W. long.;

(4) 48°02.00′ N. lat., 125°16.50′ W. long.;

and connecting back to 48°00.00′ N. lat., 125°14.00′ W. long.

(d) South Coast Recreational Yelloweye Rockfish Conservation Area. The South Coast Recreational Yelloweye Rockfish Conservation Area (YRCA) is an area off the southern Washington coast intended to protect yelloweye rockfish. The South Coast Recreational YRCA is defined by straight lines connecting the following specific latitude and longitude coordinates in the order listed:

(1) 46°58.00′ N. lat., 124°48.00′ W. long.;

(2) 46°55.00′ N. lat., 124°48.00′ W. long.;

(3) 46°58.00′ N. lat., 124°49.00′ W. long.;

(4) 46°55.00′ N. lat., 124°49.00′ W. long.;

and connecting back to 46°58.00′ N. lat., 124°48.00′ W. long.

(e) Stonewall Bank Yelloweye Rockfish Conservation Area. The Stonewall Bank Yelloweye Rockfish Conservation Area (YRCA) is an area off central Oregon, near Stonewall Bank, intended to protect yelloweye rockfish. The Stonewall Bank YRCA is defined by straight lines connecting the following specific latitude and longitude coordinates in the order listed:

(1) 44°37.46′ N. lat.; 124°24.92′ W. long.;

(2) 44°37.46′ N. lat.; 124°23.63′ W. long.;

(3) 44°28.71′ N. lat.; 124°21.80′ W. long.;

(4) 44°28.71′ N. lat.; 124°24.10′ W. long.;

(5) 44°31.42′ N. lat.; 124°25.47′ W. long.;

and connecting back to 44°37.46′ N. lat.; 124°24.92′ W. long.

(f) Cowcod Conservation Areas. The Cowcod Conservation Areas (CCAs) are two areas off the southern California coast intended to protect cowcod. The Western CCA is an area south of Point Conception defined by the straight lines connecting the following specific latitude and longitude coordinates in the order listed:

(1) 33°50.00′ N. lat., 119°30.00′ W. long.;

(2) 33°50.00′ N. lat., 118°50.00′ W. long.;

(3) 32°20.00′ N. lat., 118°50.00′ W. long.;

(4) 32°20.00′ N. lat., 119°37.00′ W. long.;

(5) 33°00.00′ N. lat., 119°37.00′ W. long.;

(6) 33°00.00′ N. lat., 119°53.00′ W. long.;

(7) 33°33.00′ N. lat., 119°53.00′ W. long.;

(8) 33°33.00′ N. lat., 119°30.00′ W. long.;

and connecting back to 33°50.00′ N. lat., 119°30.00′ W. long.

(g) The Eastern CCA is an area west of San Diego defined by the straight lines connecting the following specific latitude and longitude coordinates in the order listed:

(1) 32°42.00′ N. lat., 118°02.00′ W. long.;

(2) 32°42.00′ N. lat., 117°50.00′ W. long.;

(3) 32°36.70′ N. lat., 117°50.00′ W. long.;

(4) 32°30.00′ N. lat., 117°53.50′ W. long.;

(5) 32°30.00′ N. lat., 118°02.00′ W. long.;

and connecting back to 32°42.00′ N. lat., 118°02.00′ W. long.

(h) Farallon Islands. The Farallon Islands, off San Francisco and San Mateo Counties, include Southeast Farallon Island, Middle Farallon Island, North Farallon Island and Noon Day Rock. Generally, the State of California prohibits fishing for groundfish between the shoreline and the 10-fm (18-m) depth contour around the Farallon Islands.

(i) Cordell Banks. Cordell Banks are located offshore of California′s Marin County. Generally, fishing for groundfish is prohibited in waters of depths less than 100-fm (183-m) around Cordell Banks as defined by specific latitude and longitude coordinates. The Cordell Banks closed area is defined by straight lines connecting the following specific latitude and longitude coordinates in the order listed:

(1) 38°03.18′ N. lat., 123°20.77′ W. long.;

(2) 38°06.29′ N. lat., 123°25.03′ W. long.;

(3) 38°06.34′ N. lat., 123°29.32′ W. long.;

(4) 38°04.57′ N. lat., 123°31.30′ W. long.;

(5) 38°02.32′ N. lat., 123°31.07′ W. long.;

(6) 38°00.00′ N. lat., 123°28.40′ W. long.;

(7) 37°58.10′ N. lat., 123°26.66′ W. long.;

(8) 37°55.07′ N. lat., 123°26.81′ W. long.;

and connecting back to 38°03.18′ N. lat., 123°20.77′ W. long.

(j) Rockfish Conservation Areas. RCA restrictions are detailed at §§ 660.381 through 660.384. RCAs may apply to a single gear type or to a group of gear types such as “trawl RCAs” or “non-trawl RCAs.” Specific latitude and longitude coordinates for RCA boundaries that approximate the depth contours selected for trawl, non-trawl, and recreational RCAs are provided in §§ 660.391 through 660.394. Also provided in §§ 660.391 through 660.394 are references to islands and rocks that serve as reference points for the RCAs.

(1) Trawl (Limited Entry and Open Access Nongroundfish Trawl Gears) Rockfish Conservation Areas. Trawl RCAs are intended to protect a complex of species, such as overfished shelf rockfish species, and have boundaries defined by specific latitude and longitude coordinates intended to approximate particular depth contours. Boundaries for the trawl RCA throughout the year are provided in Tables 3 and 5 (North) and Tables 3 and 5 (South) and may be modified by NMFS inseason pursuant to § 660.370(c). Trawl RCA boundaries are defined by specific latitude and longitude coordinates and are provided in §§ 660.391 through 660.394.

(2) Non-Trawl (Limited Entry Fixed Gear and Open Access Non-trawl Gears) Rockfish Conservation Areas. Non-trawl RCAs are intended to protect a complex of species, such as overfished shelf rockfish species, and have boundaries defined by specific latitude and longitude coordinates intended to approximate particular depth contours. Boundaries for the non-trawl RCA throughout the year are provided in Tables 4 and 5 (North) and Tables 4 and 5 (South) of this subpart and may be modified by NMFS inseason pursuant to § 660.370(c). Non-trawl RCA boundaries are defined by specific latitude and longitude coordinates and are provided in §§ 660.391 through 660.394.

(3) Recreational Rockfish Conservation Areas. Recreational RCAs are closed areas intended to protect overfished rockfish species. Recreational RCAs may either have boundaries defined by general depth contours or boundaries defined by specific latitude and longitude coordinates intended to approximate particular depth contours. Boundaries for the recreational RCAs throughout the year are provided in the text in § 660.384(c) under each state (Washington, Oregon and California) and may be modified by NMFS inseason pursuant to § 660.370. Recreational RCA boundaries are defined by specific latitude and longitude coordinates and are provided in §§ 660.391 through 660.394.

(k) 175-fm (320-m) Cowcod Conservation Areas. The 175-fm (320-m) Cowcod Conservation Areas (CCAs) are five areas off the southern California coast that are within the Western CCA described at § 660.390(f). They are intended to protect cowcod and are defined by latitude and longitude coordinates approximating the 175-fm (320-m) depth contour. The Tanner Bank Western 175-fm (320-m) CCA is an area defined by straight lines connecting the following specific latitude and longitude coordinates in the order listed:

(1) 33°04.87′ N. lat., 119°39.51′ W. long.;

(2) 33°05.85′ N. lat., 119°39.45′ W. long.;

(3) 33°06.14′ N. lat., 119°37.30′ W. long.;

(4) 33°03.61′ N. lat., 119°34.92′ W. long.;

(5) 33°02.99′ N. lat., 119°33.66′ W. long.;

(6) 33°01.99′ N. lat., 119°33.51′ W. long.;

(7) 33°00.64′ N. lat., 119°32.22′ W. long.;

(8) 32°59.63′ N. lat., 119°31.60′ W. long.;

(9) 32°57.50′ N. lat., 119°30.58′ W. long.;

(10) 32°56.51′ N. lat., 119°26.48′ W. long.;

(11) 32°57.22′ N. lat., 119°23.53′ W. long.;

(12) 32°57.06′ N. lat., 119°21.07′ W. long.;

(13) 32°55.25′ N. lat., 119°19.52′ W. long.;

(14) 32°54.07′ N. lat., 119°20.35′ W. long.;

(15) 32°53.22′ N. lat., 119°21.87′ W. long.;

(16) 32°52.18′ N. lat., 119°21.01′ W. long.;

(17) 32°50.60′ N. lat., 119°21.07′ W. long.;

(18) 32°49.22′ N. lat., 119°19.65′ W. long.;

(19) 32°48.31′ N. lat., 119°20.91′ W. long.;

(20) 32°48.55′ N. lat., 119°22.96′ W. long.;

(21) 32°50.49′ N. lat., 119°26.08′ W. long.;

(22) 32°53.90′ N. lat., 119°29.10′ W. long.;

(23) 32°57.35′ N. lat., 119°30.87′ W. long.;

(24) 32°59.39′ N. lat., 119°31.98′ W. long.;

(25) 33°01.63′ N. lat., 119°35.64′ W. long.;

(26) 33°02.19′ N. lat., 119°37.05′ W. long.;

(27) 33°03.90′ N. lat., 119°37.50′ W. long.;

and connecting back to 33°04.87′ N. lat., 119°39.51′ W. long.;

(l) The West Tanner Bank Western 175-fm (320-m) CCA is an area defined by straight lines connecting the following specific latitude and longitude coordinates in the order listed:

(1) 32°42.36′ N. lat., 119°36.07′ W. long.;

(2) 32°41.85′ N. lat., 119°33.50′ W. long.;

(3) 32°40.49′ N. lat., 119°32.26′ W. long.;

(4) 32°38.33′ N. lat., 119°33.49′ W. long.;

(5) 32°37.14′ N. lat., 119°33.55′ W. long.;

(6) 32°38.71′ N. lat., 119°34.95′ W. long.;

(7) 32°40.28′ N. lat., 119°36.88′ W. long.;

and connecting back to 32°42.36′ N. lat., 119°36.07′ W. long.

(m) The Santa Barbara Island Western 175-fm (320-m) CCA is an area defined by straight lines connecting the following specific latitude and longitude coordinates in the order listed:

(1) 33°28.50′ N. lat., 118°57.89′ W. long.;

(2) 33°28.50′ N. lat., 118°54.53′ W. long.;

(3) 33°21.78′ N. lat., 118°54.54′ W. long.;

(4) 33°21.79′ N. lat., 119°00.13′ W. long.;

(5) 33°20.94′ N. lat., 119°00.14′ W. long.;

(6) 33°20.52′ N. lat., 119°01.28′ W. long.;

(7) 33°21.76′ N. lat., 119°04.78′ W. long.;

(8) 33°24.60′ N. lat., 119°09.61′ W. long.;

(9) 33°26.14′ N. lat., 119°08.27′ W. long.;

(10) 33°23.87′ N. lat., 119°05.82′ W. long.;

(11) 33°23.56′ N. lat., 119°04.33′ W. long.;

(12) 33°24.08′ N. lat., 119°02.20′ W. long.;

(13) 33°25.96′ N. lat., 119°02.20′ W. long.;

(14) 33°25.70′ N. lat., 119°03.42′ W. long.;

(15) 33°26.08′ N. lat., 119°04.68′ W. long.;

(16) 33°26.48′ N. lat., 119°06.80′ W. long.;

(17) 33°27.69′ N. lat., 119°07.64′ W. long.;

(18) 33°28.01′ N. lat., 119°09.02′ W. long.;

(19) 33°28.19′ N. lat., 119°12.91′ W. long.;

(20) 33°29.31′ N. lat., 119°12.87′ W. long.;

(21) 33°29.67′ N. lat., 119°08.44′ W. long.;

(22) 33°32.00′ N. lat., 119°06.95′ W. long.;

(23) 33°34.60′ N. lat., 119°07.61′ W. long.;

(24) 33°37.01′ N. lat., 119°11.10′ W. long.;

(25) 33°39.41′ N. lat., 119°11.17′ W. long.;

(26) 33°40.47′ N. lat., 119°13.02′ W. long.;

(27) 33°42.07′ N. lat., 119°15.00′ W. long.;

(28) 33°42.62′ N. lat., 119°15.94′ W. long.;

(29) 33°43.18′ N. lat., 119°16.02′ W. long.;

(30) 33°46.01′ N. lat., 119°14.12′ W. long.;

(31) 33°45.45′ N. lat., 119°11.83′ W. long.;

(32) 33°44.27′ N. lat., 119°09.25′ W. long.;

(33) 33°42.79′ N. lat., 119°07.79′ W. long.;

(34) 33°40.83′ N. lat., 119°04.76′ W. long.;

(35) 33°38.15′ N. lat., 119°02.58′ W. long.;

(36) 33°36.27′ N. lat., 118°58.76′ W. long.;

(37) 33°33.33′ N. lat., 118°57.79′ W. long.;

(38) 33°33.30′ N. lat., 119°02.45′ W. long.;

(39) 33°32.43′ N. lat., 119°02.43′ W. long.;

and connecting back to 33°28.50′ N. lat., 118°57.89′ W. long.

(n) The San Nicolas Island Western 175-fm (320-m) CCA is an area defined by straight lines connecting the following specific latitude and longitude coordinates in the order listed:

(1) 33°33.01′ N. lat., 119°49.70′ W. long.;

(2) 33°32.40′ N. lat., 119°45.01′ W. long.;

(3) 33°25.64′ N. lat., 119°35.56′ W. long.;

(4) 33°20.80′ N. lat., 119°26.10′ W. long.;

(5) 33°17.25′ N. lat., 119°21.24′ W. long.;

(6) 33°16.81′ N. lat., 119°18.76′ W. long.;

(7) 33°15.88′ N. lat., 119°18.30′ W. long.;

(8) 33°15.27′ N. lat., 119°18.71′ W. long.;

(9) 33°15.38′ N. lat., 119°17.23′ W. long.;

(10) 33°14.49′ N. lat., 119°15.05′ W. long.;

(11) 33°13.39′ N. lat., 119°14.41′ W. long.;

(12) 33°11.52′ N. lat., 119°17.40′ W. long.;

(13) 33°11.24′ N. lat., 119°23.08′ W. long.;

(14) 33°10.27′ N. lat., 119°25.65′ W. long.;

(15) 33°13.74′ N. lat., 119°38.97′ W. long.;

(16) 33°12.22′ N. lat., 119°41.95′ W. long.;

(17) 33°12.23′ N. lat., 119°42.82′ W. long.;

(18) 33°13.41′ N. lat., 119°43.79′ W. long.;

(19) 33°14.29′ N. lat., 119°43.59′ W. long.;

(20) 33°15.01′ N. lat., 119°44.97′ W. long.;

(21) 33°17.06′ N. lat., 119°46.22′ W. long.;

(22) 33°17.24′ N. lat., 119°47.49′ W. long.;

(23) 33°18.34′ N. lat., 119°48.83′ W. long.;

(24) 33°17.16′ N. lat., 119°48.99′ W. long.;

(25) 33°16.73′ N. lat., 119°48.59′ W. long.;

(26) 33°16.27′ N. lat., 119°47.75′ W. long.;

(27) 33°15.19′ N. lat., 119°47.06′ W. long.;

(28) 33°13.71′ N. lat., 119°46.74′ W. long.;

(29) 33°13.21′ N. lat., 119°47.05′ W. long.;

(30) 33°13.04′ N. lat., 119°47.77′ W. long.;

(31) 33°13.13′ N. lat., 119°48.37′ W. long.;

(32) 33°12.96′ N. lat., 119°48.94′ W. long.;

(33) 33°12.27′ N. lat., 119°49.41′ W. long.;

(34) 33°12.36′ N. lat., 119°50.12′ W. long.;

(35) 33°12.33′ N. lat., 119°50.75′ W. long.;

(36) 33°12.73′ N. lat., 119°51.47′ W. long.;

(37) 33°13.26′ N. lat., 119°52.94′ W. long.;

(38) 33°15.05′ N. lat., 119°52.95′ W. long.;

(39) 33°15.75′ N. lat., 119°52.12′ W. long.;

(40) 33°16.32′ N. lat., 119°52.65′ W. long.;

(41) 33°18.12′ N. lat., 119°52.94′ W. long.;

(42) 33°18.18′ N. lat., 119°52.68′ W. long.;

(43) 33°17.97′ N. lat., 119°51.07′ W. long.;

(44) 33°17.44′ N. lat., 119°50.04′ W. long.;

(45) 33°17.27′ N. lat., 119°49.19′ W. long.;

(46) 33°18.40′ N. lat., 119°49.00′ W. long.;

(47) 33°21.18′ N. lat., 119°50.81′ W. long.;

(48) 33°22.57′ N. lat., 119°50.42′ W. long.;

(49) 33°23.90′ N. lat., 119°50.67′ W. long.;

(50) 33°25.84′ N. lat., 119°51.85′ W. long.;

(51) 33°30.00′ N. lat., 119°53.19′ W. long.;

and connecting back to 33°33.01′ N. lat., 119°49.70′ W. long.

(o) The Cortes Bank Western 175-fm (320-m) CCA is an area defined by straight lines connecting the following specific latitude and longitude coordinates in the order listed:

(1) 32°45.52′ N. lat., 119°15.88′ W. long.;

(2) 32°46.66′ N. lat., 119°13.89′ W. long.;

(3) 32°46.55′ N. lat., 119°11.82′ W. long.;

(4) 32°46.23′ N. lat., 119°10.53′ W. long.;

(5) 32°44.85′ N. lat., 119°07.57′ W. long.;

(6) 32°42.34′ N. lat., 119°03.11′ W. long.;

(7) 32°40.75′ N. lat., 119°01.39′ W. long.;

(8) 32°40.20′ N. lat., 119°02.61′ W. long.;

(9) 32°37.41′ N. lat., 119°02.61′ W. long.;

(10) 32°36.44′ N. lat., 119°03.47′ W. long.;

(11) 32°36.19′ N. lat., 119°04.75′ W. long.;

(12) 32°36.82′ N. lat., 119°06.88′ W. long.;

(13) 32°34.68′ N. lat., 119°05.27′ W. long.;

(14) 32°33.71′ N. lat., 119°06.06′ W. long.;

(15) 32°33.09′ N. lat., 119°07.92′ W. long.;

(16) 32°32.19′ N. lat., 119°06.81′ W. long.;

(17) 32°31.79′ N. lat., 119°05.57′ W. long.;

(18) 32°00.50′ N. lat., 119°04.25′ W. long.;

(19) 32°29.18′ N. lat., 119°03.38′ W. long.;

(20) 32°27.19′ N. lat., 118°59.72′ W. long.;

(21) 32°22.89′ N. lat., 118°55.73′ W. long.;

(22) 32°20.92′ N. lat., 118°56.20′ W. long.;

(23) 32°23.08′ N. lat., 119°01.71′ W. long.;

(24) 32°21.96′ N. lat., 119°01.21′ W. long.;

(25) 32°21.68′ N. lat., 119°01.84′ W. long.;

(26) 32°22.08′ N. lat., 119°03.43′ W. long.;

(27) 32°23.20′ N. lat., 119°05.07′ W. long.;

(28) 32°23.40′ N. lat., 119°07.48′ W. long.;

(29) 32°22.77′ N. lat., 119°07.73′ W. long.;

(30) 32°23.12′ N. lat., 119°09.67′ W. long.;

(31) 32°24.59′ N. lat., 119°11.44′ W. long.;

(32) 32°22.66′ N. lat., 119°13.68′ W. long.;

(33) 32°24.66′ N. lat., 119°14.44′ W. long.;

(34) 32°25.96′ N. lat., 119°14.98′ W. long.;

(35) 32°26.63′ N. lat., 119°13.97′ W. long.;

(36) 32°27.27′ N. lat., 119°15.77′ W. long.;

(37) 32°28.66′ N. lat., 119°15.67′ W. long.;

(38) 32°30.26′ N. lat., 119°19.06′ W. long.;

(39) 32°30.60′ N. lat., 119°20.97′ W. long.;

(40) 32°33.41′ N. lat., 119°22.12′ W. long.;

(41) 32°37.11′ N. lat., 119°22.58′ W. long.;

(42) 32°39.03′ N. lat., 119°21.19′ W. long.;

(43) 32°39.65′ N. lat., 119°19.56′ W. long.;

(44) 32°41.49′ N. lat., 119°19.15′ W. long.;

(45) 32°41.44′ N. lat., 119°15.73′ W. long.;

(46) 32°39.93′ N. lat., 119°12.79′ W. long.;

(47) 32°40.84′ N. lat., 119°12.55′ W. long.;

(48) 32°42.58′ N. lat., 119°14.33′ W. long.;

(49) 32°44.00′ N. lat., 119°16.64′ W. long.;

(50) 32°45.17′ N. lat., 119°16.97′ W. long.;

and connecting back to 32°45.52′ N. lat., 119°15.88′ W. long.

20. In § 660.391, the section heading and introductory paragraph are revised, paragraph (a) is removed, paragraphs (b) through (k) are redesignated as (d) through (m), newly redesignated paragraphs (d) and (j) are revised, and paragraphs (a) through (c) are added to read as follows:

§ 660.391 Latitude/longitude coordinates defining the 10-fm (18-m) through 40-fm (73-m) depth contours.

Boundaries for RCAs are defined by straight lines connecting a series of latitude/longitude coordinates. This section provides coordinates for the 10-fm (18-m) through 40-fm (73-m) depth contours.

(a) The 10-fm (18-m) depth contour between the U.S. border with Canada and 46°16′ N. lat. is defined by straight lines connecting all of the following points in the order stated:

(1) 48°23.80′ N. lat., 124°44.18′ W. long.;

(2) 48°23.60′ N. lat., 124°44.80′ W. long.;

(3) 48°23.45′ N. lat., 124°44.80′ W. long.;

(4;) 48°23.30′ N. lat., 124°44.20′ W. long.;

(5) 48°22.20′ N. lat., 124°44.30′ W. long.;

(6) 48°20.25′ N. lat., 124°42.20′ W. long.;

(7) 48°12.80′ N. lat., 124°43.10′ W. long.;

(8) 48°11.10′ N. lat., 124°46.50′ W. long.;

(9) 48°10.00′ N. lat., 124°46.50′ W. long.;

(10) 48°08.50′ N. lat., 124°44.20′ W. long.;

(11) 47°59.40′ N. lat., 124°42.50′ W. long.;

(12) 47°52.60′ N. lat., 124°38.80′ W. long.;

(13) 47°51.50′ N. lat., 124°34.60′ W. long.;

(14) 47°39.80′ N. lat., 124°28.10′ W. long.;

(15) 47°31.70′ N. lat., 124°26.30′ W. long.;

(16) 47°25.20′ N. lat., 124°24.80′ W. long.;

(17) 47°09.80′ N. lat., 124°15.20′ W. long.;

(18) 46°54.40′ N. lat., 124°14.80′ W. long.;

(19) 46°48.30′ N. lat., 124°10.25′ W. long.;

(20) 46°38.17′ N. lat., 124°10.30′ W. long.;

(21) 46°27.20′ N. lat., 124°06.50′ W. long.; and

(22) 46°16.00′ N. lat., 124°10.00′ W. long.

(b) The 20-fm (37-m) depth contour between the U.S. border with Canada and 42° N. lat. is defined by straight lines connecting all of the following points in the order stated:

(1) 48°23.90′ N. lat., 124°44.20′ W. long.;

(2) 48°23.60′ N. lat., 124°44.90′ W. long.;

(3) 48°18.60′ N. lat., 124°43.60′ W. long.;

(4) 48°18.60′ N. lat., 124°48.20′ W. long.;

(5) 48°10.00′ N. lat., 124°48.80′ W. long.;

(6) 48°02.40′ N. lat., 124°49.30′ W. long.;

(7) 47°37.60′ N. lat., 124°34.30′ W. long.;

(8) 47°31.70′ N. lat., 124°32.40′ W. long.;

(9) 47°17.90′ N. lat., 124°25.00′ W. long.;

(10) 46°58.80′ N. lat., 124°18.30′ W. long.;

(11) 46°47.40′ N. lat., 124°12.70′ W. long.;

(12) 46°38.17′ N. lat., 124°12.40′ W. long.;

(13) 46°16.00′ N. lat., 124°11.50′ W. long.;

(14) 46°16.01′ N. lat., 124°11.56′ W. long.;

(15) 46°15.09′ N. lat., 124°11.33′ W. long.;

(16) 46°11.94′ N. lat., 124°08.51′ W. long.;

(17) 46°08.02′ N. lat., 124°04.06′ W. long.;

(18) 46°05.05′ N. lat., 124°02.13′ W. long.;

(19) 46°02.19′ N. lat., 124°01.35′ W. long.;

(20) 45°58.28′ N. lat., 124°01.70′ W. long.;

(21) 45°55.64′ N. lat., 124°01.16′ W. long.;

(22) 45°52.61′ N. lat., 124°00.33′ W. long.;

(23) 45°48.43′ N. lat., 124°00.65′ W. long.;

(24) 45°46.59′ N. lat., 124°00.79′ W. long.;

(25) 45°46.00′ N. lat., 124°00.53′ W. long.;

(26) 45°44.75′ N. lat., 123°59.92′ W. long.;

(27) 45°44.57′ N. lat., 123°59.64′ W. long.;

(28) 45°41.86′ N. lat., 123°58.82′ W. long.;

(29) 45°36.40′ N. lat., 123°59.42′ W. long.;

(30) 45°34.10′ N. lat., 123°59.90′ W. long.;

(31) 45°32.81′ N. lat., 124°00.35′ W. long.;

(32) 45°29.87′ N. lat., 124°00.98′ W. long.;

(33) 45°27.49′ N. lat., 124°00.79′ W. long.;

(34) 45°25.37′ N. lat., 124°00.73′ W. long.;

(35) 45°22.06′ N. lat., 124°01.66′ W. long.;

(36) 45°17.27′ N. lat., 124°00.76′ W. long.;

(37) 45°14.09′ N. lat., 124°00.75′ W. long.;

(38) 45°12.50′ N. lat., 124°00.53′ W. long.;

(39) 45°11.92′ N. lat., 124°01.62′ W. long.;

(40) 45°11.02′ N. lat., 124°00.60′ W. long.;

(41) 45°10.08′ N. lat., 124°00.58′ W. long.;

(42) 45°05.51′ N. lat., 124°02.15′ W. long.;

(43) 45°01.03′ N. lat., 124°03.22′ W. long.;

(44) 44°57.98′ N. lat., 124°04.29′ W. long.;

(45) 44°55.37′ N. lat., 124°04.39′ W. long.;

(46) 44°51.56′ N. lat., 124°05.54′ W. long.;

(47) 44°45.24′ N. lat., 124°06.47′ W. long.;

(48) 44°42.69′ N. lat., 124°06.73′ W. long.;

(49) 44°33.86′ N. lat., 124°07.43′ W. long.;

(50) 44°29.78′ N. lat., 124°07.62′ W. long.;

(51) 44°28.53′ N. lat., 124°07.93′ W. long.;

(52) 44°23.71′ N. lat., 124°08.30′ W. long.;

(53) 44°21.75′ N. lat., 124°08.79′ W. long.;

(54) 44°20.99′ N. lat., 124°08.48′ W. long.;

(55) 44°17.29′ N. lat., 124°08.82′ W. long.;

(56) 44°11.90′ N. lat., 124°09.44′ W. long.;

(57) 44°03.25′ N. lat., 124°10.33′ W. long.;

(58) 43°52.69′ N. lat., 124°12.01′ W. long.;

(59) 43°42.94′ N. lat., 124°13.88′ W. long.;

(60) 43°41.44′ N. lat., 124°14.47′ W. long.;

(61) 43°36.60′ N. lat., 124°14.92′ W. long.;

(62) 43°29.85′ N. lat., 124°17.35′ W. long.;

(63) 43°25.00′ N. lat., 124°20.84′ W. long.;

(64) 43°21.61′ N. lat., 124°24.09′ W. long.;

(65) 43°20.51′ N. lat., 124°25.01′ W. long.;

(66) 43°19.33′ N. lat., 124°25.43′ W. long.;

(67) 43°16.18′ N. lat., 124°26.02′ W. long.;

(68) 43°14.39′ N. lat., 124°26.17′ W. long.;

(69) 43°13.94′ N. lat., 124°26.72′ W. long.;

(70) 43°13.39′ N. lat., 124°26.41′ W. long.;

(71) 43°11.39′ N. lat., 124°26.90′ W. long.;

(72) 43°10.06′ N. lat., 124°28.24′ W. long.;

(73) 43°07.48′ N. lat., 124°28.65′ W. long.;

(74) 43°06.67′ N. lat., 124°28.63′ W. long.;

(75) 43°06.43′ N. lat., 124°28.22′ W. long.;

(76) 43°03.09′ N. lat., 124°28.52′ W. long.;

(77) 42°57.55′ N. lat., 124°30.74′ W. long.;

(78) 42°52.91′ N. lat., 124°35.03′ W. long.;

(79) 42°51.58′ N. lat., 124°36.43′ W. long.;

(80) 42°49.85′ N. lat., 124°37.20′ W. long.;

(81) 42°46.07′ N. lat., 124°36.98′ W. long.;

(82) 42°46.03′ N. lat., 124°34.76′ W. long.;

(83) 42°45.37′ N. lat., 124°33.59′ W. long.;

(84) 42°43.91′ N. lat., 124°32.14′ W. long.;

(85) 42°41.73′ N. lat., 124°29.20′ W. long.;

(86) 42°40.49′ N. lat., 124°28.95′ W. long.;

(87) 42°40.06′ N. lat., 124°28.94′ W. long.;

(88) 42°39.74′ N. lat., 124°27.80′ W. long.;

(89) 42°37.53′ N. lat., 124°26.39′ W. long.;

(90) 42°34.33′ N. lat., 124°26.56′ W. long.;

(91) 42°32.81′ N. lat., 124°27.55′ W. long.;

(92) 42°31.66′ N. lat., 124°29.58′ W. long.;

(93) 42°30.70′ N. lat., 124°30.91′ W. long.;

(94) 42°29.20′ N. lat., 124°31.27′ W. long.;

(95) 42°27.52′ N. lat., 124°30.79′ W. long.;

(96) 42°24.70′ N. lat., 124°29.65′ W. long.;

(97) 42°23.93′ N. lat., 124°28.60′ W. long.;

(98) 42°19.35′ N. lat., 124°27.23′ W. long.;

(99) 42°14.87′ N. lat., 124°26.14′ W. long.;

(100) 42°11.85′ N. lat., 124°23.78′ W. long.;

(101) 42°08.08′ N. lat., 124°22.91′ W. long.;

(102) 42°07.04′ N. lat., 124°22.66′ W. long.;

(103) 42°05.17′ N. lat., 124°21.41′ W. long.;

(104) 42°04.16′ N. lat., 124°20.55′ W. long.;

(105) 42°02.12′ N. lat., 124°20.51′ W. long.;

(106) 42°01.42′ N. lat., 124°20.29′ W. long.; and

(107) 42°00.00′ N. lat., 124°19.61′ W. long.

(c) The 25-fm (46-m) depth contour between the Queets River, WA, and 42° N. lat. is defined by straight lines connecting all of the following points in the order stated:

(1) 47°31.70′ N. lat., 124°34.70′ W. long.;

(2) 47°25.70′ N. lat., 124°33.00′ W. long.;

(3) 47°12.80′ N. lat., 124°26.00′ W. long.;

(4) 46°53.00′ N. lat., 124°21.00′ W. long.;

(5) 46°44.20′ N. lat., 124°15.00′ W. long.;

(6) 46°38.17′ N. lat., 124°13.70′ W. long.;

(7) 46°16.00′ N. lat., 124°12.50′ W. long.;

(8) 46°15.99′ N. lat., 124°12.04′ W. long.;

(9) 46°13.72′ N. lat., 124°11.04′ W. long.;

(10) 46°09.50′ N. lat., 124°07.62′ W. long.;

(11) 46°04.00′ N. lat., 124°03.20′ W. long.;

(12) 45°57.61′ N. lat., 124°01.85′ W. long.;

(13) 45°51.73′ N. lat., 124°01.06′ W. long.;

(14) 45°47.27′ N. lat., 124°01.22′ W. long.;

(15) 45°43.19′ N. lat., 124°00.32′ W. long.;

(16) 45°36.11′ N. lat., 124°00.38′ W. long.;

(17) 45°32.95′ N. lat., 124°01.38′ W. long.;

(18) 45°27.47′ N. lat., 124°01.46′ W. long.;

(19) 45°23.18′ N. lat., 124°01.94′ W. long.;

(20) 45°19.04′ N. lat., 124°01.29′ W. long.;

(21) 45°16.79′ N. lat., 124°01.90′ W. long.;

(22) 45°13.54′ N. lat., 124°01.64′ W. long.;

(23) 45°09.56′ N. lat., 124°01.94′ W. long.;

(24) 45°06.15′ N. lat., 124°02.38′ W. long.;

(25) 45°00.77′ N. lat., 124°03.72′ W. long.;

(26) 44°49.08′ N. lat., 124°06.49′ W. long.;

(27) 44°40.06′ N. lat., 124°08.14′ W. long.;

(28) 44°36.64′ N. lat., 124°08.51′ W. long.;

(29) 44°29.41′ N. lat., 124°09.24′ W. long.;

(30) 44°25.18′ N. lat., 124°09.37′ W. long.;

(31) 44°16.34′ N. lat., 124°10.30′ W. long.;

(32) 44°12.16′ N. lat., 124°10.82′ W. long.;

(33) 44°06.59′ N. lat., 124°11.00′ W. long.;

(34) 44°02.09′ N. lat., 124°11.24′ W. long.;

(35) 43°57.82′ N. lat., 124°11.60′ W. long.;

(36) 43°53.44′ N. lat., 124°12.34′ W. long.;

(37) 43°49.19′ N. lat., 124°13.08′ W. long.;

(38) 43°45.19′ N. lat., 124°13.73′ W. long.;

(39) 43°41.22′ N. lat., 124°14.59′ W. long.;

(40) 43°37.52′ N. lat., 124°15.05′ W. long.;

(41) 43°33.97′ N. lat., 124°16.00′ W. long.;

(42) 43°29.72′ N. lat., 124°17.78′ W. long.;

(43) 43°27.63′ N. lat., 124°19.11′ W. long.;

(44) 43°20.66′ N. lat., 124°25.39′ W. long.;

(45) 43°15.57′ N. lat., 124°26.86′ W. long.;

(46) 43°06.88′ N. lat., 124°29.30′ W. long.;

(47) 43°03.37′ N. lat., 124°29.06′ W. long.;

(48) 43°01.03′ N. lat., 124°29.41′ W. long.;

(49) 42°56.59′ N. lat., 124°31.93′ W. long.;

(50) 42°54.08′ N. lat., 124°34.55′ W. long.;

(51) 42°51.16′ N. lat., 124°37.02′ W. long.;

(52) 42°49.27′ N. lat., 124°37.73′ W. long.;

(53) 42°46.02′ N. lat., 124°37.54′ W. long.;

(54) 42°45.76′ N. lat., 124°35.68′ W. long.;

(55) 42°42.25′ N. lat., 124°30.47′ W. long.;

(56) 42°40.51′ N. lat., 124°29.00′ W. long.;

(57) 42°40.00′ N. lat., 124°29.01′ W. long.;

(58) 42°39.64′ N. lat., 124°28.28′ W. long.;

(59) 42°38.80′ N. lat., 124°27.57′ W. long.;

(60) 42°35.42′ N. lat., 124°26.77′ W. long.;

(61) 42°33.13′ N. lat., 124°29.06′ W. long.;

(62) 42°31.44′ N. lat., 124°30.71′ W. long.;

(63) 42°29.03′ N. lat., 124°31.71′ W. long.;

(64) 42°24.98′ N. lat., 124°29.95′ W. long.;

(65) 42°20.05′ N. lat., 124°28.16′ W. long.;

(66) 42°14.24′ N. lat., 124°26.03′ W. long.;

(67) 42°10.23′ N. lat., 124°23.93′ W. long.;

(68) 42°06.20′ N. lat., 124°22.70′ W. long.;

(69) 42°04.66′ N. lat., 124°21.49′ W. long.; and

(70) 42°00.00′ N. lat., 124°20.80′ W. long.

(d) The 30-fm (55-m) depth contour between the U.S. border with Canada and the U.S. border with Mexico is defined by straight lines connecting all of the following points in the order stated:

(1) 48°24.79′ N. lat., 124°44.07′ W. long.;

(2) 48°24.80′ N. lat., 124°44.74′ W. long.;

(3) 48°23.94′ N. lat., 124°44.70′ W. long.;

(4) 48°23.51′ N. lat., 124°45.01′ W. long.;

(5) 48°22.59′ N. lat., 124°44.97′ W. long.;

(6) 48°21.75′ N. lat., 124°45.26′ W. long.;

(7) 48°21.23′ N. lat., 124°47.78′ W. long.;

(8) 48°20.32′ N. lat., 124°49.53′ W. long.;

(9) 48°16.72′ N. lat., 124°51.58′ W. long.;

(10) 48°10.00′ N. lat., 124°52.58′ W. long.;

(11) 48°05.63′ N. lat., 124°52.91′ W. long.;

(12) 47°53.37′ N. lat., 124°47.37′ W. long.;

(13) 47°40.28′ N. lat., 124°40.07′ W. long.;

(14) 47°31.70′ N. lat., 124°37.03′ W. long.;

(15) 47°25.67′ N. lat., 124°34.79′ W. long.;

(16) 47°12.82′ N. lat., 124°29.12′ W. long.;

(17) 46°52.94′ N. lat., 124°22.58′ W. long.;

(18) 46°44.18′ N. lat., 124°18.00′ W. long.;

(19) 46°38.17′ N. lat., 124°15.88′ W. long.;

(20) 46°29.53′ N. lat., 124°15.89′ W. long.;

(21) 46°19.27′ N. lat., 124°14.15′ W. long.;

(22) 46°16.00′ N. lat., 124°13.05′ W. long.;

(23) 46°16.00′ N. lat., 124°13.04′ W. long.;

(24) 46°07.00′ N. lat., 124°07.01′ W. long.;

(25) 45°55.95′ N. lat., 124°02.23′ W. long.;

(26) 45°54.53′ N. lat., 124°02.57′ W. long.;

(27) 45°50.65′ N. lat., 124°01.62′ W. long.;

(28) 45°48.20′ N. lat., 124°02.16′ W. long.;

(29) 45°46.00′ N. lat., 124°01.86′ W. long.;

(30) 45°43.46′ N. lat., 124°01.28′ W. long.;

(31) 45°40.48′ N. lat., 124°01.03′ W. long.;

(32) 45°39.04′ N. lat., 124°01.68′ W. long.;

(33) 45°35.48′ N. lat., 124°01.90′ W. long.;

(34) 45°29.81′ N. lat., 124°02.45′ W. long.;

(35) 45°27.97′ N. lat., 124°01.90′ W. long.;

(36) 45°27.22′ N. lat., 124°02.66′ W. long.;

(37) 45°24.20′ N. lat., 124°02.94′ W. long.;

(38) 45°20.60′ N. lat., 124°01.74′ W. long.;

(39) 45°20.25′ N. lat., 124°01.85′ W. long.;

(40) 45°16.44′ N. lat., 124°03.22′ W. long.;

(41) 45°13.63′ N. lat., 124°02.69′ W. long.;

(42) 45°11.05′ N. lat., 124°03.59′ W. long.;

(43) 45°08.55′ N. lat., 124°03.47′ W. long.;

(44) 45°02.81′ N. lat., 124°04.64′ W. long.;

(45) 44°58.06′ N. lat., 124°05.03′ W. long.;

(46) 44°53.97′ N. lat., 124°06.92′ W. long.;

(47) 44°48.89′ N. lat., 124°07.04′ W. long.;

(48) 44°46.94′ N. lat., 124°08.25′ W. long.;

(49) 44°42.72′ N. lat., 124°08.98′ W. long.;

(50) 44°38.16′ N. lat., 124°11.48′ W. long.;

(51) 44°33.38′ N. lat., 124°11.54′ W. long.;

(52) 44°28.51′ N. lat., 124°12.04′ W. long.;

(53) 44°27.65′ N. lat., 124°12.56′ W. long.;

(54) 44°19.67′ N. lat., 124°12.37′ W. long.;

(55) 44°10.79′ N. lat., 124°12.22′ W. long.;

(56) 44°09.22′ N. lat., 124°12.28′ W. long.;

(57) 44°08.30′ N. lat., 124°12.30′ W. long.;

(58) 44°00.22′ N. lat., 124°12.80′ W. long.;

(59) 43°51.56′ N. lat., 124°13.18′ W. long.;

(60) 43°44.26′ N. lat., 124°14.50′ W. long.;

(61) 43°33.82′ N. lat., 124°16.28′ W. long.;

(62) 43°28.66′ N. lat., 124°18.72′ W. long.;

(63) 43°23.12′ N. lat., 124°24.04′ W. long.;

(64) 43°20.83′ N. lat., 124°25.67′ W. long.;

(65) 43°20.48′ N. lat., 124°25.90′ W. long.;

(66) 43°16.41′ N. lat., 124°27.52′ W. long.;

(67) 43°14.23′ N. lat., 124°29.28′ W. long.;

(68) 43°14.03′ N. lat., 124°28.31′ W. long.;

(69) 43°11.92′ N. lat., 124°28.26′ W. long.;

(70) 43°11.02′ N. lat., 124°29.11′ W. long.;

(71) 43°10.13′ N. lat., 124°29.15′ W. long.;

(72) 43°09.26′ N. lat., 124°31.03′ W. long.;

(73) 43°07.73′ N. lat., 124°30.92′ W. long.;

(74) 43°05.93′ N. lat., 124°29.64′ W. long.;

(75) 43°01.59′ N. lat., 124°30.64′ W. long.;

(76) 42°59.72′ N. lat., 124°31.16′ W. long.;

(77) 42°53.75′ N. lat., 124°36.09′ W. long.;

(78) 42°50.00′ N. lat., 124°38.39′ W. long.;

(79) 42°49.37′ N. lat., 124°38.81′ W. long.;

(80) 42°46.42′ N. lat., 124°37.69′ W. long.;

(81) 42°46.07′ N. lat., 124°38.56′ W. long.;

(82) 42°45.29′ N. lat., 124°37.95′ W. long.;

(83) 42°45.61′ N. lat., 124°36.87′ W. long.;

(84) 42°44.27′ N. lat., 124°33.64′ W. long.;

(85) 42°42.75′ N. lat., 124°31.84′ W. long.;

(86) 42°40.50′ N. lat., 124°29.67′ W. long.;

(87) 42°40.04′ N. lat., 124°29.20′ W. long.;

(88) 42°38.09′ N. lat., 124°28.39′ W. long.;

(89) 42°36.73′ N. lat., 124°27.54′ W. long.;

(90) 42°36.56′ N. lat., 124°28.40′ W. long.;

(91) 42°35.77′ N. lat., 124°28.79′ W. long.;

(92) 42°34.03′ N. lat., 124°29.98′ W. long.;

(93) 42°34.19′ N. lat., 124°30.58′ W. long.;

(94) 42°31.27′ N. lat., 124°32.24′ W. long.;

(95) 42°27.07′ N. lat., 124°32.53′ W. long.;

(96) 42°24.21′ N. lat., 124°31.23′ W. long.;

(97) 42°20.47′ N. lat., 124°28.87′ W. long.;

(98) 42°14.60′ N. lat., 124°26.80′ W. long.;

(99) 42°13.67′ N. lat., 124°26.25′ W. long.;

(100) 42°10.90′ N. lat., 124°24.56′ W. long.;

(101) 42°07.04′ N. lat., 124°23.35′ W. long.;

(102) 42°02.16′ N. lat., 124°22.59′ W. long.;

(103) 42°00.00′ N. lat., 124°21.81′ W. long.;

(104) 41°55.75′ N. lat., 124°20.72′ W. long.;

(105) 41°50.93′ N. lat., 124°23.76′ W. long.;

(106) 41°42.53′ N. lat., 124°16.47′ W. long.;

(107) 41°37.20′ N. lat., 124°17.05′ W. long.;

(108) 41°24.58′ N. lat., 124°10.51′ W. long.;

(109) 41°20.73′ N. lat., 124°11.73′ W. long.;

(110) 41°17.59′ N. lat., 124°10.66′ W. long.;

(111) 41°04.54′ N. lat., 124°14.47′ W. long.;

(112) 40°54.26′ N. lat., 124°13.90′ W. long.;

(113) 40°40.31′ N. lat., 124°26.24′ W. long.;

(114) 40°34.00′ N. lat., 124°27.39′ W. long.;

(115) 40°30.00′ N. lat., 124°31.32′ W. long.;

(116) 40°28.89′ N. lat., 124°32.43′ W. long.;

(117) 40°24.77′ N. lat., 124°29.51′ W. long.;

(118) 40°22.47′ N. lat., 124°24.12′ W. long.;

(119) 40°19.73′ N. lat., 124°23.59′ W. long.;

(120) 40°18.64′ N. lat., 124°21.89′ W. long.;

(121) 40°17.67′ N. lat., 124°23.07′ W. long.;

(122) 40°15.58′ N. lat., 124°23.61′ W. long.;

(123) 40°13.42′ N. lat., 124°22.94′ W. long.;

(124) 40°10.00′ N. lat., 124°16.65′ W. long.;

(125) 40°09.46′ N. lat., 124°15.28′ W. long.;

(126) 40°08.89′ N. lat., 124°15.24′ W. long.;

(127) 40°06.40′ N. lat., 124°10.97′ W. long.;

(128) 40°06.08′ N. lat., 124°09.34′ W. long.;

(129) 40°06.64′ N. lat., 124°08.00′ W. long.;

(130) 40°05.08′ N. lat., 124°07.57′ W. long.;

(131) 40°04.29′ N. lat., 124°08.12′ W. long.;

(132) 40°00.61′ N. lat., 124°07.35′ W. long.;

(133) 39°58.60′ N. lat., 124°05.51′ W. long.;

(134) 39°54.89′ N. lat., 124°04.67′ W. long.;

(135) 39°53.01′ N. lat., 124°02.33′ W. long.;

(136) 39°53.20′ N. lat., 123°58.18′ W. long.;

(137) 39°48.45′ N. lat., 123°53.21′ W. long.;

(138) 39°43.89′ N. lat., 123°51.75′ W. long.;

(139) 39°39.60′ N. lat., 123°49.14′ W. long.;

(140) 39°34.43′ N. lat., 123°48.48′ W. long.;

(141) 39°30.63′ N. lat., 123°49.71′ W. long.;

(142) 39°21.25′ N. lat., 123°50.54′ W. long.;

(143) 39°08.87′ N. lat., 123°46.24′ W. long.;

(144) 39°03.79′ N. lat., 123°43.91′ W. long.;

(145) 38°59.65′ N. lat., 123°45.94′ W. long.;

(146) 38°57.50′ N. lat., 123°46.28′ W. long.;

(147) 38°56.80′ N. lat., 123°46.48′ W. long.;

(148) 38°51.16′ N. lat., 123°41.48′ W. long.;

(149) 38°45.77′ N. lat., 123°35.14′ W. long.;

(150) 38°42.21′ N. lat., 123°28.17′ W. long.;

(151) 38°34.05′ N. lat., 123°20.96′ W. long.;

(152) 38°22.47′ N. lat., 123°07.48′ W. long.;

(153) 38°16.52′ N. lat., 123°05.62′ W. long.;

(154) 38°14.42′ N. lat., 123°01.91′ W. long.;

(155) 38°08.24′ N. lat., 122°59.79′ W. long.;

(156) 38°02.69′ N. lat., 123°01.96′ W. long.;

(157) 38°00.00′ N. lat., 123°04.75′ W. long.;

(158) 37°58.41′ N. lat., 123°02.93′ W. long.;

(159) 37°58.25′ N. lat., 122°56.49′ W. long.;

(160) 37°50.30′ N. lat., 122°52.23′ W. long.;

(161) 37°43.36′ N. lat., 123°04.18′ W. long.;

(162) 37°40.77′ N. lat., 123°01.62′ W. long.;

(163) 37°40.13′ N. lat., 122°57.30′ W. long.;

(164) 37°42.59′ N. lat., 122°53.64′ W. long.;

(165) 37°35.67′ N. lat., 122°44.20′ W. long.;

(166) 37°29.62′ N. lat., 122°36.00′ W. long.;

(167) 37°22.38′ N. lat., 122°31.66′ W. long.;

(168) 37°13.86′ N. lat., 122°28.27′ W. long.;

(169) 37°11.00′ N. lat., 122°26.50′ W. long.;

(170) 37°08.01′ N. lat., 122°24.75′ W. long.;

(171) 37°07.00′ N. lat., 122°23.60′ W. long.;

(172) 37°05.84′ N. lat., 122°22.47′ W. long.;

(173) 36°58.77′ N. lat., 122°13.03′ W. long.;

(174) 36°53.74′ N. lat., 122°03.39′ W. long.;

(175) 36°52.71′ N. lat., 122°00.14′ W. long.;

(176) 36°52.51′ N. lat., 121°56.77′ W. long.;

(177) 36°49.44′ N. lat., 121°49.63′ W. long.;

(178) 36°48.01′ N. lat., 121°49.92′ W. long.;

(179) 36°48.25′ N. lat., 121°47.66′ W. long.;

(180) 36°46.26′ N. lat., 121°51.27′ W. long.;

(181) 36°39.14′ N. lat., 121°52.05′ W. long.;

(182) 36°38.00′ N. lat., 121°53.57′ W. long.;

(183) 36°39.14′ N. lat., 121°55.45′ W. long.;

(184) 36°38.50′ N. lat., 121°57.09′ W. long.;

(185) 36°36.75′ N. lat., 121°59.44′ W. long.;

(186) 36°34.97′ N. lat., 121°59.37′ W. long.;

(187) 36°33.07′ N. lat., 121°58.32′ W. long.;

(188) 36°33.27′ N. lat., 121°57.07′ W. long.;

(189) 36°32.68′ N. lat., 121°57.03′ W. long.;

(190) 36°32.04′ N. lat., 121°55.98′ W. long.;

(191) 36°31.61′ N. lat., 121°55.72′ W. long.;

(192) 36°31.59′ N. lat., 121°57.12′ W. long.;

(193) 36°31.52′ N. lat., 121°57.57′ W. long.;

(194) 36°30.88′ N. lat., 121°57.90′ W. long.;

(195) 36°30.25′ N. lat., 121°57.37′ W. long.;

(196) 36°29.47′ N. lat., 121°57.55′ W. long.;

(197) 36°26.72′ N. lat., 121°56.40′ W. long.;

(198) 36°24.33′ N. lat., 121°56.00′ W. long.;

(199) 36°23.36′ N. lat., 121°55.45′ W. long.;

(200) 36°18.86′ N. lat., 121°56.15′ W. long.;

(201) 36°16.21′ N. lat., 121°54.81′ W. long.;

(202) 36°15.30′ N. lat., 121°53.79′ W. long.;

(203) 36°12.04′ N. lat., 121°45.38′ W. long.;

(204) 36°11.87′ N. lat., 121°44.45′ W. long.;

(205) 36°12.13′ N. lat., 121°44.25′ W. long.;

(206) 36°11.89′ N. lat., 121°43.65′ W. long.;

(207) 36°10.56′ N. lat., 121°42.62′ W. long.;

(208) 36°09.90′ N. lat., 121°41.57′ W. long.;

(209) 36°08.14′ N. lat., 121°40.44′ W. long.;

(210) 36°06.69′ N. lat., 121°38.79′ W. long.;

(211) 36°05.85′ N. lat., 121°38.47′ W. long.;

(212) 36°03.08′ N. lat., 121°36.25′ W. long.;

(213) 36°02.92′ N. lat., 121°35.89′ W. long.;

(214) 36°01.53′ N. lat., 121°36.13′ W. long.;

(215) 36°00.59′ N. lat., 121°35.40′ W. long.;

(216) 36°00.00′ N. lat., 121°34.10′ W. long.;

(217) 35°59.93′ N. lat., 121°33.81′ W. long.;

(218) 35°59.69′ N. lat., 121°31.84′ W. long.;

(219) 35°58.59′ N. lat., 121°30.30′ W. long.;

(220) 35°54.02′ N. lat., 121°29.71′ W. long.;

(221) 35°51.54′ N. lat., 121°27.67′ W. long.;

(222) 35°50.42′ N. lat., 121°25.79′ W. long.;

(223) 35°48.37′ N. lat., 121°24.29′ W. long.;

(224) 35°47.02′ N. lat., 121°22.46′ W. long.;

(225) 35°42.28′ N. lat., 121°21.20′ W. long.;

(226) 35°41.57′ N. lat., 121°21.82′ W. long.;

(227) 35°39.24′ N. lat., 121°18.84′ W. long.;

(228) 35°35.14′ N. lat., 121°10.45′ W. long.;

(229) 35°30.11′ N. lat., 121°05.59′ W. long.;

(230) 35°25.86′ N. lat., 121°00.07′ W. long.;

(231) 35°22.82′ N. lat., 120°54.68′ W. long.;

(232) 35°17.96′ N. lat., 120°55.54′ W. long.;

(233) 35°14.83′ N. lat., 120°55.42′ W. long.;

(234) 35°08.87′ N. lat., 120°50.22′ W. long.;

(235) 35°05.55′ N. lat., 120°44.89′ W. long.;

(236) 35°02.91′ N. lat., 120°43.94′ W. long.;

(237) 34°53.80′ N. lat., 120°43.94′ W. long.;

(238) 34°34.89′ N. lat., 120°41.92′ W. long.;

(239) 34°32.48′ N. lat., 120°40.05′ W. long.;

(240) 34°30.12′ N. lat., 120°32.81′ W. long.;

(241) 34°27.00′ N. lat., 120°30.46′ W. long.;

(242) 34°27.00′ N. lat., 120°30.31′ W. long.;

(243) 34°25.84′ N. lat., 120°27.40′ W. long.;

(244) 34°25.16′ N. lat., 120°20.18′ W. long.;

(245) 34°25.88′ N. lat., 120°18.24′ W. long.;

(246) 34°27.26′ N. lat., 120°12.47′ W. long.;

(247) 34°26.27′ N. lat., 120°02.22′ W. long.;

(248) 34°23.41′ N. lat., 119°53.40′ W. long.;

(249) 34°23.33′ N. lat., 119°48.74′ W. long.;

(250) 34°22.31′ N. lat., 119°41.36′ W. long.;

(251) 34°21.72′ N. lat., 119°40.14′ W. long.;

(252) 34°21.25′ N. lat., 119°41.18′ W. long.;

(253) 34°20.25′ N. lat., 119°39.03′ W. long.;

(254) 34°19.87′ N. lat., 119°33.65′ W. long.;

(255) 34°18.67′ N. lat., 119°30.16′ W. long.;

(256) 34°16.95′ N. lat., 119°27.90′ W. long.;

(257) 34°13.02′ N. lat., 119°26.99′ W. long.;

(258) 34°08.62′ N. lat., 119°20.89′ W. long.;

(259) 34°06.95′ N. lat., 119°17.68′ W. long.;

(260) 34°05.93′ N. lat., 119°15.17′ W. long.;

(261) 34°08.42′ N. lat., 119°13.11′ W. long.;

(262) 34°05.23′ N. lat., 119°13.34′ W. long.;

(263) 34°04.98′ N. lat., 119°11.39′ W. long.;

(264) 34°04.55′ N. lat., 119°11.09′ W. long.;

(265) 34°04.15′ N. lat., 119°09.35′ W. long.;

(266) 34°04.89′ N. lat., 119°07.86′ W. long.;

(267) 34°04.08′ N. lat., 119°07.33′ W. long.;

(268) 34°04.10′ N. lat., 119°06.89′ W. long.;

(269) 34°05.08′ N. lat., 119°07.02′ W. long.;

(270) 34°05.27′ N. lat., 119°04.95′ W. long.;

(271) 34°04.51′ N. lat., 119°04.70′ W. long.;

(272) 34°02.26′ N. lat., 118°59.88′ W. long.;

(273) 34°01.08′ N. lat., 118°59.77′ W. long.;

(274) 34°00.94′ N. lat., 118°51.65′ W. long.;

(275) 33°59.77′ N. lat., 118°49.26′ W. long.;

(276) 34°00.04′ N. lat., 118°48.92′ W. long.;

(277) 33°59.65′ N. lat., 118°48.43′ W. long.;

(278) 33°59.46′ N. lat., 118°47.25′ W. long.;

(279) 33°59.80′ N. lat., 118°45.89′ W. long.;

(280) 34°00.21′ N. lat., 118°37.64′ W. long.;

(281) 33°59.26′ N. lat., 118°34.58′ W. long.;

(282) 33°58.07′ N. lat., 118°33.36′ W. long.;

(283) 33°53.76′ N. lat., 118°30.14′ W. long.;

(284) 33°51.00′ N. lat., 118°25.19′ W. long.;

(285) 33°50.07′ N. lat., 118°24.70′ W. long.;

(286) 33°50.16′ N. lat., 118°23.77′ W. long.;

(287) 33°48.80′ N. lat., 118°25.31′ W. long.;

(288) 33°47.07′ N. lat., 118°27.07′ W. long.;

(289) 33°46.12′ N. lat., 118°26.87′ W. long.;

(290) 33°44.15′ N. lat., 118°25.15′ W. long.;

(291) 33°43.54′ N. lat., 118°23.02′ W. long.;

(292) 33°41.35′ N. lat., 118°18.86′ W. long.;

(293) 33°39.96′ N. lat., 118°17.37′ W. long.;

(294) 33°40.12′ N. lat., 118°16.33′ W. long.;

(295) 33°39.28′ N. lat., 118°16.21′ W. long.;

(296) 33°38.04′ N. lat., 118°14.86′ W. long.;

(297) 33°36.57′ N. lat., 118°14.67′ W. long.;

(298) 33°34.93′ N. lat., 118°10.94′ W. long.;

(399) 33°35.14′ N. lat., 118°08.61′ W. long.;

(300) 33°35.69′ N. lat., 118°07.68′ W. long.;

(301) 33°36.21′ N. lat., 118°07.53′ W. long.;

(302) 33°36.43′ N. lat., 118°06.73′ W. long.;

(303) 33°36.05′ N. lat., 118°06.15′ W. long.;

(304) 33°36.32′ N. lat., 118°03.91′ W. long.;

(305) 33°35.69′ N. lat., 118°03.64′ W. long.;

(306) 33°34.62′ N. lat., 118°00.04′ W. long.;

(307) 33°34.80′ N. lat., 117°57.73′ W. long.;

(308) 33°35.57′ N. lat., 117°56.62′ W. long.;

(309) 33°35.46′ N. lat., 117°55.99′ W. long.;

(310) 33°35.98′ N. lat., 117°55.99′ W. long.;

(311) 33°35.46′ N. lat., 117°55.38′ W. long.;

(312) 33°35.21′ N. lat., 117°53.46′ W. long.;

(313) 33°33.61′ N. lat., 117°50.45′ W. long.;

(314) 33°31.41′ N. lat., 117°47.28′ W. long.;

(315) 33°27.54′ N. lat., 117°44.36′ W. long.;

(316) 33°26.63′ N. lat., 117°43.17′ W. long.;

(317) 33°25.21′ N. lat., 117°40.90′ W. long.;

(318) 33°20.33′ N. lat., 117°35.99′ W. long.;

(319) 33°16.35′ N. lat., 117°31.51′ W. long.;

(320) 33°11.53′ N. lat., 117°26.81′ W. long.;

(321) 33°07.59′ N. lat., 117°21.13′ W. long.;

(322) 33°02.21′ N. lat., 117°19.05′ W. long.;

(323) 32°56.55′ N. lat., 117°17.70′ W. long.;

(324) 32°54.61′ N. lat., 117°16.60′ W. long.;

(325) 32°52.32′ N. lat., 117°15.97′ W. long.;

(326) 32°51.48′ N. lat., 117°16.15′ W. long.;

(327) 32°51.85′ N. lat., 117°17.26′ W. long.;

(328) 32°51.55′ N. lat., 117°19.01′ W. long.;

(329) 32°49.55′ N. lat., 117°19.63′ W. long.;

(330) 32°46.71′ N. lat., 117°18.32′ W. long.;

(331) 32°36.35′ N. lat., 117°15.68′ W. long.; and

(332) 32°32.85′ N. lat., 117°15.44′ W. long.

* * * * *

(j) The 40-fm (73-m) depth contour between 46°16′ N. lat. and the U.S. border with Mexico is defined by straight lines connecting all of the following points in the order stated:

(1) 46°16.00′ N. lat., 124°16.10′ W. long.;

(2) 46°15.29′ N. lat., 124°15.60′ W. long.;

(3) 46°11.90′ N. lat., 124°13.59′ W. long.;

(4) 46°06.94′ N. lat., 124°10.15′ W. long.;

(5) 46°05.33′ N. lat., 124°08.30′ W. long.;

(6) 45°58.69′ N. lat., 124°05.60′ W. long.;

(7) 45°57.71′ N. lat., 124°05.81′ W. long.;

(8) 45°53.98′ N. lat., 124°05.05′ W. long.;

(9) 45°49.75′ N. lat., 124°05.14′ W. long.;

(10) 45°47.87′ N. lat., 124°05.16′ W. long.;

(11) 45°47.07′ N. lat., 124°04.21′ W. long.;

(12) 45°46.00′ N. lat., 124°04.49′ W. long.;

(13) 45°44.34′ N. lat., 124°05.09′ W. long.;

(14) 45°40.64′ N. lat., 124°04.90′ W. long.;

(15) 45°33.00′ N. lat., 124°04.46′ W. long.;

(16) 45°32.27′ N. lat., 124°04.74′ W. long.;

(17) 45°29.26′ N. lat., 124°04.22′ W. long.;

(18) 45°20.25′ N. lat., 124°04.67′ W. long.;

(19) 45°19.99′ N. lat., 124°04.62′ W. long.;

(20) 45°17.50′ N. lat., 124°04.91′ W. long.;

(21) 45°11.29′ N. lat., 124°05.20′ W. long.;

(22) 45°05.80′ N. lat., 124°05.40′ W. long.;

(23) 45°05.08′ N. lat., 124°05.93′ W. long.;

(24) 45°03.83′ N. lat., 124°06.47′ W. long.;

(25) 45°01.70′ N. lat., 124°06.53′ W. long.;

(26) 44°58.75′ N. lat., 124°07.14′ W. long.;

(27) 44°51.28′ N. lat., 124°10.21′ W. long.;

(28) 44°49.49′ N. lat., 124°10.90′ W. long.;

(29) 44°44.96′ N. lat., 124°14.39′ W. long.;

(30) 44°43.44′ N. lat., 124°14.78′ W. long.;

(31) 44°42.26′ N. lat., 124°13.81′ W. long.;

(32) 44°41.68′ N. lat., 124°15.38′ W. long.;

(33) 44°34.87′ N. lat., 124°15.80′ W. long.;

(34) 44°33.74′ N. lat., 124°14.44′ W. long.;

(35) 44°27.66′ N. lat., 124°16.99′ W. long.;

(36) 44°19.13′ N. lat., 124°19.22′ W. long.;

(37) 44°15.35′ N. lat., 124°17.38′ W. long.;

(38) 44°14.38′ N. lat., 124°17.78′ W. long.;

(39) 44°12.80′ N. lat., 124°17.18′ W. long.;

(40) 44°09.23′ N. lat., 124°15.96′ W. long.;

(41) 44°08.38′ N. lat., 124°16.79′ W. long.;

(42) 44°08.30′ N. lat., 124°16.75′ W. long.;

(43) 44°01.18′ N. lat., 124°15.42′ W. long.;

(44) 43°51.61′ N. lat., 124°14.68′ W. long.;

(45) 43°42.66′ N. lat., 124°15.46′ W. long.;

(46) 43°40.49′ N. lat., 124°15.74′ W. long.;

(47) 43°38.77′ N. lat., 124°15.64′ W. long.;

(48) 43°34.52′ N. lat., 124°16.73′ W. long.;

(49) 43°28.82′ N. lat., 124°19.52′ W. long.;

(50) 43°23.91′ N. lat., 124°24.28′ W. long.;

(51) 43°20.83′ N. lat., 124°26.63′ W. long.;

(52) 43°17.96′ N. lat., 124°28.81′ W. long.;

(53) 43°16.75′ N. lat., 124°28.42′ W. long.;

(54) 43°13.97′ N. lat., 124°31.99′ W. long.;

(55) 43°13.72′ N. lat., 124°33.25′ W. long.;

(56) 43°12.26′ N. lat., 124°34.16′ W. long.;

(57) 43°10.96′ N. lat., 124°32.33′ W. long.;

(58) 43°05.65′ N. lat., 124°31.52′ W. long.;

(59) 42°59.66′ N. lat., 124°32.58′ W. long.;

(60) 42°54.97′ N. lat., 124°36.99′ W. long.;

(61) 42°53.81′ N. lat., 124°38.57′ W. long.;

(62) 42°50.00′ N. lat., 124°39.68′ W. long.;

(63) 42°49.13′ N. lat., 124°39.70′ W. long.;

(64) 42°46.47′ N. lat., 124°38.89′ W. long.;

(65) 42°45.74′ N. lat., 124°38.86′ W. long.;

(66) 42°44.79′ N. lat., 124°37.96′ W. long.;

(67) 42°45.01′ N. lat., 124°36.39′ W. long.;

(68) 42°44.14′ N. lat., 124°35.17′ W. long.;

(69) 42°42.14′ N. lat., 124°32.82′ W. long.;

(70) 42°40.50′ N. lat., 124°31.98′ W. long.;

(71) 42°38.81′ N. lat., 124°31.09′ W. long.;

(72) 42°35.91′ N. lat., 124°31.02′ W. long.;

(73) 42°31.34′ N. lat., 124°34.84′ W. long.;

(74) 42°28.13′ N. lat., 124°34.84′ W. long.;

(75) 42°26.74′ N. lat., 124°35.59′ W. long.;

(76) 42°23.84′ N. lat., 124°34.06′ W. long.;

(77) 42°21.68′ N. lat., 124°30.64′ W. long.;

(78) 42°19.62′ N. lat., 124°29.02′ W. long.;

(79) 42°15.01′ N. lat., 124°27.72′ W. long.;

(80) 42°13.67′ N. lat., 124°26.93′ W. long.;

(81) 42°11.38′ N. lat., 124°25.63′ W. long.;

(82) 42°04.66′ N. lat., 124°24.40′ W. long.;

(83) 42°00.00′ N. lat., 124°23.55′ W. long.;

(84) 41°51.35′ N. lat., 124°25.25′ W. long.;

(85) 41°44.10′ N. lat., 124°19.05′ W. long.;

(86) 41°38.00′ N. lat., 124°20.04′ W. long.;

(87) 41°18.43′ N. lat., 124°13.48′ W. long.;

(88) 40°55.12′ N. lat., 124°16.33′ W. long.;

(89) 40°41.00′ N. lat., 124°27.66′ W. long.;

(90) 40°36.71′ N. lat., 124°27.15′ W. long.;

(91) 40°32.81′ N. lat., 124°29.42′ W. long.;

(92) 40°30.00′ N. lat., 124°32.38′ W. long.;

(93) 40°29.13′ N. lat., 124°33.23′ W. long.;

(94) 40°24.55′ N. lat., 124°30.40′ W. long.;

(95) 40°22.32′ N. lat., 124°24.19′ W. long.;

(96) 40°19.67′ N. lat., 124°25.52′ W. long.;

(97) 40°18.63′ N. lat., 124°22.38′ W. long.;

(98) 40°15.21′ N. lat., 124°24.53′ W. long.;

(99) 40°12.56′ N. lat., 124°22.69′ W. long.;

(100) 40°10.00′ N. lat., 124°17.84′ W. long.;

(101) 40°09.30′ N. lat., 124°15.68′ W. long.;

(102) 40°08.31′ N. lat., 124°15.17′ W. long.;

(103) 40°05.62′ N. lat., 124°09.80′ W. long.;

(104) 40°06.57′ N. lat., 124°07.99′ W. long.;

(105) 40°00.86′ N. lat., 124°08.42′ W. long.;

(106) 39°54.79′ N. lat., 124°05.25′ W. long.;

(107) 39°52.75′ N. lat., 124°02.62′ W. long.;

(108) 39°52.51′ N. lat., 123°58.15′ W. long.;

(109) 39°49.64′ N. lat., 123°54.98′ W. long.;

(110) 39°41.46′ N. lat., 123°50.65′ W. long.;

(111) 39°34.57′ N. lat., 123°49.24′ W. long.;

(112) 39°22.62′ N. lat., 123°51.21′ W. long.;

(113) 39°04.58′ N. lat., 123°45.43′ W. long.;

(114) 39°00.45′ N. lat., 123°47.58′ W. long.;

(115) 38°57.50′ N. lat., 123°47.27′ W. long.;

(116) 38°55.82′ N. lat., 123°46.97′ W. long.;

(117) 38°52.26′ N. lat., 123°44.35′ W. long.;

(118) 38°45.41′ N. lat., 123°35.67′ W. long.;

(119) 38°40.60′ N. lat., 123°28.22′ W. long.;

(120) 38°21.64′ N. lat., 123°08.91′ W. long.;

(121) 38°12.01′ N. lat., 123°03.86′ W. long.;

(122) 38°06.16′ N. lat., 123°07.01′ W. long.;

(123) 38°00.00′ N. lat., 123°07.05′ W. long.;

(124) 37°51.73′ N. lat., 122°57.97′ W. long.;

(125) 37°47.96′ N. lat., 122°59.34′ W. long.;

(126) 37°47.37′ N. lat., 123°08.84′ W. long.;

(127) 37°50.00′ N. lat., 123°14.38′ W. long.;

(128) 37°39.91′ N. lat., 123°00.84′ W. long.;

(129) 37°38.75′ N. lat., 122°52.16′ W. long.;

(130) 37°35.67′ N. lat., 122°49.47′ W. long.;

(131) 37°20.24′ N. lat., 122°33.82′ W. long.;

(132) 37°11.00′ N. lat., 122°28.50′ W. long.;

(133) 37°07.00′ N. lat., 122°26.26′ W. long.;

(134) 36°52.04′ N. lat., 122°04.60′ W. long.;

(135) 36°52.00′ N. lat., 121°57.41′ W. long.;

(136) 36°47.87′ N. lat., 121°50.15′ W. long.;

(137) 36°48.07′ N. lat., 121°48.21′ W. long.;

(138) 36°45.93′ N. lat., 121°52.11′ W. long.;

(139) 36°40.55′ N. lat., 121°52.59′ W. long.;

(140) 36°38.93′ N. lat., 121°58.17′ W. long.;

(141) 36°36.54′ N. lat., 122°00.18′ W. long.;

(142) 36°32.87′ N. lat., 121°58.81′ W. long.;

(143) 36°31.90′ N. lat., 121°56.00′ W. long.;

(144) 36°31.51′ N. lat., 121°58.17′ W. long.;

(145) 36°23.28′ N. lat., 121°56.10′ W. long.;

(146) 36°17.52′ N. lat., 121°57.33′ W. long.;

(147) 36°15.90′ N. lat., 121°57.00′ W. long.;

(148) 36°11.06′ N. lat., 121°43.10′ W. long.;

(149) 36°02.85′ N. lat., 121°36.21′ W. long.;

(150) 36°01.22′ N. lat., 121°36.36′ W. long.;

(151) 36°00.00′ N. lat., 121°34.73′ W. long.;

(152) 35°58.67′ N. lat., 121°30.68′ W. long.;

(153) 35°54.16′ N. lat., 121°30.21′ W. long.;

(154) 35°46.98′ N. lat., 121°24.02′ W. long.;

(155) 35°40.75′ N. lat., 121°21.89′ W. long.;

(156) 35°34.36′ N. lat., 121°11.07′ W. long.;

(157) 35°29.30′ N. lat., 121°05.74′ W. long.;

(158) 35°22.15′ N. lat., 120°56.15′ W. long.;

(159) 35°14.93′ N. lat., 120°56.37′ W. long.;

(160) 35°04.06′ N. lat., 120°46.35′ W. long.;

(161) 34°45.85′ N. lat., 120°43.96′ W. long.;

(162) 34°37.80′ N. lat., 120°44.44′ W. long.;

(163) 34°32.82′ N. lat., 120°42.08′ W. long.;

(164) 34°27.00′ N. lat., 120°31.27′ W. long.;

(165) 34°24.25′ N. lat., 120°23.33′ W. long.;

(166) 34°26.48′ N. lat., 120°13.93′ W. long.;

(167) 34°25.12′ N. lat., 120°03.46′ W. long.;

(168) 34°17.58′ N. lat., 119°31.62′ W. long.;

(169) 34°11.49′ N. lat., 119°27.30′ W. long.;

(170) 34°05.59′ N. lat., 119°15.52′ W. long.;

(171) 34°08.60′ N. lat., 119°12.93′ W. long.;

(172) 34°04.81′ N. lat., 119°13.44′ W. long.;

(173) 34°04.26′ N. lat., 119°12.39′ W. long.;

(174) 34°03.89′ N. lat., 119°07.06′ W. long.;

(175) 34°05.14′ N. lat., 119°05.55′ W. long.;

(176) 34°01.27′ N. lat., 118°59.62′ W. long.;

(177) 33°59.56′ N. lat., 118°48.21′ W. long.;

(178) 33°59.30′ N. lat., 118°35.43′ W. long.;

(179) 33°55.14′ N. lat., 118°32.16′ W. long.;

(180) 33°52.95′ N. lat., 118°34.49′ W. long.;

(181) 33°51.07′ N. lat., 118°31.50′ W. long.;

(182) 33°52.45′ N. lat., 118°28.54′ W. long.;

(183) 33°49.86′ N. lat., 118°24.10′ W. long.;

(184) 33°47.14′ N. lat., 118°28.38′ W. long.;

(185) 33°44.14′ N. lat., 118°25.18′ W. long.;

(186) 33°41.54′ N. lat., 118°19.63′ W. long.;

(187) 33°37.86′ N. lat., 118°15.06′ W. long.;

(188) 33°36.58′ N. lat., 118°15.97′ W. long.;

(189) 33°34.78′ N. lat., 118°12.60′ W. long.;

(190) 33°34.46′ N. lat., 118°08.77′ W. long.;

(191) 33°35.92′ N. lat., 118°07.04′ W. long.;

(192) 33°36.06′ N. lat., 118°03.96′ W. long.;

(193) 33°34.98′ N. lat., 118°02.74′ W. long.;

(194) 33°34.03′ N. lat., 117°59.37′ W. long.;

(195) 33°35.46′ N. lat., 117°55.61′ W. long.;

(196) 33°34.97′ N. lat., 117°53.33′ W. long.;

(197) 33°31.20′ N. lat., 117°47.40′ W. long.;

(198) 33°27.26′ N. lat., 117°44.34′ W. long.;

(199) 33°24.84′ N. lat., 117°40.75′ W. long.;

(200) 33°11.45′ N. lat., 117°26.84′ W. long.;

(201) 33°07.59′ N. lat., 117°21.46′ W. long.;

(202) 33°01.74′ N. lat., 117°19.23′ W. long.;

(203) 32°56.44′ N. lat., 117°18.08′ W. long.;

(204) 32°54.63′ N. lat., 117°16.94′ W. long.;

(205) 32°51.67′ N. lat., 117°16.21′ W. long.;

(206) 32°52.16′ N. lat., 117°19.41′ W. long.;

(207) 32°46.91′ N. lat., 117°20.43′ W. long.;

(208) 32°43.49′ N. lat., 117°18.12′ W. long.; and

(209) 32°33.00′ N. lat., 117°16.39′ W. long.

* * * * *

21. In § 660.392, paragraphs (a), (f), and (j) are revised to read as follows:

§ 660.392 Latitude/longitude coordinates defining the 50-fm (91-m) through 75-fm (137-m) depth contours.

* * * * *

(a) The 50-fm (91-m) depth contour between the U.S. border with Canada and the U.S. border with Mexico is defined by straight lines connecting all of the following points in the order stated:

(1) 48°22.15′ N. lat., 124°43.15′ W. long.;

(2) 48°22.15′ N. lat., 124°49.10′ W. long.;

(3) 48°20.03′ N. lat., 124°51.18′ W. long.;

(4) 48°16.61′ N. lat., 124°53.72′ W. long.;

(5) 48°14.68′ N. lat., 124°54.50′ W. long.;

(6) 48°12.02′ N. lat., 124°55.29′ W. long.;

(7) 48°03.14′ N. lat., 124°57.02′ W. long.;

(8) 47°56.05′ N. lat., 124°55.60′ W. long.;

(9) 47°52.58′ N. lat., 124°54.00′ W. long.;

(10) 47°50.18′ N. lat., 124°52.36′ W. long.;

(11) 47°45.34′ N. lat., 124°51.07′ W. long.;

(12) 47°40.96′ N. lat., 124°48.84′ W. long.;

(13) 47°34.59′ N. lat., 124°46.24′ W. long.;

(14) 47°27.86′ N. lat., 124°42.12′ W. long.;

(15) 47°22.34′ N. lat., 124°39.43′ W. long.;

(16) 47°17.66′ N. lat., 124°38.75′ W. long.;

(17) 47°06.25′ N. lat., 124°39.74′ W. long.;

(18) 47°00.43′ N. lat., 124°38.01′ W. long.;

(19) 46°52.00′ N. lat., 124°32.44′ W. long.;

(20) 46°35.41′ N. lat., 124°25.51′ W. long.;

(21) 46°25.43′ N. lat., 124°23.46′ W. long.;

(22) 46°16.00′ N. lat., 124°17.32′ W. long.;

(23) 45°50.88′ N. lat., 124°09.68′ W. long.;

(24) 45°46.00′ N. lat., 124°09.39′ W. long.;

(25) 45°20.25′ N. lat., 124°07.34′ W. long.;

(26) 45°12.99′ N. lat., 124°06.71′ W. long.;

(27) 45°03.83′ N. lat., 124°09.17′ W. long.;

(28) 44°52.48′ N. lat., 124°11.22′ W. long.;

(29) 44°42.41′ N. lat., 124°19.70′ W. long.;

(30) 44°38.80′ N. lat., 124°26.58′ W. long.;

(31) 44°23.39′ N. lat., 124°31.70′ W. long.;

(32) 44°20.30′ N. lat., 124°38.72′ W. long.;

(33) 44°13.52′ N. lat., 124°40.45′ W. long.;

(34) 44°18.80′ N. lat., 124°35.48′ W. long.;

(35) 44°19.62′ N. lat., 124°27.18′ W. long.;

(36) 44°08.30′ N. lat., 124°22.17′ W. long.;

(37) 43°56.65′ N. lat., 124°16.86′ W. long.;

(38) 43°34.95′ N. lat., 124°17.47′ W. long.;

(39) 43°20.83′ N. lat., 124°29.11′ W. long.;

(40) 43°12.60′ N. lat., 124°35.80′ W. long.;

(41) 43°08.96′ N. lat., 124°33.77′ W. long.;

(42) 42°59.66′ N. lat., 124°34.79′ W. long.;

(43) 42°54.29′ N. lat., 124°39.46′ W. long.;

(44) 42°50.00′ N. lat., 124°39.84′ W. long.;

(45) 42°46.50′ N. lat., 124°39.99′ W. long.;

(46) 42°41.00′ N. lat., 124°34.92′ W. long.;

(47) 42°40.50′ N. lat., 124°34.98′ W. long.;

(48) 42°36.29′ N. lat., 124°34.70′ W. long.;

(49) 42°28.36′ N. lat., 124°37.90′ W. long.;

(50) 42°25.53′ N. lat., 124°37.68′ W. long.;

(51) 42°18.64′ N. lat., 124°29.47′ W. long.;

(52) 42°13.67′ N. lat., 124°27.67′ W. long.;

(53) 42°03.04′ N. lat., 124°25.81′ W. long.;

(54) 42°00.00′ N. lat., 124°26.21′ W. long.;

(55) 41°57.60′ N. lat., 124°27.35′ W. long.;

(56) 41°52.53′ N. lat., 124°26.51′ W. long.;

(57) 41°50.17′ N. lat., 124°25.63′ W. long.;

(58) 41°46.01′ N. lat., 124°22.16′ W. long.;

(59) 41°26.50′ N. lat., 124°21.78′ W. long.;

(60) 41°15.66′ N. lat., 124°16.42′ W. long.;

(61) 41°05.45′ N. lat., 124°16.89′ W. long.;

(62) 40°54.55′ N. lat., 124°19.53′ W. long.;

(63) 40°42.22′ N. lat., 124°28.29′ W. long.;

(64) 40°39.68′ N. lat., 124°28.37′ W. long.;

(65) 40°36.76′ N. lat., 124°27.39′ W. long.;

(66) 40°34.44′ N. lat., 124°28.89′ W. long.;

(67) 40°32.57′ N. lat., 124°32.43′ W. long.;

(68) 40°30.95′ N. lat., 124°33.87′ W. long.;

(69) 40°30.00′ N. lat., 124°34.18′ W. long.;

(70) 40°28.90′ N. lat., 124°34.59′ W. long.;

(71) 40°24.36′ N. lat., 124°31.42′ W. long.;

(72) 40°23.66′ N. lat., 124°28.35′ W. long.;

(73) 40°22.54′ N. lat., 124°24.71′ W. long.;

(74) 40°21.52′ N. lat., 124°24.86′ W. long.;

(75) 40°21.25′ N. lat., 124°25.59′ W. long.;

(76) 40°20.63′ N. lat., 124°26.47′ W. long.;

(77) 40°19.18′ N. lat., 124°25.98′ W. long.;

(78) 40°18.42′ N. lat., 124°24.77′ W. long.;

(79) 40°18.64′ N. lat., 124°22.81′ W. long.;

(80) 40°15.31′ N. lat., 124°25.28′ W. long.;

(81) 40°15.37′ N. lat., 124°26.82′ W. long.;

(82) 40°11.91′ N. lat., 124°22.68′ W. long.;

(83) 40°10.01′ N. lat., 124°19.97′ W. long.;

(84) 40°10.00′ N. lat., 124°19.97′ W. long.;

(85) 40°09.20′ N. lat., 124°15.81′ W. long.;

(86) 40°07.51′ N. lat., 124°15.29′ W. long.;

(87) 40°05.22′ N. lat., 124°10.06′ W. long.;

(88) 40°06.51′ N. lat., 124°08.01′ W. long.;

(89) 40°00.72′ N. lat., 124°08.45′ W. long.;

(90) 39°56.60′ N. lat., 124°07.12′ W. long.;

(91) 39°52.58′ N. lat., 124°03.57′ W. long.;

(92) 39°50.65′ N. lat., 123°57.98′ W. long.;

(93) 39°40.16′ N. lat., 123°52.41′ W. long.;

(94) 39°30.12′ N. lat., 123°52.92′ W. long.;

(95) 39°24.53′ N. lat., 123°55.16′ W. long.;

(96) 39°11.58′ N. lat., 123°50.93′ W. long.;

(97) 38°57.50′ N. lat., 123°51.10′ W. long.;

(98) 38°55.13′ N. lat., 123°51.14′ W. long.;

(99) 38°28.58′ N. lat., 123°22.84′ W. long.;

(100) 38°14.60′ N. lat., 123°09.92′ W. long.;

(101) 38°01.84′ N. lat., 123°09.75′ W. long.;

(102) 38°00.00′ N. lat., 123°09.25′ W. long.;

(103) 37°55.24′ N. lat., 123°08.30′ W. long.;

(104) 37°52.06′ N. lat., 123°09.19′ W. long.;

(105) 37°50.21′ N. lat., 123°14.90′ W. long.;

(106) 37°35.67′ N. lat., 122°55.43′ W. long.;

(107) 37°11.00′ N. lat., 122°31.67′ W. long.;

(108) 37°07.00′ N. lat., 122°28.00′ W. long.;

(109) 37°03.06′ N. lat., 122°24.22′ W. long.;

(110) 36°50.20′ N. lat., 122°03.58′ W. long.;

(111) 36°51.46′ N. lat., 121°57.54′ W. long.;

(112) 36°44.14′ N. lat., 121°58.10′ W. long.;

(113) 36°36.76′ N. lat., 122°01.16′ W. long.;

(114) 36°15.62′ N. lat., 121°57.13′ W. long.;

(115) 36°10.41′ N. lat., 121°42.92′ W. long.;

(116) 36°02.56′ N. lat., 121°36.37′ W. long.;

(117) 36°00.00′ N. lat., 121°35.15′ W. long.;

(118) 35°58.26′ N. lat., 121°32.88′ W. long.;

(119) 35°40.38′ N. lat., 121°22.59′ W. long.;

(120) 35°24.35′ N. lat., 121°02.53′ W. long.;

(121) 35°02.66′ N. lat., 120°51.63′ W. long.;

(122) 34°39.52′ N. lat., 120°48.72′ W. long.;

(123) 34°31.26′ N. lat., 120°44.12′ W. long.;

(124) 34°27.00′ N. lat., 120°33.31′ W. long.;

(125) 34°23.47′ N. lat., 120°24.76′ W. long.;

(126) 34°25.83′ N. lat., 120°17.26′ W. long.;

(127) 34°24.65′ N. lat., 120°04.83′ W. long.;

(128) 34°23.18′ N. lat., 119°56.18′ W. long.;

(129) 34°19.20′ N. lat., 119°41.64′ W. long.;

(130) 34°16.82′ N. lat., 119°35.32′ W. long.;

(131) 34°13.43′ N. lat., 119°32.29′ W. long.;

(132) 34°05.39′ N. lat., 119°15.13′ W. long.;

(133) 34°08.22′ N. lat., 119°13.64′ W. long.;

(134) 34°07.64′ N. lat., 119°13.10′ W. long.;

(135) 34°04.56′ N. lat., 119°13.73′ W. long.;

(136) 34°03.90′ N. lat., 119°12.66′ W. long.;

(137) 34°03.66′ N. lat., 119°06.82′ W. long.;

(138) 34°04.58′ N. lat., 119°04.91′ W. long.;

(139) 34°01.35′ N. lat., 119°00.30′ W. long.;

(140) 34°00.24′ N. lat., 119°03.18′ W. long.;

(141) 33°59.63′ N. lat., 119°03.20′ W. long.;

(142) 33°59.54′ N. lat., 119°00.88′ W. long.;

(143) 34°00.82′ N. lat., 118°59.03′ W. long.;

(144) 33°59.11′ N. lat., 118°47.52′ W. long.;

(145) 33°59.07′ N. lat., 118°36.33′ W. long.;

(146) 33°55.06′ N. lat., 118°32.86′ W. long.;

(147) 33°53.56′ N. lat., 118°37.75′ W. long.;

(148) 33°51.22′ N. lat., 118°36.14′ W. long.;

(149) 33°50.48′ N. lat., 118°32.16′ W. long.;

(150) 33°51.86′ N. lat., 118°28.71′ W. long.;

(151) 33°50.09′ N. lat., 118°27.88′ W. long.;

(152) 33°49.95′ N. lat., 118°26.38′ W. long.;

(153) 33°50.73′ N. lat., 118°26.17′ W. long.;

(154) 33°49.86′ N. lat., 118°24.25′ W. long.;

(155) 33°48.10′ N. lat., 118°26.87′ W. long.;

(156) 33°47.54′ N. lat., 118°29.66′ W. long.;

(157) 33°44.10′ N. lat., 118°25.25′ W. long.;

(158) 33°41.78′ N. lat., 118°20.28′ W. long.;

(159) 33°38.18′ N. lat., 118°15.69′ W. long.;

(160) 33°37.50′ N. lat., 118°16.71′ W. long.;

(161) 33°35.98′ N. lat., 118°16.54′ W. long.;

(162) 33°34.15′ N. lat., 118°11.22′ W. long.;

(163) 33°34.29′ N. lat., 118°08.35′ W. long.;

(164) 33°35.85′ N. lat., 118°07.00′ W. long.;

(165) 33°36.12′ N. lat., 118°04.15′ W. long.;

(166) 33°34.97′ N. lat., 118°02.91′ W. long.;

(167) 33°34.00′ N. lat., 117°59.53′ W. long.;

(168) 33°35.44′ N. lat., 117°55.67′ W. long.;

(169) 33°35.15′ N. lat., 117°53.55′ W. long.;

(170) 33°31.12′ N. lat., 117°47.40′ W. long.;

(171) 33°27.99′ N. lat., 117°45.19′ W. long.;

(172) 33°26.88′ N. lat., 117°43.87′ W. long.;

(173) 33°25.44′ N. lat., 117°41.63′ W. long.;

(174) 33°19.50′ N. lat., 117°36.08′ W. long.;

(175) 33°12.74′ N. lat., 117°28.53′ W. long.;

(176) 33°10.29′ N. lat., 117°25.68′ W. long.;

(177) 33°07.36′ N. lat., 117°21.23′ W. long.;

(178) 32°59.39′ N. lat., 117°18.56′ W. long.;

(179) 32°56.10′ N. lat., 117°18.37′ W. long.;

(180) 32°54.43′ N. lat., 117°16.93′ W. long.;

(181) 32°51.89′ N. lat., 117°16.42′ W. long.;

(182) 32°52.24′ N. lat., 117°19.36′ W. long.;

(183) 32°47.06′ N. lat., 117°21.92′ W. long.;

(184) 32°45.09′ N. lat., 117°20.68′ W. long.;

(185) 32°43.62′ N. lat., 117°18.68′ W. long.; and

(186) 32°33.43′ N. lat., 117°17.00′ W. long.

* * * * *

(f) The 60-fm (110-m) depth contour used between the U.S. border with Canada and the U.S. border with Mexico is defined by straight lines connecting all of the following points in the order stated:

(1) 48°26.70′ N. lat., 125°09.43′ W. long.;

(2) 48°23.76′ N. lat., 125°06.77′ W. long.;

(3) 48°23.01′ N. lat., 125°03.48′ W. long.;

(4) 48°22.42′ N. lat., 124°57.84′ W. long.;

(5) 48°22.62′ N. lat., 124°48.97′ W. long.;

(6) 48°18.61′ N. lat., 124°52.52′ W. long.;

(7) 48°16.62′ N. lat., 124°54.03′ W. long.;

(8) 48°15.39′ N. lat., 124°54.79′ W. long.;

(9) 48°13.81′ N. lat., 124°55.45′ W. long.;

(10) 48°10.51′ N. lat., 124°56.56′ W. long.;

(11) 48°06.90′ N. lat., 124°57.72′ W. long.;

(12) 48°02.23′ N. lat., 125°00.20′ W. long.;

(13) 48°00.87′ N. lat., 125°00.37′ W. long.;

(14) 47°56.30′ N. lat., 124°59.51′ W. long.;

(15) 47°46.84′ N. lat., 124°57.34′ W. long.;

(16) 47°36.49′ N. lat., 124°50.93′ W. long.;

(17) 47°32.01′ N. lat., 124°48.45′ W. long.;

(18) 47°27.19′ N. lat., 124°46.47′ W. long.;

(19) 47°21.76′ N. lat., 124°43.29′ W. long.;

(20) 47°17.82′ N. lat., 124°42.12′ W. long.;

(21) 47°08.87′ N. lat., 124°43.10′ W. long.;

(22) 47°03.16′ N. lat., 124°42.61′ W. long.;

(23) 46°49.70′ N. lat., 124°36.80′ W. long.;

(24) 46°42.91′ N. lat., 124°33.20′ W. long.;

(25) 46°39.67′ N. lat., 124°30.59′ W. long.;

(26) 46°32.47′ N. lat., 124°26.34′ W. long.;

(27) 46°23.69′ N. lat., 124°25.41′ W. long.;

(28) 46°20.84′ N. lat., 124°24.24′ W. long.;

(29) 46°16.00′ N. lat., 124°19.10′ W. long.;

(30) 46°15.97′ N. lat., 124°18.80′ W. long.;

(31) 46°11.23′ N. lat., 124°19.96′ W. long.;

(32) 46°02.51′ N. lat., 124°19.84′ W. long.;

(33) 45°59.05′ N. lat., 124°16.52′ W. long.;

(34) 45°50.99′ N. lat., 124°12.83′ W. long.;

(35) 45°45.85′ N. lat., 124°11.54′ W. long.;

(36) 45°38.53′ N. lat., 124°11.92′ W. long.;

(37) 45°30.90′ N. lat., 124°10.94′ W. long.;

(38) 45°21.20′ N. lat., 124°09.12′ W. long.;

(39) 45°12.43′ N. lat., 124°08.74′ W. long.;

(40) 44°59.89′ N. lat., 124°11.95′ W. long.;

(41) 44°51.96′ N. lat., 124°15.15′ W. long.;

(42) 44°44.63′ N. lat., 124°20.07′ W. long.;

(43) 44°39.23′ N. lat., 124°28.09′ W. long.;

(44) 44°30.61′ N. lat., 124°31.66′ W. long.;

(45) 44°26.20′ N. lat., 124°35.87′ W. long.;

(46) 44°23.65′ N. lat., 124°39.07′ W. long.;

(47) 44°20.30′ N. lat., 124°38.72′ W. long.;

(48) 44°13.52′ N. lat., 124°40.45′ W. long.;

(49) 44°10.97′ N. lat., 124°38.78′ W. long.;

(50) 44°08.71′ N. lat., 124°33.54′ W. long.;

(51) 44°04.91′ N. lat., 124°24.55′ W. long.;

(52) 43°57.49′ N. lat., 124°20.05′ W. long.;

(53) 43°50.26′ N. lat., 124°21.85′ W. long.;

(54) 43°41.69′ N. lat., 124°21.94′ W. long.;

(55) 43°35.51′ N. lat., 124°21.51′ W. long.;

(56) 43°25.77′ N. lat., 124°28.47′ W. long.;

(57) 43°20.25′ N. lat., 124°31.59′ W. long.;

(58) 43°12.73′ N. lat., 124°36.68′ W. long.;

(59) 43°08.08′ N. lat., 124°36.10′ W. long.;

(60) 43°00.33′ N. lat., 124°37.57′ W. long.;

(61) 42°53.99′ N. lat., 124°41.03′ W. long.;

(62) 42°46.66′ N. lat., 124°41.13′ W. long.;

(63) 42°41.74′ N. lat., 124°37.46′ W. long.;

(64) 42°37.42′ N. lat., 124°37.22′ W. long.;

(65) 42°27.35′ N. lat., 124°39.91′ W. long.;

(66) 42°23.94′ N. lat., 124°38.29′ W. long.;

(67) 42°17.72′ N. lat., 124°31.10′ W. long.;

(68) 42°10.36′ N. lat., 124°29.11′ W. long.;

(68) 42°00.00′ N. lat., 124°28.00′ W. long.;

(69) 41°54.87′ N. lat., 124°28.50′ W. long.;

(70) 41°45.80′ N. lat., 124°23.89′ W. long.;

(71) 41°34.40′ N. lat., 124°24.03′ W. long.;

(72) 41°28.33′ N. lat., 124°25.46′ W. long.;

(73) 41°15.80′ N. lat., 124°18.90′ W. long.;

(74) 41°09.77′ N. lat., 124°17.99′ W. long.;

(75) 41°02.26′ N. lat., 124°18.71′ W. long.;

(76) 40°53.54′ N. lat., 124°21.18′ W. long.;

(77) 40°49.93′ N. lat., 124°23.02′ W. long.;

(78) 40°43.15′ N. lat., 124°28.74′ W. long.;

(79) 40°40.19′ N. lat., 124°29.07′ W. long.;

(80) 40°36.77′ N. lat., 124°27.61′ W. long.;

(81) 40°34.13′ N. lat., 124°29.39′ W. long.;

(82) 40°33.15′ N. lat., 124°33.46′ W. long.;

(83) 40°30.00′ N. lat., 124°35.84′ W. long.;

(84) 40°24.72′ N. lat., 124°33.06′ W. long.;

(85) 40°23.91′ N. lat., 124°31.28′ W. long.;

(86) 40°23.67′ N. lat., 124°28.35′ W. long.;

(87) 40°22.53′ N. lat., 124°24.72′ W. long.;

(88) 40°21.51′ N. lat., 124°24.86′ W. long.;

(89) 40°21.02′ N. lat., 124°27.70′ W. long.;

(90) 40°19.75′ N. lat., 124°27.06′ W. long.;

(91) 40°18.23′ N. lat., 124°25.30′ W. long.;

(92) 40°18.60′ N. lat., 124°22.86′ W. long.;

(93) 40°15.43′ N. lat., 124°25.37′ W. long.;

(94) 40°15.55′ N. lat., 124°28.16′ W. long.;

(95) 40°11.27′ N. lat., 124°22.56′ W. long.;

(96) 40°10.00′ N. lat., 124°19.97′ W. long.;

(97) 40°09.20′ N. lat., 124°15.81′ W. long.;

(98) 40°07.51′ N. lat., 124°15.29′ W. long.;

(99) 40°05.22′ N. lat., 124°10.06′ W. long.;

(100) 40°06.51′ N. lat., 124°08.01′ W. long.;

(101) 40°00.72′ N. lat., 124°08.45′ W. long.;

(102) 39°56.60′ N. lat., 124°07.12′ W. long.;

(103) 39°52.58′ N. lat., 124°03.57′ W. long.;

(104) 39°50.65′ N. lat., 123°57.98′ W. long.;

(105) 39°40.16′ N. lat., 123°52.41′ W. long.;

(106) 39°30.12′ N. lat., 123°52.92′ W. long.;

(107) 39°24.53′ N. lat., 123°55.16′ W. long.;

(108) 39°11.58′ N. lat., 123°50.93′ W. long.;

(109) 38°57.50′ N. lat., 123°51.14′ W. long.;

(110) 38°55.13′ N. lat., 123°51.14′ W. long.;

(111) 38°28.58′ N. lat., 123°22.84′ W. long.;

(112) 38°08.57′ N. lat., 123°14.74′ W. long.;

(113) 38°00.00′ N. lat., 123°15.61′ W. long.;

(114) 37°56.98′ N. lat., 123°21.82′ W. long.;

(115) 37°48.01′ N. lat., 123°15.90′ W. long.;

(116) 37°35.67′ N. lat., 122°58.48′ W. long.;

(117) 37°11.00′ N. lat., 122°40.22′ W. long.;

(118) 37°07.00′ N. lat., 122°37.64′ W. long.;

(119) 37°02.08′ N. lat., 122°25.49′ W. long.;

(120) 36°48.20′ N. lat., 122°03.32′ W. long.;

(121) 36°51.46′ N. lat., 121°57.54′ W. long.;

(122) 36°44.14′ N. lat., 121°58.10′ W. long.;

(123) 36°36.76′ N. lat., 122°01.16′ W. long.;

(124) 36°15.62′ N. lat., 121°57.13′ W. long.;

(125) 36°10.42′ N. lat., 121°42.90′ W. long.;

(126) 36°02.55′ N. lat., 121°36.35′ W. long.;

(127) 36°00.00′ N. lat., 121°35.15′ W. long.;

(128) 35°58.25′ N. lat., 121°32.88′ W. long.;

(129) 35°40.38′ N. lat., 121°22.59′ W. long.;

(130) 35°24.35′ N. lat., 121°02.53′ W. long.;

(131) 35°02.66′ N. lat., 120°51.63′ W. long.;

(132) 34°39.52′ N. lat., 120°48.72′ W. long.;

(133) 34°31.26′ N. lat., 120°44.12′ W. long.;

(134) 34°27.00′ N. lat., 120°36.00′ W. long.;

(135) 34°23.00′ N. lat., 120°25.32′ W. long.;

(136) 34°25.68′ N. lat., 120°17.46′ W. long.;

(137) 34°23.18′ N. lat., 119°56.17′ W. long.;

(138) 34°18.73′ N. lat., 119°41.89′ W. long.;

(139) 34°11.18′ N. lat., 119°31.21′ W. long.;

(140) 34°10.01′ N. lat., 119°25.84′ W. long.;

(141) 34°03.88′ N. lat., 119°12.46′ W. long.;

(142) 34°03.58′ N. lat., 119°06.71′ W. long.;

(143) 34°04.52′ N. lat., 119°04.89′ W. long.;

(144) 34°01.28′ N. lat., 119°00.27′ W. long.;

(145) 34°00.20′ N. lat., 119°03.18′ W. long.;

(146) 33°59.60′ N. lat., 119°03.14′ W. long.;

(147) 33°59.45′ N. lat., 119°00.87′ W. long.;

(148) 34°00.71′ N. lat., 118°59.07′ W. long.;

(149) 33°59.05′ N. lat., 118°47.34′ W. long.;

(150) 33°59.06′ N. lat., 118°36.30′ W. long.;

(151) 33°55.05′ N. lat., 118°32.85′ W. long.;

(152) 33°53.56′ N. lat., 118°37.73′ W. long.;

(153) 33°51.22′ N. lat., 118°36.13′ W. long.;

(154) 33°50.19′ N. lat., 118°32.19′ W. long.;

(155) 33°51.28′ N. lat., 118°29.12′ W. long.;

(156) 33°49.89′ N. lat., 118°28.04′ W. long.;

(157) 33°49.95′ N. lat., 118°26.38′ W. long.;

(158) 33°50.73′ N. lat., 118°26.16′ W. long.;

(159) 33°49.87′ N. lat., 118°24.37′ W. long.;

(160) 33°47.54′ N. lat., 118°29.65′ W. long.;

(161) 33°44.10′ N. lat., 118°25.25′ W. long.;

(162) 33°41.77′ N. lat., 118°20.32′ W. long.;

(163) 33°38.17′ N. lat., 118°15.69′ W. long.;

(164) 33°37.48′ N. lat., 118°16.72′ W. long.;

(165) 33°35.98′ N. lat., 118°16.54′ W. long.;

(166) 33°34.15′ N. lat., 118°11.22′ W. long.;

(167) 33°34.09′ N. lat., 118°08.15′ W. long.;

(168) 33°35.73′ N. lat., 118°05.01′ W. long.;

(169) 33°33.75′ N. lat., 117°59.82′ W. long.;

(170) 33°35.44′ N. lat., 117°55.65′ W. long.;

(171) 33°35.15′ N. lat., 117°53.54′ W. long.;

(172) 33°31.12′ N. lat., 117°47.39′ W. long.;

(173) 33°27.49′ N. lat., 117°44.85′ W. long.;

(174) 33°16.42′ N. lat., 117°32.92′ W. long.;

(175) 33°06.66′ N. lat., 117°21.59′ W. long.;

(176) 33°00.08′ N. lat., 117°19.02′ W. long.;

(177) 32°56.11′ N. lat., 117°18.41′ W. long.;

(178) 32°54.43′ N. lat., 117°16.93′ W. long.;

(179) 32°51.89′ N. lat., 117°16.42′ W. long.;

(180) 32°52.61′ N. lat., 117°19.50′ W. long.;

(181) 32°46.96′ N. lat., 117°22.69′ W. long.;

(182) 32°44.98′ N. lat., 117°21.87′ W. long.;

(183) 32°43.52′ N. lat., 117°19.32′ W. long.; and

(184) 32°33.56′ N. lat., 117°17.72′ W. long.

* * * * *

(j) The 75-fm (137-m) depth contour used between the U.S. border with Canada and the U.S. border with Mexico is defined by straight lines connecting all of the following points in the order stated:

(1) 48°16.80′ N. lat., 125°34.90′ W. long.;

(2) 48°14.50′ N. lat., 125°29.50′ W. long.;

(3) 48°12.08′ N. lat., 125°28.00′ W. long.;

(4) 48°09.00′ N. lat., 125°28.00′ W. long.;

(5) 48°07.80′ N. lat., 125°31.70′ W. long.;

(6) 48°04.28′ N. lat., 125°29.00′ W. long.;

(7) 48°02.50′ N. lat., 125°25.70′ W. long.;

(8) 48°10.00′ N. lat., 125°20.19′ W. long.;

(9) 48°21.70′ N. lat., 125°17.56′ W. long.;

(10) 48°23.12′ N. lat., 125°10.25′ W. long.;

(11) 48°21.77′ N. lat., 125°02.59′ W. long.;

(12) 48°23.00′ N. lat., 124°59.30′ W. long.;

(13) 48°23.90′ N. lat., 124°54.37′ W. long.;

(14) 48°23.05′ N. lat., 124°48.80′ W. long.;

(15) 48°17.10′ N. lat., 124°54.82′ W. long.;

(16) 48°05.10′ N. lat., 124°59.40′ W. long.;

(17) 48°04.50′ N. lat., 125°02.00′ W. long.;

(18) 48°04.70′ N. lat., 125°04.08′ W. long.;

(19) 48°05.20′ N. lat., 125°04.90′ W. long.;

(20) 48°06.63′ N. lat., 125°06.21′ W. long.;

(21) 48°05.91′ N. lat., 125°08.30′ W. long.;

(22) 48°07.00′ N. lat., 125°09.80′ W. long.;

(23) 48°06.93′ N. lat., 125°11.48′ W. long.;

(24) 48°04.98′ N. lat., 125°10.02′ W. long.;

(25) 47°54.00′ N. lat., 125°04.98′ W. long.;

(26) 47°44.52′ N. lat., 125°00.00′ W. long.;

(27) 47°42.00′ N. lat., 124°58.98′ W. long.;

(28) 47°35.52′ N. lat., 124°55.50′ W. long.;

(29) 47°22.02′ N. lat., 124°44.40′ W. long.;

(30) 47°16.98′ N. lat., 124°45.48′ W. long.;

(31) 47°10.98′ N. lat., 124°48.48′ W. long.;

(32) 47°04.98′ N. lat., 124°49.02′ W. long.;

(33) 46°57.98′ N. lat., 124°46.50′ W. long.;

(34) 46°54.00′ N. lat., 124°45.00′ W. long.;

(35) 46°48.48′ N. lat., 124°44.52′ W. long.;

(36) 46°40.02′ N. lat., 124°36.00′ W. long.;

(37) 46°34.09′ N. lat., 124°27.03′ W. long.;

(38) 46°24.64′ N. lat., 124°30.33′ W. long.;

(39) 46°19.98′ N. lat., 124°36.00′ W. long.;

(40) 46°18.14′ N. lat., 124°34.26′ W. long.;

(41) 46°18.72′ N. lat., 124°22.68′ W. long.;

(42) 46°16.00′ N. lat., 124°19.49′ W. long.;

(43) 46°14.63′ N. lat., 124°22.54′ W. long.;

(44) 46°11.08′ N. lat., 124°30.74′ W. long.;

(45) 46°04.28′ N. lat., 124°31.49′ W. long.;

(46) 45°55.97′ N. lat., 124°19.95′ W. long.;

(47) 45°46.00′ N. lat., 124°16.41′ W. long.;

(48) 45°44.97′ N. lat., 124°15.95′ W. long.;

(49) 45°43.14′ N. lat., 124°21.86′ W. long.;

(50) 45°34.45′ N. lat., 124°14.44′ W. long.;

(51) 45°20.25′ N. lat., 124°12.23′ W. long.;

(52) 45°15.49′ N. lat., 124°11.49′ W. long.;

(53) 45°03.83′ N. lat., 124°13.75′ W. long.;

(54) 44°57.31′ N. lat., 124°15.03′ W. long.;

(55) 44°43.90′ N. lat., 124°28.88′ W. long.;

(56) 44°28.64′ N. lat., 124°35.67′ W. long.;

(57) 44°25.31′ N. lat., 124°43.08′ W. long.;

(58) 44°16.28′ N. lat., 124°47.86′ W. long.;

(59) 44°13.47′ N. lat., 124°54.08′ W. long.;

(60) 44°02.88′ N. lat., 124°53.96′ W. long.;

(61) 44°00.14′ N. lat., 124°55.25′ W. long.;

(62) 43°57.68′ N. lat., 124°55.48′ W. long.;

(63) 43°56.66′ N. lat., 124°55.45′ W. long.;

(64) 43°57.50′ N. lat., 124°41.23′ W. long.;

(65) 44°01.79′ N. lat., 124°38.00′ W. long.;

(66) 44°02.17′ N. lat., 124°32.62′ W. long.;

(67) 43°58.15′ N. lat., 124°30.39′ W. long.;

(68) 43°53.25′ N. lat., 124°31.39′ W. long.;

(69) 43°35.56′ N. lat., 124°28.17′ W. long.;

(70) 43°21.84′ N. lat., 124°36.07′ W. long.;

(71) 43°20.83′ N. lat., 124°35.49′ W. long.;

(72) 43°19.73′ N. lat., 124°34.87′ W. long.;

(73) 43°09.38′ N. lat., 124°39.29′ W. long.;

(74) 43°07.11′ N. lat., 124°37.66′ W. long.;

(75) 42°56.27′ N. lat., 124°43.28′ W. long.;

(76) 42°50.00′ N. lat., 124°42.30′ W. long.;

(77) 42°45.01′ N. lat., 124°41.50′ W. long.;

(78) 42°40.50′ N. lat., 124°39.46′ W. long.;

(79) 42°39.71′ N. lat., 124°39.11′ W. long.;

(80) 42°32.87′ N. lat., 124°40.13′ W. long.;

(81) 42°32.30′ N. lat., 124°39.04′ W. long.;

(82) 42°26.96′ N. lat., 124°44.30′ W. long.;

(83) 42°24.11′ N. lat., 124°42.16′ W. long.;

(84) 42°21.10′ N. lat., 124°35.46′ W. long.;

(85) 42°14.72′ N. lat., 124°32.30′ W. long.;

(86) 42°13.67′ N. lat., 124°32.29′ W. long.;

(87) 42°09.25′ N. lat., 124°32.04′ W. long.;

(88) 42°01.88′ N. lat., 124°32.71′ W. long.;

(89) 42°00.00′ N. lat., 124°32.02′ W. long.;

(90) 41°46.18′ N. lat., 124°26.60′ W. long.;

(91) 41°29.22′ N. lat., 124°28.04′ W. long.;

(92) 41°09.62′ N. lat., 124°19.75′ W. long.;

(93) 40°50.71′ N. lat., 124°23.80′ W. long.;

(94) 40°43.35′ N. lat., 124°29.30′ W. long.;

(95) 40°40.24′ N. lat., 124°29.86′ W. long.;

(96) 40°37.50′ N. lat., 124°28.68′ W. long.;

(97) 40°34.42′ N. lat., 124°29.65′ W. long.;

(98) 40°34.74′ N. lat., 124°34.61′ W. long.;

(99) 40°31.70′ N. lat., 124°37.13′ W. long.;

(100) 40°30.00′ N. lat., 124°36.50′ W. long.;

(101) 40°25.03′ N. lat., 124°34.77′ W. long.;

(102) 40°23.58′ N. lat., 124°31.49′ W. long.;

(103) 40°23.64′ N. lat., 124°28.35′ W. long.;

(104) 40°22.53′ N. lat., 124°24.76′ W. long.;

(105) 40°21.46′ N. lat., 124°24.86′ W. long.;

(106) 40°21.74′ N. lat., 124°27.63′ W. long.;

(107) 40°19.76′ N. lat., 124°28.15′ W. long.;

(108) 40°18.00′ N. lat., 124°25.38′ W. long.;

(109) 40°18.54′ N. lat., 124°22.94′ W. long.;

(110) 40°15.55′ N. lat., 124°25.75′ W. long.;

(111) 40°16.06′ N. lat., 124°30.48′ W. long.;

(112) 40°15.75′ N. lat., 124°31.69′ W. long.;

(113) 40°10.00′ N. lat., 124°21.28′ W. long.;

(114) 40°08.37′ N. lat., 124°17.99′ W. long.;

(115) 40°09.00′ N. lat., 124°15.77′ W. long.;

(116) 40°06.93′ N. lat., 124°16.49′ W. long.;

(117) 40°03.60′ N. lat., 124°11.60′ W. long.;

(118) 40°06.20′ N. lat., 124°08.23′ W. long.;

(119) 40°00.94′ N. lat., 124°08.57′ W. long.;

(120) 40°00.01′ N. lat., 124°09.84′ W. long.;

(121) 39°57.75′ N. lat., 124°09.53′ W. long.;

(122) 39°55.56′ N. lat., 124°07.67′ W. long.;

(123) 39°52.21′ N. lat., 124°05.54′ W. long.;

(124) 39°48.07′ N. lat., 123°57.48′ W. long.;

(125) 39°41.60′ N. lat., 123°55.12′ W. long.;

(126) 39°30.39′ N. lat., 123°55.03′ W. long.;

(127) 39°29.48′ N. lat., 123°56.12′ W. long.;

(128) 39°13.76′ N. lat., 123°54.65′ W. long.;

(129) 39°05.21′ N. lat., 123°55.38′ W. long.;

(130) 38°57.50′ N. lat., 123°54.50′ W. long.;

(131) 38°55.90′ N. lat., 123°54.35′ W. long.;

(132) 38°48.59′ N. lat., 123°49.61′ W. long.;

(133) 38°28.82′ N. lat., 123°27.44′ W. long.;

(134) 38°09.70′ N. lat., 123°18.66′ W. long.;

(135) 38°01.81′ N. lat., 123°19.22′ W. long.;

(136) 38°00.00′ N. lat., 123°22.19′ W. long.;

(137) 37°57.70′ N. lat., 123°25.98′ W. long.;

(138) 37°56.73′ N. lat., 123°25.22′ W. long.;

(139) 37°55.59′ N. lat., 123°25.62′ W. long.;

(140) 37°52.79′ N. lat., 123°23.85′ W. long.;

(141) 37°49.13′ N. lat., 123°18.83′ W. long.;

(142) 37°46.01′ N. lat., 123°12.28′ W. long.;

(143) 37°35.67′ N. lat., 123°00.33′ W. long.;

(144) 37°24.16′ N. lat., 122°51.96′ W. long.;

(145) 37°23.32′ N. lat., 122°52.38′ W. long.;

(146) 37°11.00′ N. lat., 122°45.48′ W. long.;

(147) 37°07.00′ N. lat., 122°41.60′ W. long.;

(148) 37°04.12′ N. lat., 122°38.94′ W. long.;

(149) 37°00.64′ N. lat., 122°33.26′ W. long.;

(150) 36°59.15′ N. lat., 122°27.84′ W. long.;

(151) 37°01.41′ N. lat., 122°24.41′ W. long.;

(152) 36°58.75′ N. lat., 122°23.81′ W. long.;

(153) 36°59.17′ N. lat., 122°21.44′ W. long.;

(154) 36°57.51′ N. lat., 122°20.69′ W. long.;

(155) 36°51.46′ N. lat., 122°10.01′ W. long.;

(156) 36°48.43′ N. lat., 122°06.47′ W. long.;

(157) 36°48.66′ N. lat., 122°04.99′ W. long.;

(158) 36°47.75′ N. lat., 122°03.33′ W. long.;

(159) 36°51.23′ N. lat., 121°57.79′ W. long.;

(160) 36°49.72′ N. lat., 121°57.87′ W. long.;

(161) 36°48.84′ N. lat., 121°58.68′ W. long.;

(162) 36°47.89′ N. lat., 121°58.53′ W. long.;

(163) 36°48.66′ N. lat., 121°50.49′ W. long.;

(164) 36°45.56′ N. lat., 121°54.11′ W. long.;

(165) 36°45.30′ N. lat., 121°57.62′ W. long.;

(166) 36°38.54′ N. lat., 122°01.13′ W. long.;

(167) 36°35.76′ N. lat., 122°00.87′ W. long.;

(168) 36°32.58′ N. lat., 121°59.12′ W. long.;

(169) 36°32.95′ N. lat., 121°57.62′ W. long.;

(170) 36°31.96′ N. lat., 121°56.27′ W. long.;

(171) 36°31.74′ N. lat., 121°58.24′ W. long.;

(172) 36°30.57′ N. lat., 121°59.66′ W. long.;

(173) 36°27.80′ N. lat., 121°59.30′ W. long.;

(174) 36°26.52′ N. lat., 121°58.09′ W. long.;

(175) 36°23.65′ N. lat., 121°58.94′ W. long.;

(176) 36°20.93′ N. lat., 122°00.28′ W. long.;

(177) 36°18.23′ N. lat., 122°03.10′ W. long.;

(178) 36°14.21′ N. lat., 121°57.73′ W. long.;

(179) 36°14.68′ N. lat., 121°55.43′ W. long.;

(180) 36°10.42′ N. lat., 121°42.90′ W. long.;

(181) 36°02.55′ N. lat., 121°36.35′ W. long.;

(182) 36°01.04′ N. lat., 121°36.47′ W. long.;

(183) 36°00.00′ N. lat., 121°35.15′ W. long.;

(184) 35°58.25′ N. lat., 121°32.88′ W. long.;

(185) 35°39.35′ N. lat., 121°22.63′ W. long.;

(186) 35°24.44′ N. lat., 121°02.23′ W. long.;

(187) 35°10.84′ N. lat., 120°55.90′ W. long.;

(188) 35°04.35′ N. lat., 120°51.62′ W. long.;

(189) 34°55.25′ N. lat., 120°49.36′ W. long.;

(190) 34°47.95′ N. lat., 120°50.76′ W. long.;

(190) 34°39.27′ N. lat., 120°49.16′ W. long.;

(192) 34°31.05′ N. lat., 120°44.71′ W. long.;

(193) 34°27.00′ N. lat., 120°36.54′ W. long.;

(194) 34°22.60′ N. lat., 120°25.41′ W. long.;

(195) 34°25.45′ N. lat., 120°17.41′ W. long.;

(196) 34°22.94′ N. lat., 119°56.40′ W. long.;

(197) 34°18.37′ N. lat., 119°42.01′ W. long.;

(198) 34°11.22′ N. lat., 119°32.47′ W. long.;

(199) 34°09.58′ N. lat., 119°25.94′ W. long.;

(200) 34°03.89′ N. lat., 119°12.47′ W. long.;

(201) 34°03.57′ N. lat., 119°06.72′ W. long.;

(202) 34°04.53′ N. lat., 119°04.90′ W. long.;

(203) 34°02.84′ N. lat., 119°02.37′ W. long.;

(204) 34°01.30′ N. lat., 119°00.26′ W. long.;

(205) 34°00.22′ N. lat., 119°03.20′ W. long.;

(206) 33°59.60′ N. lat., 119°03.16′ W. long.;

(207) 33°59.46′ N. lat., 119°00.88′ W. long.;

(208) 34°00.49′ N. lat., 118°59.08′ W. long.;

(209) 33°59.07′ N. lat., 118°47.34′ W. long.;

(210) 33°58.73′ N. lat., 118°36.45′ W. long.;

(211) 33°55.24′ N. lat., 118°33.42′ W. long.;

(212) 33°53.71′ N. lat., 118°38.01′ W. long.;

(213) 33°51.22′ N. lat., 118°36.17′ W. long.;

(214) 33°49.85′ N. lat., 118°32.31′ W. long.;

(215) 33°49.61′ N. lat., 118°28.07′ W. long.;

(216) 33°49.95′ N. lat., 118°26.38′ W. long.;

(217) 33°50.36′ N. lat., 118°25.84′ W. long.;

(218) 33°49.84′ N. lat., 118°24.78′ W. long.;

(219) 33°47.53′ N. lat., 118°30.12′ W. long.;

(220) 33°44.11′ N. lat., 118°25.25′ W. long.;

(221) 33°41.77′ N. lat., 118°20.32′ W. long.;

(222) 33°38.17′ N. lat., 118°15.70′ W. long.;

(223) 33°37.48′ N. lat., 118°16.73′ W. long.;

(224) 33°36.01′ N. lat., 118°16.55′ W. long.;

(225) 33°33.76′ N. lat., 118°11.37′ W. long.;

(226) 33°33.76′ N. lat., 118°07.94′ W. long.;

(227) 33°35.59′ N. lat., 118°05.05′ W. long.;

(228) 33°33.75′ N. lat., 117°59.82′ W. long.;

(229) 33°35.10′ N. lat., 117°55.68′ W. long.;

(230) 33°34.91′ N. lat., 117°53.76′ W. long.;

(231) 33°30.77′ N. lat., 117°47.56′ W. long.;

(232) 33°27.50′ N. lat., 117°44.87′ W. long.;

(233) 33°16.89′ N. lat., 117°34.37′ W. long.;

(234) 33°06.66′ N. lat., 117°21.59′ W. long.;

(235) 33°03.35′ N. lat., 117°20.92′ W. long.;

(236) 33°00.07′ N. lat., 117°19.02′ W. long.;

(237) 32°55.99′ N. lat., 117°18.60′ W. long.;

(238) 32°54.43′ N. lat., 117°16.93′ W. long.;

(239) 32°52.13′ N. lat., 117°16.55′ W. long.;

(240) 32°52.61′ N. lat., 117°19.50′ W. long.;

(241) 32°46.95′ N. lat., 117°22.81′ W. long.;

(242) 32°45.01′ N. lat., 117°22.07′ W. long.;

(243) 32°43.40′ N. lat., 117°19.80′ W. long.; and

(244) 32°33.74′ N. lat., 117°18.67′ W. long.

* * * * *

22. In § 660.393, paragraphs (a), (d), and (h) are revised to read as follows:

§ 660.393 Latitude/longitude coordinates defining the 100-fm (183-m) through 150-fm (274-m) depth contours.

* * * * *

(a) The 100-fm (183-m) depth contour used between the U.S. border with Canada and the U.S. border with Mexico is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.80′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.67′ N. lat., 125°13.70′ W. long.;

(22) 48°19.70′ N. lat., 125°11.13′ W. long.;

(23) 48°22.95′ N. lat., 125°10.79′ W. long.;

(24) 48°21.61′ N. lat., 125°02.54′ W. long.;

(25) 48°23.00′ N. lat., 124°49.34′ W. long.;

(26) 48°17.00′ N. lat., 124°56.50′ W. long.;

(27) 48°06.00′ N. lat., 125°00.00′ W. long.;

(28) 48°04.62′ N. lat., 125°01.73′ W. long.;

(29) 48°04.84′ N. lat., 125°04.03′ W. long.;

(30) 48°06.41′ N. lat., 125°06.51′ W. long.;

(31) 48°06.00′ N. lat., 125°08.00′ W. long.;

(32) 48°07.08′ N. lat., 125°09.34′ W. long.;

(33) 48°07.28′ N. lat., 125°11.14′ W. long.;

(34) 48°03.45′ N. lat., 125°16.66′ W. long.;

(35) 47°59.50′ N. lat., 125°18.88′ W. long.;

(36) 47°58.68′ N. lat., 125°16.19′ W. long.;

(37) 47°56.62′ N. lat., 125°13.50′ W. long.;

(38) 47°53.71′ N. lat., 125°11.96′ W. long.;

(39) 47°51.70′ N. lat., 125°09.38′ W. long.;

(40) 47°49.95′ N. lat., 125°06.07′ W. long.;

(41) 47°49.00′ N. lat., 125°03.00′ W. long.;

(42) 47°46.95′ N. lat., 125°04.00′ W. long.;

(43) 47°46.58′ N. lat., 125°03.15′ W. long.;

(44) 47°44.07′ N. lat., 125°04.28′ W. long.;

(45) 47°43.32′ N. lat., 125°04.41′ W. long.;

(46) 47°40.95′ N. lat., 125°04.14′ W. long.;

(47) 47°39.58′ N. lat., 125°04.97′ W. long.;

(48) 47°36.23′ N. lat., 125°02.77′ W. long.;

(49) 47°34.28′ N. lat., 124°58.66′ W. long.;

(50) 47°32.17′ N. lat., 124°57.77′ W. long.;

(51) 47°30.27′ N. lat., 124°56.16′ W. long.;

(52) 47°30.60′ N. lat., 124°54.80′ W. long.;

(53) 47°29.26′ N. lat., 124°52.21′ W. long.;

(54) 47°28.21′ N. lat., 124°50.65′ W. long.;

(55) 47°27.38′ N. lat., 124°49.34′ W. long.;

(56) 47°25.61′ N. lat., 124°48.26′ W. long.;

(57) 47°23.54′ N. lat., 124°46.42′ W. long.;

(58) 47°20.64′ N. lat., 124°45.91′ W. long.;

(59) 47°17.99′ N. lat., 124°45.59′ W. long.;

(60) 47°18.20′ N. lat., 124°49.12′ W. long.;

(61) 47°15.01′ N. lat., 124°51.09′ W. long.;

(62) 47°12.61′ N. lat., 124°54.89′ W. long.;

(63) 47°08.22′ N. lat., 124°56.53′ W. long.;

(64) 47°08.50′ N. lat., 124°57.74′ W. long.;

(65) 47°01.92′ N. lat., 124°54.95′ W. long.;

(66) 47°01.14′ N. lat., 124°59.35′ W. long.;

(67) 46°58.48′ N. lat., 124°57.81′ W. long.;

(68) 46°56.79′ N. lat., 124°56.03′ W. long.;

(69) 46°58.01′ N. lat., 124°55.09′ W. long.;

(70) 46°55.07′ N. lat., 124°54.14′ W. long.;

(71) 46°59.60′ N. lat., 124°49.79′ W. long.;

(72) 46°58.72′ N. lat., 124°48.78′ W. long.;

(73) 46°54.45′ N. lat., 124°48.36′ W. long.;

(74) 46°53.99′ N. lat., 124°49.95′ W. long.;

(75) 46°54.38′ N. lat., 124°52.73′ W. long.;

(76) 46°52.38′ N. lat., 124°52.02′ W. long.;

(77) 46°48.93′ N. lat., 124°49.17′ W. long.;

(78) 46°41.50′ N. lat., 124°43.00′ W. long.;

(79) 46°34.50′ N. lat., 124°28.50′ W. long.;

(80) 46°29.00′ N. lat., 124°30.00′ W. long.;

(81) 46°20.00′ N. lat., 124°36.50′ W. long.;

(82) 46°18.00′ N. lat., 124°38.00′ W. long.;

(83) 46°17.52′ N. lat., 124°35.35′ W. long.;

(84) 46°17.00′ N. lat., 124°22.50′ W. long.;

(85) 46°16.00′ N. lat., 124°20.62′ W. long.;

(86) 46°13.52′ N. lat., 124°25.49′ W. long.;

(87) 46°12.17′ N. lat., 124°30.74′ W. long.;

(88) 46°10.63′ N. lat., 124°37.96′ W. long.;

(89) 46°09.29′ N. lat., 124°39.01′ W. long.;

(90) 46°02.40′ N. lat., 124°40.37′ W. long.;

(91) 45°56.45′ N. lat., 124°38.00′ W. long.;

(92) 45°51.92′ N. lat., 124°38.50′ W. long.;

(93) 45°47.20′ N. lat., 124°35.58′ W. long.;

(94) 45°46.40′ N. lat., 124°32.36′ W. long.;

(95) 45°46.00′ N. lat., 124°32.10′ W. long.;

(96) 45°41.75′ N. lat., 124°28.12′ W. long.;

(97) 45°36.95′ N. lat., 124°24.47′ W. long.;

(98) 45°31.84′ N. lat., 124°22.04′ W. long.;

(99) 45°27.10′ N. lat., 124°21.74′ W. long.;

(100) 45°20.25′ N. lat., 124°18.54′ W. long.;

(101) 45°18.14′ N. lat., 124°17.59′ W. long.;

(102) 45°11.08′ N. lat., 124°16.97′ W. long.;

(103) 45°04.39′ N. lat., 124°18.35′ W. long.;

(104) 45°03.83′ N. lat., 124°18.60′ W. long.;

(105) 44°58.05′ N. lat., 124°21.58′ W. long.;

(106) 44°47.67′ N. lat., 124°31.41′ W. long.;

(107) 44°44.54′ N. lat., 124°33.58′ W. long.;

(108) 44°39.88′ N. lat., 124°35.00′ W. long.;

(109) 44°32.90′ N. lat., 124°36.81′ W. long.;

(110) 44°30.34′ N. lat., 124°38.56′ W. long.;

(111) 44°30.04′ N. lat., 124°42.31′ W. long.;

(112) 44°26.84′ N. lat., 124°44.91′ W. long.;

(113) 44°17.99′ N. lat., 124°51.04′ W. long.;

(114) 44°12.92′ N. lat., 124°56.28′ W. long.;

(115) 44°00.14′ N. lat., 124°55.25′ W. long.;

(116) 43°57.68′ N. lat., 124°55.48′ W. long.;

(117) 43°56.66′ N. lat., 124°55.45′ W. long.;

(118) 43°56.47′ N. lat., 124°34.61′ W. long.;

(119) 43°42.73′ N. lat., 124°32.41′ W. long.;

(120) 43°30.92′ N. lat., 124°34.43′ W. long.;

(121) 43°20.83′ N. lat., 124°39.39′ W. long.;

(122) 43°17.45′ N. lat., 124°41.16′ W. long.;

(123) 43°07.04′ N. lat., 124°41.25′ W. long.;

(124) 43°03.45′ N. lat., 124°44.36′ W. long.;

(125) 43°03.91′ N. lat., 124°50.81′ W. long.;

(126) 42°55.70′ N. lat., 124°52.79′ W. long.;

(127) 42°54.12′ N. lat., 124°47.36′ W. long.;

(128) 42°50.00′ N. lat., 124°45.33′ W. long.;

(129) 42°44.00′ N. lat., 124°42.38′ W. long.;

(130) 42°40.50′ N. lat., 124°41.71′ W. long.;

(131) 42°38.23′ N. lat., 124°41.25′ W. long.;

(132) 42°33.02′ N. lat., 124°42.38′ W. long.;

(133) 42°31.90′ N. lat., 124°42.04′ W. long.;

(134) 42°30.08′ N. lat., 124°42.67′ W. long.;

(135) 42°28.28′ N. lat., 124°47.08′ W. long.;

(136) 42°25.22′ N. lat., 124°43.51′ W. long.;

(137) 42°19.23′ N. lat., 124°37.91′ W. long.;

(138) 42°16.29′ N. lat., 124°36.11′ W. long.;

(139) 42°13.67′ N. lat., 124°35.81′ W. long.;

(140) 42°05.66′ N. lat., 124°34.92′ W. long.;

(141) 42°00.00′ N. lat., 124°35.27′ W. long.;

(142) 42°00.00′ N. lat., 124°35.27′ W. long.;

(143) 41°47.04′ N. lat., 124°27.64′ W. long.;

(144) 41°32.92′ N. lat., 124°28.79′ W. long.;

(145) 41°24.17′ N. lat., 124°28.46′ W. long.;

(146) 41°10.12′ N. lat., 124°20.50′ W. long.;

(147) 40°51.41′ N. lat., 124°24.38′ W. long.;

(148) 40°43.71′ N. lat., 124°29.89′ W. long.;

(149) 40°40.14′ N. lat., 124°30.90′ W. long.;

(150) 40°37.35′ N. lat., 124°29.05′ W. long.;

(151) 40°34.76′ N. lat., 124°29.82′ W. long.;

(152) 40°36.78′ N. lat., 124°37.06′ W. long.;

(153) 40°32.44′ N. lat., 124°39.58′ W. long.;

(154) 40°30.00′ N. lat., 124°38.13′ W. long.;

(155) 40°24.82′ N. lat., 124°35.12′ W. long.;

(156) 40°23.30′ N. lat., 124°31.60′ W. long.;

(157) 40°23.52′ N. lat., 124°28.78′ W. long.;

(158) 40°22.43′ N. lat., 124°25.00′ W. long.;

(159) 40°21.72′ N. lat., 124°24.94′ W. long.;

(160) 40°21.87′ N. lat., 124°27.96′ W. long.;

(161) 40°21.40′ N. lat., 124°28.74′ W. long.;

(162) 40°19.68′ N. lat., 124°28.49′ W. long.;

(163) 40°17.73′ N. lat., 124°25.43′ W. long.;

(164) 40°18.37′ N. lat., 124°23.35′ W. long.;

(165) 40°15.75′ N. lat., 124°26.05′ W. long.;

(166) 40°16.75′ N. lat., 124°33.71′ W. long.;

(167) 40°16.29′ N. lat., 124°34.36′ W. long.;

(168) 40°10.00′ N. lat., 124°21.12′ W. long.;

(169) 40°07.70′ N. lat., 124°18.44′ W. long.;

(170) 40°08.84′ N. lat., 124°15.86′ W. long.;

(171) 40°06.53′ N. lat., 124°17.39′ W. long.;

(172) 40°03.15′ N. lat., 124°14.43′ W. long.;

(173) 40°02.19′ N. lat., 124°12.85′ W. long.;

(174) 40°02.89′ N. lat., 124°11.78′ W. long.;

(175) 40°02.78′ N. lat., 124°10.70′ W. long.;

(176) 40°04.57′ N. lat., 124°10.08′ W. long.;

(177) 40°06.06′ N. lat., 124°08.30′ W. long.;

(178) 40°04.05′ N. lat., 124°08.93′ W. long.;

(179) 40°01.17′ N. lat., 124°08.80′ W. long.;

(180) 40°01.03′ N. lat., 124°10.06′ W. long.;

(181) 39°58.07′ N. lat., 124°11.89′ W. long.;

(182) 39°56.39′ N. lat., 124°08.71′ W. long.;

(183) 39°54.64′ N. lat., 124°07.30′ W. long.;

(184) 39°53.86′ N. lat., 124°07.95′ W. long.;

(185) 39°51.95′ N. lat., 124°07.63′ W. long.;

(186) 39°48.78′ N. lat., 124°03.29′ W. long.;

(187) 39°47.36′ N. lat., 124°03.31′ W. long.;

(188) 39°40.08′ N. lat., 123°58.37′ W. long.;

(189) 39°36.16′ N. lat., 123°56.90′ W. long.;

(190) 39°30.75′ N. lat., 123°55.86′ W. long.;

(191) 39°31.62′ N. lat., 123°57.33′ W. long.;

(192) 39°30.91′ N. lat., 123°57.88′ W. long.;

(193) 39°01.79′ N. lat., 123°56.59′ W. long.;

(194) 38°59.42′ N. lat., 123°55.67′ W. long.;

(195) 38°58.89′ N. lat., 123°56.28′ W. long.;

(196) 38°57.50′ N. lat., 123°56.28′ W. long.;

(197) 38°54.72′ N. lat., 123°55.68′ W. long.;

(198) 38°48.95′ N. lat., 123°51.85′ W. long.;

(199) 38°36.67′ N. lat., 123°40.20′ W. long.;

(200) 38°33.82′ N. lat., 123°39.23′ W. long.;

(201) 38°29.02′ N. lat., 123°33.52′ W. long.;

(202) 38°18.88′ N. lat., 123°25.93′ W. long.;

(203) 38°14.12′ N. lat., 123°23.26′ W. long.;

(204) 38°11.07′ N. lat., 123°22.07′ W. long.;

(205) 38°03.19′ N. lat., 123°20.70′ W. long.;

(206) 38°00.00′ N. lat., 123°23.08′ W. long.;

(207) 37°55.07′ N. lat., 123°26.81′ W. long.;

(208) 37°50.66′ N. lat., 123°23.06′ W. long.;

(209) 37°45.18′ N. lat., 123°11.88′ W. long.;

(210) 37°35.67′ N. lat., 123°01.20′ W. long.;

(211) 37°15.58′ N. lat., 122°48.36′ W. long.;

(212) 37°11.00′ N. lat., 122°44.50′ W. long.;

(213) 37°07.00′ N. lat., 122°41.25′ W. long.;

(214) 37°03.18′ N. lat., 122°38.15′ W. long.;

(215) 37°00.48′ N. lat., 122°33.93′ W. long.;

(216) 36°58.70′ N. lat., 122°27.22′ W. long.;

(217) 37°00.85′ N. lat., 122°24.70′ W. long.;

(218) 36°58.00′ N. lat., 122°24.14′ W. long.;

(219) 36°58.74′ N. lat., 122°21.51′ W. long.;

(220) 36°56.97′ N. lat., 122°21.32′ W. long.;

(221) 36°51.52′ N. lat., 122°10.68′ W. long.;

(222) 36°48.39′ N. lat., 122°07.60′ W. long.;

(223) 36°47.43′ N. lat., 122°03.22′ W. long.;

(224) 36°50.95′ N. lat., 121°58.03′ W. long.;

(225) 36°49.92′ N. lat., 121°58.01′ W. long.;

(226) 36°48.88′ N. lat., 121°58.90′ W. long.;

(227) 36°47.70′ N. lat., 121°58.75′ W. long.;

(228) 36°48.37′ N. lat., 121°51.14′ W. long.;

(229) 36°45.74′ N. lat., 121°54.17′ W. long.;

(230) 36°45.51′ N. lat., 121°57.72′ W. long.;

(231) 36°38.84′ N. lat., 122°01.32′ W. long.;

(232) 36°35.62′ N. lat., 122°00.98′ W. long.;

(233) 36°32.46′ N. lat., 121°59.15′ W. long.;

(234) 36°32.79′ N. lat., 121°57.67′ W. long.;

(235) 36°31.98′ N. lat., 121°56.55′ W. long.;

(236) 36°31.79′ N. lat., 121°58.40′ W. long.;

(237) 36°30.73′ N. lat., 121°59.70′ W. long.;

(238) 36°30.31′ N. lat., 122°00.22′ W. long.;

(239) 36°29.35′ N. lat., 122°00.36′ W. long.;

(240) 36°27.66′ N. lat., 121°59.80′ W. long.;

(241) 36°26.22′ N. lat., 121°58.35′ W. long.;

(242) 36°21.20′ N. lat., 122°00.72′ W. long.;

(243) 36°20.47′ N. lat., 122°02.92′ W. long.;

(244) 36°18.46′ N. lat., 122°04.51′ W. long.;

(245) 36°15.92′ N. lat., 122°01.33′ W. long.;

(246) 36°13.76′ N. lat., 121°57.27′ W. long.;

(247) 36°14.43′ N. lat., 121°55.43′ W. long.;

(248) 36°10.24′ N. lat., 121°43.08′ W. long.;

(249) 36°07.66′ N. lat., 121°40.91′ W. long.;

(250) 36°02.49′ N. lat., 121°36.51′ W. long.;

(251) 36°01.07′ N. lat., 121°36.82′ W. long.;

(252) 36°00.00′ N. lat., 121°35.15′ W. long.;

(253) 35°57.84′ N. lat., 121°33.10′ W. long.;

(254) 35°50.36′ N. lat., 121°29.32′ W. long.;

(255) 35°39.03′ N. lat., 121°22.86′ W. long.;

(256) 35°24.30′ N. lat., 121°02.56′ W. long.;

(257) 35°16.53′ N. lat., 121°00.39′ W. long.;

(258) 35°04.82′ N. lat., 120°53.96′ W. long.;

(259) 34°52.51′ N. lat., 120°51.62′ W. long.;

(260) 34°43.36′ N. lat., 120°52.12′ W. long.;

(261) 34°37.64′ N. lat., 120°49.99′ W. long.;

(262) 34°30.80′ N. lat., 120°45.02′ W. long.;

(263) 34°27.00′ N. lat., 120°39.00′ W. long.;

(264) 34°21.90′ N. lat., 120°25.25′ W. long.;

(265) 34°24.86′ N. lat., 120°16.81′ W. long.;

(266) 34°22.80′ N. lat., 119°57.06′ W. long.;

(267) 34°18.59′ N. lat., 119°44.84′ W. long.;

(268) 34°15.04′ N. lat., 119°40.34′ W. long.;

(269) 34°14.40′ N. lat., 119°45.39′ W. long.;

(270) 34°12.32′ N. lat., 119°42.41′ W. long.;

(271) 34°09.71′ N. lat., 119°28.85′ W. long.;

(272) 34°04.70′ N. lat., 119°15.38′ W. long.;

(273) 34°03.33′ N. lat., 119°12.93′ W. long.;

(274) 34°02.72′ N. lat., 119°07.01′ W. long.;

(275) 34°03.90′ N. lat., 119°04.64′ W. long.;

(276) 34°01.80′ N. lat., 119°03.23′ W. long.;

(277) 33°59.32′ N. lat., 119°03.50′ W. long.;

(278) 33°59.00′ N. lat., 118°59.55′ W. long.;

(279) 33°59.51′ N. lat., 118°57.25′ W. long.;

(280) 33°58.82′ N. lat., 118°52.47′ W. long.;

(281) 33°58.54′ N. lat., 118°41.86′ W. long.;

(282) 33°55.07′ N. lat., 118°34.25′ W. long.;

(283) 33°54.28′ N. lat., 118°38.68′ W. long.;

(284) 33°51.00′ N. lat., 118°36.66′ W. long.;

(285) 33°39.77′ N. lat., 118°18.41′ W. long.;

(286) 33°35.50′ N. lat., 118°16.85′ W. long.;

(287) 33°32.68′ N. lat., 118°09.82′ W. long.;

(288) 33°34.09′ N. lat., 117°54.06′ W. long.;

(289) 33°31.60′ N. lat., 117°49.28′ W. long.;

(290) 33°16.07′ N. lat., 117°34.74′ W. long.;

(291) 33°07.06′ N. lat., 117°22.71′ W. long.;

(292) 32°59.28′ N. lat., 117°19.69′ W. long.;

(293) 32°55.36′ N. lat., 117°19.54′ W. long.;

(294) 32°53.35′ N. lat., 117°17.05′ W. long.;

(295) 32°53.34′ N. lat., 117°19.13′ W. long.;

(296) 32°46.39′ N. lat., 117°23.45′ W. long.;

(297) 32°42.79′ N. lat., 117°21.16′ W. long.; and

(298) 32°34.22′ N. lat., 117°21.20′ W. long.

* * * * *

(d) The 125-fm (229-m) depth contour used between the U.S. border with Canada and the U.S. border with Mexico is defined by straight lines connecting all of the following points in the order stated:

(1) 48°15.00′ N. lat., 125°41.13′ W. long.;

(2) 48°13.05′ N. lat., 125°37.43′ W. long.;

(3) 48°08.62′ N. lat., 125°41.68′ W. long.;

(4) 48°07.42′ N. lat., 125°42.38′ W. long.;

(5) 48°04.20′ N. lat., 125°36.57′ W. long.;

(6) 48°02.79′ N. lat., 125°35.55′ W. long.;

(7) 48°00.48′ N. lat., 125°37.84′ W. long.;

(8) 47°54.90′ N. lat., 125°34.79′ W. long.;

(9) 47°58.37′ N. lat., 125°26.58′ W. long.;

(10) 47°59.84′ N. lat., 125°25.20′ W. long.;

(11) 48°01.85′ N. lat., 125°24.12′ W. long.;

(12) 48°02.13′ N. lat., 125°22.80′ W. long.;

(13) 48°03.31′ N. lat., 125°22.46′ W. long.;

(14) 48°06.83′ N. lat., 125°17.73′ W. long.;

(15) 48°10.08′ N. lat., 125°15.56′ W. long.;

(16) 48°11.24′ N. lat., 125°13.72′ W. long.;

(17) 48°12.41′ N. lat., 125°14.48′ W. long.;

(18) 48°13.01′ N. lat., 125°13.77′ W. long.;

(19) 48°13.59′ N. lat., 125°12.83′ W. long.;

(20) 48°12.22′ N. lat., 125°12.28′ W. long.;

(21) 48°11.15′ N. lat., 125°12.26′ W. long.;

(22) 48°10.18′ N. lat., 125°10.44′ W. long.;

(23) 48°10.18′ N. lat., 125°06.32′ W. long.;

(24) 48°15.39′ N. lat., 125°02.83′ W. long.;

(25) 48°18.32′ N. lat., 125°01.00′ W. long.;

(26) 48°21.67′ N. lat., 125°01.86′ W. long.;

(27) 48°25.70′ N. lat., 125°00.10′ W. long.;

(28) 48°26.43′ N. lat., 124°56.65′ W. long.;

(29) 48°24.28′ N. lat., 124°56.48′ W. long.;

(30) 48°23.27′ N. lat., 124°59.12′ W. long.;

(31) 48°21.79′ N. lat., 124°59.30′ W. long.;

(32) 48°20.71′ N. lat., 124°58.74′ W. long.;

(33) 48°19.84′ N. lat., 124°57.09′ W. long.;

(34) 48°22.06′ N. lat., 124°54.78′ W. long.;

(35) 48°22.45′ N. lat., 124°53.35′ W. long.;

(36) 48°22.74′ N. lat., 124°50.96′ W. long.;

(37) 48°21.04′ N. lat., 124°52.60′ W. long.;

(38) 48°18.07′ N. lat., 124°55.85′ W. long.;

(39) 48°15.03′ N. lat., 124°58.16′ W. long.;

(40) 48°11.31′ N. lat., 124°58.53′ W. long.;

(41) 48°06.25′ N. lat., 125°00.06′ W. long.;

(42) 48°04.70′ N. lat., 125°01.80′ W. long.;

(43) 48°04.93′ N. lat., 125°03.92′ W. long.;

(44) 48°06.44′ N. lat., 125°06.50′ W. long.;

(45) 48°07.34′ N. lat., 125°09.35′ W. long.;

(46) 48°07.62′ N. lat., 125°11.37′ W. long.;

(47) 48°03.71′ N. lat., 125°17.63′ W. long.;

(48) 48°01.35′ N. lat., 125°18.66′ W. long.;

(49) 48°00.05′ N. lat., 125°19.66′ W. long.;

(50) 47°59.51′ N. lat., 125°18.90′ W. long.;

(51) 47°58.29′ N. lat., 125°16.64′ W. long.;

(52) 47°54.67′ N. lat., 125°13.20′ W. long.;

(53) 47°53.15′ N. lat., 125°12.53′ W. long.;

(54) 47°48.46′ N. lat., 125°04.72′ W. long.;

(55) 47°46.10′ N. lat., 125°04.00′ W. long.;

(56) 47°44.60′ N. lat., 125°04.49′ W. long.;

(57) 47°42.90′ N. lat., 125°04.72′ W. long.;

(58) 47°40.71′ N. lat., 125°04.68′ W. long.;

(59) 47°39.02′ N. lat., 125°05.63′ W. long.;

(60) 47°34.86′ N. lat., 125°02.11′ W. long.;

(61) 47°31.64′ N. lat., 124°58.11′ W. long.;

(62) 47°29.69′ N. lat., 124°55.71′ W. long.;

(63) 47°29.35′ N. lat., 124°53.23′ W. long.;

(64) 47°28.56′ N. lat., 124°51.34′ W. long.;

(65) 47°25.31′ N. lat., 124°48.20′ W. long.;

(66) 47°23.92′ N. lat., 124°47.15′ W. long.;

(67) 47°18.09′ N. lat., 124°45.74′ W. long.;

(68) 47°18.65′ N. lat., 124°51.51′ W. long.;

(69) 47°18.12′ N. lat., 124°52.58′ W. long.;

(70) 47°17.64′ N. lat., 124°50.45′ W. long.;

(71) 47°16.31′ N. lat., 124°50.92′ W. long.;

(72) 47°15.60′ N. lat., 124°52.62′ W. long.;

(73) 47°14.25′ N. lat., 124°52.49′ W. long.;

(74) 47°11.32′ N. lat., 124°57.19′ W. long.;

(75) 47°09.14′ N. lat., 124°57.46′ W. long.;

(76) 47°08.83′ N. lat., 124°58.47′ W. long.;

(77) 47°05.88′ N. lat., 124°58.26′ W. long.;

(78) 47°03.60′ N. lat., 124°55.84′ W. long.;

(79) 47°02.91′ N. lat., 124°56.15′ W. long.;

(80) 47°01.08′ N. lat., 124°59.46′ W. long.;

(81) 46°58.13′ N. lat., 124°58.83′ W. long.;

(82) 46°57.44′ N. lat., 124°57.78′ W. long.;

(83) 46°55.98′ N. lat., 124°54.60′ W. long.;

(84) 46°54.90′ N. lat., 124°54.14′ W. long.;

(85) 46°58.47′ N. lat., 124°49.65′ W. long.;

(86) 46°54.44′ N. lat., 124°48.79′ W. long.;

(87) 46°54.41′ N. lat., 124°52.87′ W. long.;

(88) 46°49.36′ N. lat., 124°52.77′ W. long.;

(89) 46°40.06′ N. lat., 124°45.34′ W. long.;

(90) 46°39.64′ N. lat., 124°42.21′ W. long.;

(91) 46°34.27′ N. lat., 124°34.63′ W. long.;

(92) 46°33.58′ N. lat., 124°29.10′ W. long.;

(93) 46°25.64′ N. lat., 124°32.57′ W. long.;

(94) 46°21.33′ N. lat., 124°36.36′ W. long.;

(95) 46°20.59′ N. lat., 124°36.15′ W. long.;

(96) 46°19.38′ N. lat., 124°38.21′ W. long.;

(97) 46°17.94′ N. lat., 124°38.10′ W. long.;

(98) 46°16.00′ N. lat., 124°22.17′ W. long.;

(99) 46°13.37′ N. lat., 124°30.70′ W. long.;

(100) 46°12.20′ N. lat., 124°36.04′ W. long.;

(101) 46°11.01′ N. lat., 124°38.68′ W. long.;

(102) 46°09.73′ N. lat., 124°39.91′ W. long.;

(103) 46°03.23′ N. lat., 124°42.03′ W. long.;

(104) 46°01.16′ N. lat., 124°42.06′ W. long.;

(105) 46°00.35′ N. lat., 124°42.26′ W. long.;

(106) 45°52.81′ N. lat., 124°41.62′ W. long.;

(107) 45°49.70′ N. lat., 124°41.14′ W. long.;

(108) 45°46.00′ N. lat., 124°38.92′ W. long.;

(109) 45°45.18′ N. lat., 124°38.39′ W. long.;

(110) 45°43.24′ N. lat., 124°37.77′ W. long.;

(111) 45°34.75′ N. lat., 124°28.58′ W. long.;

(112) 45°19.90′ N. lat., 124°21.34′ W. long.;

(113) 45°12.44′ N. lat., 124°19.34′ W. long.;

(114) 45°07.48′ N. lat., 124°19.73′ W. long.;

(115) 45°03.83′ N. lat., 124°21.20′ W. long.;

(116) 44°59.96′ N. lat., 124°22.91′ W. long.;

(117) 44°54.73′ N. lat., 124°26.84′ W. long.;

(118) 44°51.16′ N. lat., 124°31.41′ W. long.;

(119) 44°49.97′ N. lat., 124°32.37′ W. long.;

(120) 44°47.06′ N. lat., 124°34.43′ W. long.;

(121) 44°41.38′ N. lat., 124°36.52′ W. long.;

(122) 44°31.80′ N. lat., 124°38.11′ W. long.;

(123) 44°30.35′ N. lat., 124°43.03′ W. long.;

(124) 44°27.95′ N. lat., 124°45.13′ W. long.;

(125) 44°24.73′ N. lat., 124°47.42′ W. long.;

(126) 44°19.67′ N. lat., 124°51.17′ W. long.;

(127) 44°17.96′ N. lat., 124°52.52′ W. long.;

(128) 44°13.70′ N. lat., 124°56.45′ W. long.;

(129) 44°12.26′ N. lat., 124°57.53′ W. long.;

(130) 44°08.30′ N. lat., 124°57.17′ W. long.;

(131) 44°07.57′ N. lat., 124°57.19′ W. long.;

(132) 44°04.78′ N. lat., 124°56.31′ W. long.;

(133) 44°01.14′ N. lat., 124°56.07′ W. long.;

(134) 43°57.49′ N. lat., 124°56.78′ W. long.;

(135) 43°54.58′ N. lat., 124°52.18′ W. long.;

(136) 43°53.18′ N. lat., 124°47.41′ W. long.;

(137) 43°53.60′ N. lat., 124°37.45′ W. long.;

(138) 43°53.05′ N. lat., 124°36.00′ W. long.;

(139) 43°47.93′ N. lat., 124°35.18′ W. long.;

(140) 43°39.32′ N. lat., 124°35.14′ W. long.;

(141) 43°32.38′ N. lat., 124°35.26′ W. long.;

(142) 43°30.19′ N. lat., 124°35.89′ W. long.;

(143) 43°27.80′ N. lat., 124°36.42′ W. long.;

(144) 43°23.73′ N. lat., 124°39.66′ W. long.;

(145) 43°20.83′ N. lat., 124°41.18′ W. long.;

(146) 43°10.48′ N. lat., 124°43.54′ W. long.;

(147) 43°04.77′ N. lat., 124°45.51′ W. long.;

(148) 43°05.94′ N. lat., 124°49.77′ W. long.;

(149) 43°03.38′ N. lat., 124°51.86′ W. long.;

(150) 43°00.39′ N. lat., 124°51.77′ W. long.;

(151) 42°56.80′ N. lat., 124°53.38′ W. long.;

(152) 42°54.53′ N. lat., 124°52.72′ W. long.;

(153) 42°52.89′ N. lat., 124°47.45′ W. long.;

(154) 42°50.00′ N. lat., 124°47.03′ W. long.;

(155) 42°48.10′ N. lat., 124°46.75′ W. long.;

(156) 42°46.34′ N. lat., 124°43.54′ W. long.;

(157) 42°41.66′ N. lat., 124°42.70′ W. long.;

(158) 42°39.97′ N. lat., 124°42.45′ W. long.;

(159) 42°32.53′ N. lat., 124°42.77′ W. long.;

(160) 42°30.37′ N. lat., 124°42.97′ W. long.;

(161) 42°28.07′ N. lat., 124°47.65′ W. long.;

(162) 42°21.58′ N. lat., 124°41.41′ W. long.;

(163) 42°15.17′ N. lat., 124°36.25′ W. long.;

(164) 42°13.67′ N. lat., 124°36.20′ W. long.;

(165) 42°8.29′ N. lat., 124°36.08′ W. long.;

(166) 42°00.00′ N. lat., 124°35.46′ W. long.;

(167) 41°47.67′ N. lat., 124°28.67′ W. long.;

(168) 41°32.91′ N. lat., 124°29.01′ W. long.;

(169) 41°22.57′ N. lat., 124°28.66′ W. long.;

(170) 41°13.38′ N. lat., 124°22.88′ W. long.;

(171) 41°06.42′ N. lat., 124°22.02′ W. long.;

(172) 40°50.19′ N. lat., 124°25.58′ W. long.;

(173) 40°44.08′ N. lat., 124°30.43′ W. long.;

(174) 40°40.54′ N. lat., 124°31.75′ W. long.;

(175) 40°37.36′ N. lat., 124°29.17′ W. long.;

(176) 40°35.30′ N. lat., 124°30.03′ W. long.;

(177) 40°37.02′ N. lat., 124°37.10′ W. long.;

(178) 40°35.82′ N. lat., 124°39.58′ W. long.;

(179) 40°31.70′ N. lat., 124°39.97′ W. long.;

(180) 40°30.00′ N. lat., 124°38.50′ W. long.;

(181) 40°24.77′ N. lat., 124°35.39′ W. long.;

(182) 40°23.22′ N. lat., 124°31.87′ W. long.;

(183) 40°23.40′ N. lat., 124°28.65′ W. long.;

(184) 40°22.30′ N. lat., 124°25.27′ W. long.;

(185) 40°21.91′ N. lat., 124°25.18′ W. long.;

(186) 40°21.91′ N. lat., 124°27.97′ W. long.;

(187) 40°21.37′ N. lat., 124°29.03′ W. long.;

(188) 40°19.74′ N. lat., 124°28.71′ W. long.;

(189) 40°18.52′ N. lat., 124°27.26′ W. long.;

(190) 40°17.57′ N. lat., 124°25.49′ W. long.;

(191) 40°18.20′ N. lat., 124°23.63′ W. long.;

(192) 40°15.89′ N. lat., 124°26.00′ W. long.;

(193) 40°17.00′ N. lat., 124°35.01′ W. long.;

(194) 40°15.97′ N. lat., 124°35.91′ W. long.;

(195) 40°10.00′ N. lat., 124°22.00′ W. long.;

(196) 40°07.35′ N. lat., 124°18.64′ W. long.;

(197) 40°08.46′ N. lat., 124°16.24′ W. long.;

(198) 40°06.26′ N. lat., 124°17.54′ W. long.;

(199) 40°03.26′ N. lat., 124°15.30′ W. long.;

(200) 40°02.00′ N. lat., 124°12.97′ W. long.;

(201) 40°02.60′ N. lat., 124°10.61′ W. long.;

(202) 40°03.63′ N. lat., 124°09.12′ W. long.;

(203) 40°02.18′ N. lat., 124°09.07′ W. long.;

(204) 40°01.26′ N. lat., 124°09.86′ W. long.;

(205) 39°58.05′ N. lat., 124°11.87′ W. long.;

(206) 39°56.39′ N. lat., 124°08.70′ W. long.;

(207) 39°54.64′ N. lat., 124°07.31′ W. long.;

(208) 39°53.87′ N. lat., 124°07.95′ W. long.;

(209) 39°52.42′ N. lat., 124°08.18′ W. long.;

(210) 39°42.50′ N. lat., 124°00.60′ W. long.;

(211) 39°34.23′ N. lat., 123°56.82′ W. long.;

(212) 39°33.00′ N. lat., 123°56.44′ W. long.;

(213) 39°30.96′ N. lat., 123°56.00′ W. long.;

(214) 39°32.03′ N. lat., 123°57.44′ W. long.;

(215) 39°31.43′ N. lat., 123°58.16′ W. long.;

(216) 39°05.56′ N. lat., 123°57.24′ W. long.;

(217) 39°01.75′ N. lat., 123°56.83′ W. long.;

(218) 38°59.52′ N. lat., 123°55.95′ W. long.;

(219) 38°58.98′ N. lat., 123°56.57′ W. long.;

(220) 38°57.50′ N. lat., 123°56.57′ W. long.;

(221) 38°53.91′ N. lat., 123°56.00′ W. long.;

(222) 38°42.57′ N. lat., 123°46.60′ W. long.;

(223) 38°28.72′ N. lat., 123°35.61′ W. long.;

(224) 38°28.01′ N. lat., 123°36.47′ W. long.;

(225) 38°20.94′ N. lat., 123°31.26′ W. long.;

(226) 38°15.94′ N. lat., 123°25.33′ W. long.;

(227) 38°10.95′ N. lat., 123°23.19′ W. long.;

(228) 38°05.52′ N. lat., 123°22.90′ W. long.;

(229) 38°08.46′ N. lat., 123°26.23′ W. long.;

(230) 38°06.95′ N. lat., 123°28.03′ W. long.;

(231) 38°06.34′ N. lat., 123°29.80′ W. long.;

(232) 38°04.57′ N. lat., 123°31.24′ W. long.;

(233) 38°02.33′ N. lat., 123°31.02′ W. long.;

(234) 38°00.00′ N. lat., 123°28.23′ W. long.;

(235) 37°58.10′ N. lat., 123°26.69′ W. long.;

(236) 37°55.46′ N. lat., 123°27.05′ W. long.;

(237) 37°51.51′ N. lat., 123°24.86′ W. long.;

(238) 37°45.01′ N. lat., 123°12.09′ W. long.;

(239) 37°35.67′ N. lat., 123°01.56′ W. long.;

(240) 37°26.62′ N. lat., 122°56.21′ W. long.;

(241) 37°14.41′ N. lat., 122°49.07′ W. long.;

(242) 37°11.00′ N. lat., 122°45.87′ W. long.;

(243) 37°07.00′ N. lat., 122°41.97′ W. long.;

(244) 37°03.19′ N. lat., 122°38.31′ W. long.;

(245) 37°00.99′ N. lat., 122°35.51′ W. long.;

(246) 36°58.23′ N. lat., 122°27.36′ W. long.;

(247) 37°00.54′ N. lat., 122°24.74′ W. long.;

(248) 36°57.81′ N. lat., 122°24.65′ W. long.;

(249) 36°58.54′ N. lat., 122°21.67′ W. long.;

(250) 36°56.52′ N. lat., 122°21.70′ W. long.;

(251) 36°55.37′ N. lat., 122°18.45′ W. long.;

(252) 36°52.16′ N. lat., 122°12.17′ W. long.;

(253) 36°51.53′ N. lat., 122°10.67′ W. long.;

(254) 36°48.05′ N. lat., 122°07.59′ W. long.;

(255) 36°47.35′ N. lat., 122°03.27′ W. long.;

(256) 36°50.71′ N. lat., 121°58.17′ W. long.;

(257) 36°48.89′ N. lat., 121°58.90′ W. long.;

(258) 36°47.70′ N. lat., 121°58.76′ W. long.;

(259) 36°48.37′ N. lat., 121°51.15′ W. long.;

(260) 36°45.74′ N. lat., 121°54.18′ W. long.;

(261) 36°45.50′ N. lat., 121°57.73′ W. long.;

(262) 36°44.02′ N. lat., 121°58.55′ W. long.;

(263) 36°38.84′ N. lat., 122°01.32′ W. long.;

(264) 36°35.63′ N. lat., 122°00.98′ W. long.;

(265) 36°32.47′ N. lat., 121°59.17′ W. long.;

(266) 36°32.52′ N. lat., 121°57.62′ W. long.;

(267) 36°30.16′ N. lat., 122°00.55′ W. long.;

(268) 36°24.56′ N. lat., 121°59.19′ W. long.;

(269) 36°22.19′ N. lat., 122°00.30′ W. long.;

(270) 36°20.62′ N. lat., 122°02.93′ W. long.;

(271) 36°18.89′ N. lat., 122°05.18′ W. long.;

(272) 36°14.45′ N. lat., 121°59.44′ W. long.;

(273) 36°13.73′ N. lat., 121°57.38′ W. long.;

(274) 36°14.41′ N. lat., 121°55.45′ W. long.;

(275) 36°10.25′ N. lat., 121°43.08′ W. long.;

(276) 36°07.67′ N. lat., 121°40.92′ W. long.;

(277) 36°02.51′ N. lat., 121°36.76′ W. long.;

(278) 36°00.00′ N. lat., 121°35.15′ W. long.;

(279) 35°57.84′ N. lat., 121°33.10′ W. long.;

(280) 35°45.57′ N. lat., 121°27.26′ W. long.;

(281) 35°39.02′ N. lat., 121°22.86′ W. long.;

(282) 35°25.92′ N. lat., 121°05.52′ W. long.;

(283) 35°16.26′ N. lat., 121°01.50′ W. long.;

(284) 35°07.60′ N. lat., 120°56.49′ W. long.;

(285) 34°57.77′ N. lat., 120°53.87′ W. long.;

(286) 34°42.30′ N. lat., 120°53.42′ W. long.;

(287) 34°37.69′ N. lat., 120°50.04′ W. long.;

(288) 34°30.13′ N. lat., 120°44.45′ W. long.;

(289) 34°27.00′ N. lat., 120°39.24′ W. long.;

(290) 34°24.71′ N. lat., 120°35.37′ W. long.;

(291) 34°21.63′ N. lat., 120°24.86′ W. long.;

(292) 34°24.39′ N. lat., 120°16.65′ W. long.;

(293) 34°22.48′ N. lat., 119°56.42′ W. long.;

(294) 34°18.54′ N. lat., 119°46.26′ W. long.;

(295) 34°16.37′ N. lat., 119°45.12′ W. long.;

(296) 34°15.91′ N. lat., 119°47.29′ W. long.;

(297) 34°13.80′ N. lat., 119°45.40′ W. long.;

(298) 34°11.69′ N. lat., 119°41.80′ W. long.;

(299) 34°09.98′ N. lat., 119°31.87′ W. long.;

(300) 34°08.12′ N. lat., 119°27.71′ W. long.;

(301) 34°06.35′ N. lat., 119°32.65′ W. long.;

(302) 34°06.80′ N. lat., 119°40.08′ W. long.;

(303) 34°07.48′ N. lat., 119°47.54′ W. long.;

(304) 34°08.21′ N. lat., 119°54.90′ W. long.;

(305) 34°06.85′ N. lat., 120°05.60′ W. long.;

(306) 34°06.99′ N. lat., 120°10.37′ W. long.;

(307) 34°08.53′ N. lat., 120°17.89′ W. long.;

(308) 34°10.00′ N. lat., 120°23.05′ W. long.;

(309) 34°12.53′ N. lat., 120°29.82′ W. long.;

(310) 34°09.02′ N. lat., 120°37.47′ W. long.;

(311) 34°01.01′ N. lat., 120°31.17′ W. long.;

(312) 33°58.07′ N. lat., 120°28.33′ W. long.;

(313) 33°53.37′ N. lat., 120°14.43′ W. long.;

(314) 33°50.53′ N. lat., 120°07.20′ W. long.;

(315) 33°45.88′ N. lat., 120°04.26′ W. long.;

(316) 33°38.19′ N. lat., 119°57.85′ W. long.;

(317) 33°38.19′ N. lat., 119°50.42′ W. long.;

(318) 33°42.36′ N. lat., 119°49.60′ W. long.;

(319) 33°53.95′ N. lat., 119°53.81′ W. long.;

(320) 33°55.85′ N. lat., 119°43.34′ W. long.;

(321) 33°58.48′ N. lat., 119°27.90′ W. long.;

(322) 34°00.34′ N. lat., 119°19.22′ W. long.;

(323) 34°04.48′ N. lat., 119°15.32′ W. long.;

(324) 34°02.80′ N. lat., 119°12.95′ W. long.;

(325) 34°02.39′ N. lat., 119°07.17′ W. long.;

(326) 34°03.75′ N. lat., 119°04.72′ W. long.;

(327) 34°01.82′ N. lat., 119°03.24′ W. long.;

(328) 33°59.33′ N. lat., 119°03.49′ W. long.;

(329) 33°59.01′ N. lat., 118°59.56′ W. long.;

(330) 33°59.51′ N. lat., 118°57.25′ W. long.;

(331) 33°58.83′ N. lat., 118°52.50′ W. long.;

(332) 33°58.55′ N. lat., 118°41.86′ W. long.;

(333) 33°55.10′ N. lat., 118°34.25′ W. long.;

(334) 33°54.30′ N. lat., 118°38.71′ W. long.;

(335) 33°50.88′ N. lat., 118°37.02′ W. long.;

(336) 33°39.78′ N. lat., 118°18.40′ W. long.;

(337) 33°35.50′ N. lat., 118°16.85′ W. long.;

(338) 33°32.46′ N. lat., 118°10.90′ W. long.;

(339) 33°34.11′ N. lat., 117°54.07′ W. long.;

(340) 33°31.61′ N. lat., 117°49.30′ W. long.;

(341) 33°16.36′ N. lat., 117°35.48′ W. long.;

(342) 33°06.81′ N. lat., 117°22.93′ W. long.;

(343) 32°59.28′ N. lat., 117°19.69′ W. long.;

(344) 32°55.37′ N. lat., 117°19.55′ W. long.;

(345) 32°53.35′ N. lat., 117°17.05′ W. long.;

(346) 32°53.36′ N. lat., 117°19.12′ W. long.;

(347) 32°46.42′ N. lat., 117°23.45′ W. long.;

(348) 32°42.71′ N. lat., 117°21.45′ W. long.; and

(349) 32°34.54′ N. lat., 117°23.04′ W. long.

* * * * *

(h) The 150-fm (274-m) depth contour used between the U.S. border with Canada and the U.S. border with Mexico is defined by straight lines connecting all of the following points in the order stated:

(1) 48°14.96′ N. lat., 125°41.24′ W. long.;

(2) 48°12.89′ N. lat., 125°37.83′ W. long.;

(3) 48°11.49′ N. lat., 125°39.27′ W. long.;

(4) 48°08.72′ N. lat., 125°41.84′ W. long.;

(5) 48°07.00′ N. lat., 125°45.00′ W. long.;

(6) 48°06.13′ N. lat., 125°41.57′ W. long.;

(7) 48°05.00′ N. lat., 125°39.00′ W. long.;

(8) 48°04.15′ N. lat., 125°36.71′ W. long.;

(9) 48°03.00′ N. lat., 125°36.00′ W. long.;

(10) 48°01.65′ N. lat., 125°36.96′ W. long.;

(11) 48°01.00′ N. lat., 125°38.50′ W. long.;

(12) 47°57.50′ N. lat., 125°36.50′ W. long.;

(13) 47°56.53′ N. lat., 125°30.33′ W. long.;

(14) 47°57.28′ N. lat., 125°27.89′ W. long.;

(15) 47°59.00′ N. lat., 125°25.50′ W. long.;

(16) 48°01.77′ N. lat., 125°24.05′ W. long.;

(17) 48°02.08′ N. lat., 125°22.98′ W. long.;

(18) 48°03.00′ N. lat., 125°22.50′ W. long.;

(19) 48°03.46′ N. lat., 125°22.10′ W. long.;

(20) 48°04.29′ N. lat., 125°20.37′ W. long.;

(21) 48°02.00′ N. lat., 125°18.50′ W. long.;

(22) 48°00.01′ N. lat., 125°19.90′ W. long.;

(23) 47°58.75′ N. lat., 125°17.54′ W. long.;

(24) 47°53.50′ N. lat., 125°13.50′ W. long.;

(25) 47°48.88′ N. lat., 125°05.91′ W. long.;

(26) 47°48.50′ N. lat., 125°05.00′ W. long.;

(27) 47°45.98′ N. lat., 125°04.26′ W. long.;

(28) 47°45.00′ N. lat., 125°05.50′ W. long.;

(29) 47°42.11′ N. lat., 125°04.74′ W. long.;

(30) 47°39.00′ N. lat., 125°06.00′ W. long.;

(31) 47°35.53′ N. lat., 125°04.55′ W. long.;

(32) 47°30.90′ N. lat., 124°57.31′ W. long.;

(33) 47°29.54′ N. lat., 124°56.50′ W. long.;

(34) 47°29.50′ N. lat., 124°54.50′ W. long.;

(35) 47°28.57′ N. lat., 124°51.50′ W. long.;

(36) 47°25.00′ N. lat., 124°48.00′ W. long.;

(37) 47°23.95′ N. lat., 124°47.24′ W. long.;

(38) 47°23.00′ N. lat., 124°47.00′ W. long.;

(39) 47°21.00′ N. lat., 124°46.50′ W. long.;

(40) 47°18.20′ N. lat., 124°45.84′ W. long.;

(41) 47°18.50′ N. lat., 124°49.00′ W. long.;

(42) 47°19.17′ N. lat., 124°50.86′ W. long.;

(43) 47°18.07′ N. lat., 124°53.29′ W. long.;

(44) 47°17.78′ N. lat., 124°51.39′ W. long.;

(45) 47°16.81′ N. lat., 124°50.85′ W. long.;

(46) 47°15.96′ N. lat., 124°53.15′ W. long.;

(47) 47°14.31′ N. lat., 124°52.62′ W. long.;

(48) 47°11.87′ N. lat., 124°56.90′ W. long.;

(49) 47°12.39′ N. lat., 124°58.09′ W. long.;

(50) 47°09.50′ N. lat., 124°57.50′ W. long.;

(51) 47°09.00′ N. lat., 124°59.00′ W. long.;

(52) 47°06.06′ N. lat., 124°58.80′ W. long.;

(53) 47°03.62′ N. lat., 124°55.96′ W. long.;

(54) 47°02.89′ N. lat., 124°56.89′ W. long.;

(55) 47°01.04′ N. lat., 124°59.54′ W. long.;

(56) 46°58.47′ N. lat., 124°59.08′ W. long.;

(57) 46°58.29′ N. lat., 125°00.28′ W. long.;

(58) 46°56.30′ N. lat., 125°00.75′ W. long.;

(59) 46°57.09′ N. lat., 124°58.86′ W. long.;

(60) 46°55.95′ N. lat., 124°54.88′ W. long.;

(61) 46°54.79′ N. lat., 124°54.14′ W. long.;

(62) 46°58.00′ N. lat., 124°50.00′ W. long.;

(63) 46°54.50′ N. lat., 124°49.00′ W. long.;

(64) 46°54.53′ N. lat., 124°52.94′ W. long.;

(65) 46°49.52′ N. lat., 124°53.41′ W. long.;

(66) 46°42.24′ N. lat., 124°47.86′ W. long.;

(67) 46°39.50′ N. lat., 124°42.50′ W. long.;

(68) 46°37.50′ N. lat., 124°41.00′ W. long.;

(69) 46°36.50′ N. lat., 124°38.00′ W. long.;

(70) 46°33.85′ N. lat., 124°36.99′ W. long.;

(71) 46°33.50′ N. lat., 124°29.50′ W. long.;

(72) 46°32.00′ N. lat., 124°31.00′ W. long.;

(73) 46°30.53′ N. lat., 124°30.55′ W. long.;

(74) 46°25.50′ N. lat., 124°33.00′ W. long.;

(75) 46°23.00′ N. lat., 124°35.00′ W. long.;

(76) 46°21.05′ N. lat., 124°37.00′ W. long.;

(77) 46°20.64′ N. lat., 124°36.21′ W. long.;

(78) 46°20.36′ N. lat., 124°37.85′ W. long.;

(79) 46°19.48′ N. lat., 124°38.35′ W. long.;

(80) 46°17.87′ N. lat., 124°38.54′ W. long.;

(81) 46°16.15′ N. lat., 124°25.20′ W. long.;

(82) 46°16.00′ N. lat., 124°23.00′ W. long.;

(83) 46°14.87′ N. lat., 124°26.15′ W. long.;

(84) 46°13.37′ N. lat., 124°31.36′ W. long.;

(85) 46°12.08′ N. lat., 124°38.39′ W. long.;

(86) 46°09.46′ N. lat., 124°40.64′ W. long.;

(87) 46°07.29′ N. lat., 124°40.89′ W. long.;

(88) 46°02.76′ N. lat., 124°44.01′ W. long.;

(89) 46°01.22′ N. lat., 124°43.47′ W. long.;

(90) 45°51.82′ N. lat., 124°42.89′ W. long.;

(91) 45°46.00′ N. lat., 124°40.88′ W. long.;

(92) 45°45.95′ N. lat., 124°40.72′ W. long.;

(93) 45°44.11′ N. lat., 124°43.09′ W. long.;

(94) 45°34.50′ N. lat., 124°30.28′ W. long.;

(95) 45°21.10′ N. lat., 124°23.11′ W. long.;

(96) 45°20.25′ N. lat., 124°22.92′ W. long.;

(97) 45°09.69′ N. lat., 124°20.45′ W. long.;

(98) 45°03.83′ N. lat., 124°23.30′ W. long.;

(99) 44°56.41′ N. lat., 124°27.65′ W. long.;

(100) 44°44.47′ N. lat., 124°37.85′ W. long.;

(101) 44°37.17′ N. lat., 124°38.60′ W. long.;

(102) 44°35.55′ N. lat., 124°39.27′ W. long.;

(103) 44°31.81′ N. lat., 124°39.60′ W. long.;

(104) 44°31.48′ N. lat., 124°43.30′ W. long.;

(105) 44°12.67′ N. lat., 124°57.87′ W. long.;

(106) 44°08.30′ N. lat., 124°57.84′ W. long.;

(107) 44°07.38′ N. lat., 124°57.87′ W. long.;

(108) 43°57.42′ N. lat., 124°57.20′ W. long.;

(109) 43°52.52′ N. lat., 124°49.00′ W. long.;

(110) 43°51.55′ N. lat., 124°37.49′ W. long.;

(111) 43°47.83′ N. lat., 124°36.43′ W. long.;

(112) 43°31.79′ N. lat., 124°36.80′ W. long.;

(113) 43°29.34′ N. lat., 124°36.77′ W. long.;

(114) 43°26.37′ N. lat., 124°39.53′ W. long.;

(115) 43°20.83′ N. lat., 124°42.39′ W. long.;

(116) 43°16.15′ N. lat., 124°44.36′ W. long.;

(117) 43°09.33′ N. lat., 124°45.35′ W. long.;

(118) 43°08.77′ N. lat., 124°49.82′ W. long.;

(119) 43°08.83′ N. lat., 124°50.93′ W. long.;

(120) 43°05.89′ N. lat., 124°51.60′ W. long.;

(121) 43°04.60′ N. lat., 124°53.02′ W. long.;

(122) 43°02.64′ N. lat., 124°52.01′ W. long.;

(123) 43°00.39′ N. lat., 124°51.77′ W. long.;

(124) 42°58.00′ N. lat., 124°52.99′ W. long.;

(125) 42°57.56′ N. lat., 124°54.10′ W. long.;

(126) 42°53.82′ N. lat., 124°55.76′ W. long.;

(127) 42°52.31′ N. lat., 124°50.76′ W. long.;

(128) 42°50.00′ N. lat., 124°48.97′ W. long.;

(129) 42°47.78′ N. lat., 124°47.27′ W. long.;

(130) 42°46.31′ N. lat., 124°43.60′ W. long.;

(131) 42°41.63′ N. lat., 124°44.07′ W. long.;

(132) 42°40.50′ N. lat., 124°43.52′ W. long.;

(133) 42°38.83′ N. lat., 124°42.77′ W. long.;

(134) 42°35.36′ N. lat., 124°43.22′ W. long.;

(135) 42°32.78′ N. lat., 124°44.68′ W. long.;

(136) 42°32.02′ N. lat., 124°43.00′ W. long.;

(137) 42°30.54′ N. lat., 124°43.50′ W. long.;

(138) 42°28.16′ N. lat., 124°48.38′ W. long.;

(139) 42°18.26′ N. lat., 124°39.01′ W. long.;

(140) 42°13.66′ N. lat., 124°36.82′ W. long.;

(141) 42°00.00′ N. lat., 124°35.99′ W. long.;

(142) 41°47.80′ N. lat., 124°29.41′ W. long.;

(143) 41°23.51′ N. lat., 124°29.50′ W. long.;

(144) 41°13.29′ N. lat., 124°23.31′ W. long.;

(145) 41°06.23′ N. lat., 124°22.62′ W. long.;

(146) 40°55.60′ N. lat., 124°26.04′ W. long.;

(147) 40°49.62′ N. lat., 124°26.57′ W. long.;

(148) 40°45.72′ N. lat., 124°30.00′ W. long.;

(149) 40°40.56′ N. lat., 124°32.11′ W. long.;

(150) 40°37.33′ N. lat., 124°29.27′ W. long.;

(151) 40°35.60′ N. lat., 124°30.49′ W. long.;

(152) 40°37.38′ N. lat., 124°37.14′ W. long.;

(153) 40°36.03′ N. lat., 124°39.97′ W. long.;

(154) 40°31.58′ N. lat., 124°40.74′ W. long.;

(155) 40°30.00′ N. lat., 124°38.50′ W. long.;

(156) 40°29.76′ N. lat., 124°38.13′ W. long.;

(157) 40°28.22′ N. lat., 124°37.23′ W. long.;

(158) 40°24.86′ N. lat., 124°35.71′ W. long.;

(159) 40°23.01′ N. lat., 124°31.94′ W. long.;

(160) 40°23.39′ N. lat., 124°28.64′ W. long.;

(161) 40°22.29′ N. lat., 124°25.25′ W. long.;

(162) 40°21.90′ N. lat., 124°25.18′ W. long.;

(163) 40°22.02′ N. lat., 124°28.00′ W. long.;

(164) 40°21.34′ N. lat., 124°29.53′ W. long.;

(165) 40°19.74′ N. lat., 124°28.95′ W. long.;

(166) 40°18.13′ N. lat., 124°27.08′ W. long.;

(167) 40°17.45′ N. lat., 124°25.53′ W. long.;

(168) 40°17.97′ N. lat., 124°24.12′ W. long.;

(169) 40°15.96′ N. lat., 124°26.05′ W. long.;

(170) 40°17.00′ N. lat., 124°35.01′ W. long.;

(171) 40°15.97′ N. lat., 124°35.90′ W. long.;

(172) 40°10.00′ N. lat., 124°22.96′ W. long.;

(173) 40°07.00′ N. lat., 124°19.00′ W. long.;

(174) 40°08.10′ N. lat., 124°16.70′ W. long.;

(175) 40°05.90′ N. lat., 124°17.77′ W. long.;

(176) 40°02.99′ N. lat., 124°15.55′ W. long.;

(177) 40°02.00′ N. lat., 124°12.97′ W. long.;

(178) 40°02.60′ N. lat., 124°10.61′ W. long.;

(179) 40°03.63′ N. lat., 124°09.12′ W. long.;

(180) 40°02.18′ N. lat., 124°09.07′ W. long.;

(181) 39°58.25′ N. lat., 124°12.56′ W. long.;

(182) 39°57.03′ N. lat., 124°11.34′ W. long.;

(183) 39°56.30′ N. lat., 124°08.96′ W. long.;

(184) 39°54.82′ N. lat., 124°07.66′ W. long.;

(185) 39°52.57′ N. lat., 124°08.55′ W. long.;

(186) 39°45.34′ N. lat., 124°03.30′ W. long.;

(187) 39°34.75′ N. lat., 123°58.50′ W. long.;

(188) 39°34.22′ N. lat., 123°56.82′ W. long.;

(189) 39°32.98′ N. lat., 123°56.43′ W. long.;

(190) 39°31.47′ N. lat., 123°58.73′ W. long.;

(191) 39°05.68′ N. lat., 123°57.81′ W. long.;

(192) 39°00.24′ N. lat., 123°56.74′ W. long.;

(193) 38°57.50′ N. lat., 123°56.74′ W. long.;

(194) 38°54.31′ N. lat., 123°56.73′ W. long.;

(195) 38°41.42′ N. lat., 123°46.75′ W. long.;

(196) 38°39.61′ N. lat., 123°46.48′ W. long.;

(197) 38°37.52′ N. lat., 123°43.78′ W. long.;

(198) 38°35.25′ N. lat., 123°42.00′ W. long.;

(199) 38°28.79′ N. lat., 123°37.07′ W. long.;

(200) 38°19.88′ N. lat., 123°32.54′ W. long.;

(201) 38°14.43′ N. lat., 123°25.56′ W. long.;

(202) 38°08.75′ N. lat., 123°24.48′ W. long.;

(203) 38°10.10′ N. lat., 123°27.20′ W. long.;

(204) 38°07.16′ N. lat., 123°28.18′ W. long.;

(205) 38°06.42′ N. lat., 123°30.18′ W. long.;

(206) 38°04.28′ N. lat., 123°31.70′ W. long.;

(207) 38°01.88′ N. lat., 123°30.98′ W. long.;

(208) 38°00.75′ N. lat., 123°29.72′ W. long.;

(209) 38°00.00′ N. lat., 123°28.60′ W. long.;

(210) 37°58.23′ N. lat., 123°26.90′ W. long.;

(211) 37°55.32′ N. lat., 123°27.19′ W. long.;

(212) 37°51.47′ N. lat., 123°24.92′ W. long.;

(213) 37°44.47′ N. lat., 123°11.57′ W. long.;

(214) 37°35.67′ N. lat., 123°01.76′ W. long.;

(215) 37°15.16′ N. lat., 122°51.64′ W. long.;

(216) 37°11.00′ N. lat., 122°47.20′ W. long.;

(217) 37°07.00′ N. lat., 122°42.90′ W. long.;

(218) 37°01.68′ N. lat., 122°37.28′ W. long.;

(219) 36°59.70′ N. lat., 122°33.71′ W. long.;

(220) 36°58.00′ N. lat., 122°27.80′ W. long.;

(221) 37°00.25′ N. lat., 122°24.85′ W. long.;

(222) 36°57.50′ N. lat., 122°24.98′ W. long.;

(223) 36°58.38′ N. lat., 122°21.85′ W. long.;

(224) 36°55.85′ N. lat., 122°21.95′ W. long.;

(225) 36°52.02′ N. lat., 122°12.10′ W. long.;

(226) 36°47.63′ N. lat., 122°07.37′ W. long.;

(227) 36°47.26′ N. lat., 122°03.22′ W. long.;

(228) 36°50.34′ N. lat., 121°58.40′ W. long.;

(229) 36°48.83′ N. lat., 121°59.14′ W. long.;

(230) 36°44.81′ N. lat., 121°58.28′ W. long.;

(231) 36°39.00′ N. lat., 122°01.71′ W. long.;

(232) 36°29.60′ N. lat., 122°00.49′ W. long.;

(233) 36°23.43′ N. lat., 121°59.76′ W. long.;

(234) 36°18.90′ N. lat., 122°05.32′ W. long.;

(235) 36°15.38′ N. lat., 122°01.40′ W. long.;

(236) 36°13.79′ N. lat., 121°58.12′ W. long.;

(237) 36°10.12′ N. lat., 121°43.33′ W. long.;

(238) 36°02.57′ N. lat., 121°37.02′ W. long.;

(239) 36°01.00′ N. lat., 121°36.95′ W. long.

(240) 36°00.00′ N. lat., 121°35.15′ W. long.;

(241) 35°57.74′ N. lat., 121°33.45′ W. long.;

(242) 35°51.32′ N. lat., 121°30.08′ W. long.;

(243) 35°45.84′ N. lat., 121°28.84′ W. long.;

(244) 35°38.94′ N. lat., 121°23.16′ W. long.;

(245) 35°26.00′ N. lat., 121°08.00′ W. long.;

(246) 35°07.42′ N. lat., 120°57.08′ W. long.;

(247) 34°42.76′ N. lat., 120°55.09′ W. long.;

(248) 34°37.75′ N. lat., 120°51.96′ W. long.;

(249) 34°29.29′ N. lat., 120°44.19′ W. long.;

(250) 34°27.00′ N. lat., 120°40.42′ W. long.;

(251) 34°21.89′ N. lat., 120°31.36′ W. long.;

(252) 34°20.79′ N. lat., 120°21.58′ W. long.;

(253) 34°23.97′ N. lat., 120°15.25′ W. long.;

(254) 34°22.11′ N. lat., 119°56.63′ W. long.;

(255) 34°19.00′ N. lat., 119°48.00′ W. long.;

(256) 34°15.00′ N. lat., 119°48.00′ W. long.;

(257) 34°08.00′ N. lat., 119°37.00′ W. long.;

(258) 34°08.39′ N. lat., 119°54.78′ W. long.;

(259) 34°07.10′ N. lat., 120°10.37′ W. long.;

(260) 34°10.08′ N. lat., 120°22.98′ W. long.;

(261) 34°13.16′ N. lat., 120°29.40′ W. long.;

(262) 34°09.41′ N. lat., 120°37.75′ W. long.;

(263) 34°03.15′ N. lat., 120°34.71′ W. long.;

(264) 33°57.09′ N. lat., 120°27.76′ W. long.;

(265) 33°51.00′ N. lat., 120°09.00′ W. long.;

(266) 33°38.16′ N. lat., 119°59.23′ W. long.;

(267) 33°37.04′ N. lat., 119°50.17′ W. long.;

(268) 33°42.28′ N. lat., 119°48.85′ W. long.;

(269) 33°53.96′ N. lat., 119°53.77′ W. long.;

(270) 33°59.94′ N. lat., 119°19.57′ W. long.;

(271) 34°03.12′ N. lat., 119°15.51′ W. long.;

(272) 34°01.97′ N. lat., 119°07.28′ W. long.;

(273) 34°03.60′ N. lat., 119°04.71′ W. long.;

(274) 33°59.30′ N. lat., 119°03.73′ W. long.;

(275) 33°58.87′ N. lat., 118°59.37′ W. long.;

(276) 33°58.08′ N. lat., 118°41.14′ W. long.;

(277) 33°50.93′ N. lat., 118°37.65′ W. long.;

(278) 33°39.54′ N. lat., 118°18.70′ W. long.;

(279) 33°35.42′ N. lat., 118°17.14′ W. long.;

(280) 33°32.15′ N. lat., 118°10.84′ W. long.;

(281) 33°33.71′ N. lat., 117°53.72′ W. long.;

(282) 33°31.17′ N. lat., 117°49.11′ W. long.;

(283) 33°16.53′ N. lat., 117°36.13′ W. long.;

(284) 33°06.77′ N. lat., 117°22.92′ W. long.;

(285) 32°58.94′ N. lat., 117°20.05′ W. long.;

(286) 32°55.83′ N. lat., 117°20.15′ W. long.;

(287) 32°46.29′ N. lat., 117°23.89′ W. long.;

(288) 32°42.00′ N. lat., 117°22.16′ W. long.;

(289) 32°39.47′ N. lat., 117°27.78′ W. long.; and

(290) 32°34.83′ N. lat., 117°24.69′ W. long.

* * * * *

23. In § 660.394, paragraph (a) is revised, paragraphs (f) through (m) are redesignated as (g) through (m), new paragraphs (f), (n), (o), (p), (q) are added, and newly redesignated paragraphs (g), (l), (m) and (r) are revised to read as follows:

§ 660.394 Latitude/longitude coordinates defining the 180-fm (329-m) through 250-fm (457-m) depth contours.

* * * * *

(a) The 180-fm (329-m) depth contour used between the U.S. border with Canada and the U.S. border with Mexico is defined by straight lines connecting all of the following points in the order stated:

(1) 48°14.82′ N. lat., 125°41.61′ W. long.;

(2) 48°12.86′ N. lat., 125°37.95′ W. long.;

(3) 48°11.28′ N. lat., 125°39.67′ W. long.;

(4) 48°10.13′ N. lat., 125°42.62′ W. long.;

(5) 48°08.86′ N. lat., 125°41.92′ W. long.;

(6) 48°08.15′ N. lat., 125°44.95′ W. long.;

(7) 48°07.18′ N. lat., 125°45.67′ W. long.;

(8) 48°05.79′ N. lat., 125°44.64′ W. long.;

(9) 48°06.04′ N. lat., 125°41.84′ W. long.;

(10) 48°04.26′ N. lat., 125°40.09′ W. long.;

(11) 48°04.18′ N. lat., 125°36.94′ W. long.;

(12) 48°03.02′ N. lat., 125°36.24′ W. long.;

(13) 48°01.75′ N. lat., 125°37.42′ W. long.;

(14) 48°01.39′ N. lat., 125°39.42′ W. long.;

(15) 47°57.08′ N. lat., 125°36.51′ W. long.;

(16) 47°55.20′ N. lat., 125°36.62′ W. long.;

(17) 47°54.33′ N. lat., 125°34.98′ W. long.;

(18) 47°54.73′ N. lat., 125°31.95′ W. long.;

(19) 47°56.39′ N. lat., 125°30.22′ W. long.;

(20) 47°55.86′ N. lat., 125°28.54′ W. long.;

(21) 47°58.07′ N. lat., 125°25.72′ W. long.;

(22) 48°00.81′ N. lat., 125°24.39′ W. long.;

(23) 48°01.81′ N. lat., 125°23.76′ W. long.;

(24) 48°02.16′ N. lat., 125°22.71′ W. long.;

(25) 48°03.46′ N. lat., 125°22.01′ W. long.;

(26) 48°04.21′ N. lat., 125°20.40′ W. long.;

(27) 48°03.15′ N. lat., 125°19.50′ W. long.;

(28) 48°01.92′ N. lat., 125°18.69′ W. long.;

(29) 48°00.85′ N. lat., 125°20.02′ W. long.;

(30) 48°00.12′ N. lat., 125°20.04′ W. long.;

(31) 47°58.18′ N. lat., 125°18.78′ W. long.;

(32) 47°58.24′ N. lat., 125°17.26′ W. long.;

(33) 47°52.47′ N. lat., 125°15.30′ W. long.;

(34) 47°52.13′ N. lat., 125°12.95′ W. long.;

(35) 47°50.60′ N. lat., 125°10.65′ W. long.;

(36) 47°49.39′ N. lat., 125°10.59′ W. long.;

(37) 47°48.74′ N. lat., 125°06.07′ W. long.;

(38) 47°47.03′ N. lat., 125°06.95′ W. long.;

(39) 47°47.46′ N. lat., 125°05.20′ W. long.;

(40) 47°45.88′ N. lat., 125°04.50′ W. long.;

(41) 47°44.51′ N. lat., 125°06.64′ W. long.;

(42) 47°42.22′ N. lat., 125°04.86′ W. long.;

(43) 47°38.49′ N. lat., 125°06.32′ W. long.;

(44) 47°34.93′ N. lat., 125°04.34′ W. long.;

(45) 47°30.85′ N. lat., 124°57.42′ W. long.;

(46) 47°28.80′ N. lat., 124°56.51′ W. long.;

(47) 47°29.25′ N. lat., 124°53.92′ W. long.;

(48) 47°28.29′ N. lat., 124°51.32′ W. long.;

(49) 47°24.04′ N. lat., 124°47.38′ W. long.;

(50) 47°18.24′ N. lat., 124°45.97′ W. long.;

(51) 47°19.36′ N. lat., 124°50.96′ W. long.;

(52) 47°18.07′ N. lat., 124°53.38′ W. long.;

(53) 47°17.73′ N. lat., 124°52.83′ W. long.;

(54) 47°17.77′ N. lat., 124°51.56′ W. long.;

(55) 47°16.84′ N. lat., 124°50.94′ W. long.;

(56) 47°16.01′ N. lat., 124°53.36′ W. long.;

(57) 47°14.32′ N. lat., 124°52.73′ W. long.;

(58) 47°11.97′ N. lat., 124°56.81′ W. long.;

(59) 47°12.93′ N. lat., 124°58.47′ W. long.;

(60) 47°09.43′ N. lat., 124°57.99′ W. long.;

(61) 47°09.36′ N. lat., 124°59.29′ W. long.;

(62) 47°05.88′ N. lat., 124°59.06′ W. long.;

(63) 47°03.64′ N. lat., 124°56.07′ W. long.;

(64) 47°01.00′ N. lat., 124°59.69′ W. long.;

(65) 46°58.72′ N. lat., 124°59.17′ W. long.;

(66) 46°58.30′ N. lat., 125°00.60′ W. long.;

(67) 46°55.61′ N. lat., 125°01.19′ W. long.;

(68) 46°56.96′ N. lat., 124°58.85′ W. long.;

(69) 46°55.91′ N. lat., 124°54.98′ W. long.;

(70) 46°54.55′ N. lat., 124°54.21′ W. long.;

(71) 46°56.80′ N. lat., 124°50.55′ W. long.;

(72) 46°54.87′ N. lat., 124°49.59′ W. long.;

(73) 46°54.63′ N. lat., 124°53.48′ W. long.;

(74) 46°52.33′ N. lat., 124°54.75′ W. long.;

(75) 46°45.12′ N. lat., 124°51.82′ W. long.;

(76) 46°39.20′ N. lat., 124°47.02′ W. long.;

(77) 46°33.45′ N. lat., 124°36.61′ W. long.;

(78) 46°33.37′ N. lat., 124°30.21′ W. long.;

(79) 46°31.67′ N. lat., 124°31.41′ W. long.;

(80) 46°27.87′ N. lat., 124°32.04′ W. long.;

(81) 46°21.01′ N. lat., 124°37.63′ W. long.;

(82) 46°18.58′ N. lat., 124°38.92′ W. long.;

(83) 46°16.00′ N. lat., 124°23.57′ W. long.;

(84) 46°12.85′ N. lat., 124°35.52′ W. long.;

(85) 46°12.27′ N. lat., 124°38.69′ W. long.;

(86) 46°08.71′ N. lat., 124°41.27′ W. long.;

(87) 46°05.80′ N. lat., 124°42.11′ W. long.;

(88) 46°02.84′ N. lat., 124°48.05′ W. long.;

(89) 46°02.41′ N. lat., 124°48.16′ W. long.;

(90) 45°58.96′ N. lat., 124°43.97′ W. long.;

(91) 45°47.05′ N. lat., 124°43.25′ W. long.;

(92) 45°46.00′ N. lat., 124°43.31′ W. long.;

(93) 45°44.22′ N. lat., 124°44.55′ W. long.;

(94) 45°34.97′ N. lat., 124°31.95′ W. long.;

(95) 45°20.25′ N. lat., 124°25.18′ W. long.;

(96) 45°13.09′ N. lat., 124°21.61′ W. long.;

(97) 45°09.59′ N. lat., 124°22.78′ W. long.;

(98) 45°03.83′ N. lat., 124°26.21′ W. long.;

(99) 45°00.22′ N. lat., 124°28.31′ W. long.;

(100) 44°53.53′ N. lat., 124°32.98′ W. long.;

(101) 44°40.79′ N. lat., 124°45.76′ W. long.;

(102) 44°41.35′ N. lat., 124°48.03′ W. long.;

(103) 44°40.27′ N. lat., 124°49.11′ W. long.;

(104) 44°38.52′ N. lat., 124°49.11′ W. long.;

(105) 44°38.25′ N. lat., 124°46.47′ W. long.;

(106) 44°28.84′ N. lat., 124°47.09′ W. long.;

(107) 44°23.24′ N. lat., 124°49.96′ W. long.;

(108) 44°13.07′ N. lat., 124°58.34′ W. long.;

(109) 44°08.30′ N. lat., 124°58.23′ W. long.;

(110) 43°57.99′ N. lat., 124°57.83′ W. long.;

(111) 43°51.43′ N. lat., 124°52.02′ W. long.;

(112) 43°50.72′ N. lat., 124°39.23′ W. long.;

(113) 43°39.04′ N. lat., 124°37.82′ W. long.;

(114) 43°27.76′ N. lat., 124°39.76′ W. long.;

(115) 43°20.83′ N. lat., 124°42.70′ W. long.;

(116) 43°20.22′ N. lat., 124°42.92′ W. long.;

(117) 43°13.07′ N. lat., 124°46.03′ W. long.;

(118) 43°10.43′ N. lat., 124°50.27′ W. long.;

(119) 43°08.83′ N. lat., 124°50.93′ W. long.;

(120) 43°05.89′ N. lat., 124°51.60′ W. long.;

(121) 43°04.60′ N. lat., 124°53.01′ W. long.;

(122) 43°02.64′ N. lat., 124°52.01′ W. long.;

(123) 43°00.39′ N. lat., 124°51.77′ W. long.;

(124) 42°58.00′ N. lat., 124°52.99′ W. long.;

(125) 42°57.56′ N. lat., 124°54.10′ W. long.;

(126) 42°53.82′ N. lat., 124°55.76′ W. long.;

(127) 42°53.20′ N. lat., 124°53.56′ W. long.;

(128) 42°50.00′ N. lat., 124°52.36′ W. long.;

(129) 42°49.43′ N. lat., 124°52.03′ W. long.;

(130) 42°47.68′ N. lat., 124°47.72′ W. long.;

(131) 42°46.17′ N. lat., 124°44.05′ W. long.;

(132) 42°41.67′ N. lat., 124°44.36′ W. long.;

(133) 42°40.50′ N. lat., 124°43.86′ W. long.;

(134) 42°38.79′ N. lat., 124°42.88′ W. long.;

(135) 42°32.39′ N. lat., 124°45.38′ W. long.;

(136) 42°32.08′ N. lat., 124°43.44′ W. long.;

(137) 42°30.98′ N. lat., 124°43.84′ W. long.;

(138) 42°28.37′ N. lat., 124°48.91′ W. long.;

(139) 42°20.07′ N. lat., 124°41.59′ W. long.;

(140) 42°15.05′ N. lat., 124°38.07′ W. long.;

(141) 42°13.67′ N. lat., 124°37.77′ W. long.;

(142) 42°07.37′ N. lat., 124°37.25′ W. long.;

(143) 42°04.93′ N. lat., 124°36.79′ W. long.;

(144) 42°00.00′ N. lat., 124°36.26′ W. long.;

(145) 41°47.60′ N. lat., 124°29.75′ W. long.;

(146) 41°22.07′ N. lat., 124°29.55′ W. long.;

(147) 41°13.58′ N. lat., 124°24.17′ W. long.;

(148) 41°06.51′ N. lat., 124°23.07′ W. long.;

(149) 40°55.20′ N. lat., 124°27.46′ W. long.;

(150) 40°49.76′ N. lat., 124°27.17′ W. long.;

(151) 40°45.79′ N. lat., 124°30.37′ W. long.;

(152) 40°40.31′ N. lat., 124°32.47′ W. long.;

(153) 40°37.42′ N. lat., 124°37.20′ W. long.;

(154) 40°36.03′ N. lat., 124°39.97′ W. long.;

(155) 40°31.48′ N. lat., 124°40.95′ W. long.;

(156) 40°30.00′ N. lat., 124°38.50′ W. long.;

(157) 40°24.81′ N. lat., 124°35.82′ W. long.;

(158) 40°22.00′ N. lat., 124°30.01′ W. long.;

(159) 40°16.84′ N. lat., 124°29.87′ W. long.;

(160) 40°17.06′ N. lat., 124°35.51′ W. long.;

(161) 40°16.41′ N. lat., 124°39.10′ W. long.;

(162) 40°10.00′ N. lat., 124°23.56′ W. long.;

(163) 40°06.67′ N. lat., 124°19.08′ W. long.;

(164) 40°08.10′ N. lat., 124°16.71′ W. long.;

(165) 40°05.90′ N. lat., 124°17.77′ W. long.;

(166) 40°02.80′ N. lat., 124°16.28′ W. long.;

(167) 40°01.98′ N. lat., 124°12.99′ W. long.;

(168) 40°01.53′ N. lat., 124°09.82′ W. long.;

(169) 39°58.28′ N. lat., 124°12.93′ W. long.;

(170) 39°57.06′ N. lat., 124°12.03′ W. long.;

(171) 39°56.31′ N. lat., 124°08.98′ W. long.;

(172) 39°55.20′ N. lat., 124°07.98′ W. long.;

(173) 39°52.57′ N. lat., 124°09.04′ W. long.;

(174) 39°42.78′ N. lat., 124°02.11′ W. long.;

(175) 39°34.76′ N. lat., 123°58.51′ W. long.;

(176) 39°34.22′ N. lat., 123°56.82′ W. long.;

(177) 39°32.98′ N. lat., 123°56.43′ W. long.;

(178) 39°32.14′ N. lat., 123°58.83′ W. long.;

(179) 39°07.79′ N. lat., 123°58.72′ W. long.;

(180) 39°00.99′ N. lat., 123°57.56′ W. long.;

(181) 39°00.05′ N. lat., 123°56.83′ W. long.;

(182) 38°57.50′ N. lat., 123°57.22′ W. long.;

(183) 38°56.28′ N. lat., 123°57.53′ W. long.;

(184) 38°56.01′ N. lat., 123°58.72′ W. long.;

(185) 38°52.41′ N. lat., 123°56.38′ W. long.;

(186) 38°46.81′ N. lat., 123°51.46′ W. long.;

(187) 38°45.56′ N. lat., 123°51.32′ W. long.;

(188) 38°43.24′ N. lat., 123°49.91′ W. long.;

(189) 38°41.42′ N. lat., 123°47.22′ W. long.;

(190) 38°40.97′ N. lat., 123°47.80′ W. long.;

(191) 38°38.58′ N. lat., 123°46.07′ W. long.;

(192) 38°37.38′ N. lat., 123°43.80′ W. long.;

(193) 38°33.86′ N. lat., 123°41.51′ W. long.;

(194) 38°29.45′ N. lat., 123°38.42′ W. long.;

(195) 38°28.20′ N. lat., 123°38.17′ W. long.;

(196) 38°24.09′ N. lat., 123°35.26′ W. long.;

(197) 38°16.72′ N. lat., 123°31.42′ W. long.;

(198) 38°15.32′ N. lat., 123°29.33′ W. long.;

(199) 38°14.45′ N. lat., 123°26.15′ W. long.;

(200) 38°10.26′ N. lat., 123°25.43′ W. long.;

(201) 38°12.61′ N. lat., 123°28.08′ W. long.;

(202) 38°11.98′ N. lat., 123°29.35′ W. long.;

(203) 38°08.23′ N. lat., 123°28.04′ W. long.;

(204) 38°06.39′ N. lat., 123°30.59′ W. long.;

(205) 38°04.25′ N. lat., 123°31.81′ W. long.;

(206) 38°02.08′ N. lat., 123°31.27′ W. long.;

(207) 38°00.17′ N. lat., 123°29.43′ W. long.;

(208) 38°00.00′ N. lat., 123°28.55′ W. long.;

(209) 37°58.24′ N. lat., 123°26.91′ W. long.;

(210) 37°55.32′ N. lat., 123°27.19′ W. long.;

(211) 37°51.52′ N. lat., 123°25.01′ W. long.;

(212) 37°44.21′ N. lat., 123°11.38′ W. long.;

(213) 37°35.67′ N. lat., 123°01.86′ W. long.;

(214) 37°14.29′ N. lat., 122°52.99′ W. long.;

(215) 37°11.00′ N. lat., 122°49.28′ W. long.;

(216) 37°07.00′ N. lat., 122°44.65′ W. long.;

(217) 37°00.86′ N. lat., 122°37.55′ W. long.;

(218) 36°59.71′ N. lat., 122°33.73′ W. long.;

(219) 36°57.98′ N. lat., 122°27.80′ W. long.;

(220) 36°59.83′ N. lat., 122°25.17′ W. long.;

(221) 36°57.21′ N. lat., 122°25.17′ W. long.;

(222) 36°57.79′ N. lat., 122°22.28′ W. long.;

(223) 36°55.86′ N. lat., 122°21.99′ W. long.;

(224) 36°52.06′ N. lat., 122°12.12′ W. long.;

(225) 36°47.63′ N. lat., 122°07.40′ W. long.;

(226) 36°47.26′ N. lat., 122°03.23′ W. long.;

(227) 36°49.53′ N. lat., 121°59.35′ W. long.;

(228) 36°44.81′ N. lat., 121°58.29′ W. long.;

(229) 36°38.95′ N. lat., 122°02.02′ W. long.;

(230) 36°23.43′ N. lat., 121°59.76′ W. long.;

(231) 36°19.66′ N. lat., 122°06.25′ W. long.;

(232) 36°14.78′ N. lat., 122°01.52′ W. long.;

(233) 36°13.64′ N. lat., 121°57.83′ W. long.;

(234) 36°09.99′ N. lat., 121°43.48′ W. long.;

(235) 36°00.00′ N. lat., 121°36.95′ W. long.;

(236) 35°57.09′ N. lat., 121°34.16′ W. long.;

(237) 35°52.71′ N. lat., 121°32.32′ W. long.;

(238) 35°51.23′ N. lat., 121°30.54′ W. long.;

(239) 35°46.07′ N. lat., 121°29.75′ W. long.;

(240) 35°34.08′ N. lat., 121°19.83′ W. long.;

(241) 35°31.41′ N. lat., 121°14.80′ W. long.;

(242) 35°15.42′ N. lat., 121°03.47′ W. long.;

(243) 35°07.70′ N. lat., 120°59.31′ W. long.;

(244) 34°57.27′ N. lat., 120°56.93′ W. long.;

(245) 34°44.27′ N. lat., 120°57.65′ W. long.;

(246) 34°32.75′ N. lat., 120°50.08′ W. long.;

(247) 34°27.00′ N. lat., 120°41.50′ W. long.;

(248) 34°20.00′ N. lat., 120°30.99′ W. long.;

(249) 34°19.15′ N. lat., 120°19.78′ W. long.;

(250) 34°23.24′ N. lat., 120°14.17′ W. long.;

(251) 34°21.35′ N. lat., 119°54.89′ W. long.;

(252) 34°09.79′ N. lat., 119°44.51′ W. long.;

(253) 34°07.34′ N. lat., 120°06.71′ W. long.;

(254) 34°09.74′ N. lat., 120°19.78′ W. long.;

(255) 34°13.95′ N. lat., 120°29.78′ W. long.;

(256) 34°09.41′ N. lat., 120°37.75′ W. long.;

(257) 34°03.39′ N. lat., 120°35.26′ W. long.;

(258) 33°56.82′ N. lat., 120°28.30′ W. long.;

(259) 33°50.71′ N. lat., 120°09.24′ W. long.;

(260) 33°38.21′ N. lat., 119°59.90′ W. long.;

(261) 33°35.35′ N. lat., 119°51.95′ W. long.;

(262) 33°35.99′ N. lat., 119°49.13′ W. long.;

(263) 33°42.74′ N. lat., 119°47.80′ W. long.;

(264) 33°53.65′ N. lat., 119°53.29′ W. long.;

(265) 33°57.85′ N. lat., 119°31.05′ W. long.;

(266) 33°56.78′ N. lat., 119°27.44′ W. long.;

(267) 33°58.03′ N. lat., 119°27.82′ W. long.;

(268) 33°59.31′ N. lat., 119°20.02′ W. long.;

(269) 34°02.91′ N. lat., 119°15.38′ W. long.;

(270) 33°59.04′ N. lat., 119°03.02′ W. long.;

(271) 33°57.88′ N. lat., 118°41.69′ W. long.;

(272) 33°50.89′ N. lat., 118°37.78′ W. long.;

(273) 33°39.54′ N. lat., 118°18.70′ W. long.;

(274) 33°35.42′ N. lat., 118°17.15′ W. long.;

(275) 33°31.26′ N. lat., 118°10.84′ W. long.;

(276) 33°32.71′ N. lat., 117°52.05′ W. long.;

(277) 32°58.94′ N. lat., 117°20.05′ W. long.;

(278) 32°46.45′ N. lat., 117°24.37′ W. long.;

(279) 32°42.25′ N. lat., 117°22.87′ W. long.;

(280) 32°39.50′ N. lat., 117°27.80′ W. long.; and

(281) 32°34.83′ N. lat., 117°24.67′ W. long.

* * * * *

(f) The 180-fm (329-m) depth contour between 42° N. lat. and the U.S. border with Mexico, modified to allow fishing in petrale sole areas, is defined by straight lines connecting all of the following points in the order stated:

(1) 42°00.00′ N. lat., 124°36.37′ W. long.;

(2) 41°47.79′ N. lat., 124°29.48′ W. long.;

(3) 41°21.16′ N. lat., 124°28.97′ W. long.;

(4) 41°13.44′ N. lat., 124°24.10′ W. long.;

(5) 41°11.00′ N. lat., 124°22.99′ W. long.;

(6) 41°06.51′ N. lat., 124°23.07′ W. long.;

(7) 40°55.20′ N. lat., 124°27.46′ W. long.;

(8) 40°53.95′ N. lat., 124°26.04′ W. long.;

(9) 40°49.96′ N. lat., 124°26.04′ W. long.;

(10) 40°44.49′ N. lat., 124°30.81′ W. long.;

(11) 40°40.58′ N. lat., 124°32.05′ W. long.;

(12) 40°37.36′ N. lat., 124°29.41′ W. long.;

(13) 40°35.67′ N. lat., 124°30.43′ W. long.;

(14) 40°37.44′ N. lat., 124°37.16′ W. long.;

(15) 40°36.03′ N. lat., 124°39.97′ W. long.;

(16) 40°31.42′ N. lat., 124°40.85′ W. long.;

(17) 40°30.00′ N. lat., 124°36.82′ W. long.;

(18) 40°27.56′ N. lat., 124°37.24′ W. long.;

(19) 40°24.81′ N. lat., 124°35.82′ W. long.;

(20) 40°22.00′ N. lat., 124°30.01′ W. long.;

(21) 40°16.84′ N. lat., 124°29.87′ W. long.;

(22) 40°17.00′ N. lat., 124°34.96′ W. long.;

(23) 40°16.03′ N. lat., 124°36.02′ W. long.;

(24) 40°11.93′ N. lat., 124°28.21′ W. long.;

(25) 40°10.00′ N. lat., 124°23.56′ W. long.;

(26) 40°06.67′ N. lat., 124°19.08′ W. long.;

(27) 40°08.10′ N. lat., 124°16.71′ W. long.;

(28) 40°05.90′ N. lat., 124°17.77′ W. long.;

(29) 40°02.80′ N. lat., 124°16.28′ W. long.;

(30) 40°01.98′ N. lat., 124°12.99′ W. long.;

(31) 40°01.53′ N. lat., 124°09.82′ W. long.;

(32) 39°58.54′ N. lat., 124°12.43′ W. long.;

(33) 39°55.72′ N. lat., 124°07.44′ W. long.;

(34) 39°42.78′ N. lat., 124°02.11′ W. long.;

(35) 39°34.76′ N. lat., 123°58.51′ W. long.;

(36) 39°34.22′ N. lat., 123°56.82′ W. long.;

(37) 39°32.98′ N. lat., 123°56.43′ W. long.;

(38) 39°32.14′ N. lat., 123°58.83′ W. long.;

(39) 39°07.79′ N. lat., 123°58.72′ W. long.;

(40) 39°00.99′ N. lat., 123°57.56′ W. long.;

(41) 39°00.05′ N. lat., 123°56.83′ W. long.;

(42) 38°57.50′ N. lat., 123°56.96′ W. long.;

(43) 38°52.22′ N. lat., 123°56.22′ W. long.;

(44) 38°46.81′ N. lat., 123°51.46′ W. long.;

(45) 38°45.56′ N. lat., 123°51.32′ W. long.;

(46) 38°43.24′ N. lat., 123°49.91′ W. long.;

(47) 38°41.41′ N. lat., 123°46.74′ W. long.;

(48) 38°38.48′ N. lat., 123°45.88′ W. long.;

(49) 38°37.38′ N. lat., 123°43.80′ W. long.;

(50) 38°35.26′ N. lat., 123°41.99′ W. long.;

(51) 38°34.44′ N. lat., 123°41.89′ W. long.;

(52) 38°29.45′ N. lat., 123°38.42′ W. long.;

(53) 38°28.20′ N. lat., 123°38.17′ W. long.;

(54) 38°24.09′ N. lat., 123°35.26′ W. long.;

(55) 38°19.95′ N. lat., 123°32.90′ W. long.;

(56) 38°14.38′ N. lat., 123°25.51′ W. long.;

(57) 38°09.39′ N. lat., 123°24.39′ W. long.;

(58) 38°10.09′ N. lat., 123°27.21′ W. long.;

(59) 38°03.98′ N. lat., 123°31.74′ W. long.;

(60) 38°02.08′ N. lat., 123°31.27′ W. long.;

(61) 38°00.17′ N. lat., 123°29.43′ W. long.;

(62) 38°00.00′ N. lat., 123°28.55′ W. long.;

(63) 37°58.24′ N. lat., 123°26.91′ W. long.;

(64) 37°55.32′ N. lat., 123°27.19′ W. long.;

(65) 37°51.52′ N. lat., 123°25.01′ W. long.;

(66) 37°44.21′ N. lat., 123°11.38′ W. long.;

(67) 37°35.67′ N. lat., 123°01.86′ W. long.;

(68) 37°23.42′ N. lat., 122°56.78′ W. long.;

(69) 37°23.23′ N. lat., 122°53.78′ W. long.;

(70) 37°13.97′ N. lat., 122°49.91′ W. long.;

(71) 37°11.00′ N. lat., 122°45.61′ W. long.;

(72) 37°08.28′ N. lat., 122°46.13′ W. long.;

(73) 37°07.00′ N. lat., 122°44.45′ W. long.;

(74) 37°00.86′ N. lat., 122°37.55′ W. long.;

(75) 36°59.71′ N. lat., 122°33.73′ W. long.;

(76) 36°57.98′ N. lat., 122°27.80′ W. long.;

(77) 36°59.83′ N. lat., 122°25.17′ W. long.;

(78) 36°57.21′ N. lat., 122°25.17′ W. long.;

(79) 36°57.79′ N. lat., 122°22.28′ W. long.;

(80) 36°55.86′ N. lat., 122°21.99′ W. long.;

(81) 36°52.06′ N. lat., 122°12.12′ W. long.;

(82) 36°47.63′ N. lat., 122°07.40′ W. long.;

(83) 36°47.27′ N. lat., 122°03.23′ W. long.;

(84) 36°49.53′ N. lat., 121°59.35′ W. long.;

(85) 36°44.81′ N. lat., 121°58.29′ W. long.;

(86) 36°38.95′ N. lat., 122°02.02′ W. long.;

(87) 36°30.86′ N. lat., 122°00.82′ W. long.;

(88) 36°23.43′ N. lat., 121°59.76′ W. long.;

(89) 36°22.00′ N. lat., 122°01.02′ W. long.;

(90) 36°19.01′ N. lat., 122°05.01′ W. long.;

(91) 36°14.78′ N. lat., 122°01.52′ W. long.;

(92) 36°09.99′ N. lat., 121°43.48′ W. long.;

(93) 36°00.00′ N. lat., 121°36.04′ W. long.;

(94) 35°58.19′ N. lat., 121°34.63′ W. long.;

(95) 35°52.71′ N. lat., 121°32.32′ W. long.;

(96) 35°51.23′ N. lat., 121°30.54′ W. long.;

(97) 35°46.07′ N. lat., 121°29.75′ W. long.;

(98) 35°34.08′ N. lat., 121°19.83′ W. long.;

(99) 35°31.41′ N. lat., 121°14.80′ W. long.;

(100) 35°15.42′ N. lat., 121°03.47′ W. long.;

(101) 35°07.21′ N. lat., 120°59.05′ W. long.;

(102) 35°07.45′ N. lat., 120°57.09′ W. long.;

(103) 34°44.29′ N. lat., 120°54.28′ W. long.;

(104) 34°44.24′ N. lat., 120°57.64′ W. long.;

(105) 34°32.75′ N. lat., 120°50.08′ W. long.;

(106) 34°27.00′ N. lat., 120°41.50′ W. long.;

(107) 34°20.00′ N. lat., 120°30.99′ W. long.;

(108) 34°19.15′ N. lat., 120°19.78′ W. long.;

(109) 34°23.24′ N. lat., 120°14.17′ W. long.;

(110) 34°21.35′ N. lat., 119°54.89′ W. long.;

(111) 34°09.79′ N. lat., 119°44.51′ W. long.;

(112) 34°07.34′ N. lat., 120°06.71′ W. long.;

(113) 34°09.74′ N. lat., 120°19.78′ W. long.;

(114) 34°13.95′ N. lat., 120°29.78′ W. long.;

(115) 34°09.41′ N. lat., 120°37.75′ W. long.;

(116) 34°03.39′ N. lat., 120°35.26′ W. long.;

(117) 33°56.82′ N. lat., 120°28.30′ W. long.;

(118) 33°50.71′ N. lat., 120°09.24′ W. long.;

(119) 33°38.21′ N. lat., 119°59.90′ W. long.;

(120) 33°35.35′ N. lat., 119°51.95′ W. long.;

(121) 33°35.99′ N. lat., 119°49.13′ W. long.;

(122) 33°42.74′ N. lat., 119°47.81′ W. long.;

(123) 33°53.65′ N. lat., 119°53.29′ W. long.;

(124) 33°57.85′ N. lat., 119°31.05′ W. long.;

(125) 33°56.78′ N. lat., 119°27.44′ W. long.;

(126) 33°58.03′ N. lat., 119°27.82′ W. long.;

(127) 33°59.31′ N. lat., 119°20.02′ W. long.;

(128) 34°02.91′ N. lat., 119°15.38′ W. long.;

(129) 33°59.04′ N. lat., 119°03.02′ W. long.;

(130) 33°57.88′ N. lat., 118°41.69′ W. long.;

(131) 33°50.89′ N. lat., 118°37.78′ W. long.;

(132) 33°39.54′ N. lat., 118°18.70′ W. long.;

(133) 33°35.42′ N. lat., 118°17.15′ W. long.;

(134) 33°31.26′ N. lat., 118°10.84′ W. long.;

(135) 33°32.71′ N. lat., 117°52.05′ W. long.;

(136) 32°58.94′ N. lat., 117°20.06′ W. long.;

(137) 32°46.45′ N. lat., 117°24.37′ W. long.;

(138) 32°42.25′ N. lat., 117°22.87′ W. long.;

(139) 32°39.50′ N. lat., 117°27.80′ W. long.; and

(140) 32°33.00′ N. lat., 117°24.67′ W. long.

(g) The 200-fm (366-m) depth contour between the U.S. border with Canada and the U.S. border with Mexico is defined by straight lines connecting all of the following points in the order stated:

(1) 48°14.75 N. lat., 125°41.73 W. long.;

(2) 48°12.85 N. lat., 125°38.06 W. long.;

(3) 48°07.10 N. lat., 125°45.65 W. long.;

(4) 48°05.71 N. lat., 125°44.70 W. long.;

(5) 48°04.07 N. lat., 125°36.96 W. long.;

(6) 48°03.05 N. lat., 125°36.38 W. long.;

(7) 48°01.98 N. lat., 125°37.41 W. long.;

(8) 48°01.46 N. lat., 125°39.61 W. long.;

(9) 47°56.94 N. lat., 125°36.65 W. long.;

(10) 47°55.11 N. lat., 125°36.92 W. long.;

(11) 47°54.10 N. lat., 125°34.98 W. long.;

(12) 47°54.50 N. lat., 125°32.01 W. long.;

(13) 47°55.77 N. lat., 125°30.13 W. long.;

(14) 47°55.65 N. lat., 125°28.46 W. long.;

(15) 47°58.11 N. lat., 125°26.60 W. long.;

(16) 48°00.40 N. lat., 125°24.83 W. long.;

(17) 48°03.60 N. lat., 125°21.84 W. long.;

(18) 48°03.98 N. lat., 125°20.65 W. long.;

(19) 48°03.26 N. lat., 125°19.76 W. long.;

(20) 48°01.50 N. lat., 125°18.80 W. long.;

(21) 48°01.03 N. lat., 125°20.12 W. long.;

(22) 48°00.04 N. lat., 125°20.26 W. long.;

(23) 47°58.10 N. lat., 125°18.91 W. long.;

(24) 47°58.17 N. lat., 125°17.50 W. long.;

(25) 47°52.33 N. lat., 125°15.78 W. long.;

(26) 47°49.20 N. lat., 125°10.67 W. long.;

(27) 47°48.27 N. lat., 125°07.38 W. long.;

(28) 47°47.24 N. lat., 125°05.38 W. long.;

(29) 47°45.95 N. lat., 125°04.61 W. long.;

(30) 47°44.58 N. lat., 125°07.12 W. long.;

(31) 47°42.24 N. lat., 125°05.15 W. long.;

(32) 47°38.54 N. lat., 125°06.76 W. long.;

(33) 47°35.03 N. lat., 125°04.28 W. long.;

(34) 47°28.82 N. lat., 124°56.24 W. long.;

(35) 47°29.15 N. lat., 124°54.10 W. long.;

(36) 47°28.43 N. lat., 124°51.58 W. long.;

(37) 47°24.13 N. lat., 124°47.50 W. long.;

(38) 47°18.31 N. lat., 124°46.17 W. long.;

(39) 47°19.57 N. lat., 124°51.00 W. long.;

(40) 47°18.12 N. lat., 124°53.66 W. long.;

(41) 47°17.60 N. lat., 124°52.94 W. long.;

(42) 47°17.71 N. lat., 124°51.63 W. long.;

(43) 47°16.90 N. lat., 124°51.23 W. long.;

(44) 47°16.10 N. lat., 124°53.67 W. long.;

(45) 47°14.24 N. lat., 124°53.02 W. long.;

(46) 47°12.16 N. lat., 124°56.77 W. long.;

(47) 47°13.35 N. lat., 124°58.70 W. long.;

(48) 47°09.53 N. lat., 124°58.32 W. long.;

(49) 47°09.54 N. lat., 124°59.50 W. long.;

(50) 47°05.87 N. lat., 124°59.30 W. long.;

(51) 47°03.65 N. lat., 124°56.26 W. long.;

(52) 47°00.87 N. lat., 124°59.52 W. long.;

(53) 46°56.80 N. lat., 125°00.00 W. long.;

(54) 46°51.55 N. lat., 125°00.00 W. long.;

(55) 46°50.07 N. lat., 124°53.90 W. long.;

(56) 46°44.88 N. lat., 124°51.97 W. long.;

(57) 46°33.45 N. lat., 124°36.11 W. long.;

(58) 46°33.20 N. lat., 124°30.64 W. long.;

(59) 46°27.85 N. lat., 124°31.95 W. long.;

(60) 46°18.27 N. lat., 124°39.28 W. long.;

(61) 46°16.00 N. lat., 124°24.88 W. long.;

(62) 46°14.22 N. lat., 124°26.29 W. long.;

(63) 46°11.53 N. lat., 124°39.58 W. long.;

(64) 46°08.77 N. lat., 124°41.71 W. long.;

(65) 46°05.86 N. lat., 124°42.26 W. long.;

(66) 46°03.85 N. lat., 124°48.20 W. long.;

(67) 46°02.33 N. lat., 124°48.51 W. long.;

(68) 45°58.99 N. lat., 124°44.42 W. long.;

(69) 45°46.90 N. lat., 124°43.50 W. long.;

(70) 45°46.00 N. lat., 124°44.27 W. long.;

(71) 45°44.98 N. lat., 124°44.93 W. long.;

(72) 45°43.46 N. lat., 124°44.93 W. long.;

(73) 45°34.88 N. lat., 124°32.59 W. long.;

(74) 45°20.25 N. lat., 124°25.47 W. long.;

(75) 45°13.06 N. lat., 124°22.25 W. long.;

(76) 45°03.83 N. lat., 124°27.13 W. long.;

(77) 45°00.17 N. lat., 124°29.29 W. long.;

(78) 44°55.60 N. lat., 124°32.36 W. long.;

(79) 44°48.25 N. lat., 124°40.61 W. long.;

(80) 44°42.24 N. lat., 124°48.05 W. long.;

(81) 44°41.35 N. lat., 124°48.03 W. long.;

(82) 44°40.27 N. lat., 124°49.11 W. long.;

(83) 44°38.52 N. lat., 124°49.11 W. long.;

(84) 44°23.30 N. lat., 124°50.17 W. long.;

(85) 44°13.19 N. lat., 124°58.66 W. long.;

(86) 44°08.30 N. lat., 124°58.50 W. long.;

(87) 43°57.89 N. lat., 124°58.13 W. long.;

(88) 43°50.59 N. lat., 124°52.80 W. long.;

(89) 43°50.10 N. lat., 124°40.27 W. long.;

(90) 43°39.05 N. lat., 124°38.56 W. long.;

(91) 43°28.85 N. lat., 124°40.00 W. long.;

(92) 43°20.83 N. lat., 124°42.84 W. long.;

(93) 43°20.22 N. lat., 124°43.05 W. long.;

(94) 43°13.29 N. lat., 124°47.00 W. long.;

(95) 43°13.15 N. lat., 124°52.61 W. long.;

(96) 43°04.60 N. lat., 124°53.01 W. long.;

(97) 42°57.56 N. lat., 124°54.10 W. long.;

(98) 42°53.82 N. lat., 124°55.76 W. long.;

(99) 42°53.41 N. lat., 124°54.35 W. long.;

(100) 42°49.52 N. lat., 124°53.16 W. long.;

(101) 42°47.47 N. lat., 124°50.24 W. long.;

(102) 42°47.57 N. lat., 124°48.13 W. long.;

(103) 42°46.19 N. lat., 124°44.52 W. long.;

(104) 42°41.75 N. lat., 124°44.69 W. long.;

(105) 42°40.50 N. lat., 124°44.02 W. long.;

(106) 42°38.81 N. lat., 124°43.09 W. long.;

(107) 42°31.82 N. lat., 124°46.24 W. long.;

(108) 42°31.96 N. lat., 124°44.32 W. long.;

(109) 42°30.95 N. lat., 124°44.50 W. long.;

(110) 42°28.39 N. lat., 124°49.56 W. long.;

(111) 42°23.34 N. lat., 124°44.91 W. long.;

(112) 42°19.72 N. lat., 124°41.60 W. long.;

(113) 42°15.12 N. lat., 124°38.34 W. long.;

(114) 42°13.67 N. lat., 124°38.22 W. long.;

(115) 42°12.35 N. lat., 124°38.09 W. long.;

(116) 42°04.35 N. lat., 124°37.23 W. long.;

(117) 42°00.00 N. lat., 124°36.80 W. long.;

(118) 41°47.84 N. lat., 124°30.48 W. long.;

(119) 41°43.33 N. lat., 124°29.96 W. long.;

(120) 41°23.46 N. lat., 124°30.36 W. long.;

(121) 41°21.29 N. lat., 124°29.43 W. long.;

(122) 41°13.52 N. lat., 124°24.48 W. long.;

(123) 41°06.71 N. lat., 124°23.37 W. long.;

(124) 40°54.66 N. lat., 124°28.20 W. long.;

(125) 40°51.52 N. lat., 124°27.47 W. long.;

(126) 40°40.62 N. lat., 124°32.75 W. long.;

(127) 40°36.08 N. lat., 124°40.18 W. long.;

(128) 40°32.90 N. lat., 124°41.90 W. long.;

(129) 40°31.30 N. lat., 124°41.00 W. long.;

(130) 40°30.00 N. lat., 124°37.35 W. long.;

(131) 40°27.29 N. lat., 124°37.34 W. long.;

(132) 40°24.98 N. lat., 124°36.44 W. long.;

(133) 40°22.22 N. lat., 124°31.85 W. long.;

(134) 40°16.94 N. lat., 124°32.00 W. long.;

(135) 40°17.58 N. lat., 124°45.30 W. long.;

(136) 40°13.24 N. lat., 124°32.43 W. long.;

(137) 40°10.00 N. lat., 124°24.64 W. long.;

(138) 40°06.43 N. lat., 124°19.26 W. long.;

(139) 40°07.06 N. lat., 124°17.82 W. long.;

(140) 40°04.70 N. lat., 124°18.17 W. long.;

(141) 40°02.34 N. lat., 124°16.64 W. long.;

(142) 40°01.52 N. lat., 124°09.89 W. long.;

(143) 39°58.27 N. lat., 124°13.58 W. long.;

(144) 39°56.59 N. lat., 124°12.09 W. long.;

(145) 39°55.19 N. lat., 124°08.03 W. long.;

(146) 39°52.54 N. lat., 124°09.47 W. long.;

(147) 39°42.67 N. lat., 124°02.59 W. long.;

(148) 39°35.95 N. lat., 123°59.56 W. long.;

(149) 39°34.61 N. lat., 123°59.66 W. long.;

(150) 39°33.77 N. lat., 123°56.89 W. long.;

(151) 39°33.01 N. lat., 123°57.14 W. long.;

(152) 39°32.20 N. lat., 123°59.20 W. long.;

(153) 39°07.84 N. lat., 123°59.14 W. long.;

(154) 39°01.11 N. lat., 123°57.97 W. long.;

(155) 39°00.51 N. lat., 123°56.96 W. long.;

(156) 38°57.50 N. lat., 123°57.57 W. long.;

(157) 38°56.57 N. lat., 123°57.80 W. long.;

(158) 38°56.39 N. lat., 123°59.48 W. long.;

(159) 38°50.22 N. lat., 123°55.55 W. long.;

(160) 38°46.76 N. lat., 123°51.56 W. long.;

(161) 38°45.27 N. lat., 123°51.63 W. long.;

(162) 38°42.76 N. lat., 123°49.83 W. long.;

(163) 38°41.53 N. lat., 123°47.83 W. long.;

(164) 38°40.97 N. lat., 123°48.14 W. long.;

(165) 38°38.02 N. lat., 123°45.85 W. long.;

(166) 38°37.19 N. lat., 123°44.08 W. long.;

(167) 38°33.43 N. lat., 123°41.82 W. long.;

(168) 38°29.44 N. lat., 123°38.49 W. long.;

(169) 38°28.08 N. lat., 123°38.33 W. long.;

(170) 38°23.68 N. lat., 123°35.47 W. long.;

(171) 38°19.63 N. lat., 123°34.05 W. long.;

(172) 38°16.23 N. lat., 123°31.90 W. long.;

(173) 38°14.79 N. lat., 123°29.98 W. long.;

(174) 38°14.12 N. lat., 123°26.36 W. long.;

(175) 38°10.85 N. lat., 123°25.84 W. long.;

(176) 38°13.15 N. lat., 123°28.25 W. long.;

(177) 38°12.28 N. lat., 123°29.88 W. long.;

(178) 38°10.19 N. lat., 123°29.11 W. long.;

(179) 38°07.94 N. lat., 123°28.52 W. long.;

(180) 38°06.51 N. lat., 123°30.96 W. long.;

(181) 38°04.21 N. lat., 123°32.03 W. long.;

(182) 38°02.07 N. lat., 123°31.37 W. long.;

(183) 38°00.00 N. lat., 123°29.62 W. long.;

(184) 37°58.13 N. lat., 123°27.28 W. long.;

(185) 37°55.01 N. lat., 123°27.53 W. long.;

(186) 37°51.40°N. lat., 123°25.25 W. long.;

(187) 37°43.97 N. lat., 123°11.56 W. long.;

(188) 37°35.67 N. lat., 123°02.32 W. long.;

(189) 37°13.65 N. lat., 122°54.25 W. long.;

(190) 37°11.00 N. lat., 122°50.97 W. long.;

(191) 37°07.00 N. lat., 122°45.90 W. long.;

(192) 37°00.66 N. lat., 122°37.91 W. long.;

(193) 36°57.40°N. lat., 122°28.32 W. long.;

(194) 36°59.25 N. lat., 122°25.61 W. long.;

(195) 36°56.88 N. lat., 122°25.49 W. long.;

(196) 36°57.40°N. lat., 122°22.69 W. long.;

(197) 36°55.43 N. lat., 122°22.49 W. long.;

(198) 36°52.29 N. lat., 122°13.25 W. long.;

(199) 36°47.12 N. lat., 122°07.62 W. long.;

(200) 36°47.10 N. lat., 122°02.17 W. long.;

(201) 36°43.76 N. lat., 121°59.17 W. long.;

(202) 36°38.85 N. lat., 122°02.26 W. long.;

(203) 36°23.41 N. lat., 122°00.17 W. long.;

(204) 36°19.68 N. lat., 122°06.99 W. long.;

(205) 36°14.75 N. lat., 122°01.57 W. long.;

(206) 36°09.74 N. lat., 121°45.06 W. long.;

(207) 36°06.75 N. lat., 121°40.79 W. long.;

(208) 35°58.18 N. lat., 121°34.69 W. long.;

(209) 35°52.31 N. lat., 121°32.51 W. long.;

(210) 35°51.21 N. lat., 121°30.97 W. long.;

(211) 35°46.32 N. lat., 121°30.36 W. long.;

(212) 35°33.74 N. lat., 121°20.16 W. long.;

(213) 35°31.37 N. lat., 121°15.29 W. long.;

(214) 35°23.32 N. lat., 121°11.50 W. long.;

(215) 35°15.28 N. lat., 121°04.51 W. long.;

(216) 35°07.08 N. lat., 121°00.36 W. long.;

(217) 34°57.46 N. lat., 120°58.29 W. long.;

(218) 34°44.25 N. lat., 120°58.35 W. long.;

(219) 34°32.30 N. lat., 120°50.28 W. long.;

(220) 34°27.00 N. lat., 120°42.61 W. long.;

(221) 34°19.08 N. lat., 120°31.27 W. long.;

(222) 34°17.72 N. lat., 120°19.32 W. long.;

(223) 34°22.45 N. lat., 120°12.87 W. long.;

(224) 34°21.36 N. lat., 119°54.94 W. long.;

(225) 34°09.95 N. lat., 119°46.24 W. long.;

(226) 34°09.08 N. lat., 119°57.59 W. long.;

(227) 34°07.53 N. lat., 120°06.41 W. long.;

(228) 34°10.54 N. lat., 120°19.13 W. long.;

(229) 34°14.68 N. lat., 120°29.54 W. long.;

(230) 34°09.51 N. lat., 120°38.38 W. long.;

(231) 34°03.06 N. lat., 120°35.60 W. long.;

(232) 33°56.39 N. lat., 120°28.53 W. long.;

(233) 33°50.25 N. lat., 120°09.49 W. long.;

(234) 33°37.96 N. lat., 120°00.14 W. long.;

(235) 33°34.52 N. lat., 119°51.90 W. long.;

(236) 33°35.51 N. lat., 119°48.55 W. long.;

(237) 33°42.76 N. lat., 119°47.83 W. long.;

(238) 33°53.62 N. lat., 119°53.34 W. long.;

(239) 33°57.61 N. lat., 119°31.32 W. long.;

(240) 33°56.34 N. lat., 119°26.46 W. long.;

(241) 33°57.79 N. lat., 119°26.91 W. long.;

(242) 33°58.88 N. lat., 119°20.12 W. long.;

(243) 34°02.65 N. lat., 119°15.17 W. long.;

(244) 33°59.02 N. lat., 119°03.05 W. long.;

(245) 33°57.61 N. lat., 118°42.13 W. long.;

(246) 33°50.76 N. lat., 118°38.03 W. long.;

(247) 33°38.41 N. lat., 118°17.08 W. long.;

(248) 33°37.14 N. lat., 118°18.44 W. long.;

(249) 33°35.51 N. lat., 118°18.08 W. long.;

(250) 33°30.68 N. lat., 118°10.40 W. long.;

(251) 33°32.49 N. lat., 117°51.90 W. long.;

(252) 32°58.87 N. lat., 117°20.41 W. long.; and

(253) 32°35.53 N. lat., 117°29.72 W. long.

* * * * *

(l) The 200-fm (366-m) depth contour used between the U.S. border with Canada and the U.S. border with Mexico, modified to allow fishing in petrale sole areas, is defined by straight lines connecting all of the following points in the order stated:

(1) 48°14.75′ N. lat., 125°41.73′ W. long.;

(2) 48°12.85′ N. lat., 125°38.06′ W. long.;

(3) 48°07.10′ N. lat., 125°45.65′ W. long.;

(4) 48°05.71′ N. lat., 125°44.70′ W. long.;

(5) 48°04.07′ N. lat., 125°36.96′ W. long.;

(6) 48°03.05′ N. lat., 125°36.38′ W. long.;

(7) 48°01.98′ N. lat., 125°37.41′ W. long.;

(8) 48°01.46′ N. lat., 125°39.61′ W. long.;

(9) 47°56.94′ N. lat., 125°36.65′ W. long.;

(10) 47°55.77′ N. lat., 125°30.13′ W. long.;

(11) 47°55.65′ N. lat., 125°28.46′ W. long.;

(12) 47°58.11′ N. lat., 125°26.60′ W. long.;

(13) 48°00.40′ N. lat., 125°24.83′ W. long.;

(14) 48°03.60′ N. lat., 125°21.84′ W. long.;

(15) 48°03.98′ N. lat., 125°20.65′ W. long.;

(16) 48°03.26′ N. lat., 125°19.76′ W. long.;

(17) 48°01.50′ N. lat., 125°18.80′ W. long.;

(18) 48°01.03′ N. lat., 125°20.12′ W. long.;

(19) 48°00.04′ N. lat., 125°20.26′ W. long.;

(20) 47°58.10′ N. lat., 125°18.91′ W. long.;

(21) 47°58.17′ N. lat., 125°17.50′ W. long.;

(22) 47°52.33′ N. lat., 125°15.78′ W. long.;

(23) 47°49.20′ N. lat., 125°10.67′ W. long.;

(24) 47°48.27′ N. lat., 125°07.38′ W. long.;

(25) 47°47.24′ N. lat., 125°05.38′ W. long.;

(26) 47°45.95′ N. lat., 125°04.61′ W. long.;

(27) 47°44.58′ N. lat., 125°07.12′ W. long.;

(28) 47°42.24′ N. lat., 125°05.15′ W. long.;

(29) 47°38.54′ N. lat., 125°06.76′ W. long.;

(30) 47°35.03′ N. lat., 125°04.28′ W. long.;

(31) 47°28.82′ N. lat., 124 56.24′ W. long.;

(32) 47°29.15′ N. lat., 124 54.10′ W. long.;

(33) 47°28.43′ N. lat., 124 51.58′ W. long.;

(34) 47°24.13′ N. lat., 124 47.50′ W. long.;

(35) 47°18.31′ N. lat., 124 46.17′ W. long.;

(36) 47°19.57′ N. lat., 124 51.00′ W. long.;

(37) 47°18.12′ N. lat., 124 53.66′ W. long.;

(38) 47°17.60′ N. lat., 124 52.94′ W. long.;

(39) 47°17.71′ N. lat., 124 51.63′ W. long.;

(40) 47°16.90′ N. lat., 124 51.23′ W. long.;

(41) 47°16.10′ N. lat., 124 53.67′ W. long.;

(42) 47°14.24′ N. lat., 124 53.02′ W. long.;

(43) 47°12.16′ N. lat., 124 56.77′ W. long.;

(44) 47°13.35′ N. lat., 124 58.70′ W. long.;

(45) 47°09.53′ N. lat., 124 58.32′ W. long.;

(46) 47°09.54′ N. lat., 124 59.50′ W. long.;

(47) 47°05.87′ N. lat., 124 59.30′ W. long.;

(48) 47°03.65′ N. lat., 124 56.26′ W. long.;

(49) 47°00.87′ N. lat., 124 59.52′ W. long.;

(50) 46°56.80′ N. lat., 125°00.00′ W. long.;

(51) 46°51.55′ N. lat., 125°00.00′ W. long.;

(52) 46°50.07′ N. lat., 124°53.90′ W. long.;

(53) 46°44.88′ N. lat., 124°51.97′ W. long.;

(54) 46°33.45′ N. lat., 124°36.11′ W. long.;

(55) 46°33.20′ N. lat., 124°30.64′ W. long.;

(56) 46°27.85′ N. lat., 124°31.95′ W. long.;

(57) 46°18.27′ N. lat., 124°39.28′ W. long.;

(58) 46°16.00′ N. lat., 124°24.88′ W. long.

(59) 46°14.22′ N. lat., 124°26.28′ W. long.;

(60) 46°11.53′ N. lat., 124°39.58′ W. long.;

(61) 46°08.77′ N. lat., 124°41.71′ W. long.;

(62) 46°05.86′ N. lat., 124°42.27′ W. long.;

(63) 46°03.85′ N. lat., 124°48.20′ W. long.;

(64) 46°02.34′ N. lat., 124°48.51′ W. long.;

(65) 45°58.99′ N. lat., 124°44.42′ W. long.;

(66) 45°46.00′ N. lat., 124°41.82′ W. long.;

(67) 45°49.74′ N. lat., 124°43.69′ W. long.;

(68) 45°49.68′ N. lat., 124°42.37′ W. long.;

(69) 45°40.83′ N. lat., 124°40.90′ W. long.;

(70) 45°34.88′ N. lat., 124°32.58′ W. long.;

(71) 45°20.25′ N. lat., 124°25.47′ W. long.;

(72) 45°13.04′ N. lat., 124°21.92′ W. long.;

(73) 45°03.83′ N. lat., 124°27.13′ W. long.;

(74) 45°00.17′ N. lat., 124°29.28′ W. long.;

(75) 44°50.99′ N. lat., 124°35.40′ W. long.;

(76) 44°46.87′ N. lat., 124°38.20′ W. long.;

(77) 44°48.25′ N. lat., 124°40.62′ W. long.;

(78) 44°41.34′ N. lat., 124°49.20′ W. long.;

(79) 44°23.30′ N. lat., 124°50.17′ W. long.;

(80) 44°13.19′ N. lat., 124°58.66′ W. long.;

(81) 44°08.30′ N. lat., 124°58.72′ W. long.;

(82) 43°57.37′ N. lat., 124°58.71′ W. long.;

(83) 43°52.32′ N. lat., 124°49.43′ W. long.;

(84) 43°51.35′ N. lat., 124°37.94′ W. long.;

(85) 43°49.73′ N. lat., 124°40.26′ W. long.;

(86) 43°39.06′ N. lat., 124°38.55′ W. long.;

(87) 43°28.85′ N. lat., 124°39.99′ W. long.;

(88) 43°20.83′ N. lat., 124°42.89′ W. long.;

(89) 43°20.22′ N. lat., 124°43.05′ W. long.;

(90) 43°13.29′ N. lat., 124°47.00′ W. long.;

(91) 43°10.64′ N. lat., 124°49.95′ W. long.;

(92) 43°04.26′ N. lat., 124°53.05′ W. long.;

(93) 42°53.93′ N. lat., 124°54.60′ W. long.;

(94) 42°50.00′ N. lat., 124°50.60′ W. long.;

(95) 42°47.57′ N. lat., 124°48.12′ W. long.;

(96) 42°46.19′ N. lat., 124°44.52′ W. long.;

(97) 42°41.75′ N. lat., 124°44.69′ W. long.;

(98) 42°40.50′ N. lat., 124°44.02′ W. long.;

(99) 42°38.81′ N. lat., 124°43.09′ W. long.;

(100) 42°31.83′ N. lat., 124°46.23′ W. long.;

(101) 42°32.08′ N. lat., 124°43.58′ W. long.;

(102) 42°30.96′ N. lat., 124°43.84′ W. long.;

(103) 42°28.41′ N. lat., 124°49.17′ W. long.;

(104) 42°24.80′ N. lat., 124°45.93′ W. long.;

(105) 42°19.71′ N. lat., 124°41.60′ W. long.;

(106) 42°15.12′ N. lat., 124°38.34′ W. long.;

(107) 42°13.67′ N. lat., 124°38.28′ W. long.;

(108) 42°12.35′ N. lat., 124°38.09′ W. long.;

(109) 42°00.00′ N. lat., 124°36.83′ W. long.;

(110) 41°47.78′ N. lat., 124°29.55′ W. long.;

(111) 41°21.15′ N. lat., 124°29.04′ W. long.;

(112) 41°13.50′ N. lat., 124°24.40′ W. long.;

(113) 41°11.00′ N. lat., 124°22.99′ W. long.;

(114) 41°06.69′ N. lat., 124°23.30′ W. long.;

(115) 40°54.73′ N. lat., 124°28.15′ W. long.;

(116) 40°53.94′ N. lat., 124°26.11′ W. long.;

(117) 40°50.31′ N. lat., 124°26.15′ W. long.;

(118) 40°44.49′ N. lat., 124°30.89′ W. long.;

(119) 40°40.62′ N. lat., 124°32.16′ W. long.;

(120) 40°38.87′ N. lat., 124°29.79′ W. long.;

(121) 40°35.67′ N. lat., 124°30.43′ W. long.;

(122) 40°37.41′ N. lat., 124°37.06′ W. long.;

(123) 40°36.09′ N. lat., 124°40.11′ W. long.;

(124) 40°31.33′ N. lat., 124°41.01′ W. long.;

(125) 40°30.00′ N. lat., 124°37.40′ W. long.;

(126) 40°27.34′ N. lat., 124°37.28′ W. long.;

(127) 40°25.01′ N. lat., 124°36.36′ W. long.;

(128) 40°22.28′ N. lat., 124°31.35′ W. long.;

(129) 40°14.00′ N. lat., 124°33.02′ W. long.;

(130) 40°10.00′ N. lat., 124°24.55′ W. long.;

(131) 40°06.45′ N. lat., 124°19.24′ W. long.;

(132) 40°07.08′ N. lat., 124°17.80′ W. long.;

(133) 40°05.55′ N. lat., 124°18.11′ W. long.;

(134) 40°04.74′ N. lat., 124°18.11′ W. long.;

(135) 40°02.35′ N. lat., 124°16.54′ W. long.;

(136) 40°01.51′ N. lat., 124°09.89′ W. long.;

(137) 39°58.54′ N. lat., 124°12.43′ W. long.;

(138) 39°55.72′ N. lat., 124°07.45′ W. long.;

(139) 39°42.64′ N. lat., 124°02.52′ W. long.;

(140) 39°35.96′ N. lat., 123°59.47′ W. long.;

(141) 39°34.61′ N. lat., 123°59.59′ W. long.;

(142) 39°33.79′ N. lat., 123°56.77′ W. long.;

(143) 39°33.03′ N. lat., 123°57.06′ W. long.;

(144) 39°32.21′ N. lat., 123°59.12′ W. long.;

(145) 39°07.81′ N. lat., 123°59.06′ W. long.;

(146) 38°57.50′ N. lat., 123°57.32′ W. long.;

(147) 38°52.26′ N. lat., 123°56.18′ W. long.;

(148) 38°50.21′ N. lat., 123°55.48′ W. long.;

(149) 38°46.81′ N. lat., 123°51.49′ W. long.;

(150) 38°45.29′ N. lat., 123°51.55′ W. long.;

(151) 38°42.76′ N. lat., 123°49.73′ W. long.;

(152) 38°41.42′ N. lat., 123°47.45′ W. long.;

(153) 38°35.74′ N. lat., 123°43.82′ W. long.;

(154) 38°34.92′ N. lat., 123°42.53′ W. long.;

(155) 38°19.65′ N. lat., 123°31.95′ W. long.;

(156) 38°14.38′ N. lat., 123°25.51′ W. long.;

(157) 38°09.39′ N. lat., 123°24.40′ W. long.;

(158) 38°10.06′ N. lat., 123°26.84′ W. long.;

(159) 38°04.58′ N. lat., 123°31.91′ W. long.;

(160) 38°02.06′ N. lat., 123°31.26′ W. long.;

(161) 38°00.00′ N. lat., 123°29.56′ W. long.;

(162) 37°58.07′ N. lat., 123°27.21′ W. long.;

(163) 37°50.77′ N. lat., 123°24.52′ W. long.;

(164) 37°43.94′ N. lat., 123°11.49′ W. long.;

(165) 37°35.67′ N. lat., 123°02.23′ W. long.;

(166) 37°23.48′ N. lat., 122°57.77′ W. long.;

(167) 37°23.23′ N. lat., 122°53.85′ W. long.;

(168) 37°13.96′ N. lat., 122°49.97′ W. long.;

(169) 37°11.00′ N. lat., 122°45.68′ W. long.;

(170) 37°07.00′ N. lat., 122°43.37′ W. long.;

(171) 37°01.04′ N. lat., 122°37.94′ W. long.;

(172) 36°57.40′ N. lat., 122°28.36′ W. long.;

(173) 36°59.21′ N. lat., 122°25.64′ W. long.;

(174) 36°56.90′ N. lat., 122°25.42′ W. long.;

(175) 36°57.60′ N. lat., 122°21.95′ W. long.;

(176) 36°55.92′ N. lat., 122°21.71′ W. long.;

(177) 36°55.06′ N. lat., 122°17.07′ W. long.;

(178) 36°52.27′ N. lat., 122°13.17′ W. long.;

(179) 36°47.38′ N. lat., 122°07.62′ W. long.;

(180) 36°47.27′ N. lat., 122°03.77′ W. long.;

(181) 36°24.12′ N. lat., 121 59.74′ W. long.;

(182) 36°21.99′ N. lat., 122°01.01′ W. long.;

(183) 36°19.56′ N. lat., 122°05.88′ W. long.;

(184) 36°14.63′ N. lat., 122°01.10′ W. long.;

(185) 36°09.74′ N. lat., 121°45.01′ W. long.;

(186) 36°06.69′ N. lat., 121°40.77′ W. long.;

(187) 36°00.00′ N. lat., 121°36.01′ W. long.;

(188) 35°56.54′ N. lat., 121°33.27′ W. long.;

(189) 35°52.21′ N. lat., 121°32.46′ W. long.;

(190) 35°51.21′ N. lat., 121°30.94′ W. long.;

(191) 35°46.28′ N. lat., 121°30.29′ W. long.;

(192) 35°33.68′ N. lat., 121°20.09′ W. long.;

(193) 35°31.33′ N. lat., 121°15.22′ W. long.;

(194) 35°23.29′ N. lat., 121°11.41′ W. long.;

(195) 35°15.26′ N. lat., 121°04.49′ W. long.;

(196) 35°07.05′ N. lat., 121°00.26′ W. long.;

(197) 35°07.46′ N. lat., 120°57.10′ W. long.;

(198) 34°44.29′ N. lat., 120°54.28′ W. long.;

(199) 34°44.24′ N. lat., 120°57.69′ W. long.;

(200) 34°39.06′ N. lat., 120°55.01′ W. long.;

(201) 34°19.08′ N. lat., 120°31.21′ W. long.;

(202) 34°17.72′ N. lat., 120°19.26′ W. long.;

(203) 34°22.45′ N. lat., 120°12.81′ W. long.;

(204) 34°21.36′ N. lat., 119°54.88′ W. long.;

(205) 34°09.95′ N. lat., 119°46.18′ W. long.;

(206) 34°09.08′ N. lat., 119°57.53′ W. long.;

(207) 34°07.53′ N. lat., 120°06.35′ W. long.;

(208) 34°10.37′ N. lat., 120°18.40′ W. long.;

(209) 34°12.50′ N. lat., 120°18.40′ W. long.;

(210) 34°12.50′ N. lat., 120°24.96′ W. long.;

(211) 34°14.68′ N. lat., 120°29.48′ W. long.;

(212) 34°09.51′ N. lat., 120°38.32′ W. long.;

(213) 34°04.66′ N. lat., 120°36.29′ W. long.;

(214) 34°02.21′ N. lat., 120°36.29′ W. long.;

(215) 34°02.21′ N. lat., 120°34.65′ W. long.;

(216) 33°56.39′ N. lat., 120°28.47′ W. long.;

(217) 33°50.40′ N. lat., 120°10.00′ W. long.;

(218) 33°37.96′ N. lat., 120°00.08′ W. long.;

(219) 33°34.52′ N. lat., 119°51.84′ W. long.;

(220) 33°35.51′ N. lat., 119°48.49′ W. long.;

(221) 33°42.76′ N. lat., 119°47.77′ W. long.;

(222) 33°51.63′ N. lat., 119°53.00′ W. long.;

(223) 33°51.62′ N. lat., 119°48.00′ W. long.;

(224) 33°54.59′ N. lat., 119°48.00′ W. long.;

(225) 33°57.69′ N. lat., 119°31.00′ W. long.;

(226) 33°54.11′ N. lat., 119°31.00′ W. long.;

(227) 33°54.11′ N. lat., 119°26.00′ W. long.;

(228) 33°57.94′ N. lat., 119°26.00′ W. long.;

(229) 33°58.88′ N. lat., 119°20.06′ W. long.;

(230) 34°02.65′ N. lat., 119°15.11′ W. long.;

(231) 33°59.02′ N. lat., 119°02.99′ W. long.;

(232) 33°57.61′ N. lat., 118°42.07′ W. long.;

(233) 33°50.76′ N. lat., 118°37.98′ W. long.;

(234) 33°39.17′ N. lat., 118°18.47′ W. long.;

(235) 33°37.14′ N. lat., 118°18.39′ W. long.;

(236) 33°35.51′ N. lat., 118°18.03′ W. long.;

(237) 33°30.68′ N. lat., 118°10.35′ W. long.;

(238) 33°32.49′ N. lat., 117°51.85′ W. long.;

(239) 32°58.87′ N. lat., 117°20.36′ W. long.; and

(240) 32°35.56′ N. lat., 117°29.66′ W. long.

(m) The 250-fm (457-m) depth contour used between the U.S. border with Canada and the U.S. border with Mexico is defined by straight lines connecting all of the following points in the order stated:

(1) 48°14.71′ N. lat., 125°41.95′ W. long.;

(2) 48°13.00′ N. lat., 125°39.00′ W. long.;

(3) 48°08.50′ N. lat., 125°45.00′ W. long.;

(4) 48°06.00′ N. lat., 125°46.50′ W. long.;

(5) 48°03.50′ N. lat., 125°37.00′ W. long.;

(6) 48°01.50′ N. lat., 125°40.00′ W. long.;

(7) 47°57.00′ N. lat., 125°37.00′ W. long.;

(8) 47°55.20′ N. lat., 125°37.26′ W. long.;

(9) 47°54.02′ N. lat., 125°36.60′ W. long.;

(10) 47°53.70′ N. lat., 125°35.09′ W. long.;

(11) 47°54.16′ N. lat., 125°32.38′ W. long.;

(12) 47°55.50′ N. lat., 125°28.50′ W. long.;

(13) 47°58.00′ N. lat., 125°25.00′ W. long.;

(14) 48°00.50′ N. lat., 125°24.50′ W. long.;

(15) 48°03.50′ N. lat., 125°21.00′ W. long.;

(16) 48°02.00′ N. lat., 125°19.50′ W. long.;

(17) 48°00.00′ N. lat., 125°21.00′ W. long.;

(18) 47°58.00′ N. lat., 125°20.00′ W. long.;

(19) 47°58.00′ N. lat., 125°18.00′ W. long.;

(20) 47°52.00′ N. lat., 125°16.50′ W. long.;

(21) 47°46.00′ N. lat., 125°06.00′ W. long.;

(22) 47°44.50′ N. lat., 125°07.50′ W. long.;

(23) 47°42.00′ N. lat., 125°06.00′ W. long.;

(24) 47°37.96′ N. lat., 125°07.17′ W. long.;

(25) 47°28.00′ N. lat., 124°58.50′ W. long.;

(26) 47°28.88′ N. lat., 124°54.70′ W. long.;

(27) 47°27.70′ N. lat., 124°51.87′ W. long.;

(28) 47°24.84′ N. lat., 124°48.45′ W. long.;

(29) 47°21.76′ N. lat., 124°47.42′ W. long.;

(30) 47°18.84′ N. lat., 124°46.75′ W. long.;

(31) 47°19.82′ N. lat., 124°51.43′ W. long.;

(32) 47°18.13′ N. lat., 124°54.25′ W. long.;

(33) 47°13.50′ N. lat., 124°54.70′ W. long.;

(34) 47°15.00′ N. lat., 125°01.10′ W. long.;

(35) 47°08.77′ N. lat., 125°00.91′ W. long.;

(36) 47°05.80′ N. lat., 125°01.00′ W. long.;

(37) 47°03.34′ N. lat., 124°57.50′ W. long.;

(38) 47°01.00′ N. lat., 125°00.00′ W. long.;

(39) 46°55.00′ N. lat., 125°02.00′ W. long.;

(40) 46°53.32′ N. lat., 125°00.00′ W. long.;

(41) 46°51.55′ N. lat., 125°00.00′ W. long.;

(42) 46°50.80′ N. lat., 124°56.90′ W. long.;

(43) 46°47.00′ N. lat., 124°55.00′ W. long.;

(44) 46°34.00′ N. lat., 124°38.00′ W. long.;

(45) 46°30.50′ N. lat., 124°41.00′ W. long.;

(46) 46°33.00′ N. lat., 124°32.00′ W. long.;

(47) 46°29.00′ N. lat., 124°32.00′ W. long.;

(48) 46°20.00′ N. lat., 124°39.00′ W. long.;

(49) 46°18.16′ N. lat., 124°40.00′ W. long.;

(50) 46°16.00′ N. lat., 124°27.00′ W. long.;

(51) 46°16.00′ N. lat., 124°27.01′ W. long.;

(52) 46°15.00′ N. lat., 124°30.96′ W. long.;

(53) 46°13.17′ N. lat., 124°37.87′ W. long.;

(54) 46°13.17′ N. lat., 124°38.75′ W. long.;

(55) 46°10.50′ N. lat., 124°42.00′ W. long.;

(56) 46°06.21′ N. lat., 124°41.85′ W. long.;

(57) 46°03.02′ N. lat., 124°50.27′ W. long.;

(58) 45°57.00′ N. lat., 124°45.52′ W. long.;

(59) 45°46.85′ N. lat., 124°45.91′ W. long.;

(60) 45°45.81′ N. lat., 124°47.05′ W. long.;

(61) 45°44.87′ N. lat., 124°45.98′ W. long.;

(62) 45°43.44′ N. lat., 124°46.03′ W. long.;

(63) 45°35.82′ N. lat., 124°45.72′ W. long.;

(64) 45°35.70′ N. lat., 124°42.89′ W. long.;

(65) 45°24.45′ N. lat., 124°38.21′ W. long.;

(66) 45°11.68′ N. lat., 124°39.38′ W. long.;

(67) 44°57.94′ N. lat., 124°37.02′ W. long.;

(68) 44°44.28′ N. lat., 124°50.79′ W. long.;

(69) 44°32.63′ N. lat., 124°54.21′ W. long.;

(70) 44°23.36′ N. lat., 124°50.53′ W. long.;

(71) 44°13.30′ N. lat., 124°59.03′ W. long.;

(72) 43°57.85′ N. lat., 124°58.57′ W. long.;

(73) 43°50.12′ N. lat., 124°53.36′ W. long.;

(74) 43°49.53′ N. lat., 124°43.96′ W. long.;

(75) 43°42.76′ N. lat., 124°41.40′ W. long.;

(76) 43°24.00′ N. lat., 124°42.61′ W. long.;

(77) 43°19.74′ N. lat., 124°45.12′ W. long.;

(78) 43°19.62′ N. lat., 124°52.95′ W. long.;

(79) 43°17.41′ N. lat., 124°53.02′ W. long.;

(80) 42°56.41′ N. lat., 124°54.59′ W. long.;

(81) 42°53.82′ N. lat., 124°55.76′ W. long.;

(82) 42°53.54′ N. lat., 124°54.88′ W. long.;

(83) 42°49.26′ N. lat., 124°55.17′ W. long.;

(84) 42°46.74′ N. lat., 124°53.39′ W. long.;

(85) 42°43.76′ N. lat., 124°51.64′ W. long.;

(86) 42°45.41′ N. lat., 124°49.35′ W. long.;

(87) 42°43.92′ N. lat., 124°45.92′ W. long.;

(88) 42°38.84′ N. lat., 124°43.51′ W. long.;

(89) 42°34.78′ N. lat., 124°46.56′ W. long.;

(90) 42°31.47′ N. lat., 124°46.89′ W. long.;

(91) 42°31.59′ N. lat., 124°44.85′ W. long.;

(92) 42°31.12′ N. lat., 124°44.82′ W. long.;

(93) 42°28.48′ N. lat., 124°49.96′ W. long.;

(94) 42°26.28′ N. lat., 124°47.99′ W. long.;

(95) 42°19.58′ N. lat., 124°43.21′ W. long.;

(96) 42°13.75′ N. lat., 124°40.06′ W. long.;

(97) 42°05.12′ N. lat., 124°39.06′ W. long.;

(98) 42°00.00′ N. lat., 124°37.76′ W. long.;

(99) 41°47.93′ N. lat., 124°31.79′ W. long.;

(100) 41°21.35′ N. lat., 124°30.35′ W. long.;

(101) 41°07.11′ N. lat., 124°25.25′ W. long.;

(102) 40°57.37′ N. lat., 124°30.25′ W. long.;

(103) 40°48.77′ N. lat., 124°30.69′ W. long.;

(104) 40°41.03′ N. lat., 124°33.21′ W. long.;

(105) 40°37.40′ N. lat., 124°38.96′ W. long.;

(106) 40°33.70′ N. lat., 124°42.50′ W. long.;

(107) 40°31.31′ N. lat., 124°41.59′ W. long.;

(108) 40°30.00′ N. lat., 124°40.50′ W. long.;

(109) 40°25.00′ N. lat., 124°36.65′ W. long.;

(110) 40°22.42′ N. lat., 124°32.19′ W. long.;

(111) 40°17.17′ N. lat., 124°32.21′ W. long.;

(112) 40°18.68′ N. lat., 124°50.44′ W. long.;

(113) 40°13.55′ N. lat., 124°34.26′ W. long.;

(114) 40°10.00′ N. lat., 124°28.25′ W. long.;

(115) 40°06.72′ N. lat., 124°21.40′ W. long.;

(116) 40°01.63′ N. lat., 124°17.25′ W. long.;

(117) 40°00.68′ N. lat., 124°11.19′ W. long.;

(118) 39°59.09′ N. lat., 124°14.92′ W. long.;

(119) 39°51.85′ N. lat., 124°10.33′ W. long.;

(120) 39°36.90′ N. lat., 124°00.63′ W. long.;

(121) 39°32.41′ N. lat., 124°00.01′ W. long.;

(122) 39°05.40′ N. lat., 124°00.52′ W. long.;

(123) 39°04.32′ N. lat., 123°59.00′ W. long.;

(124) 38°58.02′ N. lat., 123°58.18′ W. long.;

(125) 38°57.50′ N. lat., 124°01.90′ W. long.;

(126) 38°50.27′ N. lat., 123°56.26′ W. long.;

(127) 38°46.73′ N. lat., 123°51.93′ W. long.;

(128) 38°44.64′ N. lat., 123°51.77′ W. long.;

(129) 38°32.97′ N. lat., 123°41.84′ W. long.;

(130) 38°14.56′ N. lat., 123°32.18′ W. long.;

(131) 38°13.85′ N. lat., 123°29.94′ W. long.;

(132) 38°11.88′ N. lat., 123°30.57′ W. long.;

(133) 38°08.72′ N. lat., 123°29.56′ W. long.;

(134) 38°05.62′ N. lat., 123°32.38′ W. long.;

(135) 38°01.90′ N. lat., 123°32.00′ W. long.;

(136) 38°00.00′ N. lat., 123°30.00′ W. long.;

(137) 37°58.07′ N. lat., 123°27.35′ W. long.;

(138) 37°54.97′ N. lat., 123°27.69′ W. long.;

(139) 37°51.32′ N. lat., 123°25.40′ W. long.;

(140) 37°43.82′ N. lat., 123°11.69′ W. long.;

(141) 37°35.67′ N. lat., 123°02.62′ W. long.;

(142) 37°11.00′ N. lat., 122°54.50′ W. long.;

(143) 37°07.00′ N. lat., 122°48.59′ W. long.;

(144) 36°59.99′ N. lat., 122°38.49′ W. long.;

(145) 36°56.64′ N. lat., 122°28.78′ W. long.;

(146) 36°58.93′ N. lat., 122°25.67′ W. long.;

(147) 36°56.19′ N. lat., 122°25.67′ W. long.;

(148) 36°57.09′ N. lat., 122°22.85′ W. long.;

(149) 36°54.95′ N. lat., 122°22.63′ W. long.;

(150) 36°52.25′ N. lat., 122°13.94′ W. long.;

(151) 36°46.94′ N. lat., 122°07.90′ W. long.;

(152) 36°46.86′ N. lat., 122°02.24′ W. long.;

(153) 36°43.73′ N. lat., 121°59.33′ W. long.;

(154) 36°38.93′ N. lat., 122°02.46′ W. long.;

(155) 36°30.77′ N. lat., 122°01.40′ W. long.;

(156) 36°23.78′ N. lat., 122°00.52′ W. long.;

(157) 36°19.98′ N. lat., 122°07.63′ W. long.;

(158) 36°15.36′ N. lat., 122°03.50′ W. long.;

(159) 36°09.47′ N. lat., 121°45.37′ W. long.;

(160) 36°06.42′ N. lat., 121°41.34′ W. long.;

(161) 36°00.00′ N. lat., 121°37.68′ W. long.;

(162) 35°52.25′ N. lat., 121°33.21′ W. long.;

(163) 35°51.09′ N. lat., 121°31.83′ W. long.;

(164) 35°46.47′ N. lat., 121°31.19′ W. long.;

(165) 35°33.97′ N. lat., 121°21.69′ W. long.;

(166) 35°30.94′ N. lat., 121°18.36′ W. long.;

(167) 35°23.08′ N. lat., 121°15.56′ W. long.;

(168) 35°13.67′ N. lat., 121°05.79′ W. long.;

(169) 35°06.77′ N. lat., 121°02.45′ W. long.;

(170) 34°53.32′ N. lat., 121°01.46′ W. long.;

(171) 34°49.36′ N. lat., 121°03.04′ W. long.;

(172) 34°44.12′ N. lat., 121°01.28′ W. long.;

(173) 34°32.38′ N. lat., 120°51.78′ W. long.;

(174) 34°27.00′ N. lat., 120°44.25′ W. long.;

(175) 34°17.93′ N. lat., 120°35.43′ W. long.;

(176) 34°16.02′ N. lat., 120°28.70′ W. long.;

(177) 34°09.84′ N. lat., 120°38.85′ W. long.;

(178) 34°03.22′ N. lat., 120°36.12′ W. long.;

(179) 33°55.98′ N. lat., 120°28.81′ W. long.;

(180) 33°49.88′ N. lat., 120°10.07′ W. long.;

(181) 33°37.75′ N. lat., 120°00.35′ W. long.;

(182) 33°33.91′ N. lat., 119°51.74′ W. long.;

(183) 33°35.07′ N. lat., 119°48.14′ W. long.;

(184) 33°42.60′ N. lat., 119°47.40′ W. long.;

(185) 33°53.25′ N. lat., 119°52.58′ W. long.;

(186) 33°57.48′ N. lat., 119°31.27′ W. long.;

(187) 33°55.47′ N. lat., 119°24.96′ W. long.;

(188) 33°57.60′ N. lat., 119°26.68′ W. long.;

(189) 33°58.68′ N. lat., 119°20.13′ W. long.;

(190) 34°02.02′ N. lat., 119°14.62′ W. long.;

(191) 33°58.73′ N. lat., 119°03.21′ W. long.;

(192) 33°57.33′ N. lat., 118°43.08′ W. long.;

(193) 33°50.71′ N. lat., 118°38.33′ W. long.;

(194) 33°39.27′ N. lat., 118°18.76′ W. long.;

(195) 33°35.16′ N. lat., 118°18.33′ W. long.;

(196) 33°28.82′ N. lat., 118°08.73′ W. long.;

(197) 33°31.44′ N. lat., 117°51.34′ W. long.;

(198) 32°58.76′ N. lat., 117°20.85′ W. long.; and

(199) 32°35.61′ N. lat., 117°30.15′ W. long.

(n) The 250-fm (457-m) depth contour used around San Clemente Island is defined by straight lines connecting all of the following points in the order stated:

(1) 33°06.10′ N. lat., 118°39.07′ W. long.;

(2) 33°05.31′ N. lat., 118°40.88′ W. long.;

(3) 33°03.03′ N. lat., 118°41.72′ W. long.;

(4) 32°46.62′ N. lat., 118°32.23′ W. long.;

(5) 32°40.81′ N. lat., 118°23.85′ W. long.;

(6) 32°47.55′ N. lat., 118°17.59′ W. long.;

(7) 32°57.35′ N. lat., 118°28.83′ W. long.;

(8) 33°02.79′ N. lat., 118°32.85′ W. long.; and

(9) 33°06.10′ N. lat., 118°39.07′ W. long.

(o) The 250-fm (457-m) depth contour used around Santa Catalina Island is defined by straight lines connecting all of the following points in the order stated:

(1) 33°13.37′ N. lat., 118°08.39′ W. long.;

(2) 33°20.86′ N. lat., 118°14.39′ W. long.;

(3) 33°26.49′ N. lat., 118°21.17′ W. long.;

(4) 33°28.14′ N. lat., 118°26.68′ W. long.;

(5) 33°30.36′ N. lat., 118°30.55′ W. long.;

(6) 33°31.65′ N. lat., 118°35.33′ W. long.;

(7) 33°32.89′ N. lat., 118°42.97′ W. long.;

(8) 33°32.64′ N. lat., 118°49.44′ W. long.;

(9) 33°38.02′ N. lat., 118°57.35′ W. long.;

(10) 33°37.08′ N. lat., 118°57.93′ W. long.;

(11) 33°30.76′ N. lat., 118°49.96′ W. long.;

(12) 33°23.24′ N. lat., 118°32.88′ W. long.;

(13) 33°20.91′ N. lat., 118°34.67′ W. long.;

(14) 33°17.04′ N. lat., 118°28.21′ W. long.; and

(15) 33°13.37′ N. lat., 118°08.39′ W. long.

(p) The 250-fm (457-m) depth contour used around Lasuen Knoll is defined by straight lines connecting all of the following points in the order stated:

(1) 33°26.76′ N. lat., 118°00.77′ W. long.;

(2) 33°25.30′ N. lat., 117°57.88′ W. long.;

(3) 33°23.37′ N. lat., 117°56.14′ W. long.;

(4) 33°22.06′ N. lat., 117°57.06′ W. long.;

(5) 33°22.85′ N. lat., 117°59.47′ W. long.;

(6) 33°23.97′ N. lat., 118°00.72′ W. long.;

(7) 33°25.98′ N. lat., 118°01.63′ W. long.; and

(8) 33°26.76′ N. lat., 118°00.77′ W. long.

(q) The 250-fm (457-m) depth contour used around San Diego Rise is defined by straight lines connecting all of the following points in the order stated:

(1) 32 °51.58′ N. lat., 117°51.00′ W. long.;

(2) 32°44.69′ N. lat., 117°44.55′ W. long.;

(3) 32°37.05′ N. lat., 117°42.02′ W. long.;

(4) 32°36.07′ N. lat., 117°44.29′ W. long.;

(5) 32°47.03′ N. lat., 117°50.97′ W. long.;

(6) 32°51.50′ N. lat., 117°51.47′ W. long.; and

(7) 32°51.58′ N. lat., 117°51.00′ W. long.

(r) The 250-fm (457-m) depth contour used between the U.S. border with Canada and the U.S. border with Mexico, modified to allow fishing in petrale sole areas, is defined by straight lines connecting all of the following points in the order stated:

(1) 48°14.71′ N. lat., 125°41.95′ W. long.;

(2) 48°13.00′ N. lat., 125°39.00′ W. long.;

(3) 48°08.50′ N. lat., 125°45.00′ W. long.;

(4) 48°06.00′ N. lat., 125°46.50′ W. long.;

(5) 48°03.50′ N. lat., 125°37.00′ W. long.;

(6) 48°01.50′ N. lat., 125°37.26′ W. long.;

(7) 47°55.20′ N. lat., 125°36.60′ W. long.;

(8) 48°05.00′ N. lat., 125°24.50′ W. long.;

(9) 48°03.50′ N. lat., 125°21.00′ W. long.;

(10) 48°02.00′ N. lat., 125°19.50′ W. long.;

(11) 48°00.00′ N. lat., 125°21.00′ W. long.;

(12) 47°58.00′ N. lat., 125°20.00′ W. long.;

(13) 47°58.00′ N. lat., 125°18.00′ W. long.;

(14) 47°52.00′ N. lat., 125°16.50′ W. long.;

(15) 47°46.00′ N. lat., 125°06.00′ W. long.;

(16) 47°44.50′ N. lat., 125°07.50′ W. long.;

(17) 47°46.00′ N. lat., 125°06.00′ W. long.;

(18) 47°44.50′ N. lat., 125°07.50′ W. long.;

(19) 47°42.00′ N. lat., 125°06.00′ W. long.;

(20) 47°37.96′ N. lat., 125°07.17′ W. long.;

(21) 47°28.00′ N. lat., 124°58.50′ W. long.;

(22) 47°28.88′ N. lat., 124°54.70′ W. long.;

(23) 47°27.70′ N. lat., 124°51.87′ W. long.;

(24) 47°24.84′ N. lat., 124°48.45′ W. long.;

(25) 47°21.76′ N. lat., 124°47.42′ W. long.;

(26) 47°18.84′ N. lat., 124°46.75′ W. long.;

(27) 47°19.82′ N. lat., 124°51.43′ W. long.;

(28) 47°18.13′ N. lat., 124°54.25′ W. long.;

(29) 47°13.50′ N. lat., 124°54.70′ W. long.;

(30) 47°15.00′ N. lat., 125°01.10′ W. long.;

(31) 47°08.77′ N. lat., 125°00.91′ W. long.;

(32) 47°05.80′ N. lat., 125°01.00′ W. long.;

(33) 47°03.34′ N. lat., 124°57.50′ W. long.;

(34) 47°01.00′ N. lat., 125°00.00′ W. long.;

(35) 46°55.00′ N. lat., 125°02.00′ W. long.;

(36) 46°53.32′ N. lat., 125°00.00′ W. long.;

(37) 46°51.55′ N. lat., 125°00.00′ W. long.;

(38) 46°50.80′ N. lat., 124°56.90′ W. long.;

(39) 46°47.00′ N. lat., 124°55.00′ W. long.;

(40) 46°34.00′ N. lat., 124°38.00′ W. long.;

(41) 46°30.50′ N. lat., 124°41.00′ W. long.;

(42) 46°33.00′ N. lat., 124°32.00′ W. long.;

(43) 46°29.00′ N. lat., 124°32.00′ W. long.;

(44) 46°20.00′ N. lat., 124°39.00′ W. long.;

(45) 46°18.16′ N. lat., 124°40.00′ W. long.;

(46) 46°16.00′ N. lat., 124°27.00′ W. long.;

(47) 46°15.00′ N. lat., 124°30.96′ W. long.;

(48) 46°13.17′ N. lat., 124°38.76′ W. long.;

(49) 46°10.51′ N. lat., 124°41.99′ W. long.;

(50) 46°06.24′ N. lat., 124°41.81′ W. long.;

(51) 46°03.04′ N. lat., 124°50.26′ W. long.;

(52) 45°56.99′ N. lat., 124°45.45′ W. long.;

(53) 45°49.94′ N. lat., 124°45.75′ W. long.;

(54) 45°49.94′ N. lat., 124°42.33′ W. long.;

(55) 45°45.73′ N. lat., 124°42.18′ W. long.;

(56) 45°45.73′ N. lat., 124°43.82′ W. long.;

(57) 45°41.94′ N. lat., 124°43.61′ W. long.;

(58) 45°41.58′ N. lat., 124°39.86′ W. long.;

(59) 45°38.45′ N. lat., 124°39.94′ W. long.;

(60) 45°35.75′ N. lat., 124°42.91′ W. long.;

(61) 45°24.49′ N. lat., 124°38.20′ W. long.;

(62) 45°14.43′ N. lat., 124°39.05′ W. long.;

(63) 45°14.30′ N. lat., 124°34.19′ W. long.;

(64) 45°08.98′ N. lat., 124°34.26′ W. long.;

(65) 45°09.02′ N. lat., 124°38.81′ W. long.;

(66) 44°57.98′ N. lat., 124°36.98′ W. long.;

(67) 44°56.62′ N. lat., 124°38.32′ W. long.;

(68) 44°50.82′ N. lat., 124°35.52′ W. long.;

(69) 44°46.89′ N. lat., 124°38.32′ W. long.;

(70) 44°50.78′ N. lat., 124°44.24′ W. long.;

(71) 44°44.27′ N. lat., 124°50.78′ W. long.;

(72) 44°32.63′ N. lat., 124°54.24′ W. long.;

(73) 44°23.25′ N. lat., 124°49.78′ W. long.;

(74) 44°13.16′ N. lat., 124°58.81′ W. long.;

(75) 43°57.88′ N. lat., 124°58.25′ W. long.;

(76) 43°56.89′ N. lat., 124°57.33′ W. long.;

(77) 43°53.41′ N. lat., 124°51.95′ W. long.;

(78) 43°51.56′ N. lat., 124°47.38′ W. long.;

(79) 43°51.49′ N. lat., 124°37.77′ W. long.;

(80) 43°48.02′ N. lat., 124°43.31′ W. long.;

(81) 43°42.77′ N. lat., 124°41.39′ W. long.;

(82) 43°24.09′ N. lat., 124°42.57′ W. long.;

(83) 43°19.73′ N. lat., 124°45.09′ W. long.;

(84) 43°15.98′ N. lat., 124°47.76′ W. long.;

(85) 43°04.14′ N. lat., 124°52.55′ W. long.;

(86) 43°04.00′ N. lat., 124°53.88′ W. long.;

(87) 42°54.69′ N. lat., 124°54.54′ W. long.;

(88) 42°45.46′ N. lat., 124°49.37′ W. long.;

(89) 42°43.91′ N. lat., 124°45.90′ W. long.;

(90) 42°38.84′ N. lat., 124°43.36′ W. long.;

(91) 42°34.82′ N. lat., 124°46.56′ W. long.;

(92) 42°31.57′ N. lat., 124°46.86′ W. long.;

(93) 42°30.98′ N. lat., 124°44.27′ W. long.;

(94) 42°29.21′ N. lat., 124°46.93′ W. long.;

(95) 42°28.52′ N. lat., 124°49.40′ W. long.;

(96) 42°26.06′ N. lat., 124°46.61′ W. long.;

(97) 42°21.82′ N. lat., 124°43.76′ W. long.;

(98) 42°17.47′ N. lat., 124°38.89′ W. long.;

(99) 42°13.67′ N. lat., 124°37.51′ W. long.;

(100) 42°13.76′ N. lat., 124°40.03′ W. long.;

(101) 42°05.12′ N. lat., 124°39.06′ W. long.;

(102) 42°02.67′ N. lat., 124°38.41′ W. long.;

(103) 42°02.67′ N. lat., 124°35.95′ W. long.;

(104) 42°00.00′ N. lat., 124°36.83′ W. long.;

(105) 41°47.79′ N. lat., 124°29.48′ W. long.;

(106) 41°21.01′ N. lat., 124°29.01′ W. long.;

(107) 41°13.50′ N. lat., 124°24.40′ W. long.;

(108) 41°11.00′ N. lat., 124°22.99′ W. long.;

(109) 41°06.69′ N. lat., 124°23.30′ W. long.;

(110) 40°54.73′ N. lat., 124°28.15′ W. long.;

(111) 40°53.95′ N. lat., 124°26.04′ W. long.;

(112) 40°50.27′ N. lat., 124°26.20′ W. long.;

(113) 40°44.49′ N. lat., 124°30.81′ W. long.;

(114) 40°40.63′ N. lat., 124°32.14′ W. long.;

(115) 40°38.96′ N. lat., 124°30.04′ W. long.;

(116) 40°35.67′ N. lat., 124°30.43′ W. long.;

(117) 40°37.41′ N. lat., 124°37.06′ W. long.;

(118) 40°36.09′ N. lat., 124°40.11′ W. long.;

(119) 40°31.35′ N. lat., 124°40.98′ W. long.;

(120) 40°30.00′ N. lat., 124°37.48′ W. long.;

(121) 40°27.34′ N. lat., 124°37.28′ W. long.;

(122) 40°25.01′ N. lat., 124°36.36′ W. long.;

(123) 40°22.28′ N. lat., 124°31.83′ W. long.;

(124) 40°13.68′ N. lat., 124°33.10′ W. long.;

(125) 40°10.00′ N. lat., 124°24.55′ W. long.;

(126) 40°06.45′ N. lat., 124°19.24′ W. long.;

(127) 40°07.08′ N. lat., 124°17.80′ W. long.;

(128) 40°05.55′ N. lat., 124°18.11′ W. long.;

(129) 40°04.74′ N. lat., 124°18.11′ W. long.;

(130) 40°02.35′ N. lat., 124°16.53′ W. long.;

(131) 40°01.13′ N. lat., 124°12.98′ W. long.;

(132) 40°01.52′ N. lat., 124°09.83′ W. long.;

(133) 39°58.54′ N. lat., 124°12.43′ W. long.;

(134) 39°55.72′ N. lat., 124°07.44′ W. long.;

(135) 39°42.64′ N. lat., 124°02.52′ W. long.;

(136) 39°35.96′ N. lat., 123°59.47′ W. long.;

(137) 39°34.61′ N. lat., 123°59.58′ W. long.;

(138) 39°33.79′ N. lat., 123°56.77′ W. long.;

(139) 39°33.03′ N. lat., 123°57.06′ W. long.;

(140) 39°32.21′ N. lat., 123°59.12′ W. long.;

(141) 39°07.81′ N. lat., 123°59.06′ W. long.;

(142) 38°57.50′ N. lat., 123°57.25′ W. long.;

(143) 38°52.26′ N. lat., 123°56.18′ W. long.;

(144) 38°50.21′ N. lat., 123°55.48′ W. long.;

(145) 38°46.81′ N. lat., 123°51.49′ W. long.;

(146) 38°45.29′ N. lat., 123°51.55′ W. long.;

(147) 38°42.76′ N. lat., 123°49.73′ W. long.;

(148) 38°41.26′ N. lat., 123°47.28′ W. long.;

(149) 38°35.75′ N. lat., 123°43.76′ W. long.;

(150) 38°34.93′ N. lat., 123°42.46′ W. long.;

(151) 38°19.95′ N. lat., 123°32.90′ W. long.;

(152) 38°14.38′ N. lat., 123°25.51′ W. long.;

(153) 38°09.39′ N. lat., 123°24.39′ W. long.;

(154) 38°10.18′ N. lat., 123°27.11′ W. long.;

(155) 38°04.64′ N. lat., 123°31.97′ W. long.;

(156) 38°02.06′ N. lat., 123°31.26′ W. long.;

(157) 38°00.00′ N. lat., 123°29.64′ W. long.;

(158) 37°58.19′ N. lat., 123°27.40′ W. long.;

(159) 37°50.62′ N. lat., 123°24.51′ W. long.;

(160) 37°43.82′ N. lat., 123°11.69′ W. long.;

(161) 37°35.67′ N. lat., 123°02.62′ W. long.;

(162) 37°23.53′ N. lat., 122°58.65′ W. long.;

(163) 37°23.23′ N. lat., 122°53.78′ W. long.;

(164) 37°13.97′ N. lat., 122°49.91′ W. long.;

(165) 37°11.00′ N. lat., 122°45.61′ W. long.;

(166) 37°07.00′ N. lat., 122°44.76′ W. long.;

(167) 36°59.99′ N. lat., 122°38.49′ W. long.;

(168) 36°56.64′ N. lat., 122°28.78′ W. long.;

(169) 36°58.93′ N. lat., 122°25.67′ W. long.;

(170) 36°56.19′ N. lat., 122°25.67′ W. long.;

(171) 36°57.09′ N. lat., 122°22.85′ W. long.;

(172) 36°54.95′ N. lat., 122°22.63′ W. long.;

(173) 36°52.25′ N. lat., 122°13.94′ W. long.;

(174) 36°46.94′ N. lat., 122°07.90′ W. long.;

(175) 36°47.12′ N. lat., 122°03.99′ W. long.;

(176) 36°23.87′ N. lat., 122°00.00′ W. long.;

(177) 36°22.17′ N. lat., 122°01.19′ W. long.;

(178) 36°19.61′ N. lat., 122°06.29′ W. long.;

(179) 36°14.73′ N. lat., 122°01.55′ W. long.;

(180) 36°09.47′ N. lat., 121°45.37′ W. long.;

(181) 36°06.42′ N. lat., 121°41.34′ W. long.;

(182) 36°00.07′ N. lat., 121°37.68′ W. long.;

(183) 36°00.00′ N. lat., 121°37.66′ W. long.;

(184) 35°52.25′ N. lat., 121°33.21′ W. long.;

(185) 35°51.09′ N. lat., 121°31.83′ W. long.;

(186) 35°46.47′ N. lat., 121°31.19′ W. long.;

(187) 35°33.97′ N. lat., 121°21.69′ W. long.;

(188) 35°30.94′ N. lat., 121°18.36′ W. long.;

(189) 35°23.08′ N. lat., 121°15.56′ W. long.;

(190) 35°13.67′ N. lat., 121°05.79′ W. long.;

(191) 35°06.77′ N. lat., 121°02.45′ W. long.;

(192) 35°07.46′ N. lat., 120°57.10′ W. long.;

(193) 34°44.29′ N. lat., 120°54.28′ W. long.;

(194) 34°44.24′ N. lat., 120°57.62′ W. long.;

(195) 34°41.65′ N. lat., 120°59.54′ W. long.;

(196) 34°17.97′ N. lat., 120°35.54′ W. long.;

(197) 34°16.02′ N. lat., 120°28.70′ W. long.;

(198) 34°09.84′ N. lat., 120°38.85′ W. long.;

(199) 34°02.21′ N. lat., 120°36.23′ W. long.;

(200) 33°55.98′ N. lat., 120°28.81′ W. long.;

(201) 33°49.88′ N. lat., 120°10.07′ W. long.;

(202) 33°37.75′ N. lat., 120°00.35′ W. long.;

(203) 33°33.91′ N. lat., 119° 51.74′ W. long.;

(204) 33°35.07′ N. lat., 119°48.14′ W. long.;

(205) 33°42.60′ N. lat., 119°47.40′ W. long.;

(206) 33°51.63′ N. lat., 119°52.35′ W. long.;

(207) 33°51.62′ N. lat., 119°47.94′ W. long.;

(208) 33°54.29′ N. lat., 119°47.94′ W. long.;

(209) 33°57.52′ N. lat., 119°30.94′ W. long.;

(210) 33°54.11′ N. lat., 119°30.94′ W. long.;

(211) 33°54.11′ N. lat., 119°25.94′ W. long.;

(212) 33°57.74′ N. lat., 119°25.94′ W. long.;

(213) 33°58.68′ N. lat., 119°20.13′ W. long.;

(214) 34°02.02′ N. lat., 119°14.62′ W. long.;

(215) 33°58.73′ N. lat., 119°03.21′ W. long.;

(216) 33°57.33′ N. lat., 118°43.08′ W. long.;

(217) 33°50.71′ N. lat., 118°38.33′ W. long.;

(218) 33°39.27′ N. lat., 118°18.76′ W. long.;

(219) 33°35.16′ N. lat., 118°18.33′ W. long.;

(220) 33°28.82′ N. lat., 118°08.73′ W. long.;

(221) 33°31.44′ N. lat., 117°51.34′ W. long.;

(222) 32°58.76′ N. lat., 117°20.85′ W. long.; and

(223) 32°35.61′ N. lat., 117°30.15′ W. long.

* * * * *

24. In part 660, subpart G, Tables 1-5 are revised to read as follows:

Table 1a.to Part 660, Subpart G—2007 Specifications of acceptable Biological Catch (ABC), Optimum Yields (OYs), Harvest Guidelines (HGs), and Limited Entry and Open Access Allocations, by management Area (weights in metric tons).
Species | ABC Specifications: ABC Contributions by Area: Vancouver a/ | ABC Specifications: ABC Contributions by Area: Columbia | ABC Specifications: ABC Contributions by Area: Eureka | ABC Specifications: ABC Contributions by Area: Monterey | ABC Specifications: ABC Contributions by Area: Conception | ABC Specifications: ABC | OY b/ | HG b/: Commercial | HG b/: Recreational
ROUNDFISH:
Lingcod c/ north of 42°N. lat. | 5,428 |  | 852 |  |  | 6,280 | 5,558 |  |
south of 42°N. lat. |  |  |  |  |  |  | 612 |
Pacific Cod e/ | 3,200 |  | d/ |  |  | 3,200 | 1,600 | 1,200 |
Pacific Whiting f/ | 244,425 - 733,275 |  |  |  |  | f/ | f/ |  |
Sablefish g/ | 6,210 |  |  |  |  | 6,210 | 5,934 | 5,362 |
Cabezon h/ south of 42°N. lat. | d/ |  | 71 |  | 23 | 94 | 69 | 27 |
FLATFISH:
Dover sole i/ | 28,522 |  |  |  |  | 28,522 | 16,500 |  |
English sole j/ | 6,237 |  |  |  |  | 6,237 | 6,237 |  |
Petrale sole k/ | 1,397 |  | 1,628 |  |  | 3,025 | 2,499 |  |
Arrowtooth flounder l/ | 5,800 |  |  |  |  | 5,800 | 5,800 |  |
Starry Flounder m/ | 1,221 |  |  |  |  | 1,221 | 890 |  |
Other flatfish n/ | 6,731 |  |  |  |  | 6,781 | 4,884 |  |
ROCKFISH:
Pacific Ocean Perch o/ | 900 |  |  |  |  | 900 | 150 | 111.3 |
Shortbelly p/ | 13,900 |  |  |  |  | 13,900 | 13,900 |  |
Widow q/ | 5,334 |  |  |  |  | 5,334 | 368 | 251.4 | 9.4
Canary r/ | 172 |  |  |  |  | 172 | 44 | 23.8 | 17.2
Chilipepper s/ | d/ |  |  | 2,700 |  | 2,700 | 2,000 |  |
Bocaccio t/ | d/ |  |  | 602 |  | 602 | 218 | 80.2 | 66.3
Splitnose u/ | d/ |  |  | 615 |  | 615 | 461 |  |
Yellowtail v/ | 4,548 |  |  | d/ |  | 4,548 | 4,548 |  |
Shortspine thornyhead w/ north of 34°27' N. lat. | 2,476 |  |  |  |  | 2,476 | 1,634 |  |
south of 34°27' N. lat. |  |  |  |  |  |  | 421 |  |
Longspine thornyhead x/ north of 34°27' N. lat. | 3,907 |  |  |  |  | 3,907 | 2,220 |  |
south of 34°27' N. lat. |  |  |  |  |  |  | 476 |  |
Cowcod y/ north of 36° N. lat. | d/ |  |  | 19 | -- | 19 | 4 | 3.1 | 0.3
south of 36° N. lat. | d/ |  |  | -- | 17 | 17 |  |  |
Darkblotched z/ | 456 |  |  |  |  | 456 | 290 | 259.8 |
Yelloweye aa/ | 26 |  |  |  |  | 26 | 23 | 7.9 | 8.9
California Scorpionfish bb/ |  |  |  |  | 219 | 219 | 175 | 34 |
Black cc/ north of 46°16' N. lat. | 540 |  |  |  |  | 540 | 540 |  |
south of 46°16' N. lat. |  |  | 722 |  |  | 722 | 722 |  |
Minor Rockfish north dd/ | 3,680 |  |  | -- |  | 3,680 | 2,270 | 2,181 | 89
Minor Rockfish south ee/ | -- |  |  | 3,403 |  | 3,403 | 1,904 | 1,418 | 486
Remaining Rockfish | 1,612 |  |  | 1,105 |  | -- |  |  |
bank ff/ | d/ |  |  | 350 |  |  |  |  |
blackgill gg/ | d/ |  |  | 292 |  |  |  |  |
bocaccio north | 318 |  |  | -- |  |  |  |  |
chilipepper north | 32 |  |  | -- |  |  |  |  |
redstripe | 576 |  |  | d/ |  |  |  |  |
sharpchin | 307 |  |  | 45 |  |  |  |  |
silvergrey | 38 |  |  | d/ |  |  |  |  |
splitnose north | 242 |  |  | -- |  |  |  |  |
yellowmouth | 99 |  |  | d/ |  |  |  |  |
yellowtail south | -- |  |  | 116 |  |  |  |  |
Gopher | d/ |  |  | 302 |  |  |  |  |
Other rockfish hh/ | 2,068 |  |  | 2,298 |  | -- |  |  |
SHARKS/SKATES/RATFISH/MORIDS/GRENADIERS/KELP GREENLING:
Other fish ii/ | 2,500 | 7,000 | 1,200 | 3,900 |  | 14,600 | 7,300 | -- |

Table 1b. to Part 660, Subpart G—2007 OYs for minor rockfish by depth sub-groups (weights in metric tons).
Species | Total Catch ABC | Total Catch OY | Recreational HG | Commercial HG | Limited Entry HG: Mt | Limited Entry HG: % | Open Access HG: Mt | Open Access HG: %
Minor Rockfish North dd/ | 3,680 | 2,270 | 89 | 2,181 | 2,000 | 91.7 | 181 | 8.3
Nearshore |  | 142 | 79 | 63 |  |  |  |
Shelf |  | 968 | 10 | 958 |  |  |  |
Slope |  | 1,160 | 0 | 1,160 |  |  |  |
Minor Rockfish South ee/ | 3,403 | 1,904 | 486 | 1,418 | 790 | 55.7 | 628 | 44.3
Nearshore |  | 564 | 426 | 138 |  |  |  |
Shelf |  | 714 | 60 | 654 |  |  |  |
Slope |  | 626 | 0 | 626

Table 1c. to Part 660, Subpart G— 2007 open access and limited Entry allocations by species or species group. (weights in metric tons)
Species | Commercial Total Catch HGs | Commercial Total Catch HGs: Limited Entry: Mt | Commercial Total Catch HGs: Limited Entry: % | Commercial Total Catch HGs: Open Access: Mt | Commercial Total Catch HGs: Open Access: %
Lingcod north of 42° N. lat. south of 42° N. lat. | -- | -- | 81.0 | -- | 19.0
Sablefish jj/ north of 36° N. lat. | 5,151 | 4,667 | 90.6 | 484 | 9.4
Widow kk/ | 251.4 | -- | 97.0 | -- | 3.0
Canary kk/ | 23 | -- | 87.7 | -- | 12.3
Chilipepper | 2,000 | 1,114 | 55.7 | 886 | 44.3
Bocaccio kk/ | 80.2 | -- | 55.7 | -- | 44.3
Yellowtail | -- | -- | 91.7 | -- | 8.3
Shortspine thornyhead north of 34°27' N. lat. | 1,634 | 1,193 | 99.7 | 441 | 0.27
Minor Rockfish north of 40°10' N. lat. | 2,181 | 2,000 | 91.7 | 181 | 8.3
south of 40°10' N. lat. | 1,418 | 790 | 55.7 | 628 | 44.3
a/ ABCs apply to the U.S. portion of the Vancouver area.
b/ Optimum Yields (OYs) and Harvest Guidelines (HGs) are specified as total catch values. Though presented as harvest guidelines, the recreational values for widow rockfish, bocaccio, and cowcod are catch estimates. A harvest guideline is a specified harvest target and not a quota. The use of this term may differ from the use of similar terms in state regulation.
c/ Lingcod- A coastwide lingcod stock assessment was prepared in 2005. The lingcod biomass was estimated to be at 64 percent of its unfished biomass in 2005. The ABC was calculated using an FMSY proxy of F45%. The ABC of 6,280 mt is a two year average ABC for 2007 and 2008. Because the stock is above B40% coastwide, the OY could be set equal to the ABC. Separate OYs are being adopted for the area north of 42° N. lat. and the area south of 42° N. lat. For that portion of the stock north of 42° N. lat. the OY of 5,558 mt is set equal to the ABC contribution for the area. The biomass in the area south of 42° N. lat. is estimated to be at 24 percent of the unfished biomass. As a precautionary measure, the OY for the southern portion of the stock is being set at 612 mt, which is lower than the ABC contribution for the area. An OY of 612 mt (equivalent to the 2006 OY) is expected to result in a biomass increase for the southern portion of the stock. The tribes do not have a specific allocation at this time, but are expected to take 30 mt of the commercial HG.
d/ ″Other species″, these species are neither common nor important to the commercial and recreational fisheries in the areas footnoted. Accordingly, these species are included in the harvest guidelines of ″other fish″, ″other rockfish″ or ″remaining rockfish″.
e/ Pacific Cod - The 3,200 mt ABC for the Vancouver-Columbia area is based on historical landings data. The 1,600 mt OY is the ABC reduced by 50 percent as a precautionary adjustment. A tribal harvest guideline of 400 mt is deducted from the OY resulting in a commercial OY of 1,200 mt.
f/ Pacific whiting - Final adoption of the Pacific whiting ABC and OY have been deferred until the Council's March 2007 meeting. Therefore, table 1a contains the ABC and OY range considered in the EIS and under the proposed rule. It is anticipated that a new assessment will be available in early 2007 and the results will be used to set the 2007 ABC and OY. The final ABC and OY will be published as a separate action following the Council's recommendation at its March 2007 meeting.
g/ Sablefish - A coastwide sablefish stock assessment was prepared in 2005. The coastwide sablefish biomass was estimated to be at 35.2 percent of its unfished biomass in 2005. Projections indicate that the biomass is increasing and will be near 42 percent of its unfished biomass by 2008. The coastwide ABC of 6,210 mt was based on the base-case assessment model with a FMSY proxy of F45%. The coastwide OY of 5,934 mt is based on the application of the 40-10 harvest policy and is a two year average OY for 2007 and 2008. To apportion fishery allocations for the area north of 36° N. lat., 96.45 percent of the coastwide OY (5,723 mt) is attributed to the northern area. The tribal allocation for the area north of 36° N. lat. is 572 mt (10 percent of the OY north of 36° N. lat), which is further reduced by 1.9 percent (10.9 mt) for discards. The tribal landed catch value is 561.4 mt.
h/ Cabezon was assessed south of 42° N. lat. in 2005. In 2005, the stock was estimated to be at 28 percent of its unfished biomass north of 34° 27' N. lat. and 40 percent of its unfished biomass south of 34° 27' N. lat. The biomass is projected to be increasing in the northern area and decreasing in the southern area. The ABC of 94 mt (71 mt for the northern portion of the stock and 23 mt for the southern portion of the stock) is based on the new assessment with a harvest rate proxy of F50%. The OY of 69 mt is a constant harvest level that is consistent with the application of a 60-20 harvest rate policy specified in the California Nearshore Management Plan.
i/ Dover sole was assessed north of 34° 27' N. lat. in 2005. The Dover sole biomass was estimated to be at 59.8 percent of its unfished biomass in 2005 and is projected to be increasing. The ABC of 28,522 mt is based on the results of the 2005 assessment with an FMSY proxy of F40%. Because the stock is above B40% coastwide, the OY could be set equal to the ABC. The OY of 16,500 mt, which is less than the ABC, is the MSY harvest level and is considerably larger than the coastwide catches in any recent years.
j/ A coastwide English sole stock assessment was prepared in 2005 and the stock was estimated to be at 91.5 percent of its unfished biomass in 2005, but the stock biomass is believed to be declining. The ABC of 6,237 is a 2007-2008 two year average ABC based on the the results of the 2005 assessment with an FMSY proxy of F40%. Because the stock is above B40%, the OY was set equal to the ABC.
k/ A petrale sole stock assessment was prepared for 2005. In 2005 the petrale sole stock coastwide was estimated to be at 32 percent of its unfished biomass (34 percent in the northern assessment area and 29 percent in the southern assessment area). The petrale sole biomass is believed to be increasing. The ABC of 2,917 mt is based on the new assessment with a F40% FMSY proxy. To derive the OY, the 40-10 harvest policy was applied to the ABC for both the northern and southern assessment areas. As a precautionary measure, an additional 25 percent reduction was made in the OY contribution for the southern area due to assessment uncertainty. The OY of 2,499 mt is the average coastwide OY value for 2007 and 2008.
l/ Arrowtooth flounder was last assessed in 1993 and was estimated to be above 40 percent of its unfished biomass, therefore the OY will be set equal to the ABC.
m/ Starry Flounder was assessed for the first time in 2005 and was estimated to be above 40 percent of its unfished biomass in 2005 (44 percent for the northern stock off Washington and Oregon, and 62 percent for the southern stock of California). The starry flounder biomass is believed to be declining, and will be below B40%. The starry flounder assessment was considered to be a data-poor assessment relative to other groundfish assessments. For 2007, the coastwide ABC of 1,221 mt is based on the new assessment with a FMSY proxy of F40% and is an average ABC for 2007 and 2008. Because the stock is believed to be above B40%, the OY could be set equal to the ABC. To derive the OY, the 40-10 harvest policy was applied to the ABC for both the northern and southern assessment areas then an additional 25 percent reduction was made due to assessment uncertainty. Starry flounder was previously managed as part of the "other flatfish" category. The OY of 890 mt is the average coastwide OY value for 2007 and 2008.
n/ ″Other flatfish″ are those flatfish species that do not have individual ABC/OYs and include butter sole, curlfin sole, flathead sole, Pacific sand dab, rex sole, rock sole, and sand sole. Starry flounder was assessed in 2005 and is being removed from other flatfish complex beginning in 2007. The ABC is based on historical catch levels. The ABC of 6,731 mt is based on the highest landings for sanddabs (1995) and rex sole (1982) for the 1981-2003 period and on the average landings from the 1994-1998 period for the remaining other flatfish species. The OY of 4,884 mt is based on the ABC with a 25 percent precautionary adjustment for sanddabs and rex sole and a 50 percent precautionary adjustment for the remaining species.
o/ A POP stock assessment was prepared in 2005 and the stock was estimated to be at 23.4 percent of its unfished biomass in 2005. The ABC of 900 mt for the Vancouver-Columbia area was projected from the 2005 stock assessment and is based on an FMSY proxy of F50%. The OY of 150 mt is based on a rebuilding plan with a target year to rebuild of 2017 and an SPR harvest rate of 86.4 percent. The OY is reduced by 3.6 mt for the amount anticipated to be taken during research activity.
p/ Shortbelly rockfish remains an unexploited stock and is difficult to assess quantitatively. A 1989 stock assessment provided two alternative yield calculations of 13,900 mt and 47,000 mt. NMFS surveys have shown poor recruitment in most years since 1989, indicating low recent productivity and a naturally declining population in spite of low fishing pressure. The ABC and OY are therefore set at the low end of the range projected in the stock assessment, 13,900 mt.
q/ Widow rockfish was assessed in 2005 and was estimated to be at 31.1 percent of its unfished biomass in 2004. The ABC of 5,334 mt is based on an F50% FMSY proxy. The OY of 368 mt is based on a rebuilding plan with a target year to rebuild of 2015 and an SPR rate of 95 percent. The OY is reduced by 3.0 mt for the amount anticipated to be taken during research activity. Tribal vessels are estimated to catch about 46.1 mt of widow rockfish in 2007, but do not have a specific allocation at this time. For the Pacific whiting fishery, 200 mt is being set aside and will be managed with bycatch limits.
r/ A canary rockfish stock assessment was completed in 2005 and the stock was estimated to be at 9.4 percent of its unfished biomass coastwide in 2005. The coastwide ABC of 172 mt is based on a FMSY proxy of F50%. The OY of 44 mt is based on a rebuilding plan with a target year to rebuild of 2063 and an SPR harvest rate of 88.7 percent. The OY is reduced by 3.0 mt for the amount anticipated to be taken during research activity. Tribal vessels are estimated to catch about 5 mt of canary rockfish under the 2007 commercial HG, but do not have a specific allocation at this time.South of 42° N. lat., the canary rockfish recreational fishery HG is 9.0 mt and north of 42° N. lat., the canary rockfish recreational fishery HG 8.2 mt.
s/ Chilipepper rockfish was last assessed in 1998. The ABC (2,700 mt) for the Monterey-Conception area is based on a three year average projection from 1999-2001 with a F50% FMSY proxy. Because the unfished biomass is estimated to be above 40 percent the unfished biomass, the default OY could be set equal to the ABC. However, the OY is set at 2,000 mt to discourage fishing on chilipepper, which is taken with bocaccio. Management measures to constrain the harvest of overfished species have reduced the availability of chilipepper rockfish to the fishery during the past several years. Because the harvest assumptions (from the most recent stock assessment) used to forecast future harvest were likely overestimates, carrying the previously used ABCs and OYs forward into 2007 was considered to be conservative and based on the best available data. Open access is allocated 44.3 percent (886 mt) of the commercial HG and limited entry is allocated 55.7 percent (1,114 mt) of the commercial HG.
t/ A bocaccio stock assessment update and a rebuilding analysis were prepared in 2005. The bocaccio stock was estimated to be at 10.7 percent of its unfished biomass in 2005. The ABC of 602 mt for the Monterey and Conception areas is based on a F50% FMSY proxy. The OY of 218 mt is based on a rebuilding plan with a target year to rebuild of 2026 and a SPR harvest rate of 77.7 percent. The OY is reduced by 3.0 mt for the amount anticipated to be taken during research activity.
u/ Splitnose rockfish - The ABC is 615 mt in the southern area (Monterey-Conception). The 461 mt OY for the southern area reflects a 25 percent precautionary adjustment because of the less rigorous stock assessment for this stock. Because the harvest assumptions used to forecast future harvest were likely overestimates, carrying the previously used ABCs and OYs forward into 2007 was considered to be conservative and based on the best available data.
v/ Yellowtail rockfish - A yellowtail rockfish stock assessment was prepared in 2005 for the Vancouver-Columbia-Eureka areas. Yellowtail rockfish was estimated to be above 40 percent of its unfished biomass in 2005. The ABC of 4,548 mt is a 2 year average ABC for 2007 and 2008 and is based on the 2005 stock assessment with the FMSY proxy of F50%. The OY of 4,548 mt was set equal to the ABC, because the stock is above the precautionary threshold of B40%. Tribal vessels are estimated to catch about 539 mt of yellowtail rockfish in 2007, but do not have a specific allocation at this time.
w/ Shortspine thornyhead was assessed coastwide in 2005 and the stock was estimated to be at 63 percent of its unfished biomass in 2005. The ABC of 2,476 mt is based on a F50% FMSY proxy and is the two year average ABC for 2007 and 2008. For that portion of the stock (66 percent of the biomass) north of Pt. Conception (34° 27' N. lat.), the OY of 1,634 mt was set at equal to the ABC because the stock is estimated to be above the precautionary threshold. For that portion of the stock south of Pt. Conception (34 percent of the biomass), the OY of 421 mt was the portion of the ABC for the area reduced by 50 percent as a precautionary adjustment due to the short duration and amount of survey data for that area. Tribal vessels are estimated to catch about 13 mt of shortspine thornyhead in 2007, but do not have a specific allocation at this time.
x/ Longspine thornyhead was assessed coastwide in 2005 and the stock was estimated to be at 71 percent of its unfished biomass in 2005. The coastwide ABC of 3,907 mt is based on a F50% FMSY proxy and is the two year average OY for the 2007 and 2008 period. The OY is set equal to the ABC because the stock is above the precautionary threshold. Separate OYs are being established for the areas north and south of 34° 27' N. lat. (Point Conception). The OY for that portion of the stock in the northern area (79 percent)is set equal to the ABC. For that portion of the stock in the southern area (21 percent), the OY of 476 mt was the portion of the ABC for the area reduced by 25 percent as a precautionary adjustment due to the short duration and amount of survey data for that area.
y/ Cowcod in the Conception area was assessed in 2005 and was estimated to be between 14 and 21 percent of its unfished biomass. The ABC of in the area south of 36° N. lat., the Conception area, is 17 mt and is based on the 2005 stock assessment with a F50% FMSY proxy. The ABC for the Monterey area (19 mt) is based on average landings from 1993-1997. A OY of 4 mt is being set for the combined areas. The OY is based on a rebuilding plan with a target year to rebuilding of 2039 and an SPR harvest rate 90 percent. The OY is reduced by 0.1 mt for the amount anticipated to be taken during research activity.
z/ Darkblotched rockfish was assessed in 2005 and was estimated to be at 16 percent of its unfished biomass in 2005. The ABC is projected to be 456 mt and is based on the 2005 stock assessment with an FMSY proxy of F50%. The OY of 290 mt is based on a rebuilding plan with a target year to rebuild of 2011 and an SPR harvest rate of 64.1 percent in 2007. The OY is reduced by 3.8 mt for the amount anticipated to be taken during research activity.
aa/ Yelloweye rockfish was assessed in 2006 and is estimated to be at 17.7 percent of its unfished biomass coastwide. The 26 mt coastwide ABC is based on the new stock assessment and an FMSY proxy of F50%. The 23 mt OY is based on a rebuilding plan with a target year to rebuild of 2084 an SPR harvest rate of 55.4 percent in 2007. The OY is reduced by 3.0 mt for the amount anticipated to be taken during research activity. Tribal vessels are estimated to catch 2.3 mt of yelloweye rockfish of the commercial HG in 2007, but do not have a specific allocation at this time. South of 42° N. lat. the yelloweye rockfish recreational fishery HG is 2.1 mt and north of 42° N. lat. the yelloweye rockfish recreational fishery HG 6.8 mt.
bb/ California Scorpionfish south of 34° 27' N. lat. was assessed in 2005 and was estimated to be above 40 percent of its unfished biomass in 2005. The ABC of 219 mt is based on the new assessment with a harvest rate proxy of F50% and is an average ABC for 2007 and 2008. Because the stock is above B40% coastwide, the OY could be set equal to the ABC. The OY of 175 mt, which is lower than the ABC, reflects the highest historical catch levels.
cc/ Black rockfish was last assessed in 2003 for the Columbia and Eureka area and in 2000 for the Vancouver area. The ABC for the area north of 46°16' N. lat. is 540 mt and the ABC for the area south of 46°16' N. lat. is 722 mt which is the average ABC for the 2007 and 2008 period. Because of an overlap in the assessed areas between Cape Falcon and the Columbia River, projections from the 2000 stock assessment were adjusted downward by 12 percent to account for the overlap. The ABCs were derived using an FMSY proxy of F50%. Because the unfished biomass is estimated to be above 40 percent, the OYs were set equal to the ABCs. For the area north of 46°16' N. lat., the OY is 540 mt. The following tribal harvest guidelines are being set: 20,000 lb (9.1 mt) north of Cape Alava, WA (48° 09.50' N. lat.) and 10,000 lb (4.5 mt) between Destruction Island, WA (47° 40' N. lat.) and Leadbetter Point, WA (46° 38.17' N. lat.). For the area south of 46°16' N. lat., the OY is 722 mt. The black rockfish OY in the area south of 46°16' N. lat., is subdivided with separate HGs being set for the area north of 42° N. lat (419 mt/58 percent) and for the area south of 42° N. lat (303 mt/42 percent). For the southern area north of 42° N. lat., a range is presented for the recreational estimate (289-350 mt) and comercial HG (91 -111 mt). Specific values will be specified in the final rule. Of the 303 mt of black rockfish attributed to the area south of 42° N. lat., 168 mt is estimated to be taken in the recreational fisheries, resulting in a commercial HG of 135 mt.
dd/ Minor rockfish north includes the ″remaining rockfish″ and ″other rockfish″ categories in the Vancouver, Columbia, and Eureka areas combined. These species include ″remaining rockfish″, which generally includes species that have been assessed by less rigorous methods than stock assessments, and ″other rockfish″, which includes species that do not have quantifiable stock assessments. The ABC of 3,680 mt is the sum of the individual ″remaining rockfish″ ABCs plus the ″other rockfish″ ABCs. The remaining rockfish ABCs continues to be reduced by 25 percent (F=0.75M) as a precautionary adjustment. To obtain the total catch OY of 2,270 mt, the remaining rockfish ABC was reduced by 25 percent and other rockfish ABC was reduced by 50 percent. This was a precautionary measure to address limited stock assessment information. Tribal vessels are estimated to catch about 38 mt of minor rockfish in 2007, but do not have a specific allocation at this time.
ee/ Minor rockfish south includes the ″remaining rockfish″ and ″other rockfish″ categories in the Monterey and Conception areas combined. These species include ″remaining rockfish″ which generally includes species that have been assessed by less rigorous methods than stock assessment, and ″other rockfish″ which includes species that do not have quantifiable stock assessments. The ABC of 3,403 mt is the sum of the individual ″remaining rockfish″ ABCs plus the ″other rockfish″ ABCs. California scorpionfish is being removed from this category in 2007. Gopher rockfish is being moved from the ″other rockfish″ group to the remaining rockfish group in 2007. The remaining rockfish ABCs continue to be reduced by 25 percent (F=0.75M) as a precautionary adjustment. The remaining rockfish ABCs are further reduced by 25 percent, with the exception of blackgill rockfish (see footnote gg). The other rockfish ABCs were reduced by 50 percent. This was a precautionary measure due to limited stock assessment information. The resulting minor rockfish OY is 1,904 mt.
ff/ Bank rockfish - The ABC is 350 mt which is based on a 2000 stock assessment for the Monterey and Conception areas. This stock contributes 263 mt towards the minor rockfish OY in the south.
gg/ Blackgill rockfish in the Monterey and Conception areas was assessed in 2005 and is estimated to be at 50.6 percent of its unfished biomass in 2005. The ABC of 292 mt for Monterey and Conception areas is based on the 2005 stock assessment with an FMSY proxy of F50% and is the two year average ABC for the 2007 and 2008 periods. This stock contributes 292 mt towards minor rockfish south.
hh/ ″Other rockfish″ includes rockfish species listed in 50 CFR 660.302. California scorpionfish and gopher rockfish were assessed in 2005 and are being removed from this category. The California Scorpionfish contribution of 163 mt and the gopher rockfish contribution of 97 mt were removed from the ABC value. The ABC for the remaining species is based on the 1996 review of commercial Sebastes landings and includes an estimate of recreational landings. These species have never been assessed quantitatively.
ii/ ″Other fish″ includes sharks, skates, rays, ratfish, morids, grenadiers, kelp greenling and other groundfish species noted above in footnote ᵈ.
jj/ Sablefish allocation north of 36° N. lat. - The limited entry allocation is further divided with 58 percent allocated to the trawl fishery and 42 percent allocated to the fixed-gear fishery.
kk/ Specific open access/limited entry allocations have been suspended during the rebuilding period as necessary to meet the overall rebuilding target while allowing harvest of healthy stocks.

Table 2a. to Part 660, Subpart G—2008, and Beyond, Specifications of Acceptable Biological Catch (ABC), Optimum Yields (OYs), Harvest Guidelines (HGs), by management Area (weights in metric tons).
Species | ABC Specifications: ABC Contributions by Area: Vancouver a/ | ABC Specifications: ABC Contributions by Area: Columbia | ABC Specifications: ABC Contributions by Area: Eureka | ABC Specifications: ABC Contributions by Area: Monterey | ABC Specifications: ABC Contributions by Area: Conception | ABC Specifications: ABC | OY b/ | HG b/: Commercial | HG b/: Recreational
ROUNDFISH:
Lingcod c/ north of 42°N. lat. | 5,428 |  | 852 |  |  | 6,280 | 5,558 |  |
south of 42°N. lat. |  |  |  |  |  |  | 612 |
Pacific Cod e/ | 3,200 |  | d/ |  |  | 3,200 | 1,600 | 1,200 |
Pacific Whiting f/ | 244,425 - 733,275 |  |  |  |  | 244,425-733,275 | 134,534-403,604 |  |
Sablefish g/ | 6,058 |  |  |  |  | 6,058 | 5,934 | 5,362 |
Cabezon h/ south of 42°N. lat. | c/ |  | 71 |  | 23 | 94 | 69 | 27 |
FLATFISH:
Dover sole i/ | 28,442 |  |  |  |  | 28,442 | 16,500 |  |
English sole j/ | 6,237 |  |  |  |  | 6,237 | 6,237 |  |
Petrale sole k/ | 1,475 |  | 1,444 |  |  | 2,919 | 2,499 |  |
Arrowtooth flounder l/ | 5,800 |  |  |  |  | 5,800 | 5,800 |  |
Starry Flounder m/ | 1,221 |  |  |  |  | 1,221 | 890 |  |
Other flatfish n/ | 6,731 |  |  |  |  | 6,731 | 4,884 |  |
ROCKFISH:
Pacific Ocean Perch o/ | 911 |  |  |  |  | 911 | 150 | 111.3 |
Shortbelly p/ | 13,900 |  |  |  |  | 13,900 | 13,900 |  |
Widow q/ | 5,144 |  |  |  |  | 5,144 | 368 | 251.4 | 9.4
Canary r/ | 179 |  |  |  |  | 179 | 44 | 23.8 | 17.2
Chilipepper s/ | c/ |  |  | 2,700 |  | 2,700 | 2,000 |  |
Bocaccio t/ | c/ |  |  | 618 |  | 618 | 218 | 80.2 | 66.3
Splitnose u/ | c/ |  |  | 615 |  | 615 | 461 |  |
Yellowtail v/ | 4,548 |  |  | c/ |  | 4,548 | 4,548 |  |
Shortspine thornyhead w/ north of 34°27' N. lat. | 2,476 |  |  |  |  | 2,476 | 1,634 |  |
south of 34°27' N. lat. |  |  |  |  |  |  | 421 |  |
Longspine thornyhead x/ north of 34°27' N. lat. | 3,907 |  |  |  |  | 3,907 | 2,220 |  |
south of 34°27' N. lat. |  |  |  |  |  |  | 476 |  |
Cowcod y/ | c/ |  |  | 19 | -- | 19 | 4 | 3.1 | 0.3
| c/ |  |  | -- | 17 | 17 |  |  |
Darkblotched z/ |  |  |  |  |  |  | 290 | 259.8 |
Yelloweye aa/ |  |  |  |  |  |  | 20 | 7.8 | 8.9
California Scorpionfish bb/ |  |  |  |  | 219 | 219 | 175 | 34 |
Black cc/ north of 46°16' N. lat. | 540 |  |  |  |  | 540 | 540 |  |
south of 46°16' N. lat. |  |  | 722 |  |  | 722 | 722 |  |
Minor Rockfish north dd/ | 3,680 |  |  | -- |  | 3,680 | 2,270 | 2,181 | 89
Minor Rockfish south ee/ | -- |  |  | 3,403 |  | 3,403 | 1,904 | 1,418 | 486
Remaining Rockfish | 1,612 |  |  | 1,105 |  |  |  |  |
bank ff/ | d/ |  |  | 350 |  |  |  |  |
blackgill gg/ | d/ |  |  | 292 |  |  |  |  |
bocaccio north | 318 |  |  | -- |  |  |  |  |
chilipepper north | 32 |  |  | -- |  |  |  |  |
redstripe | 576 |  |  | d/ |  |  |  |  |
sharpchin | 307 |  |  | 45 |  |  |  |  |
silvergrey | 38 |  |  | d/ |  |  |  |  |
splitnose north | 242 |  |  | -- |  |  |  |  |
yellowmouth | 99 |  |  | d/ |  |  |  |  |
yellowtail south | -- |  |  | 116 |  |  |  |  |
Gopher | d/ |  |  | 302 |  |  |  |  |
Other rockfish hh/ | 2,068 |  |  | 2,298 |  |  |  |  |
SHARKS/SKATES/RATFISH/MORIDS/GRENADIERS/KELP GREENLING:
Other fish ii/ | 2,500 | 7,000 | 1,200 | 3,900 |  | 14,600 | 7,300 | -- |

Table 2b. to Part 660, Subpart G—2008, and beyond, Harvest guidelines for minor rockfish by depth sub-groups (weights in metric tons).
Species | Total Catch ABC | Total Catch OY | Recreational HG | Commercial HG | Limited Entry HG: Mt | Limited Entry HG: % | Open Access HG: Mt | Open Access HG: %
Minor Rockfish North dd/ | 3,680 | 2,270 | 89 | 2,181 | 2,000 | 91.7 | 181 | 8.3
Nearshore |  | 142 | 79 | 63 |  |  |  |
Shelf |  | 968 | 10 | 958 |  |  |  |
Slope |  | 1,160 | 0 | 1,160 |  |  |  |
Minor Rockfish South ee/ | 3,403 | 1,904 | 486 | 1,418 | 790 | 55.7 | 628 | 44.3
Nearshore |  | 564 | 426 | 138 |  |  |  |
Shelf |  | 714 | 60 | 654 |  |  |  |
Slope |  | 626 | 0 | 626

Table 2c. to Part 660, Subpart G— 2008, and beyond, open access and limited Entry allocations by species or species group. (weights in metric tons).
Species | Commercial Total Catch HGs | Commercial Total Catch HGs: Limited Entry: Mt | Commercial Total Catch HGs: Limited Entry: % | Commercial Total Catch HGs: Open Access: Mt | Commercial Total Catch HGs: Open Access: %
Lingcod north of 42° N. lat. south of 42° N. lat. | -- | -- | 81.0 | -- | 19.0
Sablefish jj/ north of 36° N. lat. | 5,151 | 4,667 | 90.6 | 484 | 9.4
Widow kk/ | 251.4 | -- | 97.0 | -- | 3.0
Canary kk/ | 23 | -- | 87.7 | -- | 12.3
Chilipepper | 2,000 | 1,114 | 55.7 | 886 | 44.3
Bocaccio kk/ | 80.2 | -- | 55.7 | -- | 44.3
Yellowtail | -- | -- | 91.7 | -- | 8.3
Shortspine thornyhead north of 34°27' N. lat. | 1,634 | 1,193 | 99.7 | 441 | 0.27
Minor Rockfish north of 40°10' N. lat. | 2,181 | 2,000 | 91.7 | 181 | 8.3
south of 40°10' N. lat. | 1,418 | 790 | 55.7 | 628 | 44.3
a/ ABCs apply to the U.S. portion of the Vancouver area.
b/ Optimum Yields (OYs) and Harvest Guidelines (HGs) are specified as total catch values. Though presented as harvest guidelines, the recreational values for widow rockfish, bocaccio, and cowcod are catch estimates. A harvest guideline is a specified harvest target and not a quota. The use of this term may differ from the use of similar terms in state regulation.
c/ Lingcod- A coastwide lingcod stock assessment was prepared in 2005. The lingcod biomass was estimated to be at 64 percent of its unfished biomass in 2005. The ABC was calculated using an FMSY proxy of F45%. The ABC of 6,280 mt is a two year average ABC for 2007 and 2008. Because the stock is above B40% coastwide, the OY could be set equal to the ABC. Separate OYs are being adopted for the area north of 42° N. lat. and the area south of 42° N. lat. For that portion of the stock north of 42° N. lat. the OY of 5,558 mt is set equal to the ABC contribution for the area. The biomass in the area south of 42° N. lat. is estimated to be at 24 percent of the unfished biomass. As a precautionary measure, the OY for the southern portion of the stock is being set at 612 mt, which is lower than the ABC contribution for the area. An OY of 612 mt (equivalent to the 2006 OY) is expected to result in a biomass increase for the southern portion of the stock. The tribes do not have a specific allocation at this time, but are expected to take 30 mt of the commercial HG.
d/ ″Other species″, these species are neither common nor important to the commercial and recreational fisheries in the areas footnoted. Accordingly, these species are included in the harvest guidelines of ″other fish″, ″other rockfish″ or ″remaining rockfish″.
e/ Pacific Cod - The 3,200 mt ABC for the Vancouver-Columbia area is based on historical landings data. The 1,600 mt OY is the ABC reduced by 50 percent as a precautionary adjustment. A tribal harvest guideline of 400 mt is deducted from the OY resulting in a commercial OY of 1,200 mt.
f/ Pacific whiting - Final adoption of the Pacific whiting ABC and OY have been deferred until the Council's March 2008 meeting. Therefore, table 1a contains the ABC and OY range considered in the EIS and under the proposed rule. It is anticipated that a new assessment will be available in early 2008 and the results will be used to set the 2008 ABC and OY. The final ABC and OY will be published as a separate action following the Council's recommendation at its March 2008 meeting.
g/ Sablefish - A coastwide sablefish stock assessment was prepared in 2005. The coastwide sablefish biomass was estimated to be at 35.2 percent of its unfished biomass in 2005. Projections indicate that the biomass is increasing and will be near 42 percent of its unfished biomass by 2008. The coastwide ABC of 6,058 mt was based on the base-case assessment model with a FMSY proxy of F45%. The coastwide OY of 5,934 mt is based on the application of the 40-10 harvest policy and is a two year average OY for 2007 and 2008. To apportion fishery allocations for the area north of 36° N. lat., 96.45 percent of the coastwide OY (5,723 mt) is attributed to the northern area. The tribal allocation for the area north of 36° N. lat. is 572 mt (10 percent of the OY north of 36° N. lat), which is further reduced by 1.9 percent (10.9 mt) for discards. The tribal landed catch value is 561.4 mt.
h/ Cabezon south of 42° N. lat. was assessed in 2005. In 2005, the Cabazon stock was estimated to be at 28 percent of its unfished biomass north of 34° 27' N. lat. and 40 percent of its unfished biomass south of 34° 27' N. lat. The stock biomass is projected to be increasing in the northern area and decreasing in the southern area. The ABC of 94 mt (71 mt for the northern portion of the stock and 23 mt for the southern portion of the stock) is based on a harvest rate proxy of F50%. The OY of 69 mt is a constant harvest level that is consistent with the application of a 60-20 harvest rate policy specified in the California Nearshore Management Plan.
i/ Dover sole was assessed north of 34° 27' N. lat. in 2005. The Dover sole biomass was estimated to be at 59.8 percent of its unfished biomass in 2005 and is projected to be increasing. The ABC of 28,522 mt is based on the results of the 2005 assessment with an FMSY proxy of F40%. Because the stock is above B40% coastwide, the OY could be set equal to the ABC. The OY of 16,500 mt, which is less than the ABC, is the MSY harvest level and is considerably larger than the coastwide catches in any recent years.
j/ A coastwide English sole stock assessment was prepared in 2005 and the stock was estimated to be at 91.5 percent of its unfished biomass in 2005, but the stock biomass is believed to be declining. The ABC of 6,237 is a two year average ABC for 2007 and 2008 based on the the results of the 2005 assessment with an FMSY proxy of F40%. Because the stock is above BF40%, the OY was set equal to the ABC.
k/ A petrale sole stock assessment was prepared for 2005. In 2005 the petrale sole stock coastwide was estimated to be at 32 percent of its unfished biomass (34 percent in the northern assessment area and 29 percent in the southern assessment area). The petrale sole biomass is believed to be increasing. The ABC of 2,917 mt is based on the new assessment with a F40% FMSY proxy. To derive the OY, the 40-10 harvest policy was applied to the ABC for both the northern and southern assessment areas. As a precautionary measure, an additional 25 percent reduction was made in the OY contribution for the southern area due to assessment uncertainty. The OY of 2,499 mt is the average coastwide OY value for 2007 and 2008.
l/ Arrowtooth flounder was last assessed in 1993 and was estimated to be above 40 percent of its unfished biomass, therefore the OY will be set equal to the ABC.
m/ Starry Flounder was assessed for the first time in 2005 and was estimated to be above 40 percent of its unfished biomass in 2005 (44 percent for the northern stock off Washington and Oregon, and 62 percent for the southern stock of California). The starry flounder biomass is believed to be declining, and will be below B40%. The starry flounder assessment was considered to be a data-poor assessment relative to other groundfish assessments. For 2007, the coastwide ABC of 1,221 mt is based on the new assessment with a FMSY proxy of F40% and is an average ABC for 2007 and 2008. Because the stock is believed to be above B40%, the OY could be set equal to the ABC. To derive the OY, the 40-10 harvest policy was applied to the ABC for both the northern and southern assessment areas then an additional 25 percent reduction was made due to assessment uncertainty. Starry flounder was previously managed as part of the “other flatfish” category. The OY of 890 mt is the average coastwide OY value for 2007 and 2008.
n/ ″Other flatfish″ are those flatfish species that do not have individual ABC/OYs and include butter sole, curlfin sole, flathead sole, Pacific sand dab, rex sole, rock sole, and sand sole. Starry flounder was assessed in 2005 and is being removed from other flatfish complex beginning in 2007. The ABC is based on historical catch levels. The ABC of 6,731 mt is based on the highest landings for sanddabs (1995) and rex sole (1982) for the 1981-2003 period and on the average landings from the 1994-1998 period for the remaining other flatfish species. The OY of 4,884 mt is based on the ABC with a 25 percent precautionary adjustment for sanddabs and rex sole and a 50 percent precautionary adjustment for the remaining species.
o/ A POP stock assessment was prepared in 2005 and the stock was estimated to be at 23.4 percent of its unfished biomass in 2005. The ABC of 900 mt for the Vancouver-Columbia area was projected from the 2005 stock assessment and is based on an FMSY proxy of F50%. The OY of 150 mt is based on a rebuilding plan with a target year to rebuild of 2017 and an SPR harvest rate of 86.4 percent. The OY is reduced by 3.6 mt for the amount anticipated to be taken during research activity.
p/ Shortbelly rockfish remains an unexploited stock and is difficult to assess quantitatively. A 1989 stock assessment provided two alternative yield calculations of 13,900 mt and 47,000 mt. NMFS surveys have shown poor recruitment in most years since 1989, indicating low recent productivity and a naturally declining population in spite of low fishing pressure. The ABC and OY are therefore set at the low end of the range projected in the stock assessment, 13,900 mt.
q/ Widow rockfish was assessed in 2005 and was estimated to be at 31.1 percent of its unfished biomass in 2004. The ABC of 5,334 mt is based on an F50% FMSY proxy. The OY of 368 mt is based on a rebuilding plan with a target year to rebuild of 2015 and an SPR rate of 95 percent. The OY is reduced by 3.0 mt for the amount anticipated to be taken during research activity. Tribal vessels are estimated to catch about 46.1 mt of widow rockfish in 2007, but do not have a specific allocation at this time. For the Pacific whiting fishery, 200 mt is being set aside and will be managed with bycatch limits.
r/ A canary rockfish stock assessment was completed in 2005 and the stock was estimated to be at 9.4 percent of its unfished biomass coastwide in 2005. The coastwide ABC of 172 mt is based on a FMSY proxy of F50%. The OY of 44 mt is based on a rebuilding plan with a target year to rebuild of 2063 and an SPR harvest rate of 88.7 percent. The OY is reduced by 3.0 mt for the amount anticipated to be taken during research activity. Tribal vessels are estimated to catch about 5 mt of canary rockfish under the 2007 commercial HG, but do not have a specific allocation at this time. South of 42° N. lat., the canary rockfish recreational fishery HG is 9.0 mt and north of 42° N. lat., the canary rockfish recreational fishery HG 8.2 mt.
s/ Chilipepper rockfish was last assessed in 1998. The ABC (2,700 mt) for the Monterey-Conception area is based on a three year average projection from 1999-2001 with a F50% FMSY proxy. Because the unfished biomass is estimated to be above 40 percent the unfished biomass, the default OY could be set equal to the ABC. However, the OY is set at 2,000 mt to discourage fishing on chilipepper, which is taken with bocaccio. Management measures to constrain the harvest of overfished species have reduced the availability of chilipepper rockfish to the fishery during the past several years. Because the harvest assumptions (from the most recent stock assessment) used to forecast future harvest were likely overestimates, carrying the previously used ABCs and OYs forward into 2007 was considered to be conservative and based on the best available data. Open access is allocated 44.3 percent (886 mt) of the commercial HG and limited entry is allocated 55.7 percent (1,114 mt) of the commercial HG.
t/ A bocaccio stock assessment update and a rebuilding analysis were prepared in 2005. The bocaccio stock was estimated to be at 10.7 percent of its unfished biomass in 2005. The ABC of 618 mt for the Monterey and Conception areas is based on a F50% FMSY proxy. The OY of 218 mt is based on a rebuilding plan with a target year to rebuild of 2026 and a SPR harvest rate of 77.7 percent. The OY is reduced by 3.0 mt for the amount anticipated to be taken during research activity.
u/ Splitnose rockfish - The ABC is 615 mt in the southern area (Monterey-Conception). The 461 mt OY for the southern area reflects a 25 percent precautionary adjustment because of the less rigorous stock assessment for this stock. Because the harvest assumptions used to forecast future harvest were likely overestimates, carrying the previously used ABCs and OYs forward into 2008 was considered to be conservative and based on the best available data.
v/ Yellowtail rockfish - A yellowtail rockfish stock assessment was prepared in 2005 for the Vancouver-Columbia-Eureka areas. Yellowtail rockfish was estimated to be above 40 percent of its unfished biomass in 2005. The ABC of 4,548 mt is a 2 year average ABC for 2007 and 2008 and is based on the 2005 stock assessment with the FMSY proxy of F50%. The OY of 4,548 mt was set equal to the ABC, because the stock is above the precautionary threshold of B40%. Tribal vessels are estimated to catch about 539 mt of yellowtail rockfish in 2007, but do not have a specific allocation at this time. Tribal vessels are estimated to catch about 539 mt of yellowtail rockfish in 2008, but do not have a specific allocation at this time.
w/ Shortspine thornyhead was assessed coastwide in 2005 and the stock was estimated to be at 63 percent of its unfished biomass in 2005. The ABC of 2,476 mt is based on a F50% FMSY proxy and is the two year average ABC for 2007 and 2008. For that portion of the stock (66 percent of the biomass) north of Pt. Conception (34° 27' N. lat.), the OY of 1,634 mt was set at equal to the ABC because the stock is estimated to be above the precautionary threshold. For that portion of the stock south of Pt. Conception (34 percent of the biomass), the OY of 421 mt was the portion of the ABC for the area reduced by 50 percent as a precautionary adjustment due to the short duration and amount of survey data for that area. Tribal vessels are estimated to catch about 13 mt of shortspine thornyhead in 2008, but do not have a specific allocation at this time.
x/ Longspine thornyhead was assessed coastwide in 2005 and the stock was estimated to be at 71 percent of its unfished biomass in 2005. The coastwide ABC of 3,907 mt is based on a F50% FMSY proxy and is the two year average OY for the 2007 and 2008 period. The OY is set equal to the ABC because the stock is above the precautionary threshold. Separate OYs are being established for the areas north and south of 34° 27' N. lat. (Point Conception). The OY for that portion of the stock in the northern area (79 percent)is set equal to the ABC. For that portion of the stock in the southern area (21 percent), the OY of 476 mt was the portion of the ABC for the area reduced by 25 percent as a precautionary adjustment due to the short duration and amount of survey data for that area.
y/ Cowcod in the Conception area was assessed in 2005 and was estimated to be between 14 and 21 percent of its unfished biomass. The ABC of in the area south of 36° N. lat., the Conception area, is 17 mt and is based on the 2005 stock assessment with a F50% FMSY proxy. The ABC for the Monterey area (19 mt) is based on average landings from 1993-1997. A OY of 4 mt is being set for the combined areas. The OY is based on a rebuilding plan with a target year to rebuilding of 2039 and an SPR harvest rate 90.0 percent. The OY is reduced by 0.1 mt for the amount anticipated to be taken during research activity.
z/ Darkblotched rockfish was assessed in 2005 and was estimated to be at 16 percent of its unfished biomass in 2005. The ABC is projected to be 487 mt and is based on the 2005 stock assessment with an FMSY proxy of F50%. The OY of 330 mt is based on a rebuilding plan with a target year to rebuild of 2011 and an SPR harvest rate of 60.7 percent in 2008. The OY is reduced by 3.0 mt for the amount anticipated to be taken during research activity.
aa/ Yelloweye rockfish was assessed in 2006 and is estimated to be at 17.7 percent of its unfished biomass coastwide. The 26 mt coastwide ABC is based on the new stock assessment and an FMSY proxy of F50%. The 20 mt OY is based on a rebuilding plan with a target year to rebuild of 2084 an SPR harvest rate of 60.8 percent in 2008. The OY is reduced by 3.0 mt for the amount anticipated to be taken during research activity. Tribal vessels are estimated to catch 2.3 mt of yelloweye rockfish of the commercial HG in 2008, but do not have a specific allocation at this time. South of 42° N. lat. the yelloweye rockfish recreational fishery HG is 2.1 mt and north of 42° N. lat. the yelloweye rockfish recreational fishery HG 6.8 mt.
bb/ California Scorpionfish south of 34° 27' N. lat. was assessed in 2005 and was estimated to be above 40 percent of its unfished biomass in 2005. The ABC of 219 mt is based on the new assessment with a harvest rate proxy of F50% and is an average ABC for 2007 and 2008. Because the stock is above B40% coastwide, the OY could be set equal to the ABC. The OY of 175 mt, which is lower than the ABC, reflects the highest historical catch levels.
cc/ Black rockfish was last assessed in 2003 for the Columbia and Eureka area and in 2000 for the Vancouver area. The ABC for the area north of 46°16' N. lat. is 540 mt and the ABC for the area south of 46°16' N. lat. is 722 mt which is the average ABC for the 2007 and 2008 period. Because of an overlap in the assessed areas between Cape Falcon and the Columbia River, projections from the 2000 stock assessment were adjusted downward by 12 percent to account for the overlap. The ABCs were derived using an FMSY proxy of F50%. Because the unfished biomass is estimated to be above 40 percent, the OYs were set equal to the ABCs. For the area north of 46°16' N. lat., the OY is 540 mt. The following tribal harvest guidelines are being set: 20,000 lb (9.1 mt) north of Cape Alava, WA (48° 09.50' N. lat.) and 10,000 lb (4.5 mt) between Destruction Island, WA (47° 40' N. lat.) and Leadbetter Point, WA (46° 38.17' N. lat.). For the area south of 46°16' N. lat., the OY is 722 mt. The black rockfish OY in the area south of 46°16' N. lat., is subdivided with separate HGs being set for the area north of 42° N. lat (419 mt/58 percent) and for the area south of 42° N. lat (303 mt/42 percent). For the southern area north of 42° N. lat., a range is presented for the recreational estimate (289-350 mt) and comercial HG (91 -111 mt). Specific values will be specified in the final rule. Of the 303 mt of black rockfish attributed to the area south of 42° N. lat., 168 mt is estimated to be taken in the recreational fisheries, resulting in a commercial HG of 135 mt.
dd/ Minor rockfish north includes the ″remaining rockfish″ and ″other rockfish″ categories in the Vancouver, Columbia, and Eureka areas combined. These species include ″remaining rockfish″, which generally includes species that have been assessed by less rigorous methods than stock assessments, and ″other rockfish″, which includes species that do not have quantifiable stock assessments. The ABC of 3,680 mt is the sum of the individual ″remaining rockfish″ ABCs plus the ″other rockfish″ ABCs. The remaining rockfish ABCs continues to be reduced by 25 percent (F=0.75M) as a precautionary adjustment. To obtain the total catch OY of 2,270 mt, the remaining rockfish ABC was reduced by 25 percent and other rockfish ABC was reduced by 50 percent. This was a precautionary measure to address limited stock assessment information. Tribal vessels are estimated to catch about 38 mt of minor rockfish in 2008, but do not have a specific allocation at this time.
ee/ Minor rockfish south includes the ″remaining rockfish″ and ″other rockfish″ categories in the Monterey and Conception areas combined. These species include ″remaining rockfish″ which generally includes species that have been assessed by less rigorous methods than stock assessment, and ″other rockfish″ which includes species that do not have quantifiable stock assessments. The ABC of 3,403 mt is the sum of the individual ″remaining rockfish″ ABCs plus the ″other rockfish″ ABCs. The remaining rockfish ABCs continue to be reduced by 25 percent (F=0.75M) as a precautionary adjustment. The remaining rockfish ABCs are further reduced by 25 percent, with the exception of blackgill rockfish (see footnote gg). The other rockfish ABCs were reduced by 50 percent. This was a precautionary measure due to limited stock assessment information. The resulting minor rockfish OY is 1,904 mt.
ff/ Bank rockfish - The ABC is 350 mt which is based on a 2000 stock assessment for the Monterey and Conception areas. This stock contributes 263 mt towards the minor rockfish OY in the south.
gg/ Blackgill rockfish in the Monterey and Conception areas was assessed in 2005 and is estimated to be at 49.9 percent of its unfished biomass in 2008. The ABC of 292 mt for Monterey and Conception areas is based on the 2005 stock assessment with an FMSY proxy of F50% and is the two year average ABC for the 2007 and 2008 periods. This stock contributes 292 mt towards minor rockfish south.
hh/ ″Other rockfish″ includes rockfish species listed in 50 CFR 660.302. California scorpionfish and gopher rockfish were assessed in 2005 and are being removed from this category. The California Scorpionfish contribution of 163 mt and the gopher rockfish contribution of 97 mt were removed from the ABC value. The ABC for the remaining species is based on the 1996 review of commercial Sebastes landings and includes an estimate of recreational landings. These species have never been assessed quantitatively.
ii/ ″Other fish″ includes sharks, skates, rays, ratfish, morids, grenadiers, kelp greenling and other groundfish species noted above in footnote d/.
jj/ Specific open access/limited entry allocations have been suspended during the rebuilding period as necessary to meet the overall rebuilding target while allowing harvest of healthy stocks.
kk/ Sablefish allocation north of 36° N. lat. - The limited entry allocation is further divided with 58 percent allocated to the trawl fishery and 42 percent allocated to the fixed-gear fishery.

BILLING CODE 3510-22-S

* * * * *

25. In § 660.405, paragraph (c) is added to read as follows:

§ 660.405 Prohibitions.

* * * * *

(c) Under the Pacific Coast groundfish regulations at § 660.383, fishing with salmon troll gear is prohibited within the Salmon Troll Yelloweye Rockfish Conservation Area (YRCA). It is unlawful for commercial salmon troll vessels to take and retain, possess, or land fish within the Salmon Troll YRCA. The Salmon Troll YRCA is an area off the northern Washington coast. The Salmon Troll YRCA is intended to protect yelloweye rockfish. The Salmon Troll YRCA is defined by straight lines connecting the following specific latitude and longitude coordinates in the order listed:

(1) 48°00.00′ N. lat., 125°14.00′ W. long.;

(2) 48°02.00′ N. lat., 125°14.00′ W. long.;

(3) 48°00.00′ N. lat., 125°16.50′ W. long.;

(4) 48°02.00′ N. lat., 125°16.50′ W. long.;

and connecting back to 48°00.00′ N. lat., 125°14.00′ W. long.

[FR Doc. 06-8373 Filed 9-28-06; 8:45 am]

BILLING CODE 3510-22-C